DEPARTMENT OF COMMERCE

National Oceanic and Atmospheric Administration

50 CFR Part 660

[Docket No. 060824226-6322-02; I.D. 082806B]

RIN 0648-AU57

Magnuson-Stevens Act Provisions; Fisheries off West Coast States; Pacific Coast Groundfish Fishery; Biennial Specifications and Management Measures; Amendment 16-4; Pacific Coast Salmon Fishery

AGENCY: National Marine Fisheries Service (NMFS), National Oceanic and Atmospheric Administration (NOAA), Commerce.

ACTION: Final rule.

SUMMARY: This final rule implements Amendment 16-4 to the Pacific Coast Groundfish Fishery Management Plan (FMP) and sets the 2007-2008 harvest specifications and management measures for groundfish taken in the U.S. exclusive economic zone (EEZ) off the coasts of Washington, Oregon, and California. Amendment 16-4 modifies the FMP to implement revised rebuilding plans for seven overfished species: bocaccio, canary rockfish, cowcod, darkblotched rockfish, Pacific ocean perch (POP), widow rockfish, and yelloweye rockfish. Groundfish harvest specifications and management measures for 2007-2008 are intended to: achieve but not exceed optimum yields (OYs); prevent overfishing; rebuild overfished species; reduce and minimize the bycatch and discard of overfished and depleted stocks; provide harvest opportunity for the recreational and commercial fishing sectors; and, within the commercial fisheries, achieve harvest guidelines and limited entry and open access allocations for non-overfished species. Together, Amendment 16-4 and the 2007-2008 harvest specifications and management measures are intended to rebuild overfished stocks as soon as possible, taking into account the status and biology of the stocks, the needs of fishing communities, and the interaction of the overfished stocks within the marine ecosystem. In addition to the management measures implemented specifically for the groundfish fisheries, this rule implements a new Yelloweye Rockfish Conservation Area (YRCA) off Washington State, which will be closed to commercial salmon troll fishing to reduce incidental mortality of yelloweye rockfish in the salmon troll fishery.

DATES: Effective January 1, 2007.

ADDRESSES: Amendment 16-4 is available on the Pacific Fishery Management Council′s (Council's) website at: http://www.pcouncil.org/groundfish/gffmp.html.

FOR FURTHER INFORMATION CONTACT: Yvonne deReynier (Northwest Region, NMFS), phone: 206-526-6129; fax: 206-526-6736 and; e-mail: yvonne.dereynier@noaa.gov.

SUPPLEMENTARY INFORMATION:

Electronic Access

The final rule also is accessible via the Internet at the Office of the Federal Register′s website at http://www.gpoaccess.gov/fr/index.html. Background information and documents, including the FEIS, are available at the Council′s website at http://www.pcouncil.org.

Background

NMFS published a Notice of Availability for Amendment 16-4 on September 1, 2006 (71 FR 25051.) On September 29, 2006, NMFS published a proposed rule to implement both Amendment 16-4 and the 2007-2008 groundfish harvest specifications and management measures (71 FR 57764.) Both the Notice of Availability and the proposed rule requested public comments through October 31, 2006. During the comment period, NMFS received two letters, one individualized email, and 1,445 form emails of comment, which are addressed later in the preamble to this final rule. See the preamble to the proposed rule for additional background information on the fishery and on this final rule.

Groundfish harvest specifications are the amounts of West Coast groundfish species or species groups available to be caught in a particular year. Harvest specifications include acceptable biological catches (ABCs), OYs, and HGs, as well as set-asides of harvestable amounts of fish for particular fisheries or particular geographic areas. The ABC is a biologically based estimate of the amount of fish that may be harvested from the fishery each year without affecting the sustainability of the resource. The ABC may be modified with precautionary adjustments to account for uncertainty. A stock′s OY is its target harvest level, and is usually lower than its ABC. Harvest specifications for 2007-2008 are provided in Tables 1a through 2c of this rulemaking.

Management measures set in this biennial management process are intended to constrain the fisheries so that OYs of healthier groundfish stocks are achieved within the constraints of requirements to rebuild co-occurring overfished groundfish species. To rebuild overfished species, allowable harvest levels of healthy species will only be achieved where such harvest will not deter rebuilding of overfished stocks.

Amendment 16-4, which this action implements concurrently with the 2007-2008 groundfish specifications and management measures, modifies the FMP with revised rebuilding plans for the seven overfished groundfish species bocaccio, canary rockfish, cowcod, darkblotched rockfish, POP, widow rockfish, and yelloweye rockfish consistent with the Magnuson-Stevens Fishery Conservation and Management Act (Magnuson-Stevens Act) and Natural Resources Defense Council v. NMFS, 421 F.3d 872 (9th Cir. 2005) [hereinafter NRDC v. NMFS,] as detailed in the preamble to the proposed rule for this action and in response to comments received, below.

After considering all comments received on Amendment 16-4, the draft environmental impact statement (DEIS,) and the proposed rule, NMFS partially approved Amendment 16-4 on November 30, 2006. NMFS approved all of the Council's Amendment 16-4 recommended revisions to the FMP except for one recommended for Chapter 4.0, “Preventing Overfishing and Achieving Optimum Yield.” The Council had recommended adding a sentence to the introductory text to that chapter to read, “The Council may establish a research reserve for any stock, [sic] that is within the ABC but above and separate from the OY for that stock.” This recommendation conflicts with NMFS's National Standard Guidelines at 50 CFR 600.310(f)(4)(iii), which state that “All fishing mortality must be counted against OY, including that resulting from bycatch, scientific research, and any other fishing activities.” For 2007 and 2008, expected scientific research catch has been deducted from the OYs of overfished species, although those amounts may be adjusted inseason as new information on inseason scientific activities becomes available. For species that are not managed via overfished species rebuilding plans, scientific research will be deducted from OYs inseason, as information on inseason scientific activities becomes available.

Comments and Responses

During the comment period for Amendment 16-4 and the 2007-2008 harvest specifications and management measures, NMFS received two letters of comment and 1,446 emails of comment. One letter was sent by a member of the public who conducts marine scientific research for the University of California, Santa Barbara; the other letter was sent jointly by three environmental advocacy organizations (Natural Resources Defense Council, Oceana, and The Ocean Conservancy; hereinafter, “The Three Organizations.”) Of the 1,446 emails received from members of the public, one email was original and clearly different from all of the other emails. The remaining 1,445 emails were form emails from members of the public who repeated the same title and text in their email messages. Some senders of the form email added personalized, but non-substantive, pleas or threats to the repeated text. NMFS also received two letters from the Council, summarizing discussions it held at its September and November 2006 meetings on limited refinements to its 2007-2008 groundfish specifications and management measures recommendations. These recommendations were either based on scientific information received after the June 2006 Council meeting, or a correction to a numerical mistake. The Council's recommended changes are discussed below in the section on Changes from the Proposed Rule. Comments received on the proposed rule are addressed here:

Comment 1: The Three Organizations state that NMFS's legal and long-term obligation with an overfished species is to rebuild as quickly as possible. They further state that the only thing that the court order from Natural Resources Defense Council v. NMFS, 421 F.3d 872 (9th Cir. 2005) [hereinafter NRDC v. NMFS] allows NMFS to do in taking the short-term needs of fishing communities into account is to merely avoid disastrous short-term consequences for those communities. The Three Organizations provide their interpretation of “disastrous consequences” for a groundfish fishing community that annual revenue reductions from 2005/2006 to 2007/2008 should exceed 60 percent before those reductions result in disastrous consequences. They then express the belief that a 40 percent reduction in exvessel revenue from 2005 is not disastrous enough, and too far from the Court′s example of a 100 percent reduction in revenue.

Response: NMFS′s legal and long-term obligation with overfished species is to rebuild those species as quickly as possible, taking into account the status and biology of those stocks, the needs of fishing communities, and the interactions of those stocks within the marine ecosystem. Stating that the obligation is simply to rebuild as quickly as possible mis-characterizes the Magnuson-Stevens Act′s requirement to manage fish stocks so that management measures rebuild those stocks while also taking into account the needs of fishing communities that depend on those stocks. In NRDC v. NMFS, the court interpreted the Magnuson-Stevens Act as showing Congress′ intent that overfished species be rebuilt as quickly as possible (taking into account the status and biology of the fish stocks and the needs of fishing communities), but leaving “some leeway to avoid disastrous short-term consequences for fishing communities.” NMFS and the Council applied the court′s direction in developing the EIS for this action and Amendment 16-4 by first identifying, and then giving careful consideration to the short-term needs of fishing communities, particularly: the vulnerability of different fishing communities to reductions in available harvest; the resilience of different fishing communities to reductions in available harvest; the resilience of different fishing communities to changes in community groundfish fishing revenues; the effects that recent past harvest levels have had on fishing communities; and, the need for management flexibility to avoid disastrous immediate consequences from inseason management measures adjustments.

The statutory standard requires that NMFS take into account the needs of fishing communities. It does not require that there be a disaster (however defined) prior to making community adjustments. The 9th Circuit′s use of the term “disastrous” was not meant to redefine the provisions of 304(e) of the Magnuson-Stevens Act or import “disaster” language from other portions of the Magnuson-Stevens Act or other statutes into the 304(e) process. Nevertheless, because the comment focuses on the question of whether Amendment 16-4 and the 2007-2008 groundfish specifications and management measures are “disastrous enough,” the remainder of this response will address how NMFS and the Council considered the issue of taking short-term fishery impacts into account along with other relevant considerations, and how the 60 percent reduction recommended by The Three Organizations fits within Federal disaster determinations, which they suggest is appropriate and within the agency′s considerations under the rebuilding provisions of the Magnuson-Stevens Act.

The two authorities that the Secretary of Commerce (Secretary) can use for declaring fisheries-related disasters are the Interjurisdictional Fisheries Management Act (IJA) and Section 312(a) of the Magnuson-Stevens Act. Neither the IJA nor the Magnuson-Stevens Act specifies a requirement that a negative economic impact of at least 60 percent, as suggested by The Three Organizations, is needed to trigger a disaster declaration by the Secretary. (We note that The Three Organizations acknowledge that the meaning of disaster in the context of Section 312(a) of the Magnuson-Stevens Act is distinct from “disastrous economic impacts” in the context of the 9th Circuit decision.) In fact, there are no formal quantitative definitions of what is a sufficient level of annual economic impact required for declaring a disaster under either Act. NMFS disagrees with The Three Organizations′ suggested rule of thumb of a 60 percent decline for a disaster declaration. Many of the disasters that The Three Organizations noted as supporting their 60-percent-decline assumption were declared on the basis of hurricanes and red tides, which resulted in complete (100 percent) fisheries closures, biasing their calculations of averages upward. Over the years, the Secretary′s disaster declaration decisions have been made case-by-case, based on specific facts surrounding the decline of the fishery in question, and on the requests for disaster that are typically submitted by governors of affected states. The decisions and associated analyses differ with respect to the legal authorities underlying the decision (IJA, Magnuson-Stevens Act, or both), the nature of the fishery (e.g., salmon, groundfish, shrimp, lobster, crab), the cause of the disaster (hurricane, red tide, flooding, confluence of long term and short term environmental factors such as El Nino's and droughts), duration (multi year, single year) and available information. Therefore, The Three Organizations' use of a simple average percentage impact obscures large differences between widely varying disaster situations and declaration decisions.

A review of past disaster declaration decisions shows that the Secretary looks at not only percentage declines in economic activities from various short- and long-term benchmarks, but also at absolute levels of impact and other factors as well. Typically, the Secretary will have before him the recommendations of the governors of affected states and any supporting analyses provided by the Governors, a biological assessment that shows the dimensions of the fishery resource disaster, and an economic assessment that shows the existence and extent of the commercial fishery failure. These assessments also typically provide long-and short-term trends and an economic forecast of immediate and future impacts. In the case of the 2000 West Coast Groundfish Disaster Decision, the Secretary had a graph similar to that of Figure 2-13 of the DEIS, which shows trends in ex-vessel revenues with and without whiting harvested by at-sea processors. This figure, updated since 2000, also shows that the fishery has been held to below-disaster revenue levels since the Secretary′s 2000 disaster declaration, despite the increasing biomasses of overfished and other groundfish species.

In referring to the NOAA Decision Memo that underlies the Secretary′s 2000 West Coast Groundfish Disaster Declaration, The Three Organizations state that “In 2000, landings were projected to fall more than 60 percent below their median annual landings for a 1981-1999 period when a fishery resource disaster was declared.” This reference does not provide the full context of the decision. In discussing the fishery resource disaster and associated commercial fishery failure, the NOAA memo had the following key paragraphs that show several time-related perspectives that were considered in the disaster declaration, and also supports the characterization of the current fishery as still in a disaster situation:

“For the year 2000 we are reducing the OYs for groundfish other than whiting to a combined level of 34,000 tons which if completely harvested will yield the lowest level of landings produced by this fishery since the MSFCMA was passed. However, we expect groundfish landings to be even lower than this total because we are also implementing new management measures to protect and rebuild depressed stocks that are within the 83+ species that make up the Pacific groundfish fishery. These management measures may result in the inability to attain the OY or allocation for some relatively healthy co-occurring stocks, particularly bottom-dwelling rockfish on the continental shelf, whose harvest is restricted because it may result in bycatch of depressed stocks. Consequently, OYs (and their associated allocations to harvest groups) may not be completely harvested. We cannot estimate how much of the OYs will not be harvested. If 20 percent of the combined OYs cannot be harvested because of these restrictions, the projected 2000 harvest would be 27,000 tons---a 25 percent decrease from 1999 levels. Some industry projections indicate that possibly 40 percent of the OYs may not be harvested because of the gear, trip, and area regulations being imposed. For purposes of this analysis we will assume 20 percent of the OYs will not be harvested.

What do these trends say about the degree of the fishery resource disaster? Statistically, for the period 1981 through 1999, median annual landings and average annual landings are both about 74,000 tons. (This estimate is not that different from the sum of the long term yield for economically important species and estimates of recent catches for economically unimportant species.) Since 1993, landings have fallen below 70,000 tons with a 20 percent reduction in landings between 1997 and 1998, a 14 percent reduction between 1998 and 1999, and a potential of a 25 percent reduction between 1999 and 2000. Landings are projected to fall to 27,000 tons in the year 2000, more than 60 percent below median annual landings for the 1981-1999 period. (Emphasis added here, because this is the sentence quoted by The Three Organizations in their letter of comment.)

These trends reflect the general decline in groundfish resources, but these trends make it difficult to pinpoint when these declines reached a stage where a disaster situation has set in. Is the first year of the disaster 1998, 1999, or 2000? Perhaps most illustrative of such a situation are the sharp reductions in the OYs for the recently declared overfished species lingcod, Pacific ocean perch, bocaccio, canary rockfish and cowcod whose OYs are reduced from their 1999 OY and catch levels from about 50 percent (bocaccio) to about 90 percent for cowcod. It is these reductions and their effects on other fisheries that led the Governors to request a disaster declaration.

Based on these sharp declines and the trend in non-whiting groundfish landings since 1993, we believe that the fishery is currently experiencing a fishery resource disaster which may also have occurred in 1999 and probably originated before 1999. Because current and future species rebuilding plans involve long-lived rockfish that take decades to recover, we expect the fishery resource disaster to continue for a number of years. (Emphasis added, since this sentence shows that the Agency projected a continuing disaster beyond the year 2000.)

Using 1999 as a benchmark for assessing the amount of the commercial fishery failure and assuming that ex-vessel prices in the year 2000 are the same as those seen in 1999, the projected commercial harvest value for the year 2000 is about $33 million 25 percent less than actual 1999 revenues of $44 million. Alternatively, using an average ex-vessel price based on 1991-1994 period for both the years 1999 and 2000, leads to projected estimate of $26 million for the year 2000 as compared to $35 million estimate for 1999. Therefore, the resulting estimates of the commercial fishery failure range from $9 million to $11 million. Previous estimates have typically ranged from $3 million to $15 million on an ex-vessel basis. The $3 million estimate assumed that all the OYs would be harvested while the other estimates were based on preliminary Council recommended OYs or perhaps had different benchmark years. This analysis assumes that 20 percent of the OYs will not be harvested as a result of management measures.”

In their comment letter, The Three Organizations refer to a recent Federal Emergency Management Agency (FEMA) decision where a governor′s disaster request for West Coast salmon was denied under the Robert T. Stafford Disaster Relief and Emergency Assistance Act (Stafford Act), even though there was an 85 percent decrease in ex-vessel revenues below the 2001-2005 average.

For Amendment 16-4 and the 2007-2008 groundfish harvest specifications and management measures, in order to provide contextual background information, NMFS presented the Council with information on how different Federal agencies such as FEMA, the United States Department of Agriculture (USDA,) and the Small Business Administration (SBA) analyze disasters. For example, the USDA defines severe production losses in a county as a reduction countywide of at least 30 percent, while the SBA will make a declaration of a physical disaster when at least three businesses have uninsured losses of 40 percent or more of their estimated fair replacement value. Therefore, given that different Agencies have different mandates, programs, criteria and processes for determining disaster situations, it is reasonable to expect situations where one agency like FEMA will deny a request for a disaster declaration under the Stafford Act, while another Agency such as NOAA will declare one under the Magnuson-Stevens Act or IJA. Further, NMFS reiterates, as stated above, that a “diaster” declaration is not the criterion in developing rebuilding plans under section 304(e) of the Magnuson-Stevens Act.

Comment 2: The Three Organizations state that the DEIS used a one-year comparison to measure the economic impact of the alternatives, and suggest instead that a five-year ex-vessel revenue average from 2001-2005 would be more statistically appropriate, saying that using such an average shows lower impacts from the three Action Alternatives considered in the DEIS.

Response: We disagree from several perspectives. First, the FEIS does compare effects of the alternatives on commercial fisheries between 2005, status quo management, and the three action alternatives (summarized in Tables 7-62a-c, 7-63a-c, and 7-64a-b,) and the central recreational analytical tables also show similar comparisons but include estimates for 2004 (summarized in Tables 7-65a-b, 7-66a-b, 7-67a-c, and 7-68a-e.) The analyses within the FEIS are also replete with background tables and charts that show historical trends in revenues, landings, and other socioeconomic variables allowing the Council and NOAA the ability to compare these projections to past trends. Second, the use of a recent five-year average does not capture the information associated with long term trends, which shows that for the past five years the fishery has operated at its lowest historical levels, especially when whiting is excluded from the analysis. (Whiting is a highly variable fishery where much of the whiting is harvested by catcher-processors and motherships whose activities are not necessarily linked to a coastal community.) Finally, based on these trends, NMFS and the Council believe that communities have been operating at groundfish revenue levels far below those occurring when the Secretary declared a fishery disaster in 2000. Because the fishery has been operating at below-disaster levels in recent years, any further significant decrease will have additional disastrous effects.

Comment 3: The Three Organizations state that they believe that NRDC v. NMFS requires prioritization of overfished species rebuilding unless there are disastrous short-term consequences. They believe that the proposed rule impermissibly prioritizes economic interests for both yelloweye rockfish management, and for the suite of options implemented by this action. They believe that this action appears to prioritize preventing adverse short-term economic impacts and even increasing short-term revenues over rebuilding as quickly as possible.

Response: This action is consistent with NMFS's policy of placing its highest priority on rebuilding overfished species, and modifying harvest levels to accommodate incidental catch of those species only where eliminating that incidental catch would have disastrous effects on fishing communities. The Three Organizations presented a similar comment to the DEIS for this action; the response to that comment is excerpted here. The Three Organizations assert that: “disastrous short-term consequences for fishing communities are illustrated by a total moratorium on all fishing due to an absolute ban on any bycatch of overfished species.” NMFS disagrees that “short-term disastrous consequences” can only occur if there is a total ban of fishing for overfished species, or in other words, only if OYs are set to zero. We also disagree that “disastrous short term economic consequences” is the legal test under the Magnuson-Stevens Act. Significant consequences to fishing communities can occur at OY levels that are so low that allowed economic activity levels are insufficient to maintain the basic community infrastructure during the time of rebuilding. NMFS provided a discussion of the terms “disaster” and “disastrous” in its response to Comment 1, above.

NMFS also disagrees that the rebuilding plan gives priority to economic interests over rebuilding. This action focuses on rebuilding overfished species in as short a time as possible, while taking into account the status and biology of those species and the needs of fishing communities. In taking into account the needs of fishing communities, this action recognizes that fishing communities have, for a number of years, already seen their economic activities curtailed in order to rebuild overfished species. The EIS for this action provides information and analyses on individual community impacts and broader coastwide fishery impacts of groundfish fishery management focused on rebuilding overfished species. The analyses within the EIS also identify classes of communities according to attributes of fishery dependence, resilience, and vulnerability. In comparing these community attributes to amounts of overfished species, target groundfish species and other target species (crab, shrimp, etc.) associated with these communities, NMFS found that there were few regions on the West Coast without a highly dependent or vulnerable groundfish fishing community.

As stated in FEIS at Section 8.3 (Rationale for Preferred Alternative), the key decision evaluated in the EIS for this action is the adoption of rebuilding plans for depleted species and adoption of associated OYs and management measures for the 2007 08 management period. The evaluation of the alternatives considered rebuilding in as short a time as possible, while also taking into account both the status and biology of overfished stocks and the needs of fishing communities. From a strictly biological perspective, rebuilding in a time period as short as possible equates to rebuilding in the absence of fishing. To address the absence-of- fishing scenario in the EIS, OY Alternative 1 provides OYs of 0 mt for all depleted species. This absence-of-fishing alternative would cause the least adverse impacts to the biological and physical environment and would rebuild the species in as quickly as possible. However, it would also have significant adverse short-term economic consequences on fishing communities because it would result in the complete closure of all groundfish fisheries and a range of non-groundfish fisheries, having serious, or, in the words of the court “disastrous consequences” to fishing communities. In contrast, the Council-preferred alternative was developed to fully address the requirements of the Magnuson-Stevens Act at section 304(e)(4)(A) and National Standard 8 (section 301(a)(8).

The Council preferred alternative for the yelloweye rockfish OY is based on a strategy that “ramps down” catch levels from current amounts in order to give managers and industry time to adapt and develop more refined tools for decreasing the catch of yelloweye rockfish while allowing some small access to healthier co-occurring target species. The ramp-down approach is expected to avoid some disastrous short-term economic consequences and still rebuild the stock as quickly as possible. An immediate reduction in the yelloweye OY to 12.6 mt could be expected to result in substantial and adverse economic impacts. As detailed in the FEIS and in comments submitted by the Makah Tribe, those impacts would be heavily centered on some of the most vulnerable communities (rural coastal communities in Oregon and Washington); the Council and NMFS concluded that shifting from current yelloweye rockfish OY levels of 27 mt to levels of 12.6 mt or less next year would significantly impact those fishing communities, including Neah Bay, Washington. As shown in the FEIS, and explained in the FEIS comment response on yelloweye rockfish management in section 13.2, these coastal communities in Oregon and Washington are heavily dependent on recreational fisheries, and any further reductions in the yelloweye OY would require further restrictions on the recreational fisheries, particularly those for halibut and groundfish. Additionally, as the Makah Tribe commented to NMFS, coastal tribal communities are dependent on the fisheries income from and infrastructure supporting non-tribal recreational fishing businesses. This lack of economic diversification and resiliency from negative economic impacts make them particularly vulnerable to severe groundfish fishery management measures.

Comment 4: The Three Organizations state that they believe that the EIS′s fishing community vulnerability analysis is defective because it analyzes the economic resilience and vulnerability of fishing communities, rather than also looking at the potential vulnerability of port communities that do not have fishing industries or interests to groundfish rebuilding measures. The Three Organizations also believe that the vulnerability analysis does not take into account the alternative income stream available to fishing communities from fishing opportunities for species other than groundfish.

Response: Taking into consideration The Three Organizations′ assertions and other comments raised, NMFS continues to conclude that the economic analyses used in the FEIS for this action constitute the best available science on the socio-economic effects of rebuilding overfished groundfish species. NOAA′s “Guidelines for Economic Analysis of Fishery Management Actions” (NOAA Office of Sustainable Fisheries 2000) do not prescribe particular methods and do not require the use of quantitative analyses. Rather, the Guidelines identify analytical elements that should be addressed and identify the scope of analysis required under applicable law. Recognizing the fact that there may be a lack of data and the complexity associated with developing economic models such as dynamic econometric models, the Guidelines state that: “Embodied in these guidelines is the principle that a well developed qualitative analysis may be preferable to a poorly specified complex analytical model.” There are no econometric studies available for use in addressing the central theme of the EIS: rebuilding overfished species in the shortest time possible, taking into account the status and biology of the species and the needs of fishing communities by considering the impacts of allowing some access to healthy fish stocks in order to avoid disastrous consequences to fishing communities.

For purposes of assessing the needs of fishing communities, the Council adopted the following general definition at its April 2006 meeting: “Fishing Communities need a sustainable fishery that is safe, well managed, and profitable, that provides jobs and incomes, that contributes to the local social fabric, culture, and image of the community, and helps market the community and its services and products.”

As discussed in the proposed rule for this action, the EIS describes the socioeconomic environment, provides economic impact projections of the alternatives, and classifies fishing communities in terms of their ability to withstand short-term negative consequences that could result from declines in annual groundfish revenue or recreational expenditures. Although the “needs” of fishing communities cannot be quantified because of the lack of data and models, available fisheries and economic demographic information on communities can be used to develop indicators of community engagement in fisheries, dependence on groundfish, and community resiliency. These indicators were combined to classify those communities or associated counties as either “vulnerable” or “most vulnerable” to changes in management measures. A community or county is considered “vulnerable” or “most vulnerable” to changes in fishery management measures if in comparison to other communities or counties, it is more engaged in fishing, more dependent on groundfish, and least resilient to negative socioeconomic impacts. As explained in the EIS and in the proposed rule for this action, a series of fishery-related indicators (e.g., number of fishery permits, number of commercial fishing vessels, number of party and charter trips, etc.) were associated with a series of non-fishery related indicators (e.g., unemployment rates, percent of population below the poverty level, population density, etc.). As listed in Tables A-4-7 and A-4-8, of Appendix A to the FEIS, information on 135 communities and 78 counties was analyzed, of which 38 cities and 18 counties were identified as commercial and/or recreational vulnerable areas. To qualify as a vulnerable area, a community or county had to be listed in the top one-third of ranked indicator values for at least one engagement or dependency indicator and one resiliency indicator. Under stricter ranking requirements, (a community had to be ranked in the top one-third of an indicator twice under engagement and/or dependence and resilience), 17 cities and 15 counties qualify as vulnerable. When even stricter requirements were applied (a community had to be ranked in the top one-third of an indicator three times under engagement and/or dependence and resilience variables), four cities and six counties were identified as vulnerable and received the label of “most vulnerable.” The most vulnerable cities are: Garibaldi, OR; Ilwaco, WA; Moss Landing, CA; and Neah Bay, WA. The most vulnerable counties are: Coos, OR; Grays Harbor, WA; Humboldt, CA; Lincoln, OR; Medocino, CA; and Pacific, WA.

The analysis developed for this decision is the first of its type for analyzing U.S. fishing communities. It borrows heavily from socio-economic analysis methodologies employed elsewhere, such as the methodology the U.S. Forest Service uses to establish “counties of concern” or what state employment agencies, such as in Oregon, use to establish “distressed” counties. The Three Organizations incorrectly state in their letter that: “Such methodology guarantees that the analysis will find vulnerable areas, whether they exist or not as compared with the general population of cities.” The West Coast groundfish community analysis includes major West Coast cities, such as Los Angeles, San Francisco, Seattle, and San Diego. (Los Angeles County, for example, scores high in areas of commercial fishing and recreational fishery engagement and dependency.) If the purpose of this comment from The Three Organizations is to suggest that NMFS establish some non-fishing community based standard or threshold to be applied to fishing communities, a review of available literature indicates that there is no such standard. The typical approach of almost every major study summarized in the literature review discussed in Appendix A to the FEIS was to select indicators, then rank communities or counties, and then apply differing levels of ranking requirements to see what communities or counties ranked the highest or lowest and could be inferred to be the “most vulnerable,” “least resilient,” or whatever socio-economic characteristic the analysts were focusing on. The EIS for this action follows this standard methodology, as described above, providing the appropriate analysis and background for the determining the shortest rebuilding periods possible, while taking into account the needs of fishing communities so as to avoid disastrous short-term consequences of management to those communities. In doing so, the fishing community analysis follows the directives of the Magnuson-Stevens Act by showing which communities are the most vulnerable, or in other words, in the most need.

The main factor constraining the ability to improve economic modeling of the fishery and its linkages (e.g., time-series regression analyses, estimation of resource efficiency and productivity, application of non-static models, etc.) with the rest of the economy is the absence of annual observations of employment, and cost and earnings data for vessels and processors. As acknowledged by The Three Organizations, improved modeling requires data from fishermen and companies regarding their purchases of capital and labor and the selling of fish in addition to demographic information such as age, education level and job experience. Such data are not currently available. Further, even if such data were available, econometric studies, particularly dynamic econometric studies, are not easily undertaken as such modeling requires knowledge of the fishing industry and fish populations, advanced expertise in econometric theory and methodologies, and the ability to translate complex relationships into representative and statistically valid functions. Currently the groundfish industry cost and earnings profiles used within the Fishery Economic Assessment (FEAM) model are based on a year 2000 snapshot of the West Coast fishery (The FEAM model is a regional impact model that the Council and NMFS use to project the amount of income and number of jobs associated with each alternative.) Since 2000, among other things, the fishery has seen a significant increase in the cost of fuel. The EIS addresses this issue qualitatively in its discussion of the results, where appropriate.

Finally, in their letter of comment, The Three Organizations critique other aspects of the socio-economic analysis and assert that the input/output modeling is misleading and that analysis based on static data is an inferior method when compared with dynamic modeling. Citing a 1994 New York Times article addressing spotted owl issues where an Oregon community had replaced lost timber jobs with high technology jobs, The Three Organizations posit: “Even if fishing activity is reduced, ports could thrive as many extractions industry sites have once the extraction slows.” Although some communities may have found a way to rebound from downturns associated with declining timber revenues associated with spotted owl protection, many have not. In 2005, the Federal government's interagency Regional Ecosystem Office (REO) to support the Northwest Forest Plan found that many communities that formerly had close association with the timber industry are not thriving 10 years following the implementation of that plan (See: http://www.fs.fed.us/pnw/publications/gtr649/pnw-gtr649_vol1.pdf.) Two key findings by the REO counter the assertion by The Three Organizations that fishing communities may thrive even if fishing is reduced. The first is that, for communities within five miles of federal forest lands, 40 percent had a decrease in socio-economic well-being (SEWB) between 1990 and 2000, 37 percent had an increase in SEWB, and 23 percent showed little change. Our interpretation of this finding is that two thirds of the forest communities are no better off or may be worse off then they were before spotted owl recovery programs went into place. The second key finding is that the Northwest Economic Adjustment Initiative, the major program for providing assistance to logging communities, was a mixed success since it did not create jobs in the quantity and quality of jobs lost. (See “Northwest Forest Plan, the First Ten Years Socio-economic Monitoring Key Results” by Susan Charnley, U.S. Forest Service, PNW Stations (http://www.reo.gov/monitoring/10yr-report/social-economic/powerpoints.html).

The Three Organizations also suggest that the vulnerability analysis should account for the ability of fishermen to enter other fisheries. While there may be minor opportunities to fish for species such as halibut, sandbass, and barracuda, almost all West Coast fisheries are fully subscribed and many suffer from overcapacity, which makes them inappropriate for absorbing any new entrants who might be displaced from the groundfish fishery. Adding an indicator to the vulnerability analysis to reflect alternative fishing opportunities does not seem a useful exercise, given that there are few such opportunities available. With respect to the examples of halibut and sandbass, California′s Master Plan, A Guide for the Development of Fishery Management Plans, support NMFS′s conclusion that West Coast fisheries are either sufficiently or overcapitalized and that additional effort in these fisheries is not desirable. (See http://www.dfg.ca.gov/MRD/masterplan/index.html, especially Chapter 3.) Therefore, if groundfish fishermen were to enter or step up effort in alternative fisheries, other fishermen would see their production decline. Consequently, in terms of the effects of this action on communities, there would be no change in the amount of fishing income generated.

Comment 5: The form emails stated that scientists recommended lowering catch levels for yelloweye rockfish. Senders of the form emails also believe that the Council recommended increasing yelloweye rockfish catch limits above levels recommended by scientists. The Three Organizations state that the yelloweye rockfish ramp-down rebuilding strategy is too liberal and risky given the depressed condition of the species. The Three Organizations believe that the yelloweye rockfish OY should be lower, and that new yelloweye rockfish management measures should be implemented now, prior to conducting research to determine what management measures may be effective beyond the current measures to close multiple YRCAs, rockfish conservation areas (RCAs,) and setting commercial trip limits and recreational bag limits and seasons to constrain the catch of species that co-occur with yelloweye rockfish. The Three Organizations also state that neither the DEIS nor the proposed rule commit to any plan to gather data on additional yelloweye rockfish rebuilding measures.

Response: The 2006 yelloweye rockfish rebuilding analysis had calculated that a 12.6 mt yelloweye rockfish OY would be needed to achieve an 80 percent probability of rebuilding the stock to its BMSY level by 2096 (“BMSY” means the biomass level at which the stock is estimated to be able to produce its maximum sustainable yield on a continuing basis; the FMP uses a default proxy for groundfish BMSY of B40.) This final rule implements a 2007 yelloweye rockfish OY of 23 mt and a 2008 OY of 20 mt, lowered from the 2006 OY of 27 mt, in an OY ramp-down strategy described in the preamble to the proposed rule for this action. Yelloweye rockfish OYs in 2009 and 2010 would be further reduced, ultimately reaching 13.5 mt in 2011. Beginning in 2011, the yelloweye rockfish rebuilding plan would revert to a constant harvest rate of F = 0.0101 through to the rebuilt date of 2083.5. By contrast, an initial 2007 OY based on this harvest rate would result in an OY of 12.6 mt and a rebuilt date of 2083. The OY ramp-down strategy provides time to collect much-needed additional data that could better inform new management measures for greater yelloweye rockfish protection, and reduces the immediate adverse impacts to fishing communities while altering the rebuilding period by less than one year.

Several management tools are being studied with the intention of reducing impacts to yelloweye rockfish. In addition to the NMFS continental shelf/slope trawl survey, the states have several new research programs already underway or under development for 2007-2008. The Washington Department of Fish and Wildlife (WDFW) is conducting cooperative research with the International Pacific Halibut Commission (IPHC) to enhance the IPHC′s annual hook-and-line survey to incorporate additional survey stations within un-trawlable habitat areas to collect additional information on yelloweye (distribution, abundance, and biological samples). WDFW added 25 new survey stations in 2006 and plans to continue the enhanced survey in 2007 and beyond, contingent upon funding. The Oregon Department of Fish and Wildlife (ODFW) would add survey stations off the Oregon coast in 2008, contingent upon funding.

WDFW is also conducting cooperative rockfish habitat video research with the Olympic Coast National Marine Sanctuary to characterize and map distribution of yelloweye and other rockfish habitat. Working with the recreational fishing industry, WDFW is collecting recreational vessel logbook catch and length data on rockfish that charter vessel anglers catch and release. This data collection research, and the cooperative IPHC survey could lead to new YRCAs for 2009 and beyond, or to modifications to existing closed areas to reflect improved and more recent information on yelloweye habitat sites.

ODFW has been using acoustic telemetry (data-recording fish tags) to assess discard survival and movements of yelloweye rockfish. In connection with this data collection, ODFW is studying rockfish behavior following hook-and-line capture, recompression of air bladders, and release. ODFW is also studying recreational gear modification to determine whether the height of the baited hooks above the ocean floor has an effect on which species are captured by the hooks. This last study could result in gear modification requirements that would reduce the potential for recreational gear to incidentally catch yelloweye rockfish.

Comment 6: The Three Organizations state that the ramp-down rebuilding strategy extends the yelloweye rockfish rebuilding time 38 years beyond TMIN (the time it would take to rebuild if all sources of fishing mortality had been when the rebuilding plan was first implemented in 2003). They also note that an OY of 12.6 mt extends the yelloweye rockfish rebuilding time 37 years beyond TF=0. [NMFS note: the rebuilt date for yelloweye rockfish is 2084, 36 years beyond TF=0, which is 2048.] They conclude that because the rebuilding periods in both of these cases are more than 33 years beyond TF=0, those periods are therefore not as short as possible in accordance with NRDC v. NMFS. The Three Organization then state that the National Environmental Policy Act requires NMFS to consider yelloweye rockfish harvest level alternatives between 0 and 12 mt, and rebuilding period end dates between 2048 and 2078, before taking final action.

Response: In NRDC v. NMFS, the court rejected NMFS′s 2002 darkblotched rockfish rebuilding period, saying that the Magnuson-Stevens Act direction to rebuild darkblotched rockfish as quickly as possible, taking into account the status and biology of the stock and the needs of fishing communities, could not be reconciled with a rebuilding period “20 to 33 years longer than the biologically shortest possible rebuilding period (and that increases the annual take in the meanwhile).” In response, NMFS notes that there are numerous differences between the darkblotched rebuilding plan addressed in NRDC v. NMFS, and the yelloweye rebuilding period.

First, darkblotched rockfish is continental slope species almost exclusively taken in slope trawl fisheries, whereas yelloweye rockfish is a continental shelf species almost exclusively taken with hook-and-line gear. The two species have different life histories and habitat preferences, different rebuilding trajectories and current levels of abundance, and different fishing communities that rely on fishing opportunities for groundfish species they co-occur with. The yelloweye rockfish OY ramp-down strategy would extend the yelloweye rebuilding period for 36 years beyond TF=0. The Three Organizations are incorrect, however, in assuming that because 36 years is greater than the 33 years the court rejected for darkblotched rockfish, the yelloweye rockfish rebuilding period should also be rejected. Such an assumption fails to take into account both the status and biology of yelloweye rockfish and the needs of fishing communities that depend on yelloweye rockfish.

NMFS and the Council did analyze a reasonable range of alternatives, as required by NEPA, ranging from a zero-harvest alternative, 12 mt alternative, a 12.6 mt alternative, and the ramp-down strategy adopted in Amendment 16-4. Wholesale closures of major portions of the groundfish fishery would have been necessary to achieve catch levels at or below 12 mt, and these closures would most likely have been in regions and communities that are least adaptable and least resilient (see response to Comment 3, above). For example, yelloweye rockfish catch occurs primarily off the coasts of Washington and Oregon. These coastal communities generally have high unemployment levels, low average wage levels, little diversification opportunities, and are relatively isolated. In other words, these communities have the least resilient economies and they would be most affected by management strategies designed to achieve reductions in yelloweye impacts. At an OY level less than or equal to 12 mt, these communities would lose major portions of their recreational and/or commercial fisheries. Given that the West Coast commercial groundfish fishery was declared a disaster from which it has not recovered, and that achieving a yelloweye OY of 12 mt or less would require closing major portions of the fishery for the least resilient communities, yelloweye OY levels that were less than 12 mt were considered as clearly resulting in disastrous consequences for tribal and non-tribal fishing communities.

Comment 7: The Three Organizations cite Tables 4-5 through 4-7 of the Final EIS for the 2007-2008 groundfish harvest specifications and management measures, which show that the yelloweye rockfish mortality in 2003 was 8.1 mt. They then conclude that this means that the fishing industry was able to function at this lower yelloweye harvest level without any disaster declaration. The Three Organizations then state that yelloweye rockfish rebuilding is lagging behind the current Council-adopted schedule, citing a Scientific and Statistical Committee report from March 2006. Based on their belief that the yelloweye rebuilding rate is lagging behind the current schedule, they state that the yelloweye rockfish OY should be lower than current catch levels, and conclude that the ramp-down rebuilding strategy does not rebuild yelloweye rockfish as quickly as possible.

Response: Table 4-5 of the FEIS, which provides catch estimates for 2003 incorrectly does not not include recreational yelloweye rockfish catch. The 8.1 mt figure is only for commercial and tribal fisheries. Recreational fisheries add another 11 mt to the estimate (based on Pacific States Marine Fisheries Commission′s Recreational Fisheries Information Network estimates available at: http://www.recfin.org/forms/est.html, as calculated on November 24, 2006.)

The Three Organizations' assertion that the yelloweye stock is rebuilding behind schedule is a misinterpretation of the stock assessment. The 2006 stock assessment shows that the yelloweye population is rebuilding, but that the population is less resilient than thought in previous assessments. An estimation that the yelloweye population is less resilient than previously thought means that the new stock assessment has new information about the status and biology of the stock that indicates that prior assessments were overly optimistic about both the stock′s productivity and the rate at which it could rebuild. Therefore, the old rebuilding schedule is also overly optimistic, when taking into account the biology of the yelloweye rockfish stock. In response to the new information on yelloweye biology, the new yelloweye rebuilding plan would set the OY at 23 mt in 2007, reduce it to 20 mt in 2008, and then reduce again in 2009 and 2010, until it is at a level that is approximately one-half of the 2006 OY of 27 mt. As discussed in the preamble to the proposed rule for this action and in the response to Comment 5, above, NMFS intends to achieve these reductions based on research to be conducted on more precisely designed YRCAs.

Comment 8: The Three Organizations note that the C-shaped and South Washington Coast YRCAs prohibit recreational fishing for groundfish and halibut, but rely on voluntary avoidance to exclude commercial fishing. They believe that a voluntary avoidance system does not provide meaningful yelloweye rockfish protection; and, they request that NMFS explain its basis for relying on this measure for protecting yelloweye rockfish and to make this prohibition mandatory for all fishing.

Response: As explained in the preamble to the proposed rule for this action, and in the preambles to proposed and final rules on past actions to implement groundfish specifications and management measures, area closures and other fishing restrictions to protect overfished species have been designed to best minimize overfished species bycatch using the mechanisms most appropriate to the fishery managed. As a result, the fishery management regime for recreational fisheries is different than that implemented for commercial fisheries. The fishery management regimes for trawl and non-trawl commercial fisheries also differ, to take into account the operational differences between the gear types.

Yelloweye rockfish are not commonly caught in trawl fisheries; therefore, management measures to minimize incidental catch of yelloweye focus most strongly on constraining the recreational and non-trawl commercial fisheries. Off the northern Washington coast, the non-trawl commercial groundfish fisheries have been prohibited from fishing in waters between the shoreline and a boundary line approximating the 100 fm (183 m) depth contour since January 1, 2003 (See NMFS RCA Archives website for RCA boundary history: http://www.nwr.noaa.gov/Groundfish-Halibut/Groundfish-Fishery-Management/Groundfish-Closed-Areas/RCA-Archives.cfm.) This closure keeps non-trawl commercial groundfish vessels from operating over the continental shelf, reducing incidental catch of northern overfished shelf rockfish, such as yelloweye and canary rockfish. Adult yelloweye rockfish most commonly occur in waters shoreward of the 100 fm (183 m) depth contour. For 2007-2008, NMFS is implementing an additional YRCA for commercial non-trawl fisheries, closing a deeper area that has historically been open to commercial fishing, but where yelloweye rockfish may be encountered. Both the new North Coast Commercial YRCA and the non-trawl RCA overlap with the traditional recreational C-shaped YRCA. The Three Organizations depict NMFS as relying on a voluntary commercial area closure to rebuild yelloweye rockfish; rather, NMFS relies on the mandatory measures for commercial and recreational fisheries described in this response and implemented via this final rule. A map depicting the overlapping closed areas that affect the non-trawl commercial and recreational groundfish fisheries is available online at: http://www.nwr.noaa.gov/Groundfish-Halibut/Groundfish-Fishery-Management/Groundfish-Closed-Areas/Index.cfm#CP_JUMP_30276.

Recreational fishery participants usually work from smaller vessels than those used in the commercial fishery, and are less likely to take multi-day fishing trips. As a result, most recreational fisheries operations occur within the 0-100 fm (0-183 m) closure for the non-trawl commercial fisheries. If that same area were closed to recreational fishing, the recreational fishery in this area would be essentially closed, which would have dramatic negative effects on northern Washington coastal communities. Some recreational fishing trips, particularly the charter operations from more remote Washington ports, will venture farther offshore in search of larger-sized Pacific halibut, the largest of the West Coast flatfishes. Pacific halibut commonly co-occur with yelloweye rockfish. NMFS first implemented a recreational fishery closed off northern Washington when the halibut Catch Sharing Plan went into effect in 1995. At that time, the intent of the closure was to slow the pace of the recreational halibut fishery, by closing an area of known high halibut abundance. When yelloweye rockfish were declared overfished in 2002, the Council looked at the strong co-occurrence of halibut with yelloweye rockfish and recommended prohibiting recreational groundfish fishing within that same area traditionally closed to halibut fishing. In 2003, NMFS and the Council expanded the traditional closed area for recreational halibut fisheries to the current C-shaped YRCA (68 FR 10989, March 7, 2003.) Today, the C-shaped YRCA applies to recreational fisheries for both halibut and groundfish, and continues to have the dual role of prohibiting recreational fishing where some yelloweye rockfish are known to occur, and prohibiting recreational fishing for a species that strongly co-occurs with yelloweye, Pacific halibut. Although the historic commercial RCA and the new commercial YRCA are more closely linked to areas and depths where yelloweye rockfish are thought to commonly occur, the C-shaped YRCA is more appropriate for the recreational fisheries, with their higher allowable halibut harvest and tendency to only operate farther offshore when targeting particular big game fish. Future refinements may need to be made to all of the species-specific YRCAs, as new information becomes available on particular geographic areas favored by yelloweye rockfish.

Comment 9: The Three Organizations support a complete closure of traditional commercial sablefish fishing grounds for vessels that homeport off the northern Washington Coast and in Puget Sound. They believe that such a closure would protect the sablefish resource and would allow NMFS to implement a lower yelloweye rockfish OY than 12.6 mt and rebuild yelloweye rockfish at a faster rate.

Response: NMFS does not agree that a complete closure of traditional commercial sablefish fishing grounds is necessary or appropriate to protect sablefish. The sablefish stock is estimated to be at 34 percent of its estimated unfished biomass level, or B34. The sablefish OYs for 2007 and 2008, implemented via this action, are based on the FMP's harvest policy that species with abundance levels within the precautionary zone (between B25 and B40) have OYs reduced from their ABCs by ever greater percentages the closer the stock is estimated to be to B25, the overfished threshold. (See FMP at section 4.5.1.) This policy protects stocks that are below their BMSY level, acting as a default rebuilding policy that both prevents those stocks from dipping below the overfished threshold and rebuilds them back to their BMSY (B40) levels. If the traditional northern Washington sablefish fishing groundfish were closed, the entire sablefish OY would still be available to the remaining open areas along the West Coast; therefore, closing a particular area to sablefish fishing would have no effect on the sablefish resource, other than to intensify sablefish fishing effort within the remaining open fishing areas.

The FEIS for this action estimates at Table 4-18 that 1.1 mt of yelloweye rockfish were taken in the 2004 fixed gear (longline and pot) sablefish fisheries north of 40°10′ N. lat. (approximately Cape Mendocino, California,) at a ratio of approximately 8.9 lb (4.04 kg) of yelloweye per 1,000 lb (454 kg) of sablefish. [Note: this bycatch ratio applies only to sablefish taken with longline gear; pot gear is estimated to have zero yelloweye catch.] At Table 7-22, the FEIS estimates that the limited entry fixed gear sablefish landings in Washington generated approximately $2,753,000 in ex-vessel revenue. This is important income for vessels operating from some of the most economically groundfish-dependent and vulnerable fishing communities, such as Ilwaco and Neah Bay, Washington, and coastal counties, such as Pacific and Grays Harbor Counties.

Comment 10: The Three Organizations believe that the yelloweye rockfish OY ramp-down strategy increases the likelihood that old and fecund female rockfish will be removed from the population. The Three Organizations cite black rockfish papers by Berkeley et al. (2004) and by Bobko and Berkeley (2004), and state that they believe that larvae born from older rockfish have an increased rate of growth and survival than larvae born from younger rockfish, which they believe may affect recruitment success and rebuilding. They state that old rockfish are critical to the reproductive success of the stock, and that management should focus not only on biomass size, but also on increasing the proportion of older fish in the population. They then conclude that the ramp-down rebuilding strategy should not be adopted because they believe that it does not increase the proportion of older fish in the yelloweye rockfish population.

In addition to this specific comment on older female rockfish in the yelloweye population, The Three Organizations make a more general comment on the benefits of older females within all rockfish species′ populations. They state that they believe that management measures and the determination of OYs must incorporate scientific findings that the larvae produced by older rockfish have an increased probability of survival over those produced by younger rockfish, that older rockfish have greater larval outputs than younger rockfish, and that having older female rockfish in a population increases the chance that some fish will release their larvae at the best time for food supply. They also believe that management measures should promote multiple productive stocks with a mix of old and young females over a broad spatial area. To use the best available science, they believe that NMFS should explore and implement strategies to avoid mortality of mega-spawners and immature fish and modifying the OY models to account and plan for the age structure of the fishery. They then conclude that lower groundfish OYs better preserve mega-spawners, which they believe guards against collapse.

Response: The scientific papers cited by the Three Organizations specifically discuss research on black rockfish, not yelloweye rockfish, although an additional 2004 paper from Berkeley, et. al, “Fisheries Sustainability via Protection of Age Structure and Spatial Distribution of Fish Populations,” draws more general conclusions about the effects of age and spatial distribution on population health and abundance on a variety of Pacific rockfish species. Most rockfish species are long-lived and slow-growing, with individuals of some species living as long as, or longer than 100 years. This rockfish life history strategy is useful in a physical environment, such as with the narrow continental shelf off the North American West Coast, where optimal spawning conditions may occur infrequently over time. Different rockfish species benefit from different environmental conditions in terms of which years and geographic areas are likely to feature successful spawning classes. Many of the West Coast overfished rockfish stock assessments have noted that rockfish stocks will require several particularly successful recruitment years before they recover above BMSY. For example, the recent increase in bocaccio abundance was made possible by two particularly successful year classes from 1999 and 2000. Lingcod, by contrast, is more consistent in its year-to-year spawning success, and its rebuilding primarily benefitted from fishery closures in times and areas when its recruitment success was most vulnerable - during the winter spawning and nest-guarding period.

The Three Organizations note that the 2004 Berkeley, et. al paper has demonstrated that older female black rockfish produce larvae with faster growth rates and greater larval survival than younger fish, with age being a more significant predictor than size alone. Similarly, Bobko and Berkeley (2004) demonstrated that older females spawn earlier in the year than younger females, with potential implications on sustainability and reproductive success associated with the timing of parturition and the short term variability in ocean conditions. The Berkeley et al. paper on fisheries sutainability, mentioned above, speaks on the implications of these results to rockfish more generally, but this review does not conclusively demonstrate comparable impacts on other Sebastes species. In other words, the authors of these papers have, in keeping with sound science practices, provided quantified conclusions on black rockfish that may be considered for use in future black rockfish stock assessments, but only qualitative conclusions for other rockfish species. NMFS notes that comparable research in the North Atlantic has led to estimable impacts of productivity for commercially important species. For example, Trippel et al. (1997) review evidence that demonstrates that first and second time spawning Atlantic cod breed for shorter periods of time, produce fewer egg batches, and produce smaller size eggs with lower fertilization and hatching rates. When such considerations were incorporated into stock assessments, overfishing thresholds for those were considerably lower (Murawski et al. 2001). These studies are part of a growing area of research that indicate substantial variability in the reproductive abilities of younger and older individuals of many species, the inference being that a broad distribution of age structure is beneficial to the recruitment and productivity of many stocks. Consequently, this issue remains an area of intensive research, within both the agency and private research institutions.

Currently, ongoing studies by NMFS and academic researchers are attempting to compare potential maternal effects in a suite of West Coast rockfish species, including blue, olive, gopher, yellowtail, kelp, chilipepper and widow rockfish relative to what was found previously in black rockfish. Comparable investigations are ongoing for waters off Alaska, such as for POP. Without such comparative studies, generalizations from the black rockfish study are difficult to extrapolate to other Sebastes species. This issue is widely recognized by researchers and assessment scientists as important in evaluating the productivity and sustainability of West Coast groundfish fisheries, and insight gained from ongoing research will be incorporated into scientific assessments and management advice as it becomes available. Such considerations can potentially be addressed in new stock assessment models by modifying the shape of fecundity curves to represent relative maternal reproductive success in estimating effective spawning output. Alternatively, the potential implications of these effects may lead to new insights on future optimal management regimes, such as spatial management measures, that explicitly recognize the significance of age structure in population sustainability.

Although NMFS has some habitat information for yelloweye rockfish, the agency does not have information on where older female yelloweye rockfish are particularly found. This lack of sex- and age-specific habitat data is not unique to yelloweye rockfish. The Berkeley, et. al. paper on fisheries sustainability, mentioned above, recognizes this lack of information on sex- and age-specific habitat by suggesting that age diversity in rockfish populations could be supported through implementing a network of marine protected areas. NMFS has already implemented a coastwide network of marine protected areas, some of which were designed to protect essential groundfish habitat, and some of which were designed to limit the incidental catch of adult life stage overfished species, including yelloweye rockfish. In addition to the RCAs, which were designed to prevent incidental catch of several overfished species within the same areas (bocaccio, canary, darkblotched, Pacific ocean perch, widow, and yelloweye rockfish), NMFS has implemented YRCAs specifically intended to minimize yelloweye rockfish bycatch. This action implements four additional YRCAs beyond those that continue to be in place from prior years. As discussed above, in the response to Comment 4, the yelloweye OY ramp-down strategy allows NMFS and its partner managing agencies to collect more information on yelloweye habitat, so as to determine whether the boundaries of current YRCAs need to be modified, or new YRCAs created, to provide yelloweye with improved protection from incidental catch. Yelloweye rockfish rebuilding measures prohibit yelloweye retention, removing any incentive that fishers may have to particularly target large-size fish.

One unintended artifact of managing the coastwide West Coast groundfish fishery with an overarching goal of rebuilding overfished stocks is that both the rebuilding stocks themselves and healthier under-harvested co-occurring stocks have relatively high proportions of younger-aged fish within their populations. In other words, the restrictive groundfish management in the 2000-2006 period has resulted in an abundance of groundfish from the 2000-2006 year classes. As mentioned above, initial conclusions from the scientists addressing this question of the fecundity of older-age female rockfish indicate that these authors believe that marine protected areas would help either improve population age diversity, improve the survivability of older-age fish, or both. As also discussed above, the current network of groundfish marine protected areas meets several Magnuson-Stevens Act mandates by focusing on protecting essential fish habitat and minimizing bycatch of overfished species. NMFS does not have any information on the specific modifications that would need to be made to its network of West Coast marine protected areas to better promote rockfish population age diversity.

Comment 11: The senders of the form emails urge NMFS to adopt an ecosystem approach to fisheries management and to incorporate ecosystem considerations into the groundfish FMP. The Three Organizations comment that they see a need for developing an ecosystem-based fisheries management approach to Pacific fisheries management, including overarching ecosystem goals and objectives to guide fisheries management decisions. They express a belief that the current management program is focused on achieving maximum sustainable yield for market valued species, on a species-by-species basis, and a belief that such a program threatens the health of the California Current ecosystem.

Response: NMFS agrees that ecosystem needs and effects are critical elements in managing West Coast fisheries. However, NMFS disagrees with the comment that the current management framework focuses only on achieving maximum sustainable yield for market value species. Under Section 304(e) of the Magnuson-Stevens Act, rebuilding times for overfished species must be as short as possible, taking into account the status and biology of any overfished stocks of fish, the needs of fishing communities, and the interaction of overfished stocks within the marine ecosystem. The FEIS for this action complies with that requirement. Section 3.1.6 of the FEIS discusses the role of overfished species in the West Coast marine ecosystem, and section 3.2 discusses the direct and indirect effects of 2007-2008 management measures on West Coast essential fish habitat and the marine ecosystem. Additionally, both NMFS's Northwest and Southwest Fisheries Science Centers are actively engaged in research efforts that are focused on modeling predator-prey and ecosystem dynamics, incorporating environmental indices into stock assessments, and evaluating the consequences of fishing on other elements of the ecosystem. However, as reported in section 3.3.3 of the FEIS, “the data necessary to develop and adequately parameterize multispecies models are lacking for most ecosystems, including the California Current. Even with adequate data, the ability of multispecies models to make meaningful predictions regarding the consequences of decisions is limited.”

NMFS also disagrees with the comment that the 2007-2008 management program is designed to maximize market value of the fishery on a species-by-species basis. As discussed in the preamble to the proposed rule for this action, the Council process and EIS for this action took a new analytical approach to asking the question for each overfished species, “What is the shortest time possible to rebuild this species, taking into account the status and biology of this stock and its co-occurring overfished species, and the needs of fishing communities that depend on fisheries that have historically taken this stock either directly or incidentally?” The new and more holistic analytical approach that NMFS, the Council, and the public took in answering this question looks at the relative biological attributes of each overfished groundfish species, their relative levels of depletion and vulnerability, the interaction of those species with various fishing sectors, and the impact those species have on West Coast fishing communities. When establishing the Amendment 16-4 rebuilding parameters and the 2007-2008 OYs for overfished species, the status and biology of the stocks were taken into account by considering the shortest possible rebuilding periods within different packages of management measures that placed an emphasis on providing the greatest protection for the most sensitive and least productive overfished species. Careful consideration was given to: the differences between the biological characteristics of each overfished species; the varying possible rebuilding schedules; the depletion rates of each overfished species; the relative sensitivity of each overfished species to changes in the management regime; and, the need for research data to ensure the availability of information to assess the status and biology of overfished species and other fish stocks.

Taking the needs of fishing communities into account as part of the development of new Amendment 16-4 rebuilding plans meant conducting new socio-economic analyses. The court noted the multi-species nature of the groundfish fisheries, stating that the Magnuson-Stevens Act allows NMFS to “set limited quotas [for rebuilding species] that would account for the short-term needs of fishing communities (for example, to allow for some fishing of plentiful species despite the inevitability of bycatch), even though this would mean that the rebuilding period would take longer than it would under a total fishing ban.” Careful analytical consideration was given to the needs of the fishing communities, particularly: the vulnerability of different fishing communities to reductions in available harvest; the resilience of different fishing communities to changes in community groundfish fishing revenues; the effects that recent past harvest levels have had on fishing communities; and, the need for management flexibility to address uncertainty in preseason catch predictions of overfished species such that the OYs are not exceeded or that fishing communities are not subject to the disastrous immediate consequences from inseason adjustments.

Comment 12: The letter received from the marine scientific researcher with the University of California, Santa Barbara, believes that NMFS does not have enough information to revise the size and shape of the Western Cowcod Conservation Areas (CCA). The multiple form emails received state that the Eastern and Western CCAs are important conservation tools that have been successful at reducing cowcod bycatch, and urge NMFS to maintain the existing CCA boundary lines. The letter received from The Three Organizations states that altering the CCA boundary lines will increase cowcod bycatch and undermine cowcod rebuilding objectives. The Three Organizations also state that changing the CCA boundaries will compromise the monitoring and enforcement of fishing activities, and will undermine observation and data collection efforts.

Response: NMFS has disapproved the Council′s recommendation to revise the boundaries of the Western CCA. NMFS is disapproving the Council′s recommendation for several reasons, including: (1) cowcod have a fairly sedentary life history and closed areas are one of the few rebuilding tools that NMFS expects will have a measurable effect on increasing the cowcod biomass; (2) there is relatively sparse data on cowcod stock abundance, which creates greater uncertainty regarding the cowcod stock status; (3) there is an unquantified potential for effort shifts that could result from this change; and (4) there is uncertainty in the estimates of increased impacts to cowcod, bocaccio, and non-overfished species within the CCA boundaries. By disapproving this Council recommendation, NMFS is continuing its precautionary approach to management of the CCAs and cowcod, an overfished rockfish species, without constraining existing fisheries. Maintaining the current CCA boundaries does not alter the OYs of healthy Southern California groundfish species available for harvest outside of the CCAs.

Comment 13: The sender of the individualized email is a California angler who catches rockfish and other fish species. He states that when fishing for groundfish, the prohibited rockfish species are inevitably caught and must then be discarded. He notes that few of the discarded rockfish survive the catch-and-release process, and often become food for the waiting terns and gulls. He wonders if there is a dichotomy in this scenario.

Response: Federal groundfish regulations prohibit the retention of overfished species in recreational fisheries in order to discourage the directed targeting of those species. RCAs are used to lower the frequency of incidental catch of overfished species taken in fisheries targeting more abundant co-occurring groundfish stocks. Allowing the retention of a particular species in sport fisheries tends to increase the total catch (landed catch + discard) of that species; therefore, allowing the retention of overfished species in recreational fisheries, particularly for more vulnerable stocks, is counter to NMFS′ rebuilding program. NMFS is aware that continental shelf rockfish species taken in recreational fisheries are unlikely to survive the catch-and-release process. That mortality is accounted for as the recreational fisheries′ portion of each overfished species OY. Rockfish, both overfished and healthy species, are common in the diets of a variety of seabirds; NMFS is not surprised that terns and gulls are eating discarded fish.

Changes from the Proposed Rule

At its September 11-15 meeting in Foster City, CA, the Council reviewed its June recommendations for the 2007-2008 fishery specifications and management measures. The Council provided NMFS with comments on its June recommendations, asking that NMFS make a few refinements to the 2007-2008 specifications and management measures that the agency had published as proposed in the Federal Register. On October 3, 2006, Council staff transmitted the Council's recommended refinements in a letter to NMFS. That letter did not detail the Council′s rationale for the recommended refinements, referring instead to public discussions held at the September 2006 Council meeting. Thus, the Council′s September 2006 recommendations are discussed in this section on changes from the proposed rule, rather than above in responses to comments received during the comment period.

As part of the 2007-2008 groundfish management measures, the Council considered implementing the Ocean Salmon Conservation Zone (OSCZ), an area shoreward of a boundary line approximating the 100 fm (183 m) depth contour, as a potential inseason management tool for the whiting fishery. The OSCZ was evaluated in the DEIS, and at the June 2006 Council meeting the GMT recommended that this measure be adopted as part of the Council′s management measures recommendations to NMFS. However, the Council's final management recommendations to NMFS had inadvertently not included the OSCZ requirement. NMFS and Council staff discovered this oversight following the June 2006 Council meeting. Because the OSCZ had been evaluated in the DEIS, and, until the last moment of the Council's final decision had been part of the Council's developing management package, NMFS included the OSCZ as part of the proposed action. The Council took final action on this issue at its September 2006 meeting, and recommended adopting the OSCZ for 2007 and beyond to give NMFS the authority to implement a nearshore closure for all sectors of the Pacific Coast whiting fishery if Chinook take is anticipated to exceed acceptable levels. The Council recommended a flexible approach of applying this mitigation measure in response to conditions in the fishery, rather than having the OSCZ in effect throughout the whiting season, which could possibly shift effort offshore and increase catch rates of canary and darkblotched rockfish. This flexibility allows industry and NMFS to monitor whiting fishing activities and modify fishery restrictions inseason to appropriately respond to environmental factors that influence varying bycatch rates for salmon bycatch and depleted rockfish species. The incidental take level for Chinook salmon may be changed through the Endangered Species Act consultation process, if needed. NMFS concurs with this recommendation and acknowledges the Council's endorsement of the use of the OSCZ as management tool for the 2007 through 2008 Pacific Coast whiting fishery.

At the June 2006 Council meeting, the Council had recommended a 2007 petrale sole acceptable biological catch (ABC) of 2,917 mt. Subsequent to that decision, NMFS and Council staff discovered that the 2007 ABC had been incorrectly calculated from its stock assessment, resulting in a mathematically incorrect petrale sole ABC being adopted. The ABC adopted in June 2006 was the sum of the northern 40-10 adjusted OY of 1,289 mt and the southern ABC of 1,628 mt. Instead, the Council should have specified a 2007 petrale sole ABC of 3,025 mt for 2007, which is the sum of the northern ABC of 1,397 mt and the southern ABC of 1,628 mt. Therefore, at its September 2006 meeting, the Council recommended a technical correction to the 2007 petrale sole ABC from 2,917 mt to 3,025 mt. The 2008 ABC value of 2,919 mt recommended by the Council at the June 2006 meeting was calculated correctly and does not need to be changed. NMFS concurs with this recommendation and has made the technical correction to the 2007 petrale sole ABC in Table 1a of this action.

At its November 12-17 meeting in Del Mar, CA, the Council, in consultation with Pacific Coast Treaty Indian Tribes and the States of Washington, Oregon, and California, recommended the following changes to 2007-2008 management measures based on the most recent information: (1) Decrease limited entry trawl trip limits for petrale sole in Periods 1 (January-February) and 6 (November-December), and (2) decrease open access trip limits for sablefish.

Catch of petrale sole was higher than expected in 2006. If the higher than expected petrale sole catches in 2006 are repeated in 2007, there is the potential for early attainment of the petrale sole OY. The 2007 petrale sole OY of 2,499 mt is 263 mt less than the 2006 ABC/OY of 2,762 mt. The Period 1 and 6 cumulative limits for petrale sole in 2007 as stated in the proposed rule (71 FR 57764, September 29, 2006) are 80,000 lb (36,287 kg) per 2 months, which are higher than the 2006 limits. The 2006 petrale sole trip limits were 30,000 lb (13, 608 kg) per month in Period 1 and 70,000 lb (31, 752 kg) per 2 months in Period 6. To reduce the potential for early attainment of the 2007 OY, the Council recommended that trip limits for Periods 1 and 6 be reduced to 50,000 lb (22,680 kg) per 2 months beginning January 1, 2007. Pacific Coast groundfish landings will be monitored throughout the year and further adjustments to trip limits or management measures will be made as necessary to allow achievement of, or to avoid exceeding, optimum yields (OYs).

Therefore, for 2007 and 2008, the Council recommended and NMFS is implementing trip limit adjustments for the limited entry trawl fishery in Periods 1 (January-February) and 6 (November-December) as follows: (1) North of 40°10′ N. lat., decrease petrale sole trip limits from 80,000 lb (36,287 kg) per 2 months to 50,000 lb (22,680 kg) per 2 months for large and small footrope trawl gear; and (2) south of 40°10′ N. lat., decrease petrale sole trip limits from 80,000 lb (36,287 kg) per 2 months to 50,000 lb (22,680 kg) per 2 months.

Catch of sablefish in the open access (OA) daily trip limit (DTL) fishery north of 36° N. lat. was higher in 2006 than in previous years, in part due to reduced salmon fishing opportunities. In 2006, the OA sablefish DTL fishery experienced a large influx of fishing effort from vessels unable to participate in the highly restricted salmon fishery. To slow the catch of sablefish in 2006, the OA sablefish DTL fishery north of 36° N. lat. was decreased from May through September (71 FR 24601, April 26, 2006) and then closed from October through December due to early attainment of the OA sablefish allocation (71 FR 58289, October 3, 2006). Reducing the cumulative limit was intended to provide for a longer season in 2006, which was thought to most benefit fishers who have historically participated in the year-round fishery. Based on anticipated salmon fishing opportunities in 2007, effort in the OA sablefish DTL fishery is expected to be equivalent to or higher than effort in the 2006 fishery. The Council recommended decreasing trip limits in the OA sablefish DTL fishery north of 36° N. lat. to increase the likelihood that the OA sablefish DTL fishery can be prosecuted as a year-round fishery. In 2006, when trip limits for the OA sablefish DTL fishery north of 36° N. lat. were closed and trip limits south of 36° N. lat. were increased, effort shifted into the OA sablefish DTL fishery south of 36° N. lat. The Council recommended that the daily and weekly trip limits for the OA sablefish DTL fishery south of 36° N. lat. be aligned with the OA sablefish DTL fishery limits north of 36° N. lat. to limit the incentive for additional vessels to fish south of 36° N. lat. and to prevent early attainment of the sablefish harvest guidelines north and south of 36° N. lat.

Therefore, for 2007 and 2008, the Council recommended and NMFS is implementing the following: (1) A reduction in the trip limits for the OA sablefish DTL fishery north of 36° N. lat. to the U.S./Canada border for January through December from “300 lb (136 kg) per day, or 1 landing per week of up to 1,000 lb (454 kg), not to exceed 3,000 lb (1,361 kg) per 2 months” to “300 lb (136 kg) per day, or 1 landing per week of up to 700 lb (318 kg), not to exceed 2,100 lb (953 kg) per 2 months,” and (2) a reduction in the trip limits for the OA sablefish DTL fishery south of 36° N. lat. to the U.S./Mexico border for January through December from “350 lb (159 kg) per day, or 1 landing per week of up to 1,050 lb (476 kg)” to “300 lb (136 kg) per day, or 1 landing per week of up to 700 lb (318 kg).”

In addition, NMFS is revising the regulations in the proposed rule (71 FR 57764, September 29, 2006) to include an exemption from closed areas and seasons for recreational divers spearfishing for groundfish species off California in 2007 and 2008. At the Council′s June 11-16, 2006, meeting in Foster City, CA, the Council made final recommendations on the 2007-2008 groundfish specifications and management measures. In Agenda item F.6.e, CDFG supplemental motion in writing, June 2006, the Council recommended an exemption from recreational closed areas and seasons for divers and shore-based anglers that was contingent on the California Fish and Game Commission adopting it. The California Fish and Game Commission adopted this measure at their November 3, 2006, meeting. In addition, this exemption was analyzed in the 2007-2008 groundfish EIS. This exemption was listed in Agenda item F.6.e as “status quo” management measures, meaning that it was in place in state regulation in 2005 and 2006. However, it has not previously been in Federal regulation. While the shore-based angler exemption is not necessary in Federal regulation because it occurs entirely in state waters, the diver exemption would apply to recreational spearfishing in Federal waters.

Therefore, for 2007 and 2008, the Council recommended and NMFS is implementing an exemption from closed areas and seasons for recreational spearfishing consistent with Title 14 of the California Code of Regulations. This exemption applies only to recreational vessels and divers provided no other fishing gear, except spearfishing gear, is on board the vessel. This exemption applies to all federally-managed groundfish (except lingcod during January, February, March, and December), as well as the following California state-managed species: ocean whitefish, California sheephead, and all greenlings of the genus Hexagrammos (kelp greenling is the only federally-managed greenling).

NMFS is disapproving the Council′s recommendation to revise the boundaries of the Western CCA as discussed above in the response to Comment 12. As a result of this disapproval, the following are changes from the proposed rule: Removed language on 15-minute VMS reporting rates from 660.303(d)(5)(i); removed language referring to the 175-fm CCA from 660.382 (c), limited entry fixed gear fishery management measures, and from 660.383 (c), open access fishery management measures; and removed language with western 175-fm CCA coordinates from 660.390(k)-(o), groundfish conservation areas.

NMFS is adding language to all commercial and recreational YRCAs to clarify that vessels may transit through the YRCAs with groundfish on board and that vessels fishing within the YRCA may not be in possession of groundfish. The language added to the YRCAs mirrors existing language from the RCAs. NMFS added clarifying language to the YRCAs in the following sections: 660.382(c)(2); 660.383(c)(2) and (4); 660.384(c)(1)(i)(A) and (B), and (c)(2)(i)(A); and 660.405(c).

NMFS is also making technical corrections to the latitude and longitude coordinates that are used to define Groundfish Conservation Areas, including coordinates approximating depth contours used for defining Rockfish Conservation Area (RCA) boundaries (See §§ 660.390 through 660.394). The purpose of these corrections is to revise the lines so that they better approximate the depth contours they are intended to reflect.

Finally, the following changes were made to ABC/OY Tables 1a-2c and the footnotes for these tables: the coastwide range of ABCs and OYs for Pacific whiting were added to table 1a; the cowcod area was revised in tables 1a and 2a from the area north of 36° N. lat. to the area from 36° to 40°30′ N. lat.; the minor rockfish north and south areas in the Tables 1a, 1b, 2a and 2b were revised to indicate that the areas were north and south of 40°10′ N. lat.; in footnote h/ of tables 1a and 2a, the percent of unfished biomass for cabezon north of 34°27′ N. lat. and south of 34°27′ N. lat. were reversed. Due to a revisions in table formatting from previous years, several minor non-substantive changes were made including: footnote renumbering for “other species”, replacement of missing table cell boundaries, revised table titles and column headers.

Classification

The Administrator, Northwest Region, NMFS, has determined that Amendment 16-4 and the 2007-2008 groundfish harvest specifications and management measures, which this final rule would implement, are necessary for the conservation and management of the Pacific Coast groundfish fishery and that they are consistent with the Magnuson-Stevens Act and other applicable laws.

NMFS prepared an FEIS in support of this action. The FEIS was filed with the Environmental Protection Agency on October 13, 2006. A notice of availability for this FEIS was published on October 20, 2006 (71 FR 61967). In approving Amendment 16-4, on November 30, 2006, NMFS issued a Record of Decision (ROD) identifying the selected alternative. A copy of the ROD is available from NMFS (see ADDRESSES).

Amendment 16-4 and the 2007-2008 groundfish specifications and management measures are intended to rebuild overfished stocks as quickly as possible, taking into account the status and biology of the stocks and the needs of fishing communities. NMFS has been ordered in NRDC v. NMFS to implement this action by January 1, 2007. If these measures are not effective on January 1, 2007, the management measures from January 1, 2006 will remain in effect. Management measures from January 2006 were based on the best scientific information available at that time. The 2006 management measures are not tailored to the 2007-2008 harvest levels and, for some species, are not conservative enough to meet the Council's rebuilding goals for 2007-2008. Leaving the 2006 specifications and management measures in place could cause harm to some stocks. For example, the OYs for several overfished species, which constrain operations in all of the coastwide groundfish fisheries, are lower in 2007 and 2008 than they were in 2006. The yelloweye rockfish OY is lower in 2007 and 2008, and constrains commercial and recreational hook-and-line fisheries north of Cape Mendocio, California, particularly for halibut. The canary rockfish OY is lower in 2007 and 2008, and constrains commercial and recreational fisheries coastwide, particularly for co-occurring continental shelf species. The POP OY is lower in 2007 and 008, and constrains commercial trawl fisheries north of Cape Mendocino, California, particularly for co-occurring continental slope species. The bocaccio and cowcod OYs are lower in 2007 and 2008, and constrain commercial and recreational fisheries south of Cape Mendocino, California, particularly for co-occurring continental shelf species. Although the darkblotched and widow rockfish OYs are higher in 2007 and 2008 than in 2006, they are smaller proportions of their respective ABCs than in 2006; therefore, the darkblotched rockfish OY may be expected to constrain commercial trawl fisheries for co-occurring continental slope species north of Pt. Reyes, California, and the widow rockfish OY may be expected to constrain commercial fisheries for co-occurring continental shelf species and for Pacific whiting, coastwide. The commercial fishery is managed with two-month cumulative limits, so even a short delay in effectiveness could allow the fleets to harvest the entire two-month limit before the 2007 measures are effective. Delaying the effectiveness of this rule would also be confusing to the public, since it would result in a change in trip limits in the midst of the two-month January-February cumulative trip limit period. Finally, delay in publishing these measures could also require unnecessarily restrictive measures, including possible fishery closures, later in the year to make up for excessive harvest that would be caused by late implementation of these regulations. Thus, a delay in effectiveness could ultimately cause economic harm to the fishing industry and associated fishing communities. These reasons constitute good cause under authority contained in 5 U.S.C. 553(d)(3), to establish an effective date less than 30 days after date of publication.

This final rule has been determined to be not significant for purposes of Executive Order 12866.

NMFS prepared a final regulatory flexibility analysis (FRFA) as part of the regulatory impact review. The FRFA incorporates the IRFA, the comments and responses to the proposed rule, and a summary of the analyses completed to support the action. A copy of the FRFA is available from NMFS (see ADDRESSES) and a summary of the FRFA, per the requirements of 5 U.S.C. 604(a), follows: Amendment 16-4 and the 2007-2008 harvest specifications and management measures are intended to respond to court orders in NRDC v. NMFS and to implement a groundfish management scheme for the 2007 and 2008 groundfish fisheries. During the comment period on the proposed rule, NMFS received two letters of comment and 1,446 e-mails of comment, but none of the comments received addressed the IRFA, although one letter directly or indirectly addressed the economic effects of the rule, as discussed above in the response to Comments 1 and 2.

NMFS estimates that implementation of this action will affect about 2,600 small entities. These entities are associated with those vessels that either target groundfish or harvest groundfish as bycatch. Consequently, these are the vessels, other than catcher-processors, that participate in the limited entry portion of the fishery, the open access fishery, the charterboat fleet, and the tribal fleets. Catcher-processors also operate in the Alaska pollock fishery, and all are entities associated with larger companies such as Trident and American Seafoods. Therefore, NMFS does not consider catcher-processors to be small entities.

As of July 2006, there were 403 limited entry permits for the West Coast groundfish fishery, including: 179 endorsed for trawl (174 trawl only, 4 trawl and longline, and 1 trawl and trap-pot); 198 endorsed for longline (193 longline only, 4 longline and trap-pot, and 4 trawl and longline); 32 endorsed for trap-pot (27 trap-pot only, 4 longline and trap-pot, and 1 trawl and trap-pot). Of the longline and trap-pot permits, 164 are sablefish endorsed. Of these endorsements 126 are “stacked” on 50 vessels, in accordance with Federal regulations at 50 CFR 660.335. Eight of the trawl limited entry permits are used or owned by catcher-processor companies associated with the whiting fishery. The remaining 395 entities are considered small businesses based on a review of sector revenues and average revenues per entity. The open access or nearshore fleet, depending on the year and level of participation, is estimated to be about 1,300 to 1,600 vessels. All of the open access fishery participants are considered small entities. The tribal fleet is comprised of 53 vessels, and the Charterboat fleet includes 525 vessels that are also assumed to be small entities. All of these small entities would be affected by this action.

This action, taken from the final Council-preferred alternative in the FEIS, represents the Council's efforts to address directions provided by the court in NRDC v. NMFS that emphasized the need to rebuild stocks in as short a time as possible, taking into account: (1) The status and biology of the stocks, (2) the needs of fishing communities, and (3) interactions of depleted stocks within the marine ecosystem. When the Council was taking into account the “needs of fishing communities” it was also simultaneously taking into account the “needs of small businesses,” since fishing communities rely on small businesses as a source of economic income and activity. In particular, as discussed in the IRFA/FRFA, the inclusion of the yelloweye rockfish “ramp-down” strategy and creation of additional YRCAs is a means of trying to mitigate the adverse impacts of this rule on small entities.

Rather than abruptly shifting West Coast fisheries from a 2006 OY of 27 mt to a 12-12.6 mt OY, the yelloweye OY ramp-down strategy commits the Council to adopting gradually declining OY levels for the next four years of the rebuilding period. The 2007-2008 OYs are 23 mt, 20 mt, and the 2009-2010 OYs are anticipated to be 17 mt, and 14 mt, respectively under the ramp-down strategy. Under a 12 or 12.6 mt OY, there would be a projected 40 percent decline in ex-vessel revenues and about a 30 percent decline in recreational fisheries angler trips and expenditures. However many argue that the recreational fisheries impact is larger, since fishing seasons would be shortened, which would have the additional impact of fewer tourists being drawn to communities during times when fishing closures are in place. The communities most vulnerable to reductions in yelloweye catch are remote northern coast towns with small year-round populations and a strong revenue dependence on seasonal tourism influxes. This means that economic impacts would be larger than indicated by just examining changes in angler trips. Because yelloweye rockfish are harvested in almost all West Coast groundfish and non-groundfish fisheries, the economic impact of a zero harvest OY is projected to result in a loss of at least $100 million in commercial ex-vessel revenues and approximately 1.2 million recreational angler trips. The yelloweye ramp-down OY results in economic impacts to recreational fisheries that range from near status quo, to reductions in angler effort of approximately 22 percent in 2007 compared to 2005 levels. Similarly, commercial non-trawl ex-vessel revenues would range from near status quo to reductions of 13 percent. Beyond 2007, the effects are less clear; however, it is expected that the economic implications will be less severe than with an immediate OY of 12 mt or 12.6 mt. It is estimated that these impacts will be in place until 2084, or 36 years longer than TMIN.

Through adopting the ramp-down approach that includes expanded YRCAs off Oregon and Washington, the Council was able to consider the trade-off between rebuilding periods (need to rebuild as fast as possible) and effects on communities (taking into account the needs of fishing communities) and small businesses, supported by additional management measures to assure the OY is not exceeded (which in turn would affect the majority of communities and small businesses because of the yelloweye OY′s broadly distributed effects.) In comparison to the 12 mt OY Alternative, the ramp-down approach extends the rebuilding period by 6 years from 2078 to 2084, allows the current fishing sectors to continue, and prevents major closures of fisheries and the associated harm to communities and their small businesses.

There are no additional projected reporting, record-keeping, and other compliance requirements of the proposed rule not already envisioned within the scope of current requirements. References to collections-of-information made in this action are intended to properly cite those collections in Federal regulations, and not to alter their effect in any way.

No Federal rules have been identified that duplicate, overlap, or conflict with this action.

NMFS issued Biological Opinions under the ESA on August 10, 1990, November 26, 1991, August 28, 1992, September 27, 1993, May 14, 1996, and December 15, 1999, pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the FMP for the Pacific Coast groundfish fishery was not expected to jeopardize the continued existence of any endangered or threatened species under the jurisdiction of NMFS, or result in the destruction or adverse modification of critical habitat.

NMFS reinitiated a formal ESA section 7 consultation in 2005 for both the Pacific whiting midwater trawl fishery and the groundfish bottom trawl fishery. The December 19, 1999 Biological Opinion had defined an 11,000 Chinook incidental take threshold for the Pacific whiting fishery. During the 2005 Pacific whiting season, the 11,000 fish Chinook incidental take threshold was exceeded, triggering reinitiation. Also in 2005, new WCGOP data became available, allowing NMFS to complete an analysis of salmon take in the bottom trawl fishery.

NMFS prepared a Supplemental Biological Opinion dated March 11, 2006, which addressed salmon take in both the Pacific whiting midwater trawl and groundfish bottom trawl fisheries. In its 2006 Supplemental Biological Opinion, NMFS concluded that catch rates of salmon in the 2005 whiting fishery were consistent with expectations considered during prior consultations. Chinook bycatch has averaged about 7,300 over the last 15 years and has only occasionally exceeded the reinitiation trigger of 11,000. Since 1999, annual Chinook bycatch has averaged about 8,450. The Chinook Evolutionarily Significant Units (ESUs) most likely affected by the whiting fishery have generally improved in status since the 1999 ESA section 7 consultation. Although these species remain at risk, as indicated by their ESA listing, NMFS concluded that the higher observed bycatch in 2005 does not require a reconsideration of its prior “no jeopardy” conclusion with respect to the fishery. For the groundfish bottom trawl fishery, NMFS concluded that incidental take in the groundfish fisheries is within the overall limits articulated in the Incidental Take Statement of the 1999 Biological Opinion. The groundfish bottom trawl limit from that opinion was 9,000 fish annually. NMFS will continue to monitor and collect data to analyze take levels. NMFS also reaffirmed its prior determination that implementation of the Groundfish FMP is not likely to jeopardize the continued existence of any of the affected ESUs.

Lower Columbia River coho (70 FR 37160, June 28, 2005) and the Southern Distinct Population Segment (DPS) of green sturgeon (71 FR 17757, April 7, 2006) were recently listed as threatened under the ESA. As a consequence, NMFS has reinitiated its Section 7 consultation on the Council's Groundfish FMP. After reviewing the available information, NMFS concluded that, in keeping with Section 7(a)(2) of the ESA, allowing the fishery to continue under this action FMP would not result in any irreversible or irretrievable commitment of resources that would have the effect of foreclosing the formulation or implementation of any reasonable and prudent alternative measures.

Pursuant to Executive Order 13175, this action was developed after meaningful consultation and collaboration with tribal officials from the area covered by the FMP. Under the Magnuson-Stevens Act at 16 U.S.C. 1852(b)(5), one of the voting members of the Council must be a representative of an Indian tribe with federally recognized fishing rights from the area of the Council's jurisdiction. In addition, regulations implementing the FMP establish a procedure by which the tribes with treaty fishing rights in the area covered by the FMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus.” The tribal management measures in this final rule have been developed following these procedures. The tribal representative on the Council made a motion to adopt the tribal management measures, which was passed by the Council. Those management measures, which were developed and proposed by the tribes, are included in this final rule.

List of Subjects in 50 CFR Part 660

Fisheries, Fishing, Indian fisheries.

Dated: December 14, 2006.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq.

2. In § 660.302, the definitions for “At-sea processing,” “Office for Law Enforcement,” and “Shoreside processing” are removed, the definitions for “Allocation,” “Catch, take, harvest,” “Commercial harvest guideline or commercial quota,” “Fishing,” “Fishing gear” paragraph (11)(ii) for “Midwater (pelagic or off-bottom) trawl,” “Fishing vessel,” “Groundfish” paragraph (8) for “Flatfish” and paragraph (9) for “other fish,” “Groundfish Conservation Area or GCA,” “Limited entry fishery,” “Limited entry permit,” “North-South management area” introductory text, “Observer Program Office,” “Operator,” “Processing or to process,” “Regional Administrator,” “Round weight,” “Scientific research activity,” “Secretary,” “Sell or sale,” “Trip,” and “Vessel of the United States or U.S. vessel” are revised, and the definitions for “BMSY,” “Maximum Sustainable Yield or MSY,” and “Office of Law Enforcement,” are added in alphabetical order to read as follows:

§ 660.302 Definitions.

* * * * *

Allocation. (See § 600.10).

* * * * *

BMSY means the biomass level that produces maximum sustainable yield (MSY), as stated in the PCGFMP at Section 4.2.

* * * * *

Catch, take, harvest. (See § 600.10).

* * * * *

Commercial harvest guideline or commercial quota means the harvest guideline or quota after subtracting any allocation for the Pacific Coast treaty Indian tribes, projected research catch, recreational fisheries set-asides or harvest guidelines, deductions for fishing mortality in non-groundfish fisheries, as necessary, and set-asides for compensation fishing under § 660.350. Limited entry and open access allocations are derived from the commercial harvest guideline or quota.

* * * * *

Fishing. (See § 600.10).

* * * * *

Fishing gear* * *

(11) * * *

(ii) Midwater (pelagic or off-bottom) trawl. A trawl in which the otter boards and footrope of the net remain above the seabed. It includes pair trawls if fished in midwater. A midwater trawl has no rollers or bobbins on any part of the net or its component wires, ropes, and chains. For additional midwater trawl gear requirements and restrictions, see § 660.381(b).

* * * * *

Fishing vessel. (See § 600.10).

* * * * *

Groundfish * * *

(8) Flatfish: arrowtooth flounder (arrowtooth turbot), Atheresthes stomias; butter sole, Isopsetta isolepis; curlfin sole, Pleuronichthys decurrens; Dover sole, Microstomus pacificus; English sole, Parophrys vetulus; flathead sole, Hippoglossoides elassodon; Pacific sanddab, Citharichthys sordidus; petrale sole, Eopsetta jordani; rex sole, Glyptocephalus zachirus; rock sole, Lepidopsetta bilineata; sand sole, Psettichthys melanostictus; starry flounder, Platichthys stellatus. Where regulations of this subpart refer to landings limits for “other flatfish,” those limits apply to all flatfish cumulatively taken except for those flatfish species specifically listed in Tables 1-2 of this subpart. (i.e., “other flatfish” includes butter sole, curlfin sole, flathead sole, Pacific sanddab, rex sole, rock sole, and sand sole.)

(9) “Other fish”: Where regulations of this subpart refer to landings limits for “other fish,” those limits apply to all groundfish listed here in paragraphs (1)-(8) of this definition except for the following: those groundfish species specifically listed in Tables 1-2 of this subpart with an ABC for that area (generally north and/or south of 40°10′ N. lat.); and Pacific cod and spiny dogfish coastwide. (i.e., “other fish” may include all sharks (except spiny dogfish), skates, ratfish, morids, grenadiers, and kelp greenling listed in this section, as well as cabezon in the north.)

* * * * *

Groundfish Conservation Area or GCA means a geographic area defined by coordinates expressed in degrees latitude and longitude, wherein fishing by a particular gear type or types may be prohibited. GCAs are created and enforced for the purpose of contributing to the rebuilding of overfished West Coast groundfish species. Regulations at § 660.390 define coordinates for these polygonal GCAs: Yelloweye Rockfish Conservation Areas, Cowcod Conservation Areas, waters encircling the Farallon Islands, and waters encircling the Cordell Banks. GCAs also include Rockfish Conservation Areas or RCAs, which are areas closed to fishing by particular gear types, bounded by lines approximating particular depth contours. RCA boundaries may and do change seasonally according to the different conservation needs of the different overfished species. Regulations at §§ 660.390 through 660.394 define RCA boundary lines with latitude/longitude coordinates; regulations at Tables 3-5 of Part 660 set RCA seasonal boundaries. Fishing prohibitions associated with GCAs are in addition to those associated with Essential Fish Habitat Conservation Areas, regulations which are provided at § 660.306 and §§ 660.396 through 660.399.

* * * * *

Limited entry fishery means the fishery composed of vessels registered for use with limited entry permits.

* * * * *

Limited entry permit means the Federal permit required to participate in the limited entry fishery, and includes any gear, size, or species endorsements affixed to the permit.

* * * * *

Maximum Sustainable Yield or MSY. (See § 600.310).

* * * * *

North-South management area means the management areas defined in paragraph (1) of this definition, or defined and bounded by one or more or the commonly used geographic coordinates set out in paragraph (2) of this definition for the purposes of implementing different management measures in separate geographic areas of the U.S. West Coast.

* * * * *

Observer Program or Observer Program Office means the West Coast Groundfish Observer Program (WCGOP) Office of the Northwest Fishery Science Center, National Marine Fisheries Service, Seattle, Washington.

Office of Law Enforcement (OLE) refers to the National Marine Fisheries Service, Office of Law Enforcement, Northwest Division.

* * * * *

Operator. (See § 600.10).

* * * * *

Processing or to process means the preparation or packaging of groundfish to render it suitable for human consumption, retail sale, industrial uses or long-term storage, including, but not limited to, cooking, canning, smoking, salting, drying, filleting, freezing, or rendering into meal or oil, but does not mean heading and gutting unless additional preparation is done.

(1) At-sea processing means processing that takes place on a vessel or other platform that floats and is capable of being moved from one location to another, whether shore-based or on the water.

(2) Shore-based processing or processing in the shore-based sector means processing that takes place at a facility that is permanently fixed to land.

* * * * *

Regional Administrator means the Administrator, Northwest Region, NMFS.

* * * * *

Round weight. (See § 600.10). Round weight does not include ice, water, or slime.

Scientific research activity. (See § 600.10).

Secretary. (See § 600.10).

Sell or sale. (See § 600.10).

* * * * *

Trip. (See § 600.10).

* * * * *

Vessel of the United States or U.S. vessel. (See § 600.10).

* * * * *

3. In § 660.306, paragraphs (a)(2), (a)(9), (c)(1) introductory text, (c)(2), (f)(1)(i), (f)(2), (f)(3), (g)(1), (h)(1), and (h)(2) are revised to read as follows:

§ 660.306 Prohibitions.

* * * * *

(a) * * *

(2) Retain any prohibited species (defined in § 660.302 and restricted in § 660.370(e)) caught by means of fishing gear authorized under this subpart, unless authorized by part 600 or part 300 of this chapter. Prohibited species must be returned to the sea as soon as practicable with a minimum of injury when caught and brought on board.

* * * * *

(9) When requested or required by an authorized officer, refuse to present fishing gear for inspection, refuse to present fish subject to such persons control for inspections; or interfere with a fishing gear or marine animal or plant life inspection.

* * * * *

(c) * * *

(1) Fish with groundfish trawl gear, or carry groundfish trawl gear on board a vessel that also has groundfish on board, unless the vessel is registered for use with a valid limited entry permit with a trawl gear endorsement, with the following exception.

* * * * *

(2) Carry on board a vessel, or deploy, limited entry gear when the limited entry fishery for that gear is closed, except that a vessel may carry on board limited entry groundfish trawl gear as provided in paragraph (c)(1) of this section.

* * * * *

(f) * * *

(1) * * *

(i) The fish are received from a member of a Pacific Coast treaty Indian tribe fishing under §§ 660.324 or 660.385;

* * * * *

(2) During times or in areas where at-sea processing is prohibited, take and retain or receive whiting, except as cargo or fish waste, on a vessel in the fishery management area that already has processed whiting on board. An exception to this prohibition is provided if the fish are received within the tribal U&A from a member of a Pacific Coast treaty Indian tribe fishing under §§ 660.324 or 660.385.

(3) Participate in the mothership or shore-based sector as a catcher vessel that does not process fish, if that vessel operates in the same calendar year as a catcher/processor in the whiting fishery, according to § 660.373(h)(2).

* * * * *

(g) * * *

(1) If a limited entry permit is registered for use with a vessel, fail to carry that permit onboard the vessel registered for use with the permit. A photocopy of the permit may not substitute for the original permit itself.

* * * * *

(h) * * *

(1) Fish in a conservation area with: any trawl gear, including non-trawl gear used to take pink shrimp, ridgeback prawns, and south of Pt. Arena, CA, California halibut and sea cucumber; with trawl gear from a tribal vessel; or with any gear from a vessel registered to a groundfish limited entry permit. An exception to this prohibition is provided if the vessel owner or operator has a valid declaration confirmation code or receipt for fishing in a conservation area, as specified at § 660.303(d)(5).

(2) Operate any vessel registered to a limited entry permit with a trawl endorsement and trawl gear on board in any Trawl Rockfish Conservation Area, Cowcod Conservation Area, or Essential Fish Habitat Conservation Area. Exceptions to this prohibition are provided if: the vessel is in continuous transit, with all groundfish trawl gear stowed in accordance with § 660.381(d)(4), or if the vessel operation is otherwise authorized in the groundfish management measures published at § 660.381(d)(4).

* * * * *

4. In § 660.314, paragraphs (f)(2)(i)(A)(1)(i) through (iii) and (f)(2)(i)(A)(3) and (4) are revised to read as follows:

§ 660.314 Groundfish observer program.

* * * * *

(f) * * *

(2) * * *

(i) * * *

(A) * * *

(1) * * *

(i) Any ownership, mortgage holder, or other secured interest in a vessel, shore-based or floating stationary processor facility involved in the catching, taking, harvesting or processing of fish,

(ii) Any business involved with selling supplies or services to any vessel, shore-based or floating stationary processing facility; or

(iii) Any business involved with purchasing raw or processed products from any vessel, shore-based or floating stationary processing facilities.

* * * * *

(3) May not serve as observers on any vessel or at any shore-based or floating stationary processing facility owned or operated by a person who previously employed the observers.

(4) May not solicit or accept employment as a crew member or an employee of a vessel, shore-based processor, or stationary floating processor while employed by an observer provider.

* * * * *

5. In § 660.320, paragraphs (a)(2) and (f) are revised to read as follows:

§ 660.320 Allocations.

* * * * *

(a) * * *

(2) Open access allocation. The allocation for the open access fishery is derived by applying the open access allocation percentage to the annual harvest guideline or quota after subtracting any recreational fishery estimates or tribal allocations. For management areas where quotas or harvest guidelines for a stock are not fully utilized, no separate allocation will be established for the open access fishery until it is projected that the allowable catch for a species will be reached.

* * * * *

(f) Recreational fisheries. Recreational fishing for groundfish is outside the scope of, and not affected by, the regulations governing limited entry and open access fisheries. Certain amounts of groundfish may be specifically allocated to the recreational fishery, and will be estimated prior to dividing the commercial allocation between the commercial limited entry and open access fisheries.

6. In § 660.322, paragraph (e) is revised to read as follows:

§ 660.322 Sablefish allocations.

* * * * *

(e) Ratios between tiers for sablefish-endorsed limited entry permits. The Regional Administrator will biennially or annually calculate the size of the cumulative trip limit for each of the three tiers associated with the sablefish endorsement such that the ratio of limits between the tiers is approximately 1:1.75:3.85 for Tier 3:Tier 2:Tier 1, respectively. The size of the cumulative trip limits will vary depending on the amount of sablefish available for the primary fishery and on estimated discard mortality rates within the fishery. The size of the cumulative trip limits for the three tiers in the primary fishery will be announced in § 660.372.

7. In § 660.323, paragraphs (a)(2), (b) introductory text, (b)(3), (b)(4), (d), and (e) are revised to read as follows:

§ 660.323 Pacific whiting allocations, allocation attainment, and inseason allocation reapportionment.

* * * * *

(a) * * *

(2) The non-tribal commercial harvest guideline for whiting is allocated among three sectors, as follows: 34 percent for the catcher/processor sector; 24 percent for the mothership sector; and 42 percent for the shore-based sector. No more than 5 percent of the shore-based allocation may be taken and retained south of 42° N. lat. before the start of the primary whiting season north of 42° N. lat. Specific sector allocations for a given calendar year are found in tables 1a and 2a of this subpart.

(b) Reaching an allocation. If the whiting harvest guideline, commercial harvest guideline, or a sector′s allocation is reached, or is projected to be reached, the following action(s) for the applicable sector(s) may be taken as provided under paragraph (e) of this section and will remain in effect until additional amounts are made available the next calendar year or under paragraph (c) of this section.

* * * * *

(3) Shore-based sector coastwide. Whiting may not be taken and retained, possessed, or landed by a catcher vessel participating in the shore-based sector except as authorized under a trip limit specified under § 660.370(c).

(4) Shore-based south of 42° N. lat. If 5 percent of the shore-based allocation for whiting is taken and retained south of 42° N. lat. before the primary season for the shore-based sector begins north of 42° N. lat., then a trip limit specified under § 660.370(c) may be implemented south of 42° N. lat. until the northern primary season begins, at which time the southern primary season would resume.

* * * * *

(d) Estimates. Estimates of the amount of whiting harvested will be based on actual amounts harvested, projections of amounts that will be harvested, or a combination of the two. Estimates of the amount of Pacific whiting that will be used by shore-based processors by the end of the calendar year will be based on the best information available to the Regional Administrator from state catch and landings data, the testimony received at Council meetings, and/or other relevant information.

(e) Announcements. The Regional Administrator will announce in the Federal Register when a harvest guideline, commercial harvest guideline, or an allocation of whiting is reached, or is projected to be reached, specifying the appropriate action being taken under paragraph (b) of this section. The Regional Administrator will announce in the Federal Register any reapportionment of surplus whiting to others sectors on September 15, or as soon as practicable thereafter. In order to prevent exceeding the limits or to avoid underutilizing the resource, prohibitions against further taking and retaining, receiving, or at-sea processing of whiting, or reapportionment of surplus whiting may be made effective immediately by actual notice to fishers and processors, by e-mail, internet (www.nwr.noaa.gov/Groundfish-Halibut/Groundfish-Fishery-Management/Whiting-Management/index.cfm), phone, fax, letter, press release, and/or USCG Notice to Mariners (monitor channel 16 VHF), followed by publication in the Federal Register, in which instance public comment will be sought for a reasonable period of time thereafter.

8. In § 660.324, paragraphs (c)(1) through (4), (g), (h), and (j) are revised to read as follows:

§ 660.324 Pacific Coast treaty Indian fisheries.

* * * * *

(c) * * *

(1) Makah That portion of the FMA north of 48°02.25′ N. lat. (Norwegian Memorial) and east of 125°44′ W. long.

(2) Quileute That portion of the FMA between 48°07.60′ N. lat. (Sand Point) and 47°31.70′ N. lat. (Queets River) and east of 125°44′ W. long.

(3) Hoh That portion of the FMA between 47°54.30′ N. lat. (Quillayute River) and 47°21′ N. lat. (Quinault River) and east of 125°44′ W. long.

(4) Quinault That portion of the FMA between 47°40.10′ N. lat. (Destruction Island) and 46°53.30′ N. lat. (Point Chehalis) and east of 125°44′ W. long.

* * * * *

(g) Fishing under this section and § 660.385 by a member of a Pacific Coast treaty Indian tribe within their usual and accustomed fishing area is not subject to the provisions of other sections of this subpart.

(h) Any member of a Pacific Coast treaty Indian tribe must comply with this section and § 660.385, and with any applicable tribal law and regulation, when participating in a tribal groundfish fishery described in paragraph (d) of this section.

* * * * *

(j) Black rockfish. Harvest guidelines for commercial harvests of black rockfish by members of the Pacific Coast Indian tribes using hook and line gear will be established biennially for two subsequent one-year periods for the areas between the U.S.-Canadian border and Cape Alava (48°09.50′ N. lat.) and between Destruction Island (47°40′ N. lat.) and Leadbetter Point (46°38.17′ N. lat.), in accordance with the procedures for implementing harvest specifications and management measures. Pacific Coast treaty Indians fishing for black rockfish in these areas under these harvest guidelines are subject to the provisions in this section §§ 660.321 and 660.385, and not to the restrictions in other sections of this part.

* * * * *

9. Section § 660.365 is revised to read as follows:

§ 660.365 Overfished species rebuilding plans.

For each overfished groundfish stock with an approved rebuilding plan, this section contains the standards to be used to establish annual or biennial OYs, specifically the target date for rebuilding the stock to its MSY level and the harvest control rule to be used to rebuild the stock. The harvest control rule is expressed as a “Spawning Potential Ratio” or “SPR” harvest rate.

(a) Bocaccio. The target year for rebuilding the southern bocaccio stock to BMSY is 2026. The harvest control rule to be used to rebuild the southern bocaccio stock is an annual SPR harvest rate of 77.7 percent.

(b) Canary rockfish. The target year for rebuilding the canary rockfish stock to BMSY is 2063. The harvest control rule to be used to rebuild the canary rockfish stock is an annual SPR harvest rate of 88.7 percent.

(c) Cowcod. The target year for rebuilding the cowcod stock south of Point Conception to BMSY is 2039. The harvest control rule to be used to rebuild the cowcod stock is an annual SPR harvest rate of 90.0 percent.

(d) Darkblotched rockfish. The target year for rebuilding the darkblotched rockfish stock to BMSY is 2011. The harvest control rule to be used to rebuild the darkblotched rockfish stock is an annual SPR harvest rate of 64.1 percent in 2007 and 60.7 percent beginning in 2008.

(e) Pacific ocean perch (POP). The target year for rebuilding the POP stock to BMSY is 2017. The harvest control rule to be used to rebuild the POP stock is an annual SPR harvest rate of 86.4 percent.

(f) Widow rockfish. The target year for rebuilding the widow rockfish stock to BMSY is 2015. The harvest control rule to be used to rebuild the widow rockfish stock is an annual SPR harvest rate of 95.0 percent.

(g) Yelloweye rockfish. The target year for rebuilding the yelloweye rockfish stock to BMSY is 2084. The harvest control rule to be used to rebuild the yelloweye rockfish stock is an annual SPR harvest rate is 55.4 in 2007 and 60.8 in 2008. Yelloweye rockfish is subject to a ramp-down strategy where the harvest level will be reduced from current levels until 2011. Beginning in 2011, yelloweye rockfish will be subject to a constant harvest rate strategy with a constant SPR harvest rate of 71.9 percent.

10. In § 660.370, paragraphs (c)(1)(iii), and (h)(5)(iv)(C) are added, and paragraphs (d), (h)(5)(i) introductory text, (h)(5)(iv)(A) and (B), (h)(6) introductory text, (h)(8)(iv)(A) and (B), (h)(8)(v) and (vi) are revised to read as follows:

§ 660.370 Specifications and management measures.

* * * * *

(c) * * *

(1) * * *

(iii) Type of limited entry trawl gear on board. Limits on the type of limited entry trawl gear on board a vessel may be imposed on a biennial or more frequent basis. Requirements and restrictions on limited entry trawl gear type are found at § 660.381.

* * * * *

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the APA to waive notice and comment. Automatic actions are used in the Pacific whiting fishery to close the fishery or reinstate trip limits when a whiting harvest guideline, commercial harvest guideline, or a sector′s allocation is reached, or is projected to be reached; or to reapportion unused allocation to other sectors of the fishery. An automatic action is also used in the Pacific whiting fishery to implement the Ocean Salmon Conservation Zone, described at 660.373(c)(3), when NMFS projects the Pacific whiting fishery may take in excess of 11,000 Chinook within a calendar year.

* * * * *

(h) * * *

(5) * * *

(i) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed. Washington state regulations require all fish with a size limit landed into Washington to be landed with the head on.

* * * * *

(iv) * * *

(A) North of 42° N. lat., for lingcod with the head removed, the minimum size limit is 18 inches (46 cm), which corresponds to 22 inches (56 cm) total length for whole fish.

(B) South of 42° N. lat., for lingcod with the head removed, the minimum size limit is 19.5 inches (49.5 cm), which corresponds to 24 inches (61 cm) total length for whole fish.

(C) The weight conversion factor for headed and gutted lingcod is 1.5. The conversion factor for lingcod that has only been gutted with the head on is 1.1.

(6) Sorting. Under § 660.306(a)(7), it is unlawful for any person to “fail to sort, prior to the first weighing after offloading, those groundfish species or species groups for which there is a trip limit, size limit, quota, harvest guideline, or OY, if the vessel fished or landed in an area during a time when such trip limit, size limit, OY, or quota applied.” The States of Washington, Oregon, and California may also require that vessels record their landings as sorted on their state fish tickets. This provision applies to both the limited entry and open access fisheries. The following species must be sorted:

* * * * *

(8) * * *

(iv) * * *

(A) If a vessel takes and retains minor slope rockfish north of 40°10′ N. lat., that vessel is also permitted to take and retain, possess or land splitnose rockfish up to its cumulative limit south of 40°10′ N. lat., even if splitnose rockfish were a part of the landings from minor slope rockfish taken and retained north of 40°10′ N. lat.

(B) If a vessel takes and retains minor slope rockfish south of 40°10′ N. lat., that vessel is also permitted to take and retain, possess or land POP up to its cumulative limit north of 40°10′ N. lat., even if POP were a part of the landings from minor slope rockfish taken and retained south of 40°10′ N. lat.

* * * * *

(v) “DTS complex.” There are often differential trawl trip limits for the “DTS complex” north and south of latitudinal management lines. Vessels operating in the limited entry trawl fishery are subject to the crossover provisions in this paragraph when making landings that include any one of the four species in the “DTS complex.”

(vi) Flatfish complex. There are often differential trip limits for the flatfish complex (butter, curlfin, English, flathead, petrale, rex, rock, and sand soles, Pacific sanddab, and starry flounder) north and south of latitudinal management lines. Vessels operating in the limited entry trawl fishery are subject to the crossover provisions in this paragraph when making landings that include any one of the species in the flatfish complex.

11. In § 660.372, paragraphs (b)(1) and (b)(3)(i) are revised to read as follows:

§ 660.372 Fixed gear sablefish fishery management.

* * * * *

(b) * * *

(1) Season dates. North of 36° N. lat., the primary sablefish season for the limited entry, fixed gear, sablefish-endorsed vessels begins at 12 noon l.t. on April 1 and ends at 12 noon l.t. on October 31, unless otherwise announced by the Regional Administrator through the routine management measures process described at § 660.370(c).

* * * * *

(3) * * *

(i) A vessel participating in the primary season will be constrained by the sablefish cumulative limit associated with each of the permits registered for use with that vessel. During the primary season, each vessel authorized to participate in that season under paragraph (a) of this section may take, retain, possess, and land sablefish, up to the cumulative limits for each of the permits registered for use with that vessel. If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under paragraph (c) of this section. The following annual limits are in effect: Tier 1 at 48,500 lb (21,999 kg), Tier 2 at 22,000 lb (9,979 kg), and Tier 3 at 12,500 lb (5,670 kg).

* * * * *

12. In § 660.373, paragraphs (a), (b)(1)(iii) introductory text, (b)(2), (b)(3) introductory text, (b)(4), (c)(1) and (c)(2), and (d) are revised and paragraph (c)(3) is added to read as follows:

§ 660.373 Pacific whiting (whiting) fishery management.

(a) Sectors. The catcher/processor sector is composed of catcher/processors, which are vessels that harvest and process whiting during a calendar year. The mothership sector is composed of motherships and catcher vessels that harvest whiting for delivery to motherships. Motherships are vessels that process, but do not harvest, whiting during a calendar year. The shore-based sector is composed of vessels that harvest whiting for delivery to shore-based processors.

(b) * * *

(1) * * *

(iii) Primary whiting seasons. After the start of a primary season for a sector of the whiting fishery, the season remains open for that sector until the quota is taken and the fishery season for that sector is closed by NMFS. The primary seasons for the whiting fishery are as follows:

* * * * *

(2) South of 40°30′ N. lat. The primary season starts on April 15 south of 40°30′ N. lat.

(3) Trip limits in the whiting fishery. The “per trip” limit for whiting before and after the regular (primary) season for the shore-based sector is announced in Table 3 of this subpart, and is a routine management measure under § 660.370(c). This trip limit includes any whiting caught shoreward of 100-fm (183-m) in the Eureka, CA area. The “per trip” limit for other groundfish species before, during, and after the regular (primary) season are announced in Table 3 (North) and Table 3 (South) of this subpart and apply as follows:

* * * * *

(4) Bycatch limits in the whiting fishery. The bycatch limits for the whiting fishery may be used inseason to close a sector or sectors of the whiting fishery to achieve the rebuilding of an overfished or depleted stock, under routine management measure authority at § 660.370 (c)(1)(ii). These limits are routine management measures under § 660.370 (c) and, as such, may be adjusted inseason or may have new species added to the list of those with bycatch limits. The whiting fishery bycatch limits for the sectors identified § 660.323(a) are 4.7 mt of canary rockfish, 200 mt of widow rockfish, and 25 mt of darkblotched rockfish.

(c) * * *

(1) Klamath River Salmon Conservation Zone. The ocean area surrounding the Klamath River mouth bounded on the north by 41°38.80′ N. lat. (approximately 6 nm north of the Klamath River mouth), on the west by 124°23′ W. long. (approximately 12 nm from shore), and on the south by 41°26.80′ N. lat. (approximately 6 nm south of the Klamath River mouth).

(2) Columbia River Salmon Conservation Zone. The ocean area surrounding the Columbia River mouth bounded by a line extending for 6 nm due west from North Head along 46°18′ N. lat. to 124°13.30′ W. long., then southerly along a line of 167 True to 46°11.10′ N. lat. and 124°11′ W. long. (Columbia River Buoy), then northeast along Red Buoy Line to the tip of the south jetty.

(3) Ocean Salmon Conservation Zone. All waters shoreward of a boundary line approximating the 100-fm (183-m) depth contour. Latitude and longitude coordinates defining the boundary line approximating the 100 fm (183 m) depth contour are provided at § 660.393(a).

(d) Whiting trip limits. No more than 10,000 lb (4,536 kg) of whiting may be taken and retained, possessed, or landed by a vessel that, at any time during a fishing trip, fished in the fishery management area shoreward of the 100-fm (183-m) contour (as shown on NOAA Charts 18580, 18600, and 18620) in the Eureka management area (defined at § 660.302).

* * * * *

13. In § 660.381, paragraphs (a), (b)(3), (d)(3), and (d)(4)(i) and (ii) are revised ; and paragraph (d)(5) is added to read as follows:

§ 660.381 Limited entry trawl fishery management measures.

(a) General. Limited entry trawl vessels include those vessels registered to a limited entry permit with a trawl endorsement. Most species taken in limited entry trawl fisheries will be managed with cumulative trip limits (see trip limits in Tables 3 (North) and 3 (South) of this subpart), size limits (see § 660.370 (h)(5)), seasons (see Pacific whiting at § 660.373), gear restrictions (see paragraph (b) of this section) and closed areas (see paragraph (d) of this section and §§ 660.390 through 660.399). The trawl fishery has gear requirements and trip limits that differ by the type of trawl gear on board and the area fished. Cowcod retention is prohibited in all fisheries and groundfish vessels operating south of Point Conception must adhere to CCA restrictions (see paragraph (d)(1) of this section and § 660.390). The trip limits in Table 3 (North) and Table 3 (South) of this subpart apply to vessels participating in the limited entry groundfish trawl fishery and may not be exceeded. Federal commercial groundfish regulations are not intended to supersede any more restrictive state commercial groundfish regulations relating to federally-managed groundfish.

(b) * * *

(3) Chafing gear. Chafing gear may encircle no more than 50 percent of the net′s circumference. No section of chafing gear may be longer than 50 meshes of the net to which it is attached. Chafing gear may be used only on the last 50 meshes, measured from the terminal (closed) end of the codend. Except at the corners, the terminal end of each section of chafing gear on all trawl gear must not be connected to the net. (The terminal end is the end farthest from the mouth of the net.) Chafing gear must be attached outside any riblines and restraining straps. There is no limit on the number of sections of chafing gear on a net.

* * * * *

(d) * * *

(3) Cordell Banks. Commercial fishing for groundfish is prohibited in waters of depths less than 100-fm (183-m) around Cordell Banks as defined by specific latitude and longitude coordinates at § 660.390.

(4) * * *

(i) Coastwide, it is unlawful to take and retain, possess, or land any species of fish taken with trawl gear within the trawl RCA, except as permitted for vessels participating in the primary whiting season and for vessels fishing with demersal seine gear between 38° N. lat. and 36° N. lat. shoreward of a boundary line approximating the 100-fm (183-m) depth contour as defined at § 660.393. Throughout the year, boundaries for the trawl RCA are provided in Table 3 (North) and Table 3 (South) of this subpart, and may be modified by NMFS inseason pursuant to § 660.370(c). Trawl RCA boundaries are defined by specific latitude and longitude coordinates which are provided at §§ 660.390 through 660.394.

(ii) Trawl vessels may transit through the trawl RCA, with or without groundfish on board, provided all groundfish trawl gear is stowed either: Below deck; or if the gear cannot readily be moved, in a secured and covered manner, detached from all towing lines, so that it is rendered unusable for fishing; or remaining on deck uncovered if the trawl doors are hung from their stanchions and the net is disconnected from the doors. These restrictions do not apply to vessels fishing with mid-water trawl gear for Pacific whiting or taking and retaining yellowtail rockfish or widow rockfish in association with Pacific whiting caught with mid-water trawl gear.

* * * * *

(5) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

14. In § 660.382, paragraphs (a) and (c) are revised to read as follows:

§ 660.382 Limited entry fixed gear fishery management measures.

(a) General. Most species taken in limited entry fixed gear (longline and pot/trap) fisheries will be managed with cumulative trip limits (see trip limits in Tables 4 (North) and 4 (South) of this subpart), size limits (see § 660.370(h)(5)), seasons (see trip limits in Tables 4 (North) and 4 (South) of this subpart and primary sablefish season details in § 660.372(b)), gear restrictions (see paragraph (b) of this section), and closed areas (see paragraph (c) of this section and §§ 660.390 through 660.399). Cowcod retention is prohibited in all fisheries and groundfish vessels operating south of Point Conception must adhere to CCA restrictions (see paragraph (c)(4) of this section and § 660.390). Yelloweye rockfish and canary rockfish retention is prohibited in the limited entry fixed gear fisheries. Regulations governing and tier limits for the limited entry, fixed gear primary sablefish season north of 36° N. lat. are found in § 660.372. Vessels not participating in the primary sablefish season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 4 (North) and Table 4 (South) of this subpart apply to vessels participating in the limited entry groundfish fixed gear fishery and may not be exceeded. Federal commercial groundfish regulations are not intended to supersede any more restrictive state commercial groundfish regulations relating to federally-managed groundfish.

* * * * *

(c) Groundfish Conservation Areas. A Groundfish Conservation Area (GCA), a type of closed area, is a geographic area defined by coordinates expressed in degrees latitude and longitude. The following GCAs apply to vessels participating in the limited entry fixed gear fishery.

(1) North Coast Recreational Yelloweye Rockfish Conservation Area. The latitude and longitude coordinates of the North Coast Recreational Yelloweye Rockfish Conservation Area (YRCA) boundaries are specified at § 660.390. The North Coast Recreational YRCA is designated as an area to be avoided (a voluntary closure) by commercial fixed gear fishers.

(2) North Coast Commercial Yelloweye Rockfish Conservation Area. The latitude and longitude coordinates of the North Coast Commercial Yelloweye Rockfish Conservation Area (YRCA) boundaries are specified at § 660.390. Fishing with limited entry fixed gear is prohibited within the North Coast Commercial YRCA. It is unlawful to take and retain, possess, or land groundfish taken with limited entry fixed gear within the North Coast Commercial YRCA. Limited entry fixed gear vessels may transit through the North Coast Commercial YRCA with or without groundfish on board.

(3) South Coast Recreational Yelloweye Rockfish Conservation Area. The latitude and longitude coordinates of the South Coast Recreational Yelloweye Rockfish Conservation Area (YRCA) boundaries are specified at § 660.390. The South Coast Recreational YRCA is designated as an area to be avoided (a voluntary closure) by commercial fixed gear fishers.

(4) Cowcod Conservation Areas. The latitude and longitude coordinates of the Cowcod Conservation Areas (CCAs) boundaries are specified at § 660.390. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat. Fishing with limited entry fixed gear is prohibited within the CCAs, except as follows:

(i) Fishing for “other flatfish” is permitted within the CCAs using no more than 12 hooks, “Number 2” or smaller, which measure no more than 11 mm (0.44 inches) point to shank, and up to two 1-lb (0.45-kg) weights per line.

(ii) Fishing for rockfish and lingcod is permitted shoreward of the 20 fm (37 m) depth contour.

(5) Non-trawl Rockfish Conservation Areas. Fishing for groundfish with non-trawl gear (limited entry or open access longline and pot or trap, open access hook-and-line, gillnet, set net, trammel net and spear) is prohibited within the non-trawl rockfish conservation area (RCA). An exception to this prohibition is that commercial fishing for “other flatfish” is permitted within the non-trawl RCA off California (between 42° N. lat. south to the U.S./Mexico border) using no more than 12 hooks, “Number 2” or smaller, which measure no more than 11 mm (0.44 inches) point to shank, and up to two 1-lb (0.45-kg) weights per line. It is unlawful to take and retain, possess, or land groundfish taken with non-trawl gear within the non-trawl RCA, unless otherwise authorized in this section. Limited entry fixed gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. [For example, if a vessel participates in the salmon troll fishery within the RCA, the vessel cannot on the same trip participate in the sablefish fishery outside of the RCA.] Boundaries for the non-trawl RCA throughout the year are provided in the header to Table 4 (North) and Table 4 (South) of this subpart and may be modified by NMFS inseason pursuant to § 660.370(c). Non-trawl RCA boundaries are defined by specific latitude and longitude coordinates and are provided at §§ 660.390 through 660.394.

(6) Farallon Islands. Under California law, commercial fishing for all groundfish is prohibited between the shoreline and the 10 fm (18 m) depth contour around the Farallon Islands. An exception to this prohibition is that commercial fishing for “other flatfish” is permitted around the Farallon Islands using no more than 12 hooks, “Number 2” or smaller, which measure no more than 11 mm (0.44 inches) point to shank, and up to two 1-lb (0.45-kg) weights per line. (See Table 4 (South) of this subpart.) For a definition of the Farallon Islands, see § 660.390.

(7) Cordell Banks. Commercial fishing for groundfish is prohibited in waters of depths less than 100 fm (183 m) around Cordell Banks, as defined by specific latitude and longitude coordinates at § 660.390. An exception to this prohibition is that commercial fishing for “other flatfish” is permitted around Cordell Banks using no more than 12 hooks, “Number 2” or smaller, which measure no more than 11 mm (0.44 inches) point to shank, and up to two 1-lb (0.45-kg) weights per line.

(8) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

15. In § 660.383, paragraphs (a), (b) introductory text, (b)(2)(i)(A), (b)(2)(iii) introductory text, (c), (d)(1)(i), (d)(2)(i), and (d)(3)(i) are revised to read as follows:

§ 660.383 Open access fishery management measures.

(a) General. Groundfish species taken in open access fisheries will be managed with cumulative trip limits (see trip limits in Tables 5 (North) and 5 (South) of this subpart), size limits (see § 660.370(h)(5)), seasons (see seasons in Tables 5 (North) and 5 (South) of this subpart), gear restrictions (see paragraph (b) of this section), and closed areas (see paragraph (c) of this section and §§ 660.390 through 660.399). Unless otherwise specified, a vessel operating in the open access fishery is subject to, and must not exceed any trip limit, frequency limit, and/or size limit for the open access fishery. Cowcod retention is prohibited in all fisheries and groundfish vessels operating south of Point Conception must adhere to CCA restrictions (see paragraph (c)(5) of this section and § 660.390). Retention of yelloweye rockfish and canary rockfish is prohibited in all open access fisheries. For information on the open access daily/weekly trip limit fishery for sablefish, see § 660.372(c) and the trip limits in Tables 5 (North) and 5 (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 5 (North) and Table 5 (South) of this subpart apply to vessels participating in the open access fisheries and may not be exceeded. Federal commercial groundfish regulations are not intended to supersede any more restrictive state commercial groundfish regulations relating to federally managed groundfish.

(b) Gear restrictions. Open access gear is gear used to take and retain groundfish from a vessel that is not registered for use with a limited entry permit for the Pacific Coast groundfish fishery with an endorsement for the gear used to harvest the groundfish. This includes longline, trap, pot, hook-and-line (fixed or mobile), setnet (anchored gillnet or trammel net, which are permissible south of 38° N. lat. only), spear and non-groundfish trawl gear (trawls used to target non-groundfish species: pink shrimp or ridgeback prawns, and, south of Pt. Arena, CA (38°57.50′ N. lat.), California halibut or sea cucumbers). Restrictions for gears used in the open access fisheries are as follows:

* * * * *

(2) * * *

(i) * * *

(A) Marked at the surface, at each terminal end, with a pole, flag, light, radar reflector, and a buoy except as provided in paragraph (b)(2)(ii) of this section.

* * * * *

(iii) A buoy used to mark fixed gear under paragraph (b)(2)(i)(A) or (b)(2)(ii) of this section must be marked with a number clearly identifying the owner or operator of the vessel. The number may be either:

* * * * *

(c) Open Access Groundfish Conservation Areas. A Groundfish Conservation Area (GCA), a type of closed area, is a geographic area defined by coordinates expressed in degrees latitude and longitude. The following GCAs apply to participants in the open access fishery.

(1) North Coast Recreational Yelloweye Rockfish Conservation Area. The latitude and longitude coordinates of the North Coast Recreational Yelloweye Rockfish Conservation Area (YRCA) boundaries are specified at § 660.390. The North Coast Recreational YRCA is designated as an area to be avoided (a voluntary closure) by commercial fixed gear fishers.

(2) North Coast Commercial Yelloweye Rockfish Conservation Area. The latitude and longitude coordinates of the North Coast Commercial Yelloweye Rockfish Conservation Area (YRCA) boundaries are specified at § 660.390. Fishing with open access gear is prohibited within the North Coast Commercial YRCA. It is unlawful to take and retain, possess, or land groundfish taken with open access gear within the North Coast Commercial YRCA. Open access vessels may transit through the North Coast Commercial YRCA with or without groundfish on board.

(3) South Coast Recreational Yelloweye Rockfish Conservation Area. The latitude and longitude coordinates of the South Coast Recreational Yelloweye Rockfish Conservation Area (YRCA) boundaries are specified at § 660.390. The South Coast Recreational YRCA is designated as an area to be avoided (a voluntary closure) by commercial fixed gear fishers.

(4) Salmon Troll Yelloweye Rockfish Conservation Area. The latitude and longitude coordinates of the Salmon Troll Yelloweye Rockfish Conservation Area (YRCA) boundaries are specified in the groundfish regulations at § 660.390 and in the salmon regulations at § 660.405. Fishing with salmon troll gear is prohibited within the Salmon Troll YRCA. It is unlawful for commercial salmon troll vessels to take and retain, possess, or land fish taken with salmon troll gear within the Salmon Troll YRCA. Open access vessels may transit through the Salmon Troll YRCA with or without fish on board.

(5) Cowcod Conservation Areas. The latitude and longitude coordinates of the Cowcod Conservation Areas (CCAs) boundaries are specified at § 660.390. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat. Fishing with open access gear is prohibited in the CCAs, except as follows:

(i) Fishing for “other flatfish” is permitted within the CCAs using no more than 12 hooks, “Number 2” or smaller, which measure no more than 11 mm (0.44 inches) point to shank, and up to two 1 lb (0.45 kg) weights per line.

(ii) Fishing with open access non-trawl gear for rockfish and lingcod is permitted shoreward of the 20 fm (37 m) depth contour.

(6) Non-trawl Rockfish Conservation Area for the open access fisheries. Fishing for groundfish with non-trawl gear (limited entry or open access longline and pot or trap, open access hook-and-line, gillnet, set net, trammel net and spear) is prohibited within the non-trawl rockfish conservation area (RCA). An exception to this prohibition is that commercial fishing for “other flatfish” is permitted within the non-trawl RCA off California (between 42° N. lat. south to the U.S./Mexico border) using no more than 12 hooks, “Number 2” or smaller, which measure no more than 11 mm (0.44 inches) point to shank, and up to two 1 lb (0.45 kg) weights per line. It is unlawful to take and retain, possess, or land groundfish taken with non-trawl gear within the non-trawl RCA, unless otherwise authorized in this section. Open access non-trawl gear vessels may transit through the non-trawl RCA, with or without groundfish on board. These restrictions do not apply to vessels fishing for species other than groundfish or Pacific halibut with non-trawl gear, although non-trawl vessels on a fishing trip for species other than groundfish and Pacific halibut that occurs within the non-trawl RCA may not retain any groundfish taken on that trip (The Pacific halibut regulations at 50 CFR 300.63(e) describe the RCA that applies to the commercial halibut fishery). If a vessel fishes in the non-trawl RCA, it may not participate in any fishing on that trip that is prohibited by the restrictions that apply within the non-trawl RCA. Retention of groundfish caught by salmon troll gear is prohibited in the non-trawl RCA, except that salmon trollers may retain yellowtail rockfish caught both inside and outside the non-trawl RCA subject to the limits in Tables 5 (North) and 5 (South) of this subpart. Boundaries for the non-trawl RCA throughout the year are provided in the open access trip limit tables, Table 5 (North) and Table 5(South) of this subpart and may be modified by NMFS inseason pursuant to § 660.370(c). Non-trawl RCA boundaries are defined by specific latitude and longitude coordinates which are specified at §§ 660.390 through 660.394.

(7) Non-groundfish Trawl Rockfish Conservation Area for the open access non-groundfish trawl fisheries.

(i) Fishing with any non-groundfish trawl gear in the open access fisheries is prohibited within the non-groundfish trawl RCA coastwide, except as authorized in this paragraph. Nothing in these Federal regulations supercedes any state regulations that may prohibit trawling shoreward of the 3 nm state waters boundary line. Trawlers operating in the open access fisheries with legal groundfish trawl gear are considered to be operating in the non-groundfish trawl fishery and are, therefore, prohibited from fishing in the non-groundfish trawl RCA. Coastwide, it is unlawful to take and retain, possess, or land any species of fish taken with non-groundfish trawl gear within the non-groundfish trawl RCA, except as permitted in this paragraph for vessels participating in the pink shrimp and ridgeback prawn trawl fisheries. Boundaries for the non-groundfish trawl RCA throughout the year in the open access fishery are provided in Table 5 (North) and Table 5 (South) of this subpart and may be modified by NMFS inseason pursuant to § 660.370(c). Non-groundfish trawl RCA boundaries are defined by specific latitude and longitude coordinates which are specified below at §§ 660.390 through 660.394. The non-groundfish trawl RCA is closed coastwide to open access non-groundfish trawl fishing, except as follows:

(A) Pink shrimp trawling is permitted in the non-groundfish trawl RCA, and

(B) When the shoreward line of the non-groundfish trawl RCA is shallower than 100 fm (183 m), the ridgeback prawn trawl fishery south of 34°27.00′ N. lat. may operate out to the 100 fm (183 m) boundary line specified at § 660.393 (i.e., the shoreward boundary of the non-groundfish trawl RCA is at the 100 fm (183 m) boundary line all year for the ridgeback prawn trawl fishery in this area).

(ii) If a vessel fishes in the non-groundfish trawl RCA, it may not participate in any fishing on that trip that is prohibited by the restrictions that apply within the non-groundfish trawl RCA. [For example, if a vessel participates in the pink shrimp fishery within the RCA, the vessel cannot on the same trip participate in the DTS fishery seaward of the RCA.]

(8) Farallon Islands. Under California law, commercial fishing for all groundfish is prohibited between the shoreline and the 10 fm (18 m) depth contour around the Farallon Islands. An exception to this prohibition is that commercial fishing for “other flatfish” is permitted around the Farallon Islands using no more than 12 hooks, “Number 2” or smaller, which measure no more than 11 mm (0.44 inches) point to shank, and up to two 1 lb (0.45 kg) weights per line. (See Table 5 (South) of this subpart.) For a definition of the Farallon Islands, see § 660.390.

(9) Cordell Banks. Commercial fishing for groundfish is prohibited in waters of depths less than 100-fm (183-m) around Cordell Banks, as defined by specific latitude and longitude coordinates at § 660.390. An exception to this prohibition is that commercial fishing for “other flatfish” is permitted around Cordell Banks using no more than 12 hooks, “Number 2” or smaller, which measure no more than 11 mm (0.44 inches) point to shank, and up to two 1 lb (0.45 kg) weights per line.

(10) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

(d) * * *

(1) * * *

(i) It is not registered to a valid Federal limited entry groundfish permit issued under § 660.333 for trawl gear; and

* * * * *

(2) * * *

(i) It is not registered to a valid Federal limited entry groundfish permit issued under § 660.333 for trawl gear;

* * * * *

(3) * * *

(i) It is not registered to a valid Federal limited entry groundfish permit issued under § 660.333 for trawl gear;

* * * * *

16. In § 660.384, paragraphs (c)(1)(i), (c)(1)(iii), (c)(2)(i), (c)(2)(iii), (c)(3) introductory text, (c)(3)(i)(A)(1) through (4), (c)(3)(i)(B), (c)(3)(ii)(A)(1) through (4), (c)(3)(ii)(B), (c)(3)(iii)(A)(1) through (4), (c)(3)(iv), (c)(3)(v) introductory text, and (c)(3)(v)(A)(1) through (3) are revised; and paragraph (c)(3)(i)(E) is added to read as follows:

§ 660.384 Recreational fishery management measures.

* * * * *

(c) * * *

(1) * * *

(i) Recreational Groundfish Conservation Areas off Washington.

(A) North Coast Recreational Yelloweye Rockfish Conservation Area. Recreational fishing for groundfish and halibut is prohibited within the North Coast Recreational Yelloweye Rockfish Conservation Area (YRCA). It is unlawful for recreational fishing vessels to take and retain, possess, or land groundfish taken with recreational gear within the North Coast Recreational YRCA. A vessel fishing in the North Coast Recreational YRCA may not be in possession of any groundfish. Recreational vessels may transit through the North Coast Recreational YRCA with or without groundfish on board. The North Coast Recreational YRCA is defined by latitude and longitude coordinates specified at § 660.390.

(B) South Coast Recreational Yelloweye Rockfish Conservation Area. Recreational fishing for groundfish and halibut is prohibited within the South Coast Recreational YRCA. It is unlawful for recreational fishing vessels to take and retain, possess, or land groundfish taken with recreational gear within the South Coast Recreational YRCA. A vessel fishing in the South Coast Recreational YRCA may not be in possession of any groundfish. Recreational vessels may transit through the South Coast Recreational YRCA with or without groundfish on board. The South Coast Recreational YRCA is defined by latitude and longitude coordinates specified at § 660.390.

(C) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.]

(1) Between the U.S. border with Canada and the Queets River, recreational fishing for groundfish is prohibited seaward of a boundary line approximating the 20-fm (37-m) depth contour from May 1 through September 30, except on days when the Pacific halibut fishery is open in this area. Days open to Pacific halibut recreational fishing off Washington are announced on the NMFS hotline at (206)526 6667 or (800)662 9825. Coordinates for the boundary line approximating the 20-fm (37-m) depth contour are listed in § 660.391.

(2) Between the Queets River and Leadbetter Point, recreational fishing for groundfish is prohibited seaward of a boundary line approximating the 30-fm (55-m) depth contour in from March 17, 2007, through July 31, 2007, except that recreational fishing for sablefish and Pacific cod is permitted within the recreational RCA from May 1 through June 15. In 2008, recreational fishing for groundfish is prohibited seaward of a boundary line approximating the 30-fm (55-m) depth contour in from March 15, 2008, through July 31, 2008, except that recreational fishing for sablefish and Pacific cod is permitted within the recreational RCA from May 1 through June 15. Coordinates for the boundary line approximating the 30-fm (55-m) depth contour are listed in § 660.391.

* * * * *

(iii) Lingcod. In areas of the EEZ seaward of Washington that are open to recreational groundfish fishing and when the recreational season for lingcod is open, there is a bag limit of 2 lingcod per day, which may be no smaller than 22 in (56 cm) total length. The recreational fishing season for lingcod is open as follows:

(A) Between the U.S./Canada border to 48°10′ N. lat. (Cape Alava) (Washington Marine Area 4), recreational fishing for lingcod is open, for 2007, from April 15 through October 13, and for 2008, from April 15 through October 15.

(B) Between 48°10′ N. lat. (Cape Alava) and 46°16′ N. lat. (Washington/Oregon border) (Washington Marine Areas 1-3), recreational fishing for lingcod is open for 2007, from March 17 through October 13, and for 2008, from March 15 through October 18.

(2) * * *

(i) Recreational Groundfish Conservation Areas off Oregon.

(A) Stonewall Bank Yelloweye Rockfish Conservation Area. Recreational fishing for groundfish and halibut is prohibited within the Stonewall Bank YRCA. It is unlawful for recreational fishing vessels to take and retain, possess, or land groundfish taken with recreational gear within the Stonewall Bank YRCA. A vessel fishing in the Stonewall Bank YRCA may not be in possession of any groundfish. Recreational vessels may transit through the Stonewall Bank YRCA with or without groundfish on board. The Stonewall Bank YRCA is defined by latitude and longitude coordinates specified at § 660.390.

(B) Recreational Rockfish Conservation Area. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from April 1 through September 30, recreational fishing for groundfish is prohibited seaward of a recreational RCA boundary line approximating the 40 fm (73 m) depth contour. Coordinates for the boundary line approximating the 40 fm (73 m) depth contour are listed at § 660.391.

(C) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

* * * * *

(iii) Bag limits, size limits. The bag limits for each person engaged in recreational fishing in the EEZ seaward of Oregon are two lingcod per day, which may be no smaller than 22 in (56 cm) total length; and 8 marine fish per day, which excludes Pacific halibut, salmonids, tuna, perch species, sturgeon, sanddabs, flatfish, lingcod, striped bass, hybrid bass, offshore pelagic species and baitfish (herring, smelt, anchovies and sardines), but which includes rockfish, greenling, cabezon and other groundfish species. The bag limit for all flatfish is 25 fish per day, which excludes Pacific halibut, but which includes all soles, flounders and Pacific sanddabs. In the Pacific halibut fisheries, retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish. “All-depth” season days are established in the annual management measures for Pacific halibut fisheries, which are published in the Federal Register and are announced on the NMFS halibut hotline, 1 800 662 9825. The minimum size limit for cabezon retained in the recreational fishery is 16 in (41 cm), and for greenling is 10 in (26 cm). Taking and retaining canary rockfish and yelloweye rockfish is prohibited at all times and in all areas.

(3) California. Seaward of California, California law provides that, in times and areas when the recreational fishery is open, there is a 20 fish bag limit for all species of finfish, within which no more than 10 fish of any one species may be taken or possessed by any one person. [Note: There are some exceptions to this rule. The following groundfish species are not subject to a bag limit: petrale sole, Pacific sanddab and starry flounder.] For groundfish species not specifically mentioned in this paragraph, fishers are subject to the overall 20-fish bag limit for all species of finfish and the depth restrictions at paragraph (c)(3)(i) of this section. Recreational spearfishing for all federally-managed groundfish, except lingcod during January, February, March, and December, is exempt from closed areas and seasons, consistent with Title 14 of the California Code of Regulations. This exemption applies only to recreational vessels and divers provided no other fishing gear, except spearfishing gear, is on board the vessel. California state law may provide regulations similar to Federal regulations for the following state-managed species: ocean whitefish, California sheephead, and all greenlings of the genus Hexagrammos. Kelp greenling is the only federally-managed greenling. Retention of cowcod, yelloweye rockfish, and canary rockfish is prohibited in the recreational fishery seaward of California all year in all areas. For each person engaged in recreational fishing in the EEZ seaward of California, the following closed areas, seasons, bag limits, and size limits apply:

(i) * * *

(A) * * *

(1) Between 42° N. lat. (California/Oregon border) and 40°10.00′ N. lat. (North Region), recreational fishing for all groundfish (except “other flatfish” as specified in paragraph (c)(3)(iv) of this section) is prohibited seaward of a boundary line approximating the 30 fm (55 m) depth contour along the mainland coast and along islands and offshore seamounts from May 1 through December 31; and is closed entirely from January 1 through April 30 (i.e., prohibited seaward of the shoreline). Coordinates for the boundary line approximating the 30 fm (55 m) depth contour are specified in § 660.391.

(2) Between 40°10′ N. lat. and 37°11′ N. lat. (North Central Region), recreational fishing for all groundfish (except “other flatfish” as specified in paragraph (c)(3)(iv) of this section) is prohibited seaward of the 30 fm (55 m) depth contour along the mainland coast and along islands and offshore seamounts from June 1 through November 30; and is closed entirely from January 1 through May 31 and from December 1-31 (i.e., prohibited seaward of the shoreline). Closures around the Farallon Islands (see paragraph (c)(3)(i)(C) of this section) and Cordell Banks (see paragraph (c)(3)(i)(D) of this section) also apply in this area.

(3) Between 37°11′ N. lat. and 34°27′ N. lat. (South Central Regions - Monterey and Morro Bay), recreational fishing for all groundfish (except “other flatfish” as specified in paragraph (c)(3)(iv) of this section) is prohibited seaward of a boundary line approximating the 40 fm (73 m) depth contour along the mainland coast and along islands and offshore seamounts from May 1 through November 30; and is closed entirely from January 1 through April 30 and from December 1 - 31 (i.e., prohibited seaward of the shoreline). Coordinates for the boundary line approximating the 40 fm (73 m) depth contour are specified in § 660.391.

(4) South of 34°27′ N. latitude (South Region), recreational fishing for all groundfish (except California scorpionfish as specified below in this paragraph and in paragraph (v) and “other flatfish” as specified in paragraph (c)(3)(iv) of this section) is prohibited seaward of a boundary line approximating the 60 fm (110 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 40 fm (73 m) depth contour from January 1 through February 28, and seaward of the 60 fm (110 m) depth contour from March 1 through December 31, except in the CCAs where fishing is prohibited seaward of the 20 fm (37 m) depth contour when the fishing season is open. Coordinates for the boundary line approximating the 40 fm (73 m) and 60 fm (110 m) depth contours are specified in §§ 660.391 and 660.392.

(B) Cowcod Conservation Areas. The latitude and longitude coordinates of the Cowcod Conservation Areas (CCAs) boundaries are specified at § 660.390. In general, recreational fishing for all groundfish is prohibited within the CCAs, except that fishing for “other flatfish” is permitted within the CCAs as specified in paragraph (c)(3)(iv) of this section. However, recreational fishing for the following species is permitted shoreward of the 20 fm (37 m) depth contour when the season for those species is open south of 34°27′ N. lat.: Minor nearshore rockfish, cabezon, kelp greenling, lingcod, California scorpionfish, and “other flatfish” (subject to gear requirements at paragraph (c)(3)(iv) of this section during January-February). [NOTE: California state regulations also permit recreational fishing for California sheephead, ocean whitefish, and all greenlings of the genus Hexagrammos shoreward of the 20 fm (37 m) depth contour in the CCAs when the season for the RCG complex is open south of 34°27′ N. lat.] It is unlawful to take and retain, possess, or land groundfish within the CCAs, except for species authorized in this section.

* * * * *

(E) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

(ii) * * *

(A) * * *

(1) North of 40°10′ N. lat. (North Region), recreational fishing for the RCG Complex is open from May 1 through December 31.

(2) Between 40°10′ N. lat. and 37°11′ N. lat. (North Central Region), recreational fishing for the RCG Complex is open from June 1 through November 30 (i.e., it′s closed from January 1 through May 31 and from December 1-31).

(3) Between 37°11′ N. lat. and 34°27′ N. lat. (South Central Regions - Monterey and Morro Bay), recreational fishing for the RCG Complex is open from May 1 through November 30 (i.e., it′s closed from January 1 through April 30 and from December 1-31).

(4) South of 34°27′ N. lat. (South Region),recreational fishing for the RCG Complex is open from March 1 through December 31 (i.e., it′s closed from January 1 through February 29).

(B) Bag limits, hook limits. In times and areas when the recreational season for the RCG Complex is open, there is a limit of 2 hooks and 1 line when fishing for rockfish. The bag limit is 10 RCG Complex fish per day coastwide. Retention of canary rockfish, yelloweye rockfish and cowcod is prohibited. North of 40°10′ N. lat., within the 10 RCG Complex fish per day limit, no more than 2 may be bocaccio, no more than 2 may be greenling (kelp and/or other greenlings) and no more than 1 may be cabezon. South of 40°10′ N. lat., within the 10 RCG Complex fish per day limit, no more than 1 may be bocaccio, no more than 2 may be greenling (kelp and/or other greenlings) and no more than 1 may be cabezon. Multi-day limits are authorized by a valid permit issued by California and must not exceed the daily limit multiplied by the number of days in the fishing trip.

* * * * *

(iii) * * *

(A) * * *

(1) North of 40°10′ N. lat. (North Region), recreational fishing for lingcod is open from May 1 through November 30 (i.e., it′s closed from January 1 through April 30 and from December 1-31).

(2) Between 40°10′ N. lat. and 37°11′ N. lat. (North Central Region), recreational fishing for lingcod is open from June 1 through November 30 (i.e., it′s closed from January 1 through May 31 and from December 1-31).

(3) Between 37°11′ N. lat. and 34°27′ N. lat. (South Central Regions - Monterey and Morro Bay), recreational fishing for lingcod is open from May 1 through November 30 (i.e., it′s closed from January 1 through April 30 and from December 1 - 31).

(4) South of 34°27′ N. lat. (South Region), recreational fishing for lingcod is open from April 1 through November 30 (i.e., it's closed from January 1 through March 31 and from December 1 - 31).

* * * * *

(iv) “Other flatfish”. Coastwide off California, recreational fishing for “other flatfish” is permitted both shoreward of and within the closed areas described in paragraph (c)(3)(i) of this section. “Other flatfish” are defined at § 660.302 and include butter sole, curlfin sole, flathead sole, Pacific sanddab, rex sole, rock sole, and sand sole. Recreational fishing for “other flatfish” is permitted within the closed areas, subject to a limit of up to 12 hooks, “Number 2” or smaller, which measure no more than 11 mm (0.44 inches) point to shank, and up to 2 lb (0.91 kg) of weight per line. “Other flatfish,” except Pacific sanddab, are subject to the overall 20 fish bag limit for all species of finfish, of which there may be no more than 10 fish of any one species. There is no season restriction or size limit for “other flatfish;” however, it is prohibited to filet “other flatfish” at sea.

(v) California scorpionfish. California scorpionfish predominately occur south of 40°10′ N. lat.

(A) * * *

(1) Between 40°10′ N. lat. and 37°11′ N. lat. (North Central Region), recreational fishing for California scorpionfish is open from June 1 through November 30 (i.e., it′s closed from January 1 through May 31 and from December 1 through December 31).

(2) Between 37°11′ N. lat. and 34°27′ N. lat. (South Central Regions - Monterey and Morro Bay), recreational fishing for California scorpionfish is open from May 1 through November 30 (i.e., it′s closed from January 1 through April 30 and from December 1 through December 31).

(3) South of 34°27′ N. lat. (South Region), recreational fishing for California scorpionfish is open from January 1 through December 31.

* * * * *

17. In § 660.385, paragraphs (a), (b) introductory text, (b)(1) and (2), (b)(5), (d), (f), and (g) are revised; and paragraph (b)(7) is removed to read as follows:

§ 660.385 Washington coastal tribal fisheries management measures.

* * * * *

(a) Sablefish. The tribal allocation is 561.4 mt per year. This allocation is, for each year, 10 percent of the Monterey through Vancouver area OY, less 1.9 percent estimated discard mortality.

(b) Rockfish. The tribes will require full retention of all overfished rockfish species and all other marketable rockfish species during treaty fisheries.

(1) For the commercial harvest of black rockfish off Washington State, a harvest guideline of: 20,000 lb (9,072 kg) north of Cape Alava, WA (48°09.50′ N. lat.) and 10,000 lb (4,536 kg) between Destruction Island, WA (47°40′ N. lat.) and Leadbetter Point, WA (46°38.17′ N. lat.). There are no tribal harvest restrictions for the area between Cape Alava and Destruction Island.

(2) Thornyheads. The tribes will manage their fisheries to the limited entry trip limits in place at the beginning on the year for both shortspine and longspine thornyheads as follows:

(i) Trawl gear. (A) Shortspine thornyhead cumulative trip limits are as follows:

(1) Small and large footrope trawl gear- 7,500-lb (3,402-kg) per 2 months.

(2) Selective flatfish trawl gear- 3,000-lb (1,361-kg) per 2 months.

(3) Multiple bottom trawl gear- 3,000-lb (1,361-kg) per 2 months.

(B) Longspine thornyhead cumulative trip limits are as follows:

(1) Small and large footrope trawl gear- 22,000-lb (9,979-kg) per 2 months.

(2) Selective flatfish trawl gear- 3,000-lb (1,361-kg) per 2 months.

(3) Multiple bottom trawl gear- 3,000-lb (1,361-kg) per 2 months.

(ii) Fixed gear. (A) Shortspine thornyhead cumulative trip limits are 2,000-lb (907-kg) per 2 months.

(B) Longspine thornyhead cumulative trip limits are 10,000-lb (4,536-kg) per 2 months.

* * * * *

(5) The Makah Tribe will manage the midwater trawl fisheries as follows: yellowtail rockfish taken in the directed tribal mid-water trawl fisheries are subject to a cumulative limit of 180,000 lb (81,647 kg) per 2 month period for the entire fleet. Landings of widow rockfish must not exceed 10 percent of the weight of yellowtail rockfish landed in any two-month period. These limits may be adjusted by the tribe inseason to minimize the incidental catch of canary rockfish and widow rockfish, provided the average 2-month cumulative yellowtail rockfish limit does not exceed 180,000 lb (81,647 kg) for the fleet.

* * * * *

(d) Flatfish and other fish. Treaty fishing vessels using bottom trawl gear are subject to the limits applicable to the non-tribal limited entry trawl fishery for Dover sole, English sole, rex sole, arrowtooth flounder, and other flatfish in place at the beginning of the season. For Dover sole and arrowtooth flounder, the limited entry trip limits in place at the beginning of the season will be combined across periods and the fleet to create a cumulative harvest target. The limits available to individual vessels will then be adjusted inseason to stay within the overall harvest target as well as estimated impacts to overfished species. For petrale sole, treaty fishing vessels are restricted to a 50,000 lb (22,680 kg) per 2 month limit for the entire year. Trawl vessels are restricted to using small footrope trawl gear.

* * * * *

(f) Pacific cod. There is a tribal harvest guideline of 400 mt of Pacific cod. The tribes will manage their fisheries to stay within this harvest guideline.

(g) Spiny dogfish. The tribes will manage their spiny dogfish fishery within the limited entry trip limits for the non-tribal fisheries.

18. Section 660.390 is revised to read as follows:

§ 660.390 Groundfish conservation areas.

In § 660.302, a groundfish conservation area is defined in part as “a geographic area defined by coordinates expressed in degrees latitude and longitude, wherein fishing by a particular gear type or types may be prohibited.” While some groundfish conservation areas may be designed with the intent that their shape be determined by ocean bottom depth contours, their shapes are defined in regulation by latitude/longitude coordinates and are enforced by those coordinates. Latitude/longitude coordinates designating the large-scale boundaries for rockfish conservation areas are found in §§ 660.391 through 660.394. Fishing activity that is prohibited or permitted within a particular groundfish conservation area is detailed at §§ 660.381 through 660.384.

(a) North Coast Recreational Yelloweye Rockfish Conservation Area. The North Coast Recreational Yelloweye Rockfish Conservation Area (YRCA) is a C-shaped area off the northern Washington coast intended to protect yelloweye rockfish. The North Coast Recreational YRCA is defined by straight lines connecting the following specific latitude and longitude coordinates in the order listed:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.;

and connecting back to 48°18.00′ N. lat.; 125°18.00′ W. long.

(b) North Coast Commercial Yelloweye Rockfish Conservation Area. The North Coast Commercial Yelloweye Rockfish Conservation Area (YRCA) is an area off the northern Washington coast, overlapping the northern part of North Coast Recreational YRCA, intended to protect yelloweye rockfish. The North Coast Commercial YRCA is defined by straight lines connecting the following specific latitude and longitude coordinates in the order listed:

(1) 48°11.77′ N. lat., 125°13.03′ W. long.;

(2) 48°16.43′ N. lat., 125°07.55′ W. long.;

(3) 48°14.72′ N. lat., 125°01.84′ W. long.;

(4) 48°13.36′ N. lat., 125°03.20′ W. long.;

(5) 48°12.74′ N. lat., 125°05.83′ W. long.;

(6) 48°11.55′ N. lat., 125°04.99′ W. long.;

(7) 48°09.96′ N. lat., 125°06.63′ W. long.;

(8) 48°09.68′ N. lat., 125°08.75′ W. long.;

and connecting back to 48°11.77′ N. lat., 125°13.03′ W. long.

(c) Salmon Troll Yelloweye Rockfish Conservation Area. The Salmon Troll Yelloweye Rockfish Conservation Area (YRCA) is an area off the northern Washington coast, overlapping the southern part of North Coast Recreational YRCA, intended to protect yelloweye rockfish. The Salmon Troll YRCA is defined by straight lines connecting the following specific latitude and longitude coordinates in the order listed:

(1) 48°00.00′ N. lat., 125°14.00′ W. long.;

(2) 48°02.00′ N. lat., 125°14.00′ W. long.;

(3) 48°00.00′ N. lat., 125°16.50′ W. long.;

(4) 48°02.00′ N. lat., 125°16.50′ W. long.;

and connecting back to 48°00.00′ N. lat., 125°14.00′ W. long.

(d) South Coast Recreational Yelloweye Rockfish Conservation Area. The South Coast Recreational Yelloweye Rockfish Conservation Area (YRCA) is an area off the southern Washington coast intended to protect yelloweye rockfish. The South Coast Recreational YRCA is defined by straight lines connecting the following specific latitude and longitude coordinates in the order listed:

(1) 46°58.00′ N. lat., 124°48.00′ W. long.;

(2) 46°55.00′ N. lat., 124°48.00′ W. long.;

(3) 46°58.00′ N. lat., 124°49.00′ W. long.;

(4) 46°55.00′ N. lat., 124°49.00′ W. long.;

and connecting back to 46°58.00′ N. lat., 124°48.00′ W. long.

(e) Stonewall Bank Yelloweye Rockfish Conservation Area. The Stonewall Bank Yelloweye Rockfish Conservation Area (YRCA) is an area off central Oregon, near Stonewall Bank, intended to protect yelloweye rockfish. The Stonewall Bank YRCA is defined by straight lines connecting the following specific latitude and longitude coordinates in the order listed:

(1) 44°37.46′ N. lat.; 124°24.92′ W. long.;

(2) 44°37.46′ N. lat.; 124°23.63′ W. long.;

(3) 44°28.71′ N. lat.; 124°21.80′ W. long.;

(4) 44°28.71′ N. lat.; 124°24.10′ W. long.;

(5) 44°31.42′ N. lat.; 124°25.47′ W. long.;

and connecting back to 44°37.46′ N. lat.; 124°24.92′ W. long.

(f) Cowcod Conservation Areas. The Cowcod Conservation Areas (CCAs) are two areas off the southern California coast intended to protect cowcod. The Western CCA is an area south of Point Conception defined by the straight lines connecting the following specific latitude and longitude coordinates in the order listed:

(1) 33°50.00′ N. lat., 119°30.00′ W. long.;

(2) 33°50.00′ N. lat., 118°50.00′ W. long.;

(3) 32°20.00′ N. lat., 118°50.00′ W. long.;

(4) 32°20.00′ N. lat., 119°37.00′ W. long.;

(5) 33°00.00′ N. lat., 119°37.00′ W. long.;

(6) 33°00.00′ N. lat., 119°53.00′ W. long.;

(7) 33°33.00′ N. lat., 119°53.00′ W. long.;

(8) 33°33.00′ N. lat., 119°30.00′ W. long.;

and connecting back to 33°50.00′ N. lat., 119°30.00′ W. long.

(g) The Eastern CCA is an area west of San Diego defined by the straight lines connecting the following specific latitude and longitude coordinates in the order listed:

(1) 32°42.00′ N. lat., 118°02.00′ W. long.;

(2) 32°42.00′ N. lat., 117°50.00′ W. long.;

(3) 32°36.70′ N. lat., 117°50.00′ W. long.;

(4) 32°30.00′ N. lat., 117°53.50′ W. long.;

(5) 32°30.00′ N. lat., 118°02.00′ W. long.;

and connecting back to 32°42.00′ N. lat., 118°02.00′ W. long.

(h) Farallon Islands. The Farallon Islands, off San Francisco and San Mateo Counties, include Southeast Farallon Island, Middle Farallon Island, North Farallon Island and Noon Day Rock. Generally, the State of California prohibits fishing for groundfish between the shoreline and the 10-fm (18-m) depth contour around the Farallon Islands.

(i) Cordell Banks. Cordell Banks are located offshore of California′s Marin County. Generally, fishing for groundfish is prohibited in waters of depths less than 100-fm (183-m) around Cordell Banks as defined by specific latitude and longitude coordinates. The Cordell Banks closed area is defined by straight lines connecting the following specific latitude and longitude coordinates in the order listed:

(1) 38°03.18′ N. lat., 123°20.77′ W. long.;

(2) 38°06.29′ N. lat., 123°25.03′ W. long.;

(3) 38°06.34′ N. lat., 123°29.32′ W. long.;

(4) 38°04.57′ N. lat., 123°31.30′ W. long.;

(5) 38°02.32′ N. lat., 123°31.07′ W. long.;

(6) 38°00.00′ N. lat., 123°28.40′ W. long.;

(7) 37°58.10′ N. lat., 123°26.66′ W. long.;

(8) 37°55.07′ N. lat., 123°26.81′ W. long.;

(9) 38°00.00′ N. lat., 123°23.08′ W. long.;

and connecting back to 38°03.18′ N. lat., 123°20.77′ W. long.

(j) Rockfish Conservation Areas. RCA restrictions are detailed at §§ 660.381 through 660.384. RCAs may apply to a single gear type or to a group of gear types such as “trawl RCAs” or “non-trawl RCAs.” Specific latitude and longitude coordinates for RCA boundaries that approximate the depth contours selected for trawl, non-trawl, and recreational RCAs are provided in §§ 660.391 through 660.394. Also provided in §§ 660.391 through 660.394 are references to islands and rocks that serve as reference points for the RCAs.

(1) Trawl (Limited Entry and Open Access Nongroundfish Trawl Gears) Rockfish Conservation Areas. Trawl RCAs are intended to protect a complex of species, such as overfished shelf rockfish species, and have boundaries defined by specific latitude and longitude coordinates intended to approximate particular depth contours. Boundaries for the trawl RCA throughout the year are provided in Tables 3 and 5 (North) and Tables 3 and 5 (South) and may be modified by NMFS inseason pursuant to § 660.370(c). Trawl RCA boundaries are defined by specific latitude and longitude coordinates and are provided in §§ 660.391 through 660.394.

(2) Non-Trawl (Limited Entry Fixed Gear and Open Access Non-trawl Gears) Rockfish Conservation Areas. Non-trawl RCAs are intended to protect a complex of species, such as overfished shelf rockfish species, and have boundaries defined by specific latitude and longitude coordinates intended to approximate particular depth contours. Boundaries for the non-trawl RCA throughout the year are provided in Tables 4 and 5 (North) and Tables 4 and 5 (South) of this subpart and may be modified by NMFS inseason pursuant to § 660.370(c). Non-trawl RCA boundaries are defined by specific latitude and longitude coordinates and are provided in §§ 660.391 through 660.394.

(3) Recreational Rockfish Conservation Areas. Recreational RCAs are closed areas intended to protect overfished rockfish species. Recreational RCAs may either have boundaries defined by general depth contours or boundaries defined by specific latitude and longitude coordinates intended to approximate particular depth contours. Boundaries for the recreational RCAs throughout the year are provided in the text in § 660.384(c) under each state (Washington, Oregon and California) and may be modified by NMFS inseason pursuant to § 660.370. Recreational RCA boundaries are defined by specific latitude and longitude coordinates and are provided in §§ 660.391 through 660.394.

19. In § 660.391, the section heading and introductory paragraph are revised, paragraph (a) is removed, paragraphs (b) through (k) are redesignated as (d) through (m), newly redesignated paragraphs (d) and (j) are revised, and paragraphs (a) through (c) are added to read as follows:

§ 660.391 Latitude/longitude coordinates defining the 10-fm (18-m) through 40-fm (73-m) depth contours.

Boundaries for RCAs are defined by straight lines connecting a series of latitude/longitude coordinates. This section provides coordinates for the 10-fm (18-m) through 40-fm (73-m) depth contours.

(a) The 10-fm (18-m) depth contour between the U.S. border with Canada and 46°16′ N. lat. is defined by straight lines connecting all of the following points in the order stated:

(1) 48°23.80′ N. lat., 124°44.18′ W. long.;

(2) 48°23.60′ N. lat., 124°44.80′ W. long.;

(3) 48°23.45′ N. lat., 124°44.80′ W. long.;

(4) 48°23.30′ N. lat., 124°44.20′ W. long.;

(5) 48°22.20′ N. lat., 124°44.30′ W. long.;

(6) 48°20.25′ N. lat., 124°42.20′ W. long.;

(7) 48°12.80′ N. lat., 124°43.10′ W. long.;

(8) 48°11.10′ N. lat., 124°46.50′ W. long.;

(9) 48°10.00′ N. lat., 124°46.50′ W. long.;

(10) 48°08.50′ N. lat., 124°44.20′ W. long.;

(11) 47°59.40′ N. lat., 124°42.50′ W. long.;

(12) 47°52.60′ N. lat., 124°38.80′ W. long.;

(13) 47°51.50′ N. lat., 124°34.60′ W. long.;

(14) 47°39.80′ N. lat., 124°28.10′ W. long.;

(15) 47°31.70′ N. lat., 124°26.30′ W. long.;

(16) 47°25.20′ N. lat., 124°24.80′ W. long.;

(17) 47°09.80′ N. lat., 124°15.20′ W. long.;

(18) 46°54.40′ N. lat., 124°14.80′ W. long.;

(19) 46°48.30′ N. lat., 124°10.25′ W. long.;

(20) 46°38.17′ N. lat., 124°10.30′ W. long.;

(21) 46°27.20′ N. lat., 124°06.50′ W. long.; and

(22) 46°16.00′ N. lat., 124°10.00′ W. long.

(b) The 20-fm (37-m) depth contour between the U.S. border with Canada and 42° N. lat. is defined by straight lines connecting all of the following points in the order stated:

(1) 48°23.90′ N. lat., 124°44.20′ W. long.;

(2) 48°23.60′ N. lat., 124°44.90′ W. long.;

(3) 48°18.60′ N. lat., 124°43.60′ W. long.;

(4) 48°18.60′ N. lat., 124°48.20′ W. long.;

(5) 48°10.00′ N. lat., 124°48.80′ W. long.;

(6) 48°02.40′ N. lat., 124°49.30′ W. long.;

(7) 47°37.60′ N. lat., 124°34.30′ W. long.;

(8) 47°31.70′ N. lat., 124°32.40′ W. long.;

(9) 47°17.90′ N. lat., 124°25.00′ W. long.;

(10) 46°58.80′ N. lat., 124°18.30′ W. long.;

(11) 46°47.40′ N. lat., 124°12.70′ W. long.;

(12) 46°38.17′ N. lat., 124°12.40′ W. long.;

(13) 46°16.00′ N. lat., 124°11.50′ W. long.;

(14) 46°16.01′ N. lat., 124°11.56′ W. long.;

(15) 46°15.09′ N. lat., 124°11.33′ W. long.;

(16) 46°11.94′ N. lat., 124°08.51′ W. long.;

(17) 46°08.02′ N. lat., 124°04.06′ W. long.;

(18) 46°05.05′ N. lat., 124°02.13′ W. long.;

(19) 46°02.19′ N. lat., 124°01.35′ W. long.;

(20) 45°58.28′ N. lat., 124°01.70′ W. long.;

(21) 45°55.64′ N. lat., 124°01.16′ W. long.;

(22) 45°52.61′ N. lat., 124°00.33′ W. long.;

(23) 45°48.43′ N. lat., 124°00.65′ W. long.;

(24) 45°46.59′ N. lat., 124°00.79′ W. long.;

(25) 45°46.00′ N. lat., 124°00.53′ W. long.;

(26) 45°44.75′ N. lat., 123°59.92′ W. long.;

(27) 45°44.57′ N. lat., 123°59.64′ W. long.;

(28) 45°41.86′ N. lat., 123°58.82′ W. long.;

(29) 45°36.40′ N. lat., 123°59.42′ W. long.;

(30) 45°34.10′ N. lat., 123°59.90′ W. long.;

(31) 45°32.81′ N. lat., 124°00.35′ W. long.;

(32) 45°29.87′ N. lat., 124°00.98′ W. long.;

(33) 45°27.49′ N. lat., 124°00.79′ W. long.;

(34) 45°25.37′ N. lat., 124°00.73′ W. long.;

(35) 45°22.06′ N. lat., 124°01.66′ W. long.;

(36) 45°17.27′ N. lat., 124°00.76′ W. long.;

(37) 45°14.09′ N. lat., 124°00.75′ W. long.;

(38) 45°12.50′ N. lat., 124°00.53′ W. long.;

(39) 45°11.92′ N. lat., 124°01.62′ W. long.;

(40) 45°11.02′ N. lat., 124°00.60′ W. long.;

(41) 45°10.08′ N. lat., 124°00.58′ W. long.;

(42) 45°05.51′ N. lat., 124°02.15′ W. long.;

(43) 45°01.03′ N. lat., 124°03.22′ W. long.;

(44) 44°57.98′ N. lat., 124°04.29′ W. long.;

(45) 44°55.37′ N. lat., 124°04.39′ W. long.;

(46) 44°51.56′ N. lat., 124°05.54′ W. long.;

(47) 44°45.24′ N. lat., 124°06.47′ W. long.;

(48) 44°42.69′ N. lat., 124°06.73′ W. long.;

(49) 44°33.86′ N. lat., 124°07.43′ W. long.;

(50) 44°29.78′ N. lat., 124°07.62′ W. long.;

(51) 44°28.53′ N. lat., 124°07.93′ W. long.;

(52) 44°23.71′ N. lat., 124°08.30′ W. long.;

(53) 44°21.75′ N. lat., 124°08.79′ W. long.;

(54) 44°20.99′ N. lat., 124°08.48′ W. long.;

(55) 44°17.29′ N. lat., 124°08.82′ W. long.;

(56) 44°11.90′ N. lat., 124°09.44′ W. long.;

(57) 44°03.25′ N. lat., 124°10.33′ W. long.;

(58) 43°52.69′ N. lat., 124°12.01′ W. long.;

(59) 43°42.94′ N. lat., 124°13.88′ W. long.;

(60) 43°41.44′ N. lat., 124°14.47′ W. long.;

(61) 43°36.60′ N. lat., 124°14.92′ W. long.;

(62) 43°29.85′ N. lat., 124°17.35′ W. long.;

(63) 43°25.00′ N. lat., 124°20.84′ W. long.;

(64) 43°21.61′ N. lat., 124°24.09′ W. long.;

(65) 43°20.51′ N. lat., 124°25.01′ W. long.;

(66) 43°19.33′ N. lat., 124°25.43′ W. long.;

(67) 43°16.18′ N. lat., 124°26.02′ W. long.;

(68) 43°14.39′ N. lat., 124°26.17′ W. long.;

(69) 43°13.94′ N. lat., 124°26.72′ W. long.;

(70) 43°13.39′ N. lat., 124°26.41′ W. long.;

(71) 43°11.39′ N. lat., 124°26.90′ W. long.;

(72) 43°10.06′ N. lat., 124°28.24′ W. long.;

(73) 43°07.48′ N. lat., 124°28.65′ W. long.;

(74) 43°06.67′ N. lat., 124°28.63′ W. long.;

(75) 43°06.43′ N. lat., 124°28.22′ W. long.;

(76) 43°03.09′ N. lat., 124°28.52′ W. long.;

(77) 42°57.55′ N. lat., 124°30.74′ W. long.;

(78) 42°52.91′ N. lat., 124°35.03′ W. long.;

(79) 42°51.58′ N. lat., 124°36.43′ W. long.;

(80) 42°49.85′ N. lat., 124°37.20′ W. long.;

(81) 42°46.07′ N. lat., 124°36.98′ W. long.;

(82) 42°46.03′ N. lat., 124°34.76′ W. long.;

(83) 42°45.37′ N. lat., 124°33.59′ W. long.;

(84) 42°43.91′ N. lat., 124°32.14′ W. long.;

(85) 42°41.73′ N. lat., 124°29.20′ W. long.;

(86) 42°40.49′ N. lat., 124°28.95′ W. long.;

(87) 42°40.06′ N. lat., 124°28.94′ W. long.;

(88) 42°39.74′ N. lat., 124°27.80′ W. long.;

(89) 42°37.53′ N. lat., 124°26.39′ W. long.;

(90) 42°34.33′ N. lat., 124°26.56′ W. long.;

(91) 42°32.81′ N. lat., 124°27.55′ W. long.;

(92) 42°31.66′ N. lat., 124°29.58′ W. long.;

(93) 42°30.70′ N. lat., 124°30.91′ W. long.;

(94) 42°29.20′ N. lat., 124°31.27′ W. long.;

(95) 42°27.52′ N. lat., 124°30.79′ W. long.;

(96) 42°24.70′ N. lat., 124°29.65′ W. long.;

(97) 42°23.93′ N. lat., 124°28.60′ W. long.;

(98) 42°19.35′ N. lat., 124°27.23′ W. long.;

(99) 42°14.87′ N. lat., 124°26.14′ W. long.;

(100) 42°11.85′ N. lat., 124°23.78′ W. long.;

(101) 42°08.08′ N. lat., 124°22.91′ W. long.;

(102) 42°07.04′ N. lat., 124°22.66′ W. long.;

(103) 42°05.17′ N. lat., 124°21.41′ W. long.;

(104) 42°04.16′ N. lat., 124°20.55′ W. long.;

(105) 42°02.12′ N. lat., 124°20.51′ W. long.;

(106) 42°01.42′ N. lat., 124°20.29′ W. long.; and

(107) 42°00.00′ N. lat., 124°19.61′ W. long.

(c) The 25-fm (46-m) depth contour between the Queets River, WA, and 42° N. lat. is defined by straight lines connecting all of the following points in the order stated:

(1) 47°31.70′ N. lat., 124°34.70′ W. long.;

(2) 47°25.70′ N. lat., 124°33.00′ W. long.;

(3) 47°12.80′ N. lat., 124°26.00′ W. long.;

(4) 46°53.00′ N. lat., 124°21.00′ W. long.;

(5) 46°44.20′ N. lat., 124°15.00′ W. long.;

(6) 46°38.17′ N. lat., 124°13.70′ W. long.;

(7) 46°16.00′ N. lat., 124°12.50′ W. long.;

(8) 46°15.99′ N. lat., 124°12.04′ W. long.;

(9) 46°13.72′ N. lat., 124°11.04′ W. long.;

(10) 46°09.50′ N. lat., 124°07.62′ W. long.;

(11) 46°04.00′ N. lat., 124°03.20′ W. long.;

(12) 45°57.61′ N. lat., 124°01.85′ W. long.;

(13) 45°51.73′ N. lat., 124°01.06′ W. long.;

(14) 45°47.27′ N. lat., 124°01.22′ W. long.;

(15) 45°43.19′ N. lat., 124°00.32′ W. long.;

(16) 45°36.11′ N. lat., 124°00.38′ W. long.;

(17) 45°32.95′ N. lat., 124°01.38′ W. long.;

(18) 45°27.47′ N. lat., 124°01.46′ W. long.;

(19) 45°23.18′ N. lat., 124°01.94′ W. long.;

(20) 45°19.04′ N. lat., 124°01.29′ W. long.;

(21) 45°16.79′ N. lat., 124°01.90′ W. long.;

(22) 45°13.54′ N. lat., 124°01.64′ W. long.;

(23) 45°09.56′ N. lat., 124°01.94′ W. long.;

(24) 45°06.15′ N. lat., 124°02.38′ W. long.;

(25) 45°00.77′ N. lat., 124°03.72′ W. long.;

(26) 44°49.08′ N. lat., 124°06.49′ W. long.;

(27) 44°40.06′ N. lat., 124°08.14′ W. long.;

(28) 44°36.64′ N. lat., 124°08.51′ W. long.;

(29) 44°29.41′ N. lat., 124°09.24′ W. long.;

(30) 44°25.18′ N. lat., 124°09.37′ W. long.;

(31) 44°16.34′ N. lat., 124°10.30′ W. long.;

(32) 44°12.16′ N. lat., 124°10.82′ W. long.;

(33) 44°06.59′ N. lat., 124°11.00′ W. long.;

(34) 44°02.09′ N. lat., 124°11.24′ W. long.;

(35) 43°57.82′ N. lat., 124°11.60′ W. long.;

(36) 43°53.44′ N. lat., 124°12.34′ W. long.;

(37) 43°49.19′ N. lat., 124°13.08′ W. long.;

(38) 43°45.19′ N. lat., 124°13.73′ W. long.;

(39) 43°41.22′ N. lat., 124°14.59′ W. long.;

(40) 43°37.52′ N. lat., 124°15.05′ W. long.;

(41) 43°33.97′ N. lat., 124°16.00′ W. long.;

(42) 43°29.72′ N. lat., 124°17.78′ W. long.;

(43) 43°27.63′ N. lat., 124°19.11′ W. long.;

(44) 43°20.66′ N. lat., 124°25.39′ W. long.;

(45) 43°15.57′ N. lat., 124°26.86′ W. long.;

(46) 43°06.88′ N. lat., 124°29.30′ W. long.;

(47) 43°03.37′ N. lat., 124°29.06′ W. long.;

(48) 43°01.03′ N. lat., 124°29.41′ W. long.;

(49) 42°56.59′ N. lat., 124°31.93′ W. long.;

(50) 42°54.08′ N. lat., 124°34.55′ W. long.;

(51) 42°51.16′ N. lat., 124°37.02′ W. long.;

(52) 42°49.27′ N. lat., 124°37.73′ W. long.;

(53) 42°46.02′ N. lat., 124°37.54′ W. long.;

(54) 42°45.76′ N. lat., 124°35.68′ W. long.;

(55) 42°42.25′ N. lat., 124°30.47′ W. long.;

(56) 42°40.51′ N. lat., 124°29.00′ W. long.;

(57) 42°40.00′ N. lat., 124°29.01′ W. long.;

(58) 42°39.64′ N. lat., 124°28.28′ W. long.;

(59) 42°38.80′ N. lat., 124°27.57′ W. long.;

(60) 42°35.42′ N. lat., 124°26.77′ W. long.;

(61) 42°33.13′ N. lat., 124°29.06′ W. long.;

(62) 42°31.44′ N. lat., 124°30.71′ W. long.;

(63) 42°29.03′ N. lat., 124°31.71′ W. long.;

(64) 42°24.98′ N. lat., 124°29.95′ W. long.;

(65) 42°20.05′ N. lat., 124°28.16′ W. long.;

(66) 42°14.24′ N. lat., 124°26.03′ W. long.;

(67) 42°10.23′ N. lat., 124°23.93′ W. long.;

(68) 42°06.20′ N. lat., 124°22.70′ W. long.;

(69) 42°04.66′ N. lat., 124°21.49′ W. long.; and

(70) 42°00.00′ N. lat., 124°20.80′ W. long.

(d) The 30-fm (55-m) depth contour between the U.S. border with Canada and the U.S. border with Mexico is defined by straight lines connecting all of the following points in the order stated:

(1) 48°24.79′ N. lat., 124°44.07′ W. long.;

(2) 48°24.80′ N. lat., 124°44.74′ W. long.;

(3) 48°23.94′ N. lat., 124°44.70′ W. long.;

(4) 48°23.51′ N. lat., 124°45.01′ W. long.;

(5) 48°22.59′ N. lat., 124°44.97′ W. long.;

(6) 48°21.75′ N. lat., 124°45.26′ W. long.;

(7) 48°21.23′ N. lat., 124°47.78′ W. long.;

(8) 48°20.32′ N. lat., 124°49.53′ W. long.;

(9) 48°16.72′ N. lat., 124°51.58′ W. long.;

(10) 48°10.00′ N. lat., 124°52.58′ W. long.;

(11) 48°05.63′ N. lat., 124°52.91′ W. long.;

(12) 47°53.37′ N. lat., 124°47.37′ W. long.;

(13) 47°40.28′ N. lat., 124°40.07′ W. long.;

(14) 47°31.70′ N. lat., 124°37.03′ W. long.;

(15) 47°25.67′ N. lat., 124°34.79′ W. long.;

(16) 47°12.82′ N. lat., 124°29.12′ W. long.;

(17) 46°52.94′ N. lat., 124°22.58′ W. long.;

(18) 46°44.18′ N. lat., 124°18.00′ W. long.;

(19) 46°38.17′ N. lat., 124°15.88′ W. long.;

(20) 46°29.53′ N. lat., 124°15.89′ W. long.;

(21) 46°19.27′ N. lat., 124°14.15′ W. long.;

(22) 46°16.00′ N. lat., 124°13.05′ W. long.;

(23) 46°16.00′ N. lat., 124°13.04′ W. long.;

(24) 46°07.00′ N. lat., 124°07.01′ W. long.;

(25) 45°55.95′ N. lat., 124°02.23′ W. long.;

(26) 45°54.53′ N. lat., 124°02.57′ W. long.;

(27) 45°50.65′ N. lat., 124°01.62′ W. long.;

(28) 45°48.20′ N. lat., 124°02.16′ W. long.;

(29) 45°46.00′ N. lat., 124°01.86′ W. long.;

(30) 45°43.46′ N. lat., 124°01.28′ W. long.;

(31) 45°40.48′ N. lat., 124°01.03′ W. long.;

(32) 45°39.04′ N. lat., 124°01.68′ W. long.;

(33) 45°35.48′ N. lat., 124°01.90′ W. long.;

(34) 45°29.81′ N. lat., 124°02.45′ W. long.;

(35) 45°27.97′ N. lat., 124°01.90′ W. long.;

(36) 45°27.22′ N. lat., 124°02.66′ W. long.;

(37) 45°24.20′ N. lat., 124°02.94′ W. long.;

(38) 45°20.60′ N. lat., 124°01.74′ W. long.;

(39) 45°20.25′ N. lat., 124°01.85′ W. long.;

(40) 45°16.44′ N. lat., 124°03.22′ W. long.;

(41) 45°13.63′ N. lat., 124°02.69′ W. long.;

(42) 45°11.05′ N. lat., 124°03.59′ W. long.;

(43) 45°08.55′ N. lat., 124°03.47′ W. long.;

(44) 45°02.81′ N. lat., 124°04.64′ W. long.;

(45) 44°58.06′ N. lat., 124°05.03′ W. long.;

(46) 44°53.97′ N. lat., 124°06.92′ W. long.;

(47) 44°48.89′ N. lat., 124°07.04′ W. long.;

(48) 44°46.94′ N. lat., 124°08.25′ W. long.;

(49) 44°42.72′ N. lat., 124°08.98′ W. long.;

(50) 44°38.16′ N. lat., 124°11.48′ W. long.;

(51) 44°33.38′ N. lat., 124°11.54′ W. long.;

(52) 44°28.51′ N. lat., 124°12.04′ W. long.;

(53) 44°27.65′ N. lat., 124°12.56′ W. long.;

(54) 44°19.67′ N. lat., 124°12.37′ W. long.;

(55) 44°10.79′ N. lat., 124°12.22′ W. long.;

(56) 44°09.22′ N. lat., 124°12.28′ W. long.;

(57) 44°08.30′ N. lat., 124°12.30′ W. long.;

(58) 44°00.22′ N. lat., 124°12.80′ W. long.;

(59) 43°51.56′ N. lat., 124°13.18′ W. long.;

(60) 43°44.26′ N. lat., 124°14.50′ W. long.;

(61) 43°33.82′ N. lat., 124°16.28′ W. long.;

(62) 43°28.66′ N. lat., 124°18.72′ W. long.;

(63) 43°23.12′ N. lat., 124°24.04′ W. long.;

(64) 43°20.83′ N. lat., 124°25.67′ W. long.;

(65) 43°20.48′ N. lat., 124°25.90′ W. long.;

(66) 43°16.41′ N. lat., 124°27.52′ W. long.;

(67) 43°14.23′ N. lat., 124°29.28′ W. long.;

(68) 43°14.03′ N. lat., 124°28.31′ W. long.;

(69) 43°11.92′ N. lat., 124°28.26′ W. long.;

(70) 43°11.02′ N. lat., 124°29.11′ W. long.;

(71) 43°10.13′ N. lat., 124°29.15′ W. long.;

(72) 43°09.26′ N. lat., 124°31.03′ W. long.;

(73) 43°07.73′ N. lat., 124°30.92′ W. long.;

(74) 43°05.93′ N. lat., 124°29.64′ W. long.;

(75) 43°01.59′ N. lat., 124°30.64′ W. long.;

(76) 42°59.72′ N. lat., 124°31.16′ W. long.;

(77) 42°53.75′ N. lat., 124°36.09′ W. long.;

(78) 42°50.00′ N. lat., 124°38.39′ W. long.;

(79) 42°49.37′ N. lat., 124°38.81′ W. long.;

(80) 42°46.42′ N. lat., 124°37.69′ W. long.;

(81) 42°46.07′ N. lat., 124°38.56′ W. long.;

(82) 42°45.29′ N. lat., 124°37.95′ W. long.;

(83) 42°45.61′ N. lat., 124°36.87′ W. long.;

(84) 42°44.27′ N. lat., 124°33.64′ W. long.;

(85) 42°42.75′ N. lat., 124°31.84′ W. long.;

(86) 42°40.50′ N. lat., 124°29.67′ W. long.;

(87) 42°40.04′ N. lat., 124°29.20′ W. long.;

(88) 42°38.09′ N. lat., 124°28.39′ W. long.;

(89) 42°36.73′ N. lat., 124°27.54′ W. long.;

(90) 42°36.56′ N. lat., 124°28.40′ W. long.;

(91) 42°35.77′ N. lat., 124°28.79′ W. long.;

(92) 42°34.03′ N. lat., 124°29.98′ W. long.;

(93) 42°34.19′ N. lat., 124°30.58′ W. long.;

(94) 42°31.27′ N. lat., 124°32.24′ W. long.;

(95) 42°27.07′ N. lat., 124°32.53′ W. long.;

(96) 42°24.21′ N. lat., 124°31.23′ W. long.;

(97) 42°20.47′ N. lat., 124°28.87′ W. long.;

(98) 42°14.60′ N. lat., 124°26.80′ W. long.;

(99) 42°13.67′ N. lat., 124°26.25′ W. long.;

(100) 42°10.90′ N. lat., 124°24.56′ W. long.;

(101) 42°07.04′ N. lat., 124°23.35′ W. long.;

(102) 42°02.16′ N. lat., 124°22.59′ W. long.;

(103) 42°00.00′ N. lat., 124°21.81′ W. long.;

(104) 41°55.75′ N. lat., 124°20.72′ W. long.;

(105) 41°50.93′ N. lat., 124°23.76′ W. long.;

(106) 41°42.53′ N. lat., 124°16.47′ W. long.;

(107) 41°37.20′ N. lat., 124°17.05′ W. long.;

(108) 41°24.58′ N. lat., 124°10.51′ W. long.;

(109) 41°20.73′ N. lat., 124°11.73′ W. long.;

(110) 41°17.59′ N. lat., 124°10.66′ W. long.;

(111) 41°04.54′ N. lat., 124°14.47′ W. long.;

(112) 40°54.26′ N. lat., 124°13.90′ W. long.;

(113) 40°40.31′ N. lat., 124°26.24′ W. long.;

(114) 40°34.00′ N. lat., 124°27.39′ W. long.;

(115) 40°30.00′ N. lat., 124°31.32′ W. long.;

(116) 40°28.89′ N. lat., 124°32.43′ W. long.;

(117) 40°24.77′ N. lat., 124°29.51′ W. long.;

(118) 40°22.47′ N. lat., 124°24.12′ W. long.;

(119) 40°19.73′ N. lat., 124°23.59′ W. long.;

(120) 40°18.64′ N. lat., 124°21.89′ W. long.;

(121) 40°17.67′ N. lat., 124°23.07′ W. long.;

(122) 40°15.58′ N. lat., 124°23.61′ W. long.;

(123) 40°13.42′ N. lat., 124°22.94′ W. long.;

(124) 40°10.00′ N. lat., 124°16.65′ W. long.;

(125) 40°09.46′ N. lat., 124°15.28′ W. long.;

(126) 40°08.89′ N. lat., 124°15.24′ W. long.;

(127) 40°06.40′ N. lat., 124°10.97′ W. long.;

(128) 40°06.08′ N. lat., 124°09.34′ W. long.;

(129) 40°06.64′ N. lat., 124°08.00′ W. long.;

(130) 40°05.08′ N. lat., 124°07.57′ W. long.;

(131) 40°04.29′ N. lat., 124°08.12′ W. long.;

(132) 40°00.61′ N. lat., 124°07.35′ W. long.;

(133) 39°58.60′ N. lat., 124°05.51′ W. long.;

(134) 39°54.89′ N. lat., 124°04.67′ W. long.;

(135) 39°53.01′ N. lat., 124°02.33′ W. long.;

(136) 39°53.20′ N. lat., 123°58.18′ W. long.;

(137) 39°48.45′ N. lat., 123°53.21′ W. long.;

(138) 39°43.89′ N. lat., 123°51.75′ W. long.;

(139) 39°39.60′ N. lat., 123°49.14′ W. long.;

(140) 39°34.43′ N. lat., 123°48.48′ W. long.;

(141) 39°30.63′ N. lat., 123°49.71′ W. long.;

(142) 39°21.25′ N. lat., 123°50.54′ W. long.;

(143) 39°08.87′ N. lat., 123°46.24′ W. long.;

(144) 39°03.79′ N. lat., 123°43.91′ W. long.;

(145) 38°59.65′ N. lat., 123°45.94′ W. long.;

(146) 38°57.50′ N. lat., 123°46.28′ W. long.;

(147) 38°56.80′ N. lat., 123°46.48′ W. long.;

(148) 38°51.16′ N. lat., 123°41.48′ W. long.;

(149) 38°45.77′ N. lat., 123°35.14′ W. long.;

(150) 38°42.21′ N. lat., 123°28.17′ W. long.;

(151) 38°34.05′ N. lat., 123°20.96′ W. long.;

(152) 38°22.47′ N. lat., 123°07.48′ W. long.;

(153) 38°16.52′ N. lat., 123°05.62′ W. long.;

(154) 38°14.42′ N. lat., 123°01.91′ W. long.;

(155) 38°08.24′ N. lat., 122°59.79′ W. long.;

(156) 38°02.69′ N. lat., 123°01.96′ W. long.;

(157) 38°00.00′ N. lat., 123°04.75′ W. long.;

(158) 37°58.41′ N. lat., 123°02.93′ W. long.;

(159) 37°58.25′ N. lat., 122°56.49′ W. long.;

(160) 37°50.30′ N. lat., 122°52.23′ W. long.;

(161) 37°43.36′ N. lat., 123°04.18′ W. long.;

(162) 37°40.77′ N. lat., 123°01.62′ W. long.;

(163) 37°40.13′ N. lat., 122°57.30′ W. long.;

(164) 37°42.59′ N. lat., 122°53.64′ W. long.;

(165) 37°35.67′ N. lat., 122°44.20′ W. long.;

(166) 37°29.62′ N. lat., 122°36.00′ W. long.;

(167) 37°22.38′ N. lat., 122°31.66′ W. long.;

(168) 37°13.86′ N. lat., 122°28.27′ W. long.;

(169) 37°11.00′ N. lat., 122°26.50′ W. long.;

(170) 37°08.01′ N. lat., 122°24.75′ W. long.;

(171) 37°07.00′ N. lat., 122°23.60′ W. long.;

(172) 37°05.84′ N. lat., 122°22.47′ W. long.;

(173) 36°58.77′ N. lat., 122°13.03′ W. long.;

(174) 36°53.74′ N. lat., 122°03.39′ W. long.;

(175) 36°52.71′ N. lat., 122°00.14′ W. long.;

(176) 36°52.51′ N. lat., 121°56.77′ W. long.;

(177) 36°49.44′ N. lat., 121°49.63′ W. long.;

(178) 36°48.01′ N. lat., 121°49.92′ W. long.;

(179) 36°48.25′ N. lat., 121°47.66′ W. long.;

(180) 36°46.26′ N. lat., 121°51.27′ W. long.;

(181) 36°39.14′ N. lat., 121°52.05′ W. long.;

(182) 36°38.00′ N. lat., 121°53.57′ W. long.;

(183) 36°39.14′ N. lat., 121°55.45′ W. long.;

(184) 36°38.50′ N. lat., 121°57.09′ W. long.;

(185) 36°36.75′ N. lat., 121°59.44′ W. long.;

(186) 36°34.97′ N. lat., 121°59.37′ W. long.;

(187) 36°33.07′ N. lat., 121°58.32′ W. long.;

(188) 36°33.27′ N. lat., 121°57.07′ W. long.;

(189) 36°32.68′ N. lat., 121°57.03′ W. long.;

(190) 36°32.04′ N. lat., 121°55.98′ W. long.;

(191) 36°31.61′ N. lat., 121°55.72′ W. long.;

(192) 36°31.59′ N. lat., 121°57.12′ W. long.;

(193) 36°31.52′ N. lat., 121°57.57′ W. long.;

(194) 36°30.88′ N. lat., 121°57.90′ W. long.;

(195) 36°30.25′ N. lat., 121°57.37′ W. long.;

(196) 36°29.47′ N. lat., 121°57.55′ W. long.;

(197) 36°26.72′ N. lat., 121°56.40′ W. long.;

(198) 36°24.33′ N. lat., 121°56.00′ W. long.;

(199) 36°23.36′ N. lat., 121°55.45′ W. long.;

(200) 36°18.86′ N. lat., 121°56.15′ W. long.;

(201) 36°16.21′ N. lat., 121°54.81′ W. long.;

(202) 36°15.30′ N. lat., 121°53.79′ W. long.;

(203) 36°12.04′ N. lat., 121°45.38′ W. long.;

(204) 36°11.87′ N. lat., 121°44.45′ W. long.;

(205) 36°12.13′ N. lat., 121°44.25′ W. long.;

(206) 36°11.89′ N. lat., 121°43.65′ W. long.;

(207) 36°10.56′ N. lat., 121°42.62′ W. long.;

(208) 36°09.90′ N. lat., 121°41.57′ W. long.;

(209) 36°08.14′ N. lat., 121°40.44′ W. long.;

(210) 36°06.69′ N. lat., 121°38.79′ W. long.;

(211) 36°05.85′ N. lat., 121°38.47′ W. long.;

(212) 36°03.08′ N. lat., 121°36.25′ W. long.;

(213) 36°02.92′ N. lat., 121°35.89′ W. long.;

(214) 36°01.53′ N. lat., 121°36.13′ W. long.;

(215) 36°00.59′ N. lat., 121°35.40′ W. long.;

(216) 36°00.00′ N. lat., 121°34.10′ W. long.;

(217) 35°59.93′ N. lat., 121°33.81′ W. long.;

(218) 35°59.69′ N. lat., 121°31.84′ W. long.;

(219) 35°58.59′ N. lat., 121°30.30′ W. long.;

(220) 35°54.02′ N. lat., 121°29.71′ W. long.;

(221) 35°51.54′ N. lat., 121°27.67′ W. long.;

(222) 35°50.42′ N. lat., 121°25.79′ W. long.;

(223) 35°48.37′ N. lat., 121°24.29′ W. long.;

(224) 35°47.02′ N. lat., 121°22.46′ W. long.;

(225) 35°42.28′ N. lat., 121°21.20′ W. long.;

(226) 35°41.57′ N. lat., 121°21.82′ W. long.;

(227) 35°39.24′ N. lat., 121°18.84′ W. long.;

(228) 35°35.14′ N. lat., 121°10.45′ W. long.;

(229) 35°30.11′ N. lat., 121°05.59′ W. long.;

(230) 35°25.86′ N. lat., 121°00.07′ W. long.;

(231) 35°22.82′ N. lat., 120°54.68′ W. long.;

(232) 35°17.96′ N. lat., 120°55.54′ W. long.;

(233) 35°14.83′ N. lat., 120°55.42′ W. long.;

(234) 35°08.87′ N. lat., 120°50.22′ W. long.;

(235) 35°05.55′ N. lat., 120°44.89′ W. long.;

(236) 35°02.91′ N. lat., 120°43.94′ W. long.;

(237) 34°53.80′ N. lat., 120°43.94′ W. long.;

(238) 34°34.89′ N. lat., 120°41.92′ W. long.;

(239) 34°32.48′ N. lat., 120°40.05′ W. long.;

(240) 34°30.12′ N. lat., 120°32.81′ W. long.;

(241) 34°27.00′ N. lat., 120°30.46′ W. long.;

(242) 34°27.00′ N. lat., 120°30.31′ W. long.;

(243) 34°25.84′ N. lat., 120°27.40′ W. long.;

(244) 34°25.16′ N. lat., 120°20.18′ W. long.;

(245) 34°25.88′ N. lat., 120°18.24′ W. long.;

(246) 34°27.26′ N. lat., 120°12.47′ W. long.;

(247) 34°26.27′ N. lat., 120°02.22′ W. long.;

(248) 34°23.41′ N. lat., 119°53.40′ W. long.;

(249) 34°23.33′ N. lat., 119°48.74′ W. long.;

(250) 34°22.31′ N. lat., 119°41.36′ W. long.;

(251) 34°21.72′ N. lat., 119°40.14′ W. long.;

(252) 34°21.25′ N. lat., 119°41.18′ W. long.;

(253) 34°20.25′ N. lat., 119°39.03′ W. long.;

(254) 34°19.87′ N. lat., 119°33.65′ W. long.;

(255) 34°18.67′ N. lat., 119°30.16′ W. long.;

(256) 34°16.95′ N. lat., 119°27.90′ W. long.;

(257) 34°13.02′ N. lat., 119°26.99′ W. long.;

(258) 34°08.62′ N. lat., 119°20.89′ W. long.;

(259) 34°06.95′ N. lat., 119°17.68′ W. long.;

(260) 34°05.93′ N. lat., 119°15.17′ W. long.;

(261) 34°08.42′ N. lat., 119°13.11′ W. long.;

(262) 34°05.23′ N. lat., 119°13.34′ W. long.;

(263) 34°04.98′ N. lat., 119°11.39′ W. long.;

(264) 34°04.55′ N. lat., 119°11.09′ W. long.;

(265) 34°04.15′ N. lat., 119°09.35′ W. long.;

(266) 34°04.89′ N. lat., 119°07.86′ W. long.;

(267) 34°04.08′ N. lat., 119°07.33′ W. long.;

(268) 34°04.10′ N. lat., 119°06.89′ W. long.;

(269) 34°05.08′ N. lat., 119°07.02′ W. long.;

(270) 34°05.27′ N. lat., 119°04.95′ W. long.;

(271) 34°04.51′ N. lat., 119°04.70′ W. long.;

(272) 34°02.26′ N. lat., 118°59.88′ W. long.;

(273) 34°01.08′ N. lat., 118°59.77′ W. long.;

(274) 34°00.94′ N. lat., 118°51.65′ W. long.;

(275) 33°59.77′ N. lat., 118°49.26′ W. long.;

(276) 34°00.04′ N. lat., 118°48.92′ W. long.;

(277) 33°59.65′ N. lat., 118°48.43′ W. long.;

(278) 33°59.46′ N. lat., 118°47.25′ W. long.;

(279) 33°59.80′ N. lat., 118°45.89′ W. long.;

(280) 34°00.21′ N. lat., 118°37.64′ W. long.;

(281) 33°59.26′ N. lat., 118°34.58′ W. long.;

(282) 33°58.07′ N. lat., 118°33.36′ W. long.;

(283) 33°53.76′ N. lat., 118°30.14′ W. long.;

(284) 33°51.00′ N. lat., 118°25.19′ W. long.;

(285) 33°50.07′ N. lat., 118°24.70′ W. long.;

(286) 33°50.16′ N. lat., 118°23.77′ W. long.;

(287) 33°48.80′ N. lat., 118°25.31′ W. long.;

(288) 33°47.07′ N. lat., 118°27.07′ W. long.;

(289) 33°46.12′ N. lat., 118°26.87′ W. long.;

(290) 33°44.15′ N. lat., 118°25.15′ W. long.;

(291) 33°43.54′ N. lat., 118°23.02′ W. long.;

(292) 33°41.35′ N. lat., 118°18.86′ W. long.;

(293) 33°39.96′ N. lat., 118°17.37′ W. long.;

(294) 33°40.12′ N. lat., 118°16.33′ W. long.;

(295) 33°39.28′ N. lat., 118°16.21′ W. long.;

(296) 33°38.04′ N. lat., 118°14.86′ W. long.;

(297) 33°36.57′ N. lat., 118°14.67′ W. long.;

(298) 33°34.93′ N. lat., 118°10.94′ W. long.;

(299) 33°35.14′ N. lat., 118°08.61′ W. long.;

(300) 33°35.69′ N. lat., 118°07.68′ W. long.;

(301) 33°36.21′ N. lat., 118°07.53′ W. long.;

(302) 33°36.43′ N. lat., 118°06.73′ W. long.;

(303) 33°36.05′ N. lat., 118°06.15′ W. long.;

(304) 33°36.32′ N. lat., 118°03.91′ W. long.;

(305) 33°35.69′ N. lat., 118°03.64′ W. long.;

(306) 33°34.62′ N. lat., 118°00.04′ W. long.;

(307) 33°34.80′ N. lat., 117°57.73′ W. long.;

(308) 33°35.57′ N. lat., 117°56.62′ W. long.;

(309) 33°35.46′ N. lat., 117°55.99′ W. long.;

(310) 33°35.98′ N. lat., 117°55.99′ W. long.;

(311) 33°35.46′ N. lat., 117°55.38′ W. long.;

(312) 33°35.21′ N. lat., 117°53.46′ W. long.;

(313) 33°33.61′ N. lat., 117°50.45′ W. long.;

(314) 33°31.41′ N. lat., 117°47.28′ W. long.;

(315) 33°27.54′ N. lat., 117°44.36′ W. long.;

(316) 33°26.63′ N. lat., 117°43.17′ W. long.;

(317) 33°25.21′ N. lat., 117°40.90′ W. long.;

(318) 33°20.33′ N. lat., 117°35.99′ W. long.;

(319) 33°16.35′ N. lat., 117°31.51′ W. long.;

(320) 33°11.53′ N. lat., 117°26.81′ W. long.;

(321) 33°07.59′ N. lat., 117°21.13′ W. long.;

(322) 33°02.21′ N. lat., 117°19.05′ W. long.;

(323) 32°56.55′ N. lat., 117°17.70′ W. long.;

(324) 32°54.61′ N. lat., 117°16.60′ W. long.;

(325) 32°52.32′ N. lat., 117°15.97′ W. long.;

(326) 32°51.48′ N. lat., 117°16.15′ W. long.;

(327) 32°51.85′ N. lat., 117°17.26′ W. long.;

(328) 32°51.55′ N. lat., 117°19.01′ W. long.;

(329) 32°49.55′ N. lat., 117°19.63′ W. long.;

(330) 32°46.71′ N. lat., 117°18.32′ W. long.;

(331) 32°36.35′ N. lat., 117°15.68′ W. long.; and

(332) 32°32.85′ N. lat., 117°15.44′ W. long.

* * * * *

(j) The 40-fm (73-m) depth contour between 46°16′ N. lat. and the U.S. border with Mexico is defined by straight lines connecting all of the following points in the order stated:

(1) 46°16.00′ N. lat., 124°16.10′ W. long.;

(2) 46°15.29′ N. lat., 124°15.60′ W. long.;

(3) 46°11.90′ N. lat., 124°13.59′ W. long.;

(4) 46°06.94′ N. lat., 124°10.15′ W. long.;

(5) 46°05.33′ N. lat., 124°08.30′ W. long.;

(6) 45°58.69′ N. lat., 124°05.60′ W. long.;

(7) 45°57.71′ N. lat., 124°05.81′ W. long.;

(8) 45°53.98′ N. lat., 124°05.05′ W. long.;

(9) 45°49.75′ N. lat., 124°05.14′ W. long.;

(10) 45°47.87′ N. lat., 124°05.16′ W. long.;

(11) 45°47.07′ N. lat., 124°04.21′ W. long.;

(12) 45°46.00′ N. lat., 124°04.49′ W. long.;

(13) 45°44.34′ N. lat., 124°05.09′ W. long.;

(14) 45°40.64′ N. lat., 124°04.90′ W. long.;

(15) 45°33.00′ N. lat., 124°04.46′ W. long.;

(16) 45°32.27′ N. lat., 124°04.74′ W. long.;

(17) 45°29.26′ N. lat., 124°04.22′ W. long.;

(18) 45°20.25′ N. lat., 124°04.67′ W. long.;

(19) 45°19.99′ N. lat., 124°04.62′ W. long.;

(20) 45°17.50′ N. lat., 124°04.91′ W. long.;

(21) 45°11.29′ N. lat., 124°05.20′ W. long.;

(22) 45°05.80′ N. lat., 124°05.40′ W. long.;

(23) 45°05.08′ N. lat., 124°05.93′ W. long.;

(24) 45°03.83′ N. lat., 124°06.47′ W. long.;

(25) 45°01.70′ N. lat., 124°06.53′ W. long.;

(26) 44°58.75′ N. lat., 124°07.14′ W. long.;

(27) 44°51.28′ N. lat., 124°10.21′ W. long.;

(28) 44°49.49′ N. lat., 124°10.90′ W. long.;

(29) 44°44.96′ N. lat., 124°14.39′ W. long.;

(30) 44°43.44′ N. lat., 124°14.78′ W. long.;

(31) 44°42.26′ N. lat., 124°13.81′ W. long.;

(32) 44°41.68′ N. lat., 124°15.38′ W. long.;

(33) 44°34.87′ N. lat., 124°15.80′ W. long.;

(34) 44°33.74′ N. lat., 124°14.44′ W. long.;

(35) 44°27.66′ N. lat., 124°16.99′ W. long.;

(36) 44°19.13′ N. lat., 124°19.22′ W. long.;

(37) 44°15.35′ N. lat., 124°17.38′ W. long.;

(38) 44°14.38′ N. lat., 124°17.78′ W. long.;

(39) 44°12.80′ N. lat., 124°17.18′ W. long.;

(40) 44°09.23′ N. lat., 124°15.96′ W. long.;

(41) 44°08.38′ N. lat., 124°16.79′ W. long.;

(42) 44°08.30′ N. lat., 124°16.75′ W. long.;

(43) 44°01.18′ N. lat., 124°15.42′ W. long.;

(44) 43°51.61′ N. lat., 124°14.68′ W. long.;

(45) 43°42.66′ N. lat., 124°15.46′ W. long.;

(46) 43°40.49′ N. lat., 124°15.74′ W. long.;

(47) 43°38.77′ N. lat., 124°15.64′ W. long.;

(48) 43°34.52′ N. lat., 124°16.73′ W. long.;

(49) 43°28.82′ N. lat., 124°19.52′ W. long.;

(50) 43°23.91′ N. lat., 124°24.28′ W. long.;

(51) 43°20.83′ N. lat., 124°26.63′ W. long.;

(52) 43°17.96′ N. lat., 124°28.81′ W. long.;

(53) 43°16.75′ N. lat., 124°28.42′ W. long.;

(54) 43°13.97′ N. lat., 124°31.99′ W. long.;

(55) 43°13.72′ N. lat., 124°33.25′ W. long.;

(56) 43°12.26′ N. lat., 124°34.16′ W. long.;

(57) 43°10.96′ N. lat., 124°32.33′ W. long.;

(58) 43°05.65′ N. lat., 124°31.52′ W. long.;

(59) 42°59.66′ N. lat., 124°32.58′ W. long.;

(60) 42°54.97′ N. lat., 124°36.99′ W. long.;

(61) 42°53.81′ N. lat., 124°38.57′ W. long.;

(62) 42°50.00′ N. lat., 124°39.68′ W. long.;

(63) 42°49.13′ N. lat., 124°39.70′ W. long.;

(64) 42°46.47′ N. lat., 124°38.89′ W. long.;

(65) 42°45.74′ N. lat., 124°38.86′ W. long.;

(66) 42°44.79′ N. lat., 124°37.96′ W. long.;

(67) 42°45.01′ N. lat., 124°36.39′ W. long.;

(68) 42°44.14′ N. lat., 124°35.17′ W. long.;

(69) 42°42.14′ N. lat., 124°32.82′ W. long.;

(70) 42°40.50′ N. lat., 124°31.98′ W. long.;

(71) 42°38.81′ N. lat., 124°31.09′ W. long.;

(72) 42°35.91′ N. lat., 124°31.02′ W. long.;

(73) 42°31.34′ N. lat., 124°34.84′ W. long.;

(74) 42°28.13′ N. lat., 124°34.84′ W. long.;

(75) 42°26.74′ N. lat., 124°35.59′ W. long.;

(76) 42°23.84′ N. lat., 124°34.06′ W. long.;

(77) 42°21.68′ N. lat., 124°30.64′ W. long.;

(78) 42°19.62′ N. lat., 124°29.02′ W. long.;

(79) 42°15.01′ N. lat., 124°27.72′ W. long.;

(80) 42°13.67′ N. lat., 124°26.93′ W. long.;

(81) 42°11.38′ N. lat., 124°25.63′ W. long.;

(82) 42°04.66′ N. lat., 124°24.40′ W. long.;

(83) 42°00.00′ N. lat., 124°23.55′ W. long.;

(84) 41°51.35′ N. lat., 124°25.25′ W. long.;

(85) 41°44.10′ N. lat., 124°19.05′ W. long.;

(86) 41°38.00′ N. lat., 124°20.04′ W. long.;

(87) 41°18.43′ N. lat., 124°13.48′ W. long.;

(88) 40°55.12′ N. lat., 124°16.33′ W. long.;

(89) 40°41.00′ N. lat., 124°27.66′ W. long.;

(90) 40°36.71′ N. lat., 124°27.15′ W. long.;

(91) 40°32.81′ N. lat., 124°29.42′ W. long.;

(92) 40°30.00′ N. lat., 124°32.38′ W. long.;

(93) 40°29.13′ N. lat., 124°33.23′ W. long.;

(94) 40°24.55′ N. lat., 124°30.40′ W. long.;

(95) 40°22.32′ N. lat., 124°24.19′ W. long.;

(96) 40°19.67′ N. lat., 124°25.52′ W. long.;

(97) 40°18.63′ N. lat., 124°22.38′ W. long.;

(98) 40°15.21′ N. lat., 124°24.53′ W. long.;

(99) 40°12.56′ N. lat., 124°22.69′ W. long.;

(100) 40°10.00′ N. lat., 124°17.84′ W. long.;

(101) 40°09.30′ N. lat., 124°15.68′ W. long.;

(102) 40°08.31′ N. lat., 124°15.17′ W. long.;

(103) 40°05.62′ N. lat., 124°09.80′ W. long.;

(104) 40°06.57′ N. lat., 124°07.99′ W. long.;

(105) 40°00.86′ N. lat., 124°08.42′ W. long.;

(106) 39°54.79′ N. lat., 124°05.25′ W. long.;

(107) 39°52.75′ N. lat., 124°02.62′ W. long.;

(108) 39°52.51′ N. lat., 123°58.15′ W. long.;

(109) 39°49.64′ N. lat., 123°54.98′ W. long.;

(110) 39°41.46′ N. lat., 123°50.65′ W. long.;

(111) 39°34.57′ N. lat., 123°49.24′ W. long.;

(112) 39°22.62′ N. lat., 123°51.21′ W. long.;

(113) 39°04.58′ N. lat., 123°45.43′ W. long.;

(114) 39°00.45′ N. lat., 123°47.58′ W. long.;

(115) 38°57.50′ N. lat., 123°47.27′ W. long.;

(116) 38°55.82′ N. lat., 123°46.97′ W. long.;

(117) 38°52.26′ N. lat., 123°44.35′ W. long.;

(118) 38°45.41′ N. lat., 123°35.67′ W. long.;

(119) 38°40.60′ N. lat., 123°28.22′ W. long.;

(120) 38°21.64′ N. lat., 123°08.91′ W. long.;

(121) 38°12.01′ N. lat., 123°03.86′ W. long.;

(122) 38°06.16′ N. lat., 123°07.01′ W. long.;

(123) 38°00.00′ N. lat., 123°07.05′ W. long.;

(124) 37°51.73′ N. lat., 122°57.97′ W. long.;

(125) 37°47.96′ N. lat., 122°59.34′ W. long.;

(126) 37°47.37′ N. lat., 123°08.84′ W. long.;

(127) 37°50.00′ N. lat., 123°14.38′ W. long.;

(128) 37°39.91′ N. lat., 123°00.84′ W. long.;

(129) 37°38.75′ N. lat., 122°52.16′ W. long.;

(130) 37°35.67′ N. lat., 122°49.47′ W. long.;

(131) 37°20.24′ N. lat., 122°33.82′ W. long.;

(132) 37°11.00′ N. lat., 122°28.50′ W. long.;

(133) 37°07.00′ N. lat., 122°26.26′ W. long.;

(134) 36°52.04′ N. lat., 122°04.60′ W. long.;

(135) 36°52.00′ N. lat., 121°57.41′ W. long.;

(136) 36°49.26′ N. lat., 121°52.53′ W. long.;

(137) 36°49.22′ N. lat., 121°49.85′ W. long.;

(138) 36°47.87′ N. lat., 121°50.15′ W. long.;

(139) 36°48.07′ N. lat., 121°48.21′ W. long.;

(140) 36°45.93′ N. lat., 121°52.11′ W. long.;

(141) 36°40.55′ N. lat., 121°52.59′ W. long.;

(142) 36°38.93′ N. lat., 121°58.17′ W. long.;

(143) 36°36.54′ N. lat., 122°00.18′ W. long.;

(144) 36°32.96′ N. lat., 121°58.84′ W. long.;

(145) 36°33.14′ N. lat., 121°57.56′ W. long.;

(146) 36°31.81′ N. lat., 121°55.86′ W. long.;

(147) 36°31.53′ N. lat., 121°58.09′ W. long.;

(148) 36°23.28′ N. lat., 121°56.10′ W. long.;

(149) 36°17.52′ N. lat., 121°57.33′ W. long.;

(150) 36°15.90′ N. lat., 121°57.00′ W. long.;

(151) 36°11.06′ N. lat., 121°43.10′ W. long.;

(152) 36°02.85′ N. lat., 121°36.21′ W. long.;

(153) 36°01.22′ N. lat., 121°36.36′ W. long.;

(154) 36°00.00′ N. lat., 121°34.73′ W. long.;

(155) 35°58.67′ N. lat., 121°30.68′ W. long.;

(156) 35°54.16′ N. lat., 121°30.21′ W. long.;

(157) 35°46.98′ N. lat., 121°24.02′ W. long.;

(158) 35°40.75′ N. lat., 121°21.89′ W. long.;

(159) 35°34.36′ N. lat., 121°11.07′ W. long.;

(160) 35°29.30′ N. lat., 121°05.74′ W. long.;

(161) 35°22.15′ N. lat., 120°56.15′ W. long.;

(162) 35°14.93′ N. lat., 120°56.37′ W. long.;

(163) 35°04.06′ N. lat., 120°46.35′ W. long.;

(164) 34°45.85′ N. lat., 120°43.96′ W. long.;

(165) 34°37.80′ N. lat., 120°44.44′ W. long.;

(166) 34°32.82′ N. lat., 120°42.08′ W. long.;

(167) 34°27.00′ N. lat., 120°31.27′ W. long.;

(168) 34°24.25′ N. lat., 120°23.33′ W. long.;

(169) 34°26.48′ N. lat., 120°13.93′ W. long.;

(170) 34°25.12′ N. lat., 120°03.46′ W. long.;

(171) 34°17.58′ N. lat., 119°31.62′ W. long.;

(172) 34°11.49′ N. lat., 119°27.30′ W. long.;

(173) 34°05.59′ N. lat., 119°15.52′ W. long.;

(174) 34°08.60′ N. lat., 119°12.93′ W. long.;

(175) 34°04.81′ N. lat., 119°13.44′ W. long.;

(176) 34°04.26′ N. lat., 119°12.39′ W. long.;

(177) 34°03.89′ N. lat., 119°07.06′ W. long.;

(178) 34°05.14′ N. lat., 119°05.55′ W. long.;

(179) 34°01.27′ N. lat., 118°59.62′ W. long.;

(180) 33°59.56′ N. lat., 118°48.21′ W. long.;

(181) 33°59.30′ N. lat., 118°35.43′ W. long.;

(182) 33°55.14′ N. lat., 118°32.16′ W. long.;

(183) 33°52.95′ N. lat., 118°34.49′ W. long.;

(184) 33°51.07′ N. lat., 118°31.50′ W. long.;

(185) 33°52.45′ N. lat., 118°28.54′ W. long.;

(186) 33°49.86′ N. lat., 118°24.10′ W. long.;

(187) 33°47.14′ N. lat., 118°28.38′ W. long.;

(188) 33°44.14′ N. lat., 118°25.18′ W. long.;

(189) 33°41.54′ N. lat., 118°19.63′ W. long.;

(190) 33°37.86′ N. lat., 118°15.06′ W. long.;

(191) 33°36.58′ N. lat., 118°15.97′ W. long.;

(192) 33°34.78′ N. lat., 118°12.60′ W. long.;

(193) 33°34.46′ N. lat., 118°08.77′ W. long.;

(194) 33°35.92′ N. lat., 118°07.04′ W. long.;

(195) 33°36.06′ N. lat., 118°03.96′ W. long.;

(196) 33°34.98′ N. lat., 118°02.74′ W. long.;

(197) 33°34.03′ N. lat., 117°59.37′ W. long.;

(198) 33°35.46′ N. lat., 117°55.61′ W. long.;

(199) 33°34.97′ N. lat., 117°53.33′ W. long.;

(200) 33°31.20′ N. lat., 117°47.40′ W. long.;

(201) 33°27.26′ N. lat., 117°44.34′ W. long.;

(202) 33°24.84′ N. lat., 117°40.75′ W. long.;

(203) 33°11.45′ N. lat., 117°26.84′ W. long.;

(204) 33°07.59′ N. lat., 117°21.46′ W. long.;

(205) 33°01.74′ N. lat., 117°19.23′ W. long.;

(206) 32°56.44′ N. lat., 117°18.08′ W. long.;

(207) 32°54.63′ N. lat., 117°16.94′ W. long.;

(208) 32°51.67′ N. lat., 117°16.21′ W. long.;

(209) 32°52.16′ N. lat., 117°19.41′ W. long.;

(210) 32°46.91′ N. lat., 117°20.43′ W. long.;

(211) 32°43.49′ N. lat., 117°18.12′ W. long.; and

(212) 32°33.00′ N. lat., 117°16.39′ W. long.

* * * * *

20. In § 660.392, paragraphs (a), (b), (f), and (j) are revised to read as follows:

§ 660.392 Latitude/longitude coordinates defining the 50-fm (91-m) through 75-fm (137-m) depth contours.

* * * * *

(a) The 50-fm (91-m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°17.32′ W. long.;

(23) 45°50.88′ N. lat., 124°09.68′ W. long.;

(24) 45°46.00′ N. lat., 124°09.39′ W. long.;

(25) 45°20.25′ N. lat., 124°07.34′ W. long.;

(26) 45°12.99′ N. lat., 124°06.71′ W. long.;

(27) 45°03.83′ N. lat., 124°09.17′ W. long.;

(28) 44°52.48′ N. lat., 124°11.22′ W. long.;

(29) 44°42.41′ N. lat., 124°19.70′ W. long.;

(30) 44°38.80′ N. lat., 124°26.58′ W. long.;

(31) 44°23.39′ N. lat., 124°31.70′ W. long.;

(32) 44°20.30′ N. lat., 124°38.72′ W. long.;

(33) 44°13.52′ N. lat., 124°40.45′ W. long.;

(34) 44°18.80′ N. lat., 124°35.48′ W. long.;

(35) 44°19.62′ N. lat., 124°27.18′ W. long.;

(36) 44°08.30′ N. lat., 124°22.17′ W. long.;

(37) 43°56.65′ N. lat., 124°16.86′ W. long.;

(38) 43°34.95′ N. lat., 124°17.47′ W. long.;

(39) 43°20.83′ N. lat., 124°29.11′ W. long.;

(40) 43°12.60′ N. lat., 124°35.80′ W. long.;

(41) 43°08.96′ N. lat., 124°33.77′ W. long.;

(42) 42°59.66′ N. lat., 124°34.79′ W. long.;

(43) 42°54.29′ N. lat., 124°39.46′ W. long.;

(44) 42°50.00′ N. lat., 124°39.84′ W. long.;

(45) 42°46.50′ N. lat., 124°39.99′ W. long.;

(46) 42°41.00′ N. lat., 124°34.92′ W. long.;

(47) 42°40.50′ N. lat., 124°34.98′ W. long.;

(48) 42°36.29′ N. lat., 124°34.70′ W. long.;

(49) 42°28.36′ N. lat., 124°37.90′ W. long.;

(50) 42°25.53′ N. lat., 124°37.68′ W. long.;

(51) 42°18.64′ N. lat., 124°29.47′ W. long.;

(52) 42°13.67′ N. lat., 124°27.67′ W. long.;

(53) 42°03.04′ N. lat., 124°25.81′ W. long.;

(54) 42°00.00′ N. lat., 124°26.21′ W. long.;

(55) 41°57.60′ N. lat., 124°27.35′ W. long.;

(56) 41°52.53′ N. lat., 124°26.51′ W. long.;

(57) 41°50.17′ N. lat., 124°25.63′ W. long.;

(58) 41°46.01′ N. lat., 124°22.16′ W. long.;

(59) 41°26.50′ N. lat., 124°21.78′ W. long.;

(60) 41°15.66′ N. lat., 124°16.42′ W. long.;

(61) 41°05.45′ N. lat., 124°16.89′ W. long.;

(62) 40°54.55′ N. lat., 124°19.53′ W. long.;

(63) 40°42.22′ N. lat., 124°28.29′ W. long.;

(64) 40°39.68′ N. lat., 124°28.37′ W. long.;

(65) 40°36.76′ N. lat., 124°27.39′ W. long.;

(66) 40°34.44′ N. lat., 124°28.89′ W. long.;

(67) 40°32.57′ N. lat., 124°32.43′ W. long.;

(68) 40°30.95′ N. lat., 124°33.87′ W. long.;

(69) 40°30.00′ N. lat., 124°34.18′ W. long.;

(70) 40°28.90′ N. lat., 124°34.59′ W. long.;

(71) 40°24.36′ N. lat., 124°31.42′ W. long.;

(72) 40°23.66′ N. lat., 124°28.35′ W. long.;

(73) 40°22.54′ N. lat., 124°24.71′ W. long.;

(74) 40°21.52′ N. lat., 124°24.86′ W. long.;

(75) 40°21.25′ N. lat., 124°25.59′ W. long.;

(76) 40°20.63′ N. lat., 124°26.47′ W. long.;

(77) 40°19.18′ N. lat., 124°25.98′ W. long.;

(78) 40°18.42′ N. lat., 124°24.77′ W. long.;

(79) 40°18.64′ N. lat., 124°22.81′ W. long.;

(80) 40°15.31′ N. lat., 124°25.28′ W. long.;

(81) 40°15.37′ N. lat., 124°26.82′ W. long.;

(82) 40°11.91′ N. lat., 124°22.68′ W. long.;

(83) 40°10.00′ N. lat., 124°19.97′ W. long.;

(84) 40°09.20′ N. lat., 124°15.81′ W. long.;

(85) 40°07.51′ N. lat., 124°15.29′ W. long.;

(86) 40°05.22′ N. lat., 124°10.06′ W. long.;

(87) 40°06.51′ N. lat., 124°08.01′ W. long.;

(88) 40°00.72′ N. lat., 124°08.45′ W. long.;

(89) 39°56.60′ N. lat., 124°07.12′ W. long.;

(90) 39°52.58′ N. lat., 124°03.57′ W. long.;

(91) 39°50.65′ N. lat., 123°57.98′ W. long.;

(92) 39°40.16′ N. lat., 123°52.41′ W. long.;

(93) 39°30.12′ N. lat., 123°52.92′ W. long.;

(94) 39°24.53′ N. lat., 123°55.16′ W. long.;

(95) 39°11.58′ N. lat., 123°50.93′ W. long.;

(96) 38°57.50′ N. lat., 123°51.10′ W. long.;

(97) 38°55.13′ N. lat., 123°51.14′ W. long.;

(98) 38°28.58′ N. lat., 123°22.84′ W. long.;

(99) 38°14.60′ N. lat., 123°09.92′ W. long.;

(100) 38°01.84′ N. lat., 123°09.75′ W. long.;

(101) 38°00.00′ N. lat., 123°09.25′ W. long.;

(102) 37°55.24′ N. lat., 123°08.30′ W. long.;

(103) 37°52.06′ N. lat., 123°09.19′ W. long.;

(104) 37°50.21′ N. lat., 123°14.90′ W. long.;

(105) 37°35.67′ N. lat., 122°55.43′ W. long.;

(106) 37°11.00′ N. lat., 122°31.67′ W. long.;

(107) 37°07.00′ N. lat., 122°28.00′ W. long.;

(108) 37°03.06′ N. lat., 122°24.22′ W. long.;

(109) 36°50.20′ N. lat., 122°03.58′ W. long.;

(110) 36°51.46′ N. lat., 121°57.54′ W. long.;

(111) 36°48.53′ N. lat., 121°57.84′ W. long.;

(112) 36°48.91′ N. lat., 121°49.92′ W. long.;

(113) 36°36.82′ N. lat., 122°00.66′ W. long.;

(114) 36°32.89′ N. lat., 121°58.85′ W. long.;

(115) 36°33.10′ N. lat., 121°57.56′ W. long.;

(116) 36°31.82′ N. lat., 121°55.96′ W. long.;

(117) 36°31.57′ N. lat., 121°58.15′ W. long.;

(118) 36°23.15′ N. lat., 121°57.12′ W. long.;

(119) 36°17.10′ N. lat., 122°00.53′ W. long.;

(120) 36°10.41′ N. lat., 121°42.92′ W. long.;

(121) 36°02.56′ N. lat., 121°36.37′ W. long.;

(122) 36°01.11′ N. lat., 121°36.39′ W. long.;

(123) 36°00.00′ N. lat., 121°35.15′ W. long.;

(124) 35°58.26′ N. lat., 121°32.88′ W. long.;

(125) 35°40.38′ N. lat., 121°22.59′ W. long.;

(126) 35°24.35′ N. lat., 121°02.53′ W. long.;

(127) 35°01.43′ N. lat., 120°48.01′ W. long.;

(128) 34°39.52′ N. lat., 120°48.72′ W. long.;

(129) 34°31.26′ N. lat., 120°44.12′ W. long.;

(130) 34°27.00′ N. lat., 120°33.31′ W. long.;

(131) 34°23.47′ N. lat., 120°24.76′ W. long.;

(132) 34°25.78′ N. lat., 120°16.82′ W. long.;

(133) 34°24.65′ N. lat., 120°04.83′ W. long.;

(134) 34°23.18′ N. lat., 119°56.18′ W. long.;

(135) 34°19.20′ N. lat., 119°41.64′ W. long.;

(136) 34°16.82′ N. lat., 119°35.32′ W. long.;

(137) 34°13.43′ N. lat., 119°32.29′ W. long.;

(138) 34°05.39′ N. lat., 119°15.13′ W. long.;

(139) 34°08.22′ N. lat., 119°13.64′ W. long.;

(140) 34°07.64′ N. lat., 119°13.10′ W. long.;

(141) 34°04.56′ N. lat., 119°13.73′ W. long.;

(142) 34°03.90′ N. lat., 119°12.66′ W. long.;

(143) 34°03.66′ N. lat., 119°06.82′ W. long.;

(144) 34°04.58′ N. lat., 119°04.91′ W. long.;

(145) 34°01.28′ N. lat., 119°00.21′ W. long.;

(146) 34°00.19′ N. lat., 119°03.14′ W. long.;

(147) 33°59.66′ N. lat., 119°03.10′ W. long.;

(148) 33°59.54′ N. lat., 119°00.88′ W. long.;

(149) 34°00.82′ N. lat., 118°59.03′ W. long.;

(150) 33°59.11′ N. lat., 118°47.52′ W. long.;

(151) 33°59.07′ N. lat., 118°36.33′ W. long.;

(152) 33°55.06′ N. lat., 118°32.86′ W. long.;

(153) 33°53.56′ N. lat., 118°37.75′ W. long.;

(154) 33°51.22′ N. lat., 118°36.14′ W. long.;

(155) 33°50.48′ N. lat., 118°32.16′ W. long.;

(156) 33°51.86′ N. lat., 118°28.71′ W. long.;

(157) 33°50.09′ N. lat., 118°27.88′ W. long.;

(158) 33°49.95′ N. lat., 118°26.38′ W. long.;

(159) 33°50.73′ N. lat., 118°26.17′ W. long.;

(160) 33°49.86′ N. lat., 118°24.25′ W. long.;

(161) 33°48.10′ N. lat., 118°26.87′ W. long.;

(162) 33°47.54′ N. lat., 118°29.66′ W. long.;

(163) 33°44.10′ N. lat., 118°25.25′ W. long.;

(164) 33°41.78′ N. lat., 118°20.28′ W. long.;

(165) 33°38.18′ N. lat., 118°15.69′ W. long.;

(166) 33°37.50′ N. lat., 118°16.71′ W. long.;

(167) 33°35.98′ N. lat., 118°16.54′ W. long.;

(168) 33°34.15′ N. lat., 118°11.22′ W. long.;

(169) 33°34.29′ N. lat., 118°08.35′ W. long.;

(170) 33°35.85′ N. lat., 118°07.00′ W. long.;

(171) 33°36.12′ N. lat., 118°04.15′ W. long.;

(172) 33°34.97′ N. lat., 118°02.91′ W. long.;

(173) 33°34.00′ N. lat., 117°59.53′ W. long.;

(174) 33°35.44′ N. lat., 117°55.67′ W. long.;

(175) 33°35.15′ N. lat., 117°53.55′ W. long.;

(176) 33°31.12′ N. lat., 117°47.40′ W. long.;

(177) 33°27.99′ N. lat., 117°45.19′ W. long.;

(178) 33°26.93′ N. lat., 117°43.98′ W. long.;

(179) 33°25.44′ N. lat., 117°41.63′ W. long.;

(180) 33°19.50′ N. lat., 117°36.08′ W. long.;

(181) 33°12.74′ N. lat., 117°28.53′ W. long.;

(182) 33°10.29′ N. lat., 117°25.68′ W. long.;

(183) 33°07.50′ N. lat., 117°21.52′ W. long.;

(184) 32°59.77′ N. lat., 117°18.83′ W. long.;

(185) 32°56.10′ N. lat., 117°18.37′ W. long.;

(186) 32°54.43′ N. lat., 117°16.93′ W. long.;

(187) 32°51.89′ N. lat., 117°16.42′ W. long.;

(188) 32°52.24′ N. lat., 117°19.36′ W. long.;

(189) 32°47.06′ N. lat., 117°21.92′ W. long.;

(190) 32°45.09′ N. lat., 117°20.68′ W. long.;

(191) 32°43.62′ N. lat., 117°18.68′ W. long.; and

(192) 32°33.43′ N. lat., 117°17.00′ W. long.

(b) The 50-fm (91-m) depth contour between the U.S. border with Canada and the Swiftsure Bank is defined by straight lines connecting all of the following points in the order stated:

(1) 48°30.15′ N. lat., 124°56.12′ W. long.;

(2) 48°28.29′ N. lat., 124°56.30′ W. long.;

(3) 48°29.23′ N. lat., 124°53.63′ W. long.;

(4) 48°30.31′ N. lat., 124°51.73′ W. long.; and

(5) 48°30.15′ N. lat., 124°56.12′ W. long.

* * * * *

(f) The 60-fm (110-m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.80′ W. long.;

(31) 46°11.23′ N. lat., 124°19.96′ W. long.;

(32) 46°02.51′ N. lat., 124°19.84′ W. long.;

(33) 45°59.05′ N. lat., 124°16.52′ W. long.;

(34) 45°50.99′ N. lat., 124°12.83′ W. long.;

(35) 45°45.85′ N. lat., 124°11.54′ W. long.;

(36) 45°38.53′ N. lat., 124°11.92′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.63′ N. lat., 124°20.07′ W. long.;

(43) 44°39.23′ N. lat., 124°28.09′ W. long.;

(44) 44°30.61′ N. lat., 124°31.66′ W. long.;

(45) 44°26.20′ N. lat., 124°35.87′ W. long.;

(46) 44°23.65′ N. lat., 124°39.07′ W. long.;

(47) 44°20.30′ N. lat., 124°38.72′ W. long.;

(48) 44°13.52′ N. lat., 124°40.45′ W. long.;

(49) 44°10.97′ N. lat., 124°38.78′ W. long.;

(50) 44°08.71′ N. lat., 124°33.54′ W. long.;

(51) 44°04.91′ N. lat., 124°24.55′ W. long.;

(52) 43°57.49′ N. lat., 124°20.05′ W. long.;

(53) 43°50.26′ N. lat., 124°21.85′ W. long.;

(54) 43°41.69′ N. lat., 124°21.94′ W. long.;

(55) 43°35.51′ N. lat., 124°21.51′ W. long.;

(56) 43°25.77′ N. lat., 124°28.47′ W. long.;

(57) 43°20.25′ N. lat., 124°31.59′ W. long.;

(58) 43°12.73′ N. lat., 124°36.68′ W. long.;

(59) 43°08.08′ N. lat., 124°36.10′ W. long.;

(60) 43°00.33′ N. lat., 124°37.57′ W. long.;

(61) 42°53.99′ N. lat., 124°41.03′ W. long.;

(62) 42°46.66′ N. lat., 124°41.13′ W. long.;

(63) 42°41.74′ N. lat., 124°37.46′ W. long.;

(64) 42°37.42′ N. lat., 124°37.22′ W. long.;

(65) 42°27.35′ N. lat., 124°39.91′ W. long.;

(66) 42°23.94′ N. lat., 124°38.29′ W. long.;

(67) 42°17.72′ N. lat., 124°31.10′ W. long.;

(68) 42°10.36′ N. lat., 124°29.11′ W. long.;

(69) 42°00.00′ N. lat., 124°28.00′ W. long.;

(70) 41°54.87′ N. lat., 124°28.50′ W. long.;

(71) 41°45.80′ N. lat., 124°23.89′ W. long.;

(72) 41°34.40′ N. lat., 124°24.03′ W. long.;

(73) 41°28.33′ N. lat., 124°25.46′ W. long.;

(74) 41°15.80′ N. lat., 124°18.90′ W. long.;

(75) 41°09.77′ N. lat., 124°17.99′ W. long.;

(76) 41°02.26′ N. lat., 124°18.71′ W. long.;

(77) 40°53.54′ N. lat., 124°21.18′ W. long.;

(78) 40°49.93′ N. lat., 124°23.02′ W. long.;

(79) 40°43.15′ N. lat., 124°28.74′ W. long.;

(80) 40°40.19′ N. lat., 124°29.07′ W. long.;

(81) 40°36.77′ N. lat., 124°27.61′ W. long.;

(82) 40°34.13′ N. lat., 124°29.39′ W. long.;

(83) 40°33.15′ N. lat., 124°33.46′ W. long.;

(84) 40°30.00′ N. lat., 124°35.84′ W. long.;

(85) 40°24.72′ N. lat., 124°33.06′ W. long.;

(86) 40°23.91′ N. lat., 124°31.28′ W. long.;

(87) 40°23.67′ N. lat., 124°28.35′ W. long.;

(88) 40°22.53′ N. lat., 124°24.72′ W. long.;

(89) 40°21.51′ N. lat., 124°24.86′ W. long.;

(90) 40°21.02′ N. lat., 124°27.70′ W. long.;

(91) 40°19.75′ N. lat., 124°27.06′ W. long.;

(92) 40°18.23′ N. lat., 124°25.30′ W. long.;

(93) 40°18.60′ N. lat., 124°22.86′ W. long.;

(94) 40°15.43′ N. lat., 124°25.37′ W. long.;

(95) 40°15.55′ N. lat., 124°28.16′ W. long.;

(96) 40°11.27′ N. lat., 124°22.56′ W. long.;

(97) 40°10.00′ N. lat., 124°19.97′ W. long.;

(98) 40°09.20′ N. lat., 124°15.81′ W. long.;

(99) 40°07.51′ N. lat., 124°15.29′ W. long.;

(100) 40°05.22′ N. lat., 124°10.06′ W. long.;

(101) 40°06.51′ N. lat., 124°08.01′ W. long.;

(102) 40°00.72′ N. lat., 124°08.45′ W. long.;

(103) 39°56.60′ N. lat., 124°07.12′ W. long.;

(104) 39°52.58′ N. lat., 124°03.57′ W. long.;

(105) 39°50.65′ N. lat., 123°57.98′ W. long.;

(106) 39°40.16′ N. lat., 123°52.41′ W. long.;

(107) 39°30.12′ N. lat., 123°52.92′ W. long.;

(108) 39°24.53′ N. lat., 123°55.16′ W. long.;

(109) 39°11.58′ N. lat., 123°50.93′ W. long.;

(110) 38°57.50′ N. lat., 123°51.14′ W. long.;

(111) 38°55.13′ N. lat., 123°51.14′ W. long.;

(112) 38°28.58′ N. lat., 123°22.84′ W. long.;

(113) 38°08.57′ N. lat., 123°14.74′ W. long.;

(114) 38°00.00′ N. lat., 123°15.61′ W. long.;

(115) 37°56.98′ N. lat., 123°21.82′ W. long.;

(116) 37°49.65′ N. lat., 123°17.48′ W. long.;

(117) 37°36.41′ N. lat., 122°58.09′ W. long.;

(118) 37°11.00′ N. lat., 122°40.22′ W. long.;

(119) 37°07.00′ N. lat., 122°37.64′ W. long.;

(120) 37°02.08′ N. lat., 122°25.49′ W. long.;

(121) 36°48.20′ N. lat., 122°03.32′ W. long.;

(122) 36°51.46′ N. lat., 121°57.54′ W. long.;

(123) 36°48.13′ N. lat., 121°58.16′ W. long.;

(124) 36°48.84′ N. lat., 121°50.06′ W. long.;

(125) 36°45.38′ N. lat., 121°53.56′ W. long.;

(126) 36°45.13′ N. lat., 121°57.06′ W. long.;

(127) 36°36.86′ N. lat., 122°00.81′ W. long.;

(128) 36°32.77′ N. lat., 121°58.90′ W. long.;

(129) 36°33.03′ N. lat., 121°57.63′ W. long.;

(130) 36°31.87′ N. lat., 121°56.10′ W. long.;

(131) 36°31.59′ N. lat., 121°58.27′ W. long.;

(132) 36°23.26′ N. lat., 121°57.70′ W. long.;

(133) 36°17.30′ N. lat., 122°01.55′ W. long.;

(134) 36°10.42′ N. lat., 121°42.90′ W. long.;

(135) 36°02.55′ N. lat., 121°36.35′ W. long.;

(136) 36°01.09′ N. lat., 121°36.41′ W. long.;

(137) 36°00.00′ N. lat., 121°35.15′ W. long.;

(138) 35°58.25′ N. lat., 121°32.88′ W. long.;

(139) 35°40.38′ N. lat., 121°22.59′ W. long.;

(140) 35°24.35′ N. lat., 121°02.53′ W. long.;

(141) 35°01.36′ N. lat., 120°49.02′ W. long.;

(142) 34°39.52′ N. lat., 120°48.72′ W. long.;

(143) 34°31.26′ N. lat., 120°44.12′ W. long.;

(144) 34°27.00′ N. lat., 120°36.00′ W. long.;

(145) 34°23.00′ N. lat., 120°25.32′ W. long.;

(146) 34°25.65′ N. lat., 120°17.20′ W. long.;

(147) 34°23.18′ N. lat., 119°56.17′ W. long.;

(148) 34°18.73′ N. lat., 119°41.89′ W. long.;

(149) 34°11.18′ N. lat., 119°31.21′ W. long.;

(150) 34°10.01′ N. lat., 119°25.84′ W. long.;

(151) 34°03.88′ N. lat., 119°12.46′ W. long.;

(152) 34°03.58′ N. lat., 119°06.71′ W. long.;

(153) 34°04.52′ N. lat., 119°04.89′ W. long.;

(154) 34°01.28′ N. lat., 119°00.27′ W. long.;

(155) 34°00.20′ N. lat., 119°03.18′ W. long.;

(156) 33°59.60′ N. lat., 119°03.14′ W. long.;

(157) 33°59.45′ N. lat., 119°00.87′ W. long.;

(158) 34°00.71′ N. lat., 118°59.07′ W. long.;

(159) 33°59.05′ N. lat., 118°47.34′ W. long.;

(160) 33°59.06′ N. lat., 118°36.30′ W. long.;

(161) 33°55.05′ N. lat., 118°32.85′ W. long.;

(162) 33°53.56′ N. lat., 118°37.73′ W. long.;

(163) 33°51.22′ N. lat., 118°36.13′ W. long.;

(164) 33°50.19′ N. lat., 118°32.19′ W. long.;

(165) 33°51.28′ N. lat., 118°29.12′ W. long.;

(166) 33°49.89′ N. lat., 118°28.04′ W. long.;

(167) 33°49.95′ N. lat., 118°26.38′ W. long.;

(168) 33°50.73′ N. lat., 118°26.16′ W. long.;

(169) 33°49.87′ N. lat., 118°24.37′ W. long.;

(170) 33°47.54′ N. lat., 118°29.65′ W. long.;

(171) 33°44.10′ N. lat., 118°25.25′ W. long.;

(172) 33°41.77′ N. lat., 118°20.32′ W. long.;

(173) 33°38.17′ N. lat., 118°15.69′ W. long.;

(174) 33°37.48′ N. lat., 118°16.72′ W. long.;

(175) 33°35.98′ N. lat., 118°16.54′ W. long.;

(176) 33°34.15′ N. lat., 118°11.22′ W. long.;

(177) 33°34.09′ N. lat., 118°08.15′ W. long.;

(178) 33°35.73′ N. lat., 118°05.01′ W. long.;

(179) 33°33.75′ N. lat., 117°59.82′ W. long.;

(180) 33°35.44′ N. lat., 117°55.65′ W. long.;

(181) 33°35.15′ N. lat., 117°53.54′ W. long.;

(182) 33°31.12′ N. lat., 117°47.39′ W. long.;

(183) 33°27.49′ N. lat., 117°44.85′ W. long.;

(184) 33°16.42′ N. lat., 117°32.92′ W. long.;

(185) 33°06.66′ N. lat., 117°21.59′ W. long.;

(186) 33°00.08′ N. lat., 117°19.02′ W. long.;

(187) 32°56.11′ N. lat., 117°18.41′ W. long.;

(188) 32°54.43′ N. lat., 117°16.93′ W. long.;

(189) 32°51.89′ N. lat., 117°16.42′ W. long.;

(190) 32°52.61′ N. lat., 117°19.50′ W. long.;

(191) 32°46.96′ N. lat., 117°22.69′ W. long.;

(192) 32°44.98′ N. lat., 117°21.87′ W. long.;

(193) 32°43.52′ N. lat., 117°19.32′ W. long.; and

(194) 32°33.56′ N. lat., 117°17.72′ W. long.

* * * * *

(j) The 75-fm (137-m) depth contour used between the U.S. border with Canada and the U.S. border with Mexico is defined by straight lines connecting all of the following points in the order stated:

(1) 48°16.80′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.77′ N. lat., 125°02.59′ W. long.;

(12) 48°23.00′ N. lat., 124°59.30′ W. long.;

(13) 48°23.90′ N. lat., 124°54.37′ W. long.;

(14) 48°23.05′ N. lat., 124°48.80′ W. long.;

(15) 48°17.10′ N. lat., 124°54.82′ W. long.;

(16) 48°05.10′ N. lat., 124°59.40′ W. long.;

(17) 48°04.50′ N. lat., 125°02.00′ W. long.;

(18) 48°04.70′ N. lat., 125°04.08′ W. long.;

(19) 48°05.20′ N. lat., 125°04.90′ W. long.;

(20) 48°06.25′ N. lat., 125°06.40′ W. long.;

(21) 48°05.91′ N. lat., 125°08.30′ W. long.;

(22) 48°07.00′ N. lat., 125°09.80′ W. long.;

(23) 48°06.93′ N. lat., 125°11.48′ W. long.;

(24) 48°04.98′ N. lat., 125°10.02′ W. long.;

(25) 47°54.00′ N. lat., 125°04.98′ W. long.;

(26) 47°44.52′ N. lat., 125°00.00′ W. long.;

(27) 47°42.00′ N. lat., 124°58.98′ W. long.;

(28) 47°35.52′ N. lat., 124°55.50′ W. long.;

(29) 47°22.02′ N. lat., 124°44.40′ W. long.;

(30) 47°16.98′ N. lat., 124°45.48′ W. long.;

(31) 47°10.98′ N. lat., 124°48.48′ W. long.;

(32) 47°04.98′ N. lat., 124°49.02′ W. long.;

(33) 46°57.98′ N. lat., 124°46.50′ W. long.;

(34) 46°54.00′ N. lat., 124°45.00′ W. long.;

(35) 46°48.48′ N. lat., 124°44.52′ W. long.;

(36) 46°40.02′ N. lat., 124°36.00′ W. long.;

(37) 46°34.09′ N. lat., 124°27.03′ W. long.;

(38) 46°24.64′ N. lat., 124°30.33′ W. long.;

(39) 46°19.98′ N. lat., 124°36.00′ W. long.;

(40) 46°18.14′ N. lat., 124°34.26′ W. long.;

(41) 46°18.72′ N. lat., 124°22.68′ W. long.;

(42) 46°16.00′ N. lat., 124°19.49′ W. long.;

(43) 46°14.63′ N. lat., 124°22.54′ W. long.;

(44) 46°11.08′ N. lat., 124°30.74′ W. long.;

(45) 46°04.28′ N. lat., 124°31.49′ W. long.;

(46) 45°55.97′ N. lat., 124°19.95′ W. long.;

(47) 45°46.00′ N. lat., 124°16.41′ W. long.;

(48) 45°44.97′ N. lat., 124°15.95′ W. long.;

(49) 45°43.14′ N. lat., 124°21.86′ W. long.;

(50) 45°34.45′ N. lat., 124°14.44′ W. long.;

(51) 45°20.25′ N. lat., 124°12.23′ W. long.;

(52) 45°15.49′ N. lat., 124°11.49′ W. long.;

(53) 45°03.83′ N. lat., 124°13.75′ W. long.;

(54) 44°57.31′ N. lat., 124°15.03′ W. long.;

(55) 44°43.90′ N. lat., 124°28.88′ W. long.;

(56) 44°28.64′ N. lat., 124°35.67′ W. long.;

(57) 44°25.31′ N. lat., 124°43.08′ W. long.;

(58) 44°16.28′ N. lat., 124°47.86′ W. long.;

(59) 44°13.47′ N. lat., 124°54.08′ W. long.;

(60) 44°02.88′ N. lat., 124°53.96′ W. long.;

(61) 44°00.14′ N. lat., 124°55.25′ W. long.;

(62) 43°57.68′ N. lat., 124°55.48′ W. long.;

(63) 43°56.66′ N. lat., 124°55.45′ W. long.;

(64) 43°57.50′ N. lat., 124°41.23′ W. long.;

(65) 44°01.79′ N. lat., 124°38.00′ W. long.;

(66) 44°02.17′ N. lat., 124°32.62′ W. long.;

(67) 43°58.15′ N. lat., 124°30.39′ W. long.;

(68) 43°53.25′ N. lat., 124°31.39′ W. long.;

(69) 43°35.56′ N. lat., 124°28.17′ W. long.;

(70) 43°21.84′ N. lat., 124°36.07′ W. long.;

(71) 43°20.83′ N. lat., 124°35.49′ W. long.;

(72) 43°19.73′ N. lat., 124°34.87′ W. long.;

(73) 43°09.38′ N. lat., 124°39.29′ W. long.;

(74) 43°07.11′ N. lat., 124°37.66′ W. long.;

(75) 42°56.27′ N. lat., 124°43.28′ W. long.;

(76) 42°50.00′ N. lat., 124°42.30′ W. long.;

(77) 42°45.01′ N. lat., 124°41.50′ W. long.;

(78) 42°40.50′ N. lat., 124°39.46′ W. long.;

(79) 42°39.71′ N. lat., 124°39.11′ W. long.;

(80) 42°32.87′ N. lat., 124°40.13′ W. long.;

(81) 42°32.30′ N. lat., 124°39.04′ W. long.;

(82) 42°26.96′ N. lat., 124°44.30′ W. long.;

(83) 42°24.11′ N. lat., 124°42.16′ W. long.;

(84) 42°21.10′ N. lat., 124°35.46′ W. long.;

(85) 42°14.72′ N. lat., 124°32.30′ W. long.;

(86) 42°13.67′ N. lat., 124°32.29′ W. long.;

(87) 42°09.25′ N. lat., 124°32.04′ W. long.;

(88) 42°01.88′ N. lat., 124°32.71′ W. long.;

(89) 42°00.00′ N. lat., 124°32.02′ W. long.;

(90) 41°46.18′ N. lat., 124°26.60′ W. long.;

(91) 41°29.22′ N. lat., 124°28.04′ W. long.;

(92) 41°09.62′ N. lat., 124°19.75′ W. long.;

(93) 40°50.71′ N. lat., 124°23.80′ W. long.;

(94) 40°43.35′ N. lat., 124°29.30′ W. long.;

(95) 40°40.24′ N. lat., 124°29.86′ W. long.;

(96) 40°37.50′ N. lat., 124°28.68′ W. long.;

(97) 40°34.42′ N. lat., 124°29.65′ W. long.;

(98) 40°34.74′ N. lat., 124°34.61′ W. long.;

(99) 40°31.70′ N. lat., 124°37.13′ W. long.;

(100) 40°30.00′ N. lat., 124°36.50′ W. long.;

(101) 40°25.03′ N. lat., 124°34.77′ W. long.;

(102) 40°23.58′ N. lat., 124°31.49′ W. long.;

(103) 40°23.64′ N. lat., 124°28.35′ W. long.;

(104) 40°22.53′ N. lat., 124°24.76′ W. long.;

(105) 40°21.46′ N. lat., 124°24.86′ W. long.;

(106) 40°21.74′ N. lat., 124°27.63′ W. long.;

(107) 40°19.76′ N. lat., 124°28.15′ W. long.;

(108) 40°18.00′ N. lat., 124°25.38′ W. long.;

(109) 40°18.54′ N. lat., 124°22.94′ W. long.;

(110) 40°15.55′ N. lat., 124°25.75′ W. long.;

(111) 40°16.06′ N. lat., 124°30.48′ W. long.;

(112) 40°15.75′ N. lat., 124°31.69′ W. long.;

(113) 40°10.00′ N. lat., 124°21.28′ W. long.;

(114) 40°08.37′ N. lat., 124°17.99′ W. long.;

(115) 40°09.00′ N. lat., 124°15.77′ W. long.;

(116) 40°06.93′ N. lat., 124°16.49′ W. long.;

(117) 40°03.60′ N. lat., 124°11.60′ W. long.;

(118) 40°06.20′ N. lat., 124°08.23′ W. long.;

(119) 40°00.94′ N. lat., 124°08.57′ W. long.;

(120) 40°00.01′ N. lat., 124°09.84′ W. long.;

(121) 39°57.75′ N. lat., 124°09.53′ W. long.;

(122) 39°55.56′ N. lat., 124°07.67′ W. long.;

(123) 39°52.21′ N. lat., 124°05.54′ W. long.;

(124) 39°48.07′ N. lat., 123°57.48′ W. long.;

(125) 39°41.60′ N. lat., 123°55.12′ W. long.;

(126) 39°30.39′ N. lat., 123°55.03′ W. long.;

(127) 39°29.48′ N. lat., 123°56.12′ W. long.;

(128) 39°13.76′ N. lat., 123°54.65′ W. long.;

(129) 39°05.21′ N. lat., 123°55.38′ W. long.;

(130) 38°57.50′ N. lat., 123°54.50′ W. long.;

(131) 38°55.90′ N. lat., 123°54.35′ W. long.;

(132) 38°48.59′ N. lat., 123°49.61′ W. long.;

(133) 38°28.82′ N. lat., 123°27.44′ W. long.;

(134) 38°09.70′ N. lat., 123°18.66′ W. long.;

(135) 38°01.81′ N. lat., 123°19.22′ W. long.;

(136) 38°00.00′ N. lat., 123°22.19′ W. long.;

(137) 37°57.70′ N. lat., 123°25.98′ W. long.;

(138) 37°56.73′ N. lat., 123°25.22′ W. long.;

(139) 37°55.59′ N. lat., 123°25.62′ W. long.;

(140) 37°52.79′ N. lat., 123°23.85′ W. long.;

(141) 37°49.13′ N. lat., 123°18.83′ W. long.;

(142) 37°46.01′ N. lat., 123°12.28′ W. long.;

(143) 37°35.67′ N. lat., 123°00.33′ W. long.;

(144) 37°24.16′ N. lat., 122°51.96′ W. long.;

(145) 37°23.32′ N. lat., 122°52.38′ W. long.;

(146) 37°11.00′ N. lat., 122°43.89′ W. long.;

(147) 37°07.00′ N. lat., 122°41.06′ W. long.;

(148) 37°04.12′ N. lat., 122°38.94′ W. long.;

(149) 37°00.64′ N. lat., 122°33.26′ W. long.;

(150) 36°59.15′ N. lat., 122°27.84′ W. long.;

(151) 37°01.41′ N. lat., 122°24.41′ W. long.;

(152) 36°58.75′ N. lat., 122°23.81′ W. long.;

(153) 36°59.17′ N. lat., 122°21.44′ W. long.;

(154) 36°57.51′ N. lat., 122°20.69′ W. long.;

(155) 36°51.46′ N. lat., 122°10.01′ W. long.;

(156) 36°48.43′ N. lat., 122°06.47′ W. long.;

(157) 36°48.66′ N. lat., 122°04.99′ W. long.;

(158) 36°47.75′ N. lat., 122°03.33′ W. long.;

(159) 36°51.23′ N. lat., 121°57.79′ W. long.;

(160) 36°49.72′ N. lat., 121°57.87′ W. long.;

(161) 36°48.84′ N. lat., 121°58.68′ W. long.;

(162) 36°47.89′ N. lat., 121°58.53′ W. long.;

(163) 36°48.66′ N. lat., 121°50.49′ W. long.;

(164) 36°45.56′ N. lat., 121°54.11′ W. long.;

(165) 36°45.30′ N. lat., 121°57.62′ W. long.;

(166) 36°38.54′ N. lat., 122°01.13′ W. long.;

(167) 36°35.76′ N. lat., 122°00.87′ W. long.;

(168) 36°32.58′ N. lat., 121°59.12′ W. long.;

(169) 36°32.95′ N. lat., 121°57.62′ W. long.;

(170) 36°31.96′ N. lat., 121°56.27′ W. long.;

(171) 36°31.74′ N. lat., 121°58.24′ W. long.;

(172) 36°30.57′ N. lat., 121°59.66′ W. long.;

(173) 36°27.80′ N. lat., 121°59.30′ W. long.;

(174) 36°26.52′ N. lat., 121°58.09′ W. long.;

(175) 36°23.65′ N. lat., 121°58.94′ W. long.;

(176) 36°20.93′ N. lat., 122°00.28′ W. long.;

(177) 36°18.23′ N. lat., 122°03.10′ W. long.;

(178) 36°14.21′ N. lat., 121°57.73′ W. long.;

(179) 36°14.68′ N. lat., 121°55.43′ W. long.;

(180) 36°10.42′ N. lat., 121°42.90′ W. long.;

(181) 36°02.55′ N. lat., 121°36.35′ W. long.;

(182) 36°01.04′ N. lat., 121°36.47′ W. long.;

(183) 36°00.00′ N. lat., 121°35.15′ W. long.;

(184) 35°58.25′ N. lat., 121°32.88′ W. long.;

(185) 35°39.35′ N. lat., 121°22.63′ W. long.;

(186) 35°24.33′ N. lat., 121°02.53′ W. long.;

(187) 35°10.84′ N. lat., 120°55.90′ W. long.;

(188) 35°04.35′ N. lat., 120°51.62′ W. long.;

(189) 34°55.25′ N. lat., 120°49.36′ W. long.;

(190) 34°47.95′ N. lat., 120°50.76′ W. long.;

(190) 34°39.27′ N. lat., 120°49.16′ W. long.;

(192) 34°31.05′ N. lat., 120°44.71′ W. long.;

(193) 34°27.00′ N. lat., 120°36.54′ W. long.;

(194) 34°22.60′ N. lat., 120°25.41′ W. long.;

(195) 34°25.45′ N. lat., 120°17.41′ W. long.;

(196) 34°22.94′ N. lat., 119°56.40′ W. long.;

(197) 34°18.37′ N. lat., 119°42.01′ W. long.;

(198) 34°11.22′ N. lat., 119°32.47′ W. long.;

(199) 34°09.58′ N. lat., 119°25.94′ W. long.;

(200) 34°03.89′ N. lat., 119°12.47′ W. long.;

(201) 34°03.57′ N. lat., 119°06.72′ W. long.;

(202) 34°04.53′ N. lat., 119°04.90′ W. long.;

(203) 34°02.84′ N. lat., 119°02.37′ W. long.;

(204) 34°01.30′ N. lat., 119°00.26′ W. long.;

(205) 34°00.22′ N. lat., 119°03.20′ W. long.;

(206) 33°59.60′ N. lat., 119°03.16′ W. long.;

(207) 33°59.46′ N. lat., 119°00.88′ W. long.;

(208) 34°00.49′ N. lat., 118°59.08′ W. long.;

(209) 33°59.07′ N. lat., 118°47.34′ W. long.;

(210) 33°58.73′ N. lat., 118°36.45′ W. long.;

(211) 33°55.24′ N. lat., 118°33.42′ W. long.;

(212) 33°53.71′ N. lat., 118°38.01′ W. long.;

(213) 33°51.22′ N. lat., 118°36.17′ W. long.;

(214) 33°49.85′ N. lat., 118°32.31′ W. long.;

(215) 33°49.61′ N. lat., 118°28.07′ W. long.;

(216) 33°49.95′ N. lat., 118°26.38′ W. long.;

(217) 33°50.36′ N. lat., 118°25.84′ W. long.;

(218) 33°49.84′ N. lat., 118°24.78′ W. long.;

(219) 33°47.53′ N. lat., 118°30.12′ W. long.;

(220) 33°44.11′ N. lat., 118°25.25′ W. long.;

(221) 33°41.77′ N. lat., 118°20.32′ W. long.;

(222) 33°38.17′ N. lat., 118°15.70′ W. long.;

(223) 33°37.48′ N. lat., 118°16.73′ W. long.;

(224) 33°36.01′ N. lat., 118°16.55′ W. long.;

(225) 33°33.76′ N. lat., 118°11.37′ W. long.;

(226) 33°33.76′ N. lat., 118°07.94′ W. long.;

(227) 33°35.59′ N. lat., 118°05.05′ W. long.;

(228) 33°33.75′ N. lat., 117°59.82′ W. long.;

(229) 33°35.10′ N. lat., 117°55.68′ W. long.;

(230) 33°34.91′ N. lat., 117°53.76′ W. long.;

(231) 33°30.77′ N. lat., 117°47.56′ W. long.;

(232) 33°27.50′ N. lat., 117°44.87′ W. long.;

(233) 33°16.89′ N. lat., 117°34.37′ W. long.;

(234) 33°06.66′ N. lat., 117°21.59′ W. long.;

(235) 33°03.35′ N. lat., 117°20.92′ W. long.;

(236) 33°00.07′ N. lat., 117°19.02′ W. long.;

(237) 32°55.99′ N. lat., 117°18.60′ W. long.;

(238) 32°54.43′ N. lat., 117°16.93′ W. long.;

(239) 32°52.13′ N. lat., 117°16.55′ W. long.;

(240) 32°52.61′ N. lat., 117°19.50′ W. long.;

(241) 32°46.95′ N. lat., 117°22.81′ W. long.;

(242) 32°45.01′ N. lat., 117°22.07′ W. long.;

(243) 32°43.40′ N. lat., 117°19.80′ W. long.; and

(244) 32°33.74′ N. lat., 117°18.67′ W. long.

* * * * *

21. In § 660.393, paragraphs (a), (d), and (h) are revised to read as follows:

§ 660.393 Latitude/longitude coordinates defining the 100-fm (183-m) through 150-fm (274-m) depth contours.

* * * * *

(a) The 100-fm (183-m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.08′ N. lat., 124°59.22′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.40′ N. lat., 124°37.70′ W. long.;

(83) 46°18.03′ N. lat., 124°35.46′ W. long.;

(84) 46°17.00′ N. lat., 124°22.50′ W. long.;

(85) 46°16.00′ N. lat., 124°20.62′ W. long.;

(86) 46°13.52′ N. lat., 124°25.49′ W. long.;

(87) 46°12.17′ N. lat., 124°30.74′ W. long.;

(88) 46°10.63′ N. lat., 124°37.96′ W. long.;

(89) 46°09.29′ N. lat., 124°39.01′ W. long.;

(90) 46°02.40′ N. lat., 124°40.37′ W. long.;

(91) 45°56.45′ N. lat., 124°38.00′ W. long.;

(92) 45°51.92′ N. lat., 124°38.50′ W. long.;

(93) 45°47.20′ N. lat., 124°35.58′ W. long.;

(94) 45°46.40′ N. lat., 124°32.36′ W. long.;

(95) 45°46.00′ N. lat., 124°32.10′ W. long.;

(96) 45°41.75′ N. lat., 124°28.12′ W. long.;

(97) 45°36.95′ N. lat., 124°24.47′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.39′ N. lat., 124°18.35′ W. long.;

(104) 45°03.83′ N. lat., 124°18.60′ W. long.;

(105) 44°58.05′ N. lat., 124°21.58′ W. long.;

(106) 44°47.67′ N. lat., 124°31.41′ W. long.;

(107) 44°44.54′ N. lat., 124°33.58′ W. long.;

(108) 44°39.88′ N. lat., 124°35.00′ W. long.;

(109) 44°32.90′ N. lat., 124°36.81′ W. long.;

(110) 44°30.34′ N. lat., 124°38.56′ W. long.;

(111) 44°30.04′ N. lat., 124°42.31′ W. long.;

(112) 44°26.84′ N. lat., 124°44.91′ W. long.;

(113) 44°17.99′ N. lat., 124°51.04′ W. long.;

(114) 44°12.92′ N. lat., 124°56.28′ W. long.;

(115) 44°00.14′ N. lat., 124°55.25′ W. long.;

(116) 43°57.68′ N. lat., 124°55.48′ W. long.;

(117) 43°56.66′ N. lat., 124°55.45′ W. long.;

(118) 43°56.47′ N. lat., 124°34.61′ W. long.;

(119) 43°42.73′ N. lat., 124°32.41′ W. long.;

(120) 43°30.92′ N. lat., 124°34.43′ W. long.;

(121) 43°20.83′ N. lat., 124°39.39′ W. long.;

(122) 43°17.45′ N. lat., 124°41.16′ W. long.;

(123) 43°07.04′ N. lat., 124°41.25′ W. long.;

(124) 43°03.45′ N. lat., 124°44.36′ W. long.;

(125) 43°03.91′ N. lat., 124°50.81′ W. long.;

(126) 42°55.70′ N. lat., 124°52.79′ W. long.;

(127) 42°54.12′ N. lat., 124°47.36′ W. long.;

(128) 42°50.00′ N. lat., 124°45.33′ W. long.;

(129) 42°44.00′ N. lat., 124°42.38′ W. long.;

(130) 42°40.50′ N. lat., 124°41.71′ W. long.;

(131) 42°38.23′ N. lat., 124°41.25′ W. long.;

(132) 42°33.02′ N. lat., 124°42.38′ W. long.;

(133) 42°31.90′ N. lat., 124°42.04′ W. long.;

(134) 42°30.08′ N. lat., 124°42.67′ W. long.;

(135) 42°28.28′ N. lat., 124°47.08′ W. long.;

(136) 42°25.22′ N. lat., 124°43.51′ W. long.;

(137) 42°19.23′ N. lat., 124°37.91′ W. long.;

(138) 42°16.29′ N. lat., 124°36.11′ W. long.;

(139) 42°13.67′ N. lat., 124°35.81′ W. long.;

(140) 42°05.66′ N. lat., 124°34.92′ W. long.;

(141) 42°00.00′ N. lat., 124°35.27′ W. long.;

(142) 41°47.04′ N. lat., 124°27.64′ W. long.;

(143) 41°32.92′ N. lat., 124°28.79′ W. long.;

(144) 41°24.17′ N. lat., 124°28.46′ W. long.;

(145) 41°10.12′ N. lat., 124°20.50′ W. long.;

(146) 40°51.41′ N. lat., 124°24.38′ W. long.;

(147) 40°43.71′ N. lat., 124°29.89′ W. long.;

(148) 40°40.14′ N. lat., 124°30.90′ W. long.;

(149) 40°37.35′ N. lat., 124°29.05′ W. long.;

(150) 40°34.76′ N. lat., 124°29.82′ W. long.;

(151) 40°36.78′ N. lat., 124°37.06′ W. long.;

(152) 40°32.44′ N. lat., 124°39.58′ W. long.;

(153) 40°30.00′ N. lat., 124°38.13′ W. long.;

(154) 40°24.82′ N. lat., 124°35.12′ W. long.;

(155) 40°23.30′ N. lat., 124°31.60′ W. long.;

(156) 40°23.52′ N. lat., 124°28.78′ W. long.;

(157) 40°22.43′ N. lat., 124°25.00′ W. long.;

(158) 40°21.72′ N. lat., 124°24.94′ W. long.;

(159) 40°21.87′ N. lat., 124°27.96′ W. long.;

(160) 40°21.40′ N. lat., 124°28.74′ W. long.;

(161) 40°19.68′ N. lat., 124°28.49′ W. long.;

(162) 40°17.73′ N. lat., 124°25.43′ W. long.;

(163) 40°18.37′ N. lat., 124°23.35′ W. long.;

(164) 40°15.75′ N. lat., 124°26.05′ W. long.;

(165) 40°16.75′ N. lat., 124°33.71′ W. long.;

(166) 40°16.29′ N. lat., 124°34.36′ W. long.;

(167) 40°10.00′ N. lat., 124°21.12′ W. long.;

(168) 40°07.70′ N. lat., 124°18.44′ W. long.;

(169) 40°08.84′ N. lat., 124°15.86′ W. long.;

(170) 40°06.53′ N. lat., 124°17.39′ W. long.;

(171) 40°03.15′ N. lat., 124°14.43′ W. long.;

(172) 40°02.19′ N. lat., 124°12.85′ W. long.;

(173) 40°02.89′ N. lat., 124°11.78′ W. long.;

(174) 40°02.78′ N. lat., 124°10.70′ W. long.;

(175) 40°04.57′ N. lat., 124°10.08′ W. long.;

(176) 40°06.06′ N. lat., 124°08.30′ W. long.;

(177) 40°04.05′ N. lat., 124°08.93′ W. long.;

(178) 40°01.17′ N. lat., 124°08.80′ W. long.;

(179) 40°01.03′ N. lat., 124°10.06′ W. long.;

(180) 39°58.07′ N. lat., 124°11.89′ W. long.;

(181) 39°56.39′ N. lat., 124°08.71′ W. long.;

(182) 39°54.64′ N. lat., 124°07.30′ W. long.;

(183) 39°53.86′ N. lat., 124°07.95′ W. long.;

(184) 39°51.95′ N. lat., 124°07.63′ W. long.;

(185) 39°48.78′ N. lat., 124°03.29′ W. long.;

(186) 39°47.36′ N. lat., 124°03.31′ W. long.;

(187) 39°40.08′ N. lat., 123°58.37′ W. long.;

(188) 39°36.16′ N. lat., 123°56.90′ W. long.;

(189) 39°30.75′ N. lat., 123°55.86′ W. long.;

(190) 39°31.62′ N. lat., 123°57.33′ W. long.;

(191) 39°30.91′ N. lat., 123°57.88′ W. long.;

(192) 39°01.79′ N. lat., 123°56.59′ W. long.;

(193) 38°59.42′ N. lat., 123°55.67′ W. long.;

(194) 38°58.89′ N. lat., 123°56.28′ W. long.;

(195) 38°57.50′ N. lat., 123°56.28′ W. long.;

(196) 38°54.72′ N. lat., 123°55.68′ W. long.;

(197) 38°48.95′ N. lat., 123°51.85′ W. long.;

(198) 38°36.67′ N. lat., 123°40.20′ W. long.;

(199) 38°33.82′ N. lat., 123°39.23′ W. long.;

(200) 38°29.02′ N. lat., 123°33.52′ W. long.;

(201) 38°18.88′ N. lat., 123°25.93′ W. long.;

(202) 38°14.12′ N. lat., 123°23.26′ W. long.;

(203) 38°11.07′ N. lat., 123°22.07′ W. long.;

(204) 38°03.18′ N. lat., 123°20.77′ W. long.;

(205) 38°00.00′ N. lat., 123°23.08′ W. long.;

(206) 37°55.07′ N. lat., 123°26.81′ W. long.;

(207) 37°50.66′ N. lat., 123°23.06′ W. long.;

(208) 37°45.18′ N. lat., 123°11.88′ W. long.;

(209) 37°35.67′ N. lat., 123°01.20′ W. long.;

(210) 37°15.58′ N. lat., 122°48.36′ W. long.;

(211) 37°11.00′ N. lat., 122°44.50′ W. long.;

(212) 37°07.00′ N. lat., 122°41.25′ W. long.;

(213) 37°03.18′ N. lat., 122°38.15′ W. long.;

(214) 37°00.48′ N. lat., 122°33.93′ W. long.;

(215) 36°58.70′ N. lat., 122°27.22′ W. long.;

(216) 37°00.85′ N. lat., 122°24.70′ W. long.;

(217) 36°58.00′ N. lat., 122°24.14′ W. long.;

(218) 36°58.74′ N. lat., 122°21.51′ W. long.;

(219) 36°56.97′ N. lat., 122°21.32′ W. long.;

(220) 36°51.52′ N. lat., 122°10.68′ W. long.;

(221) 36°48.39′ N. lat., 122°07.60′ W. long.;

(222) 36°47.43′ N. lat., 122°03.22′ W. long.;

(223) 36°50.95′ N. lat., 121°58.03′ W. long.;

(224) 36°49.92′ N. lat., 121°58.01′ W. long.;

(225) 36°48.88′ N. lat., 121°58.90′ W. long.;

(226) 36°47.70′ N. lat., 121°58.75′ W. long.;

(227) 36°48.37′ N. lat., 121°51.14′ W. long.;

(228) 36°45.74′ N. lat., 121°54.17′ W. long.;

(229) 36°45.51′ N. lat., 121°57.72′ W. long.;

(230) 36°38.84′ N. lat., 122°01.32′ W. long.;

(231) 36°35.62′ N. lat., 122°00.98′ W. long.;

(232) 36°32.46′ N. lat., 121°59.15′ W. long.;

(233) 36°32.79′ N. lat., 121°57.67′ W. long.;

(234) 36°31.98′ N. lat., 121°56.55′ W. long.;

(235) 36°31.79′ N. lat., 121°58.40′ W. long.;

(236) 36°30.73′ N. lat., 121°59.70′ W. long.;

(237) 36°30.31′ N. lat., 122°00.22′ W. long.;

(238) 36°29.35′ N. lat., 122°00.36′ W. long.;

(239) 36°27.66′ N. lat., 121°59.80′ W. long.;

(240) 36°26.22′ N. lat., 121°58.35′ W. long.;

(241) 36°21.20′ N. lat., 122°00.72′ W. long.;

(242) 36°20.47′ N. lat., 122°02.92′ W. long.;

(243) 36°18.46′ N. lat., 122°04.51′ W. long.;

(244) 36°15.92′ N. lat., 122°01.33′ W. long.;

(245) 36°13.76′ N. lat., 121°57.27′ W. long.;

(246) 36°14.43′ N. lat., 121°55.43′ W. long.;

(247) 36°10.24′ N. lat., 121°43.08′ W. long.;

(248) 36°07.66′ N. lat., 121°40.91′ W. long.;

(249) 36°02.49′ N. lat., 121°36.51′ W. long.;

(250) 36°01.08′ N. lat., 121°36.63′ W. long.;

(251) 36°00.00′ N. lat., 121°35.15′ W. long.;

(252) 35°57.84′ N. lat., 121°33.10′ W. long.;

(253) 35°50.36′ N. lat., 121°29.32′ W. long.;

(254) 35°39.03′ N. lat., 121°22.86′ W. long.;

(255) 35°24.30′ N. lat., 121°02.56′ W. long.;

(256) 35°16.53′ N. lat., 121°00.39′ W. long.;

(257) 35°04.82′ N. lat., 120°53.96′ W. long.;

(258) 34°52.51′ N. lat., 120°51.62′ W. long.;

(259) 34°43.36′ N. lat., 120°52.12′ W. long.;

(260) 34°37.64′ N. lat., 120°49.99′ W. long.;

(261) 34°30.80′ N. lat., 120°45.02′ W. long.;

(262) 34°27.00′ N. lat., 120°39.00′ W. long.;

(263) 34°21.90′ N. lat., 120°25.25′ W. long.;

(264) 34°24.86′ N. lat., 120°16.81′ W. long.;

(265) 34°22.80′ N. lat., 119°57.06′ W. long.;

(266) 34°18.59′ N. lat., 119°44.84′ W. long.;

(267) 34°15.04′ N. lat., 119°40.34′ W. long.;

(268) 34°14.40′ N. lat., 119°45.39′ W. long.;

(269) 34°12.32′ N. lat., 119°42.41′ W. long.;

(270) 34°09.71′ N. lat., 119°28.85′ W. long.;

(271) 34°04.70′ N. lat., 119°15.38′ W. long.;

(272) 34°03.33′ N. lat., 119°12.93′ W. long.;

(273) 34°02.72′ N. lat., 119°07.01′ W. long.;

(274) 34°03.90′ N. lat., 119°04.64′ W. long.;

(275) 34°01.80′ N. lat., 119°03.23′ W. long.;

(276) 33°59.32′ N. lat., 119°03.50′ W. long.;

(277) 33°59.00′ N. lat., 118°59.55′ W. long.;

(278) 33°59.51′ N. lat., 118°57.25′ W. long.;

(279) 33°58.82′ N. lat., 118°52.47′ W. long.;

(280) 33°58.54′ N. lat., 118°41.86′ W. long.;

(281) 33°55.07′ N. lat., 118°34.25′ W. long.;

(282) 33°54.28′ N. lat., 118°38.68′ W. long.;

(283) 33°51.00′ N. lat., 118°36.66′ W. long.;

(284) 33°39.77′ N. lat., 118°18.41′ W. long.;

(285) 33°35.50′ N. lat., 118°16.85′ W. long.;

(286) 33°32.68′ N. lat., 118°09.82′ W. long.;

(287) 33°34.09′ N. lat., 117°54.06′ W. long.;

(288) 33°31.60′ N. lat., 117°49.28′ W. long.;

(289) 33°16.07′ N. lat., 117°34.74′ W. long.;

(290) 33°07.06′ N. lat., 117°22.71′ W. long.;

(291) 32°59.28′ N. lat., 117°19.69′ W. long.;

(292) 32°55.36′ N. lat., 117°19.54′ W. long.;

(293) 32°53.35′ N. lat., 117°17.05′ W. long.;

(294) 32°53.34′ N. lat., 117°19.13′ W. long.;

(295) 32°46.39′ N. lat., 117°23.45′ W. long.;

(296) 32°42.79′ N. lat., 117°21.16′ W. long.; and

(297) 32°34.22′ N. lat., 117°21.20′ W. long.

* * * * *

(d) The 125-fm (229-m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°22.17′ W. long.;

(99) 46°13.37′ N. lat., 124°30.70′ W. long.;

(100) 46°12.20′ N. lat., 124°36.04′ W. long.;

(101) 46°11.01′ N. lat., 124°38.68′ W. long.;

(102) 46°09.73′ N. lat., 124°39.91′ W. long.;

(103) 46°03.23′ N. lat., 124°42.03′ W. long.;

(104) 46°01.16′ N. lat., 124°42.06′ W. long.;

(105) 46°00.35′ N. lat., 124°42.26′ W. long.;

(106) 45°52.81′ N. lat., 124°41.62′ W. long.;

(107) 45°49.70′ N. lat., 124°41.14′ W. long.;

(108) 45°46.00′ N. lat., 124°38.92′ W. long.;

(109) 45°45.18′ N. lat., 124°38.39′ W. long.;

(110) 45°43.24′ N. lat., 124°37.77′ W. long.;

(111) 45°34.75′ N. lat., 124°28.58′ W. long.;

(112) 45°19.90′ N. lat., 124°21.34′ W. long.;

(113) 45°12.44′ N. lat., 124°19.34′ W. long.;

(114) 45°07.48′ N. lat., 124°19.73′ W. long.;

(115) 45°03.83′ N. lat., 124°21.20′ W. long.;

(116) 44°59.96′ N. lat., 124°22.91′ W. long.;

(117) 44°54.73′ N. lat., 124°26.84′ W. long.;

(118) 44°51.16′ N. lat., 124°31.41′ W. long.;

(119) 44°49.97′ N. lat., 124°32.37′ W. long.;

(120) 44°47.06′ N. lat., 124°34.43′ W. long.;

(121) 44°41.38′ N. lat., 124°36.52′ W. long.;

(122) 44°31.80′ N. lat., 124°38.11′ W. long.;

(123) 44°30.35′ N. lat., 124°43.03′ W. long.;

(124) 44°27.95′ N. lat., 124°45.13′ W. long.;

(125) 44°24.73′ N. lat., 124°47.42′ W. long.;

(126) 44°19.67′ N. lat., 124°51.17′ W. long.;

(127) 44°17.96′ N. lat., 124°52.52′ W. long.;

(128) 44°13.70′ N. lat., 124°56.45′ W. long.;

(129) 44°12.26′ N. lat., 124°57.53′ W. long.;

(130) 44°08.30′ N. lat., 124°57.17′ W. long.;

(131) 44°07.57′ N. lat., 124°57.19′ W. long.;

(132) 44°04.78′ N. lat., 124°56.31′ W. long.;

(133) 44°01.14′ N. lat., 124°56.07′ W. long.;

(134) 43°57.49′ N. lat., 124°56.78′ W. long.;

(135) 43°54.58′ N. lat., 124°52.18′ W. long.;

(136) 43°53.18′ N. lat., 124°47.41′ W. long.;

(137) 43°53.60′ N. lat., 124°37.45′ W. long.;

(138) 43°53.05′ N. lat., 124°36.00′ W. long.;

(139) 43°47.93′ N. lat., 124°35.18′ W. long.;

(140) 43°39.32′ N. lat., 124°35.14′ W. long.;

(141) 43°32.38′ N. lat., 124°35.26′ W. long.;

(142) 43°30.19′ N. lat., 124°35.89′ W. long.;

(143) 43°27.80′ N. lat., 124°36.42′ W. long.;

(144) 43°23.73′ N. lat., 124°39.66′ W. long.;

(145) 43°20.83′ N. lat., 124°41.18′ W. long.;

(146) 43°10.48′ N. lat., 124°43.54′ W. long.;

(147) 43°04.77′ N. lat., 124°45.51′ W. long.;

(148) 43°05.94′ N. lat., 124°49.77′ W. long.;

(149) 43°03.38′ N. lat., 124°51.86′ W. long.;

(150) 43°00.39′ N. lat., 124°51.77′ W. long.;

(151) 42°56.80′ N. lat., 124°53.38′ W. long.;

(152) 42°54.53′ N. lat., 124°52.72′ W. long.;

(153) 42°52.89′ N. lat., 124°47.45′ W. long.;

(154) 42°50.00′ N. lat., 124°47.03′ W. long.;

(155) 42°48.10′ N. lat., 124°46.75′ W. long.;

(156) 42°46.34′ N. lat., 124°43.54′ W. long.;

(157) 42°41.66′ N. lat., 124°42.70′ W. long.;

(158) 42°39.97′ N. lat., 124°42.45′ W. long.;

(159) 42°32.53′ N. lat., 124°42.77′ W. long.;

(160) 42°30.37′ N. lat., 124°42.97′ W. long.;

(161) 42°28.07′ N. lat., 124°47.65′ W. long.;

(162) 42°21.58′ N. lat., 124°41.41′ W. long.;

(163) 42°15.17′ N. lat., 124°36.25′ W. long.;

(164) 42°13.67′ N. lat., 124°36.20′ W. long.;

(165) 42°8.29′ N. lat., 124°36.08′ W. long.;

(166) 42°00.00′ N. lat., 124°35.46′ W. long.;

(167) 41°47.67′ N. lat., 124°28.67′ W. long.;

(168) 41°32.91′ N. lat., 124°29.01′ W. long.;

(169) 41°22.57′ N. lat., 124°28.66′ W. long.;

(170) 41°13.38′ N. lat., 124°22.88′ W. long.;

(171) 41°06.42′ N. lat., 124°22.02′ W. long.;

(172) 40°50.19′ N. lat., 124°25.58′ W. long.;

(173) 40°44.08′ N. lat., 124°30.43′ W. long.;

(174) 40°40.54′ N. lat., 124°31.75′ W. long.;

(175) 40°37.36′ N. lat., 124°29.17′ W. long.;

(176) 40°35.30′ N. lat., 124°30.03′ W. long.;

(177) 40°37.02′ N. lat., 124°37.10′ W. long.;

(178) 40°35.82′ N. lat., 124°39.58′ W. long.;

(179) 40°31.70′ N. lat., 124°39.97′ W. long.;

(180) 40°29.88′ N. lat., 124°38.09′ W. long.;

(181) 40°24.77′ N. lat., 124°35.39′ W. long.;

(182) 40°23.22′ N. lat., 124°31.87′ W. long.;

(183) 40°23.40′ N. lat., 124°28.65′ W. long.;

(184) 40°22.30′ N. lat., 124°25.27′ W. long.;

(185) 40°21.91′ N. lat., 124°25.18′ W. long.;

(186) 40°21.91′ N. lat., 124°27.97′ W. long.;

(187) 40°21.37′ N. lat., 124°29.03′ W. long.;

(188) 40°19.74′ N. lat., 124°28.71′ W. long.;

(189) 40°18.52′ N. lat., 124°27.26′ W. long.;

(190) 40°17.57′ N. lat., 124°25.49′ W. long.;

(191) 40°18.20′ N. lat., 124°23.63′ W. long.;

(192) 40°15.89′ N. lat., 124°26.00′ W. long.;

(193) 40°17.00′ N. lat., 124°35.01′ W. long.;

(194) 40°15.97′ N. lat., 124°35.91′ W. long.;

(195) 40°10.00′ N. lat., 124°22.00′ W. long.;

(196) 40°07.35′ N. lat., 124°18.64′ W. long.;

(197) 40°08.46′ N. lat., 124°16.24′ W. long.;

(198) 40°06.26′ N. lat., 124°17.54′ W. long.;

(199) 40°03.26′ N. lat., 124°15.30′ W. long.;

(200) 40°02.00′ N. lat., 124°12.97′ W. long.;

(201) 40°02.60′ N. lat., 124°10.61′ W. long.;

(202) 40°03.63′ N. lat., 124°09.12′ W. long.;

(203) 40°02.18′ N. lat., 124°09.07′ W. long.;

(204) 40°01.26′ N. lat., 124°09.86′ W. long.;

(205) 39°58.05′ N. lat., 124°11.87′ W. long.;

(206) 39°56.39′ N. lat., 124°08.70′ W. long.;

(207) 39°54.64′ N. lat., 124°07.31′ W. long.;

(208) 39°53.87′ N. lat., 124°07.95′ W. long.;

(209) 39°52.42′ N. lat., 124°08.18′ W. long.;

(210) 39°42.50′ N. lat., 124°00.60′ W. long.;

(211) 39°34.23′ N. lat., 123°56.82′ W. long.;

(212) 39°33.00′ N. lat., 123°56.44′ W. long.;

(213) 39°30.96′ N. lat., 123°56.00′ W. long.;

(214) 39°32.03′ N. lat., 123°57.44′ W. long.;

(215) 39°31.43′ N. lat., 123°58.16′ W. long.;

(216) 39°05.56′ N. lat., 123°57.24′ W. long.;

(217) 39°01.75′ N. lat., 123°56.83′ W. long.;

(218) 38°59.52′ N. lat., 123°55.95′ W. long.;

(219) 38°58.98′ N. lat., 123°56.57′ W. long.;

(220) 38°57.50′ N. lat., 123°56.57′ W. long.;

(221) 38°53.91′ N. lat., 123°56.00′ W. long.;

(222) 38°42.57′ N. lat., 123°46.60′ W. long.;

(223) 38°28.72′ N. lat., 123°35.61′ W. long.;

(224) 38°28.01′ N. lat., 123°36.47′ W. long.;

(225) 38°20.94′ N. lat., 123°31.26′ W. long.;

(226) 38°15.94′ N. lat., 123°25.33′ W. long.;

(227) 38°10.95′ N. lat., 123°23.19′ W. long.;

(228) 38°05.52′ N. lat., 123°22.90′ W. long.;

(229) 38°08.46′ N. lat., 123°26.23′ W. long.;

(230) 38°06.95′ N. lat., 123°28.03′ W. long.;

(231) 38°06.34′ N. lat., 123°29.80′ W. long.;

(232) 38°04.57′ N. lat., 123°31.24′ W. long.;

(233) 38°02.33′ N. lat., 123°31.02′ W. long.;

(234) 38°00.00′ N. lat., 123°28.23′ W. long.;

(235) 37°58.10′ N. lat., 123°26.69′ W. long.;

(236) 37°55.46′ N. lat., 123°27.05′ W. long.;

(237) 37°51.51′ N. lat., 123°24.86′ W. long.;

(238) 37°45.01′ N. lat., 123°12.09′ W. long.;

(239) 37°35.67′ N. lat., 123°01.56′ W. long.;

(240) 37°26.62′ N. lat., 122°56.21′ W. long.;

(241) 37°14.41′ N. lat., 122°49.07′ W. long.;

(242) 37°11.00′ N. lat., 122°45.87′ W. long.;

(243) 37°07.00′ N. lat., 122°41.97′ W. long.;

(244) 37°03.19′ N. lat., 122°38.31′ W. long.;

(245) 37°00.99′ N. lat., 122°35.51′ W. long.;

(246) 36°58.23′ N. lat., 122°27.36′ W. long.;

(247) 37°00.54′ N. lat., 122°24.74′ W. long.;

(248) 36°57.81′ N. lat., 122°24.65′ W. long.;

(249) 36°58.54′ N. lat., 122°21.67′ W. long.;

(250) 36°56.52′ N. lat., 122°21.70′ W. long.;

(251) 36°55.37′ N. lat., 122°18.45′ W. long.;

(252) 36°52.16′ N. lat., 122°12.17′ W. long.;

(253) 36°51.53′ N. lat., 122°10.67′ W. long.;

(254) 36°48.05′ N. lat., 122°07.59′ W. long.;

(255) 36°47.35′ N. lat., 122°03.27′ W. long.;

(256) 36°50.71′ N. lat., 121°58.17′ W. long.;

(257) 36°48.89′ N. lat., 121°58.90′ W. long.;

(258) 36°47.70′ N. lat., 121°58.76′ W. long.;

(259) 36°48.37′ N. lat., 121°51.15′ W. long.;

(260) 36°45.74′ N. lat., 121°54.18′ W. long.;

(261) 36°45.50′ N. lat., 121°57.73′ W. long.;

(262) 36°44.02′ N. lat., 121°58.55′ W. long.;

(263) 36°38.84′ N. lat., 122°01.32′ W. long.;

(264) 36°35.63′ N. lat., 122°00.98′ W. long.;

(265) 36°32.47′ N. lat., 121°59.17′ W. long.;

(266) 36°32.52′ N. lat., 121°57.62′ W. long.;

(267) 36°30.16′ N. lat., 122°00.55′ W. long.;

(268) 36°24.56′ N. lat., 121°59.19′ W. long.;

(269) 36°22.19′ N. lat., 122°00.30′ W. long.;

(270) 36°20.62′ N. lat., 122°02.93′ W. long.;

(271) 36°18.89′ N. lat., 122°05.18′ W. long.;

(272) 36°14.45′ N. lat., 121°59.44′ W. long.;

(273) 36°13.73′ N. lat., 121°57.38′ W. long.;

(274) 36°14.41′ N. lat., 121°55.45′ W. long.;

(275) 36°10.25′ N. lat., 121°43.08′ W. long.;

(276) 36°07.67′ N. lat., 121°40.92′ W. long.;

(277) 36°02.51′ N. lat., 121°36.76′ W. long.;

(278) 36°01.04′ N. lat., 121°36.68′ W. long.;

(279) 36°00.00′ N. lat., 121°35.15′ W. long.;

(280) 35°57.84′ N. lat., 121°33.10′ W. long.;

(281) 35°45.57′ N. lat., 121°27.26′ W. long.;

(282) 35°39.02′ N. lat., 121°22.86′ W. long.;

(283) 35°25.92′ N. lat., 121°05.52′ W. long.;

(284) 35°16.26′ N. lat., 121°01.50′ W. long.;

(285) 35°07.60′ N. lat., 120°56.49′ W. long.;

(286) 34°57.77′ N. lat., 120°53.87′ W. long.;

(287) 34°42.30′ N. lat., 120°53.42′ W. long.;

(288) 34°37.69′ N. lat., 120°50.04′ W. long.;

(289) 34°30.13′ N. lat., 120°44.45′ W. long.;

(290) 34°27.00′ N. lat., 120°39.24′ W. long.;

(291) 34°24.71′ N. lat., 120°35.37′ W. long.;

(292) 34°21.63′ N. lat., 120°24.86′ W. long.;

(293) 34°24.39′ N. lat., 120°16.65′ W. long.;

(294) 34°22.48′ N. lat., 119°56.42′ W. long.;

(295) 34°18.54′ N. lat., 119°46.26′ W. long.;

(296) 34°16.37′ N. lat., 119°45.12′ W. long.;

(297) 34°15.91′ N. lat., 119°47.29′ W. long.;

(298) 34°13.80′ N. lat., 119°45.40′ W. long.;

(299) 34°11.69′ N. lat., 119°41.80′ W. long.;

(300) 34°09.98′ N. lat., 119°31.87′ W. long.;

(301) 34°08.12′ N. lat., 119°27.71′ W. long.;

(302) 34°06.35′ N. lat., 119°32.65′ W. long.;

(303) 34°06.80′ N. lat., 119°40.08′ W. long.;

(304) 34°07.48′ N. lat., 119°47.54′ W. long.;

(305) 34°08.21′ N. lat., 119°54.90′ W. long.;

(306) 34°06.85′ N. lat., 120°05.60′ W. long.;

(307) 34°06.99′ N. lat., 120°10.37′ W. long.;

(308) 34°08.53′ N. lat., 120°17.89′ W. long.;

(309) 34°10.00′ N. lat., 120°23.05′ W. long.;

(310) 34°12.53′ N. lat., 120°29.82′ W. long.;

(311) 34°09.02′ N. lat., 120°37.47′ W. long.;

(312) 34°01.01′ N. lat., 120°31.17′ W. long.;

(313) 33°58.07′ N. lat., 120°28.33′ W. long.;

(314) 33°53.37′ N. lat., 120°14.43′ W. long.;

(315) 33°50.53′ N. lat., 120°07.20′ W. long.;

(316) 33°45.88′ N. lat., 120°04.26′ W. long.;

(317) 33°38.19′ N. lat., 119°57.85′ W. long.;

(318) 33°38.19′ N. lat., 119°50.42′ W. long.;

(319) 33°42.36′ N. lat., 119°49.60′ W. long.;

(320) 33°53.95′ N. lat., 119°53.81′ W. long.;

(321) 33°55.99′ N. lat., 119°41.40′ W. long.;

(322) 33°58.48′ N. lat., 119°27.90′ W. long.;

(323) 33°59.94′ N. lat., 119°19.57′ W. long.;

(324) 34°04.48′ N. lat., 119°15.32′ W. long.;

(325) 34°02.80′ N. lat., 119°12.95′ W. long.;

(326) 34°02.39′ N. lat., 119°07.17′ W. long.;

(327) 34°03.75′ N. lat., 119°04.72′ W. long.;

(328) 34°01.82′ N. lat., 119°03.24′ W. long.;

(329) 33°59.33′ N. lat., 119°03.49′ W. long.;

(330) 33°59.01′ N. lat., 118°59.56′ W. long.;

(331) 33°59.51′ N. lat., 118°57.25′ W. long.;

(332) 33°58.83′ N. lat., 118°52.50′ W. long.;

(333) 33°58.55′ N. lat., 118°41.86′ W. long.;

(334) 33°55.10′ N. lat., 118°34.25′ W. long.;

(335) 33°54.30′ N. lat., 118°38.71′ W. long.;

(336) 33°50.88′ N. lat., 118°37.02′ W. long.;

(337) 33°39.78′ N. lat., 118°18.40′ W. long.;

(338) 33°35.50′ N. lat., 118°16.85′ W. long.;

(339) 33°32.46′ N. lat., 118°10.90′ W. long.;

(340) 33°34.11′ N. lat., 117°54.07′ W. long.;

(341) 33°31.61′ N. lat., 117°49.30′ W. long.;

(342) 33°16.36′ N. lat., 117°35.48′ W. long.;

(343) 33°06.81′ N. lat., 117°22.93′ W. long.;

(344) 32°59.28′ N. lat., 117°19.69′ W. long.;

(345) 32°55.37′ N. lat., 117°19.55′ W. long.;

(346) 32°53.35′ N. lat., 117°17.05′ W. long.;

(347) 32°53.36′ N. lat., 117°19.12′ W. long.;

(348) 32°46.42′ N. lat., 117°23.45′ W. long.;

(349) 32°42.71′ N. lat., 117°21.45′ W. long.; and

(350) 32°34.54′ N. lat., 117°23.04′ W. long.

* * * * *

(h) The 150-fm (274-m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°56.53′ N. lat., 125°30.33′ W. long.;

(14) 47°57.28′ N. lat., 125°27.89′ W. long.;

(15) 47°59.00′ N. lat., 125°25.50′ W. long.;

(16) 48°01.77′ N. lat., 125°24.05′ W. long.;

(17) 48°02.08′ N. lat., 125°22.98′ W. long.;

(18) 48°03.00′ N. lat., 125°22.50′ W. long.;

(19) 48°03.46′ N. lat., 125°22.10′ W. long.;

(20) 48°04.29′ N. lat., 125°20.37′ W. long.;

(21) 48°02.00′ N. lat., 125°18.50′ W. long.;

(22) 48°00.01′ N. lat., 125°19.90′ W. long.;

(23) 47°58.75′ N. lat., 125°17.54′ W. long.;

(24) 47°53.50′ N. lat., 125°13.50′ W. long.;

(25) 47°48.88′ N. lat., 125°05.91′ W. long.;

(26) 47°48.50′ N. lat., 125°05.00′ W. long.;

(27) 47°45.98′ N. lat., 125°04.26′ W. long.;

(28) 47°45.00′ N. lat., 125°05.50′ W. long.;

(29) 47°42.11′ N. lat., 125°04.74′ W. long.;

(30) 47°39.00′ N. lat., 125°06.00′ W. long.;

(31) 47°35.53′ N. lat., 125°04.55′ W. long.;

(32) 47°30.90′ N. lat., 124°57.31′ W. long.;

(33) 47°29.54′ N. lat., 124°56.50′ W. long.;

(34) 47°29.50′ N. lat., 124°54.50′ W. long.;

(35) 47°28.57′ N. lat., 124°51.50′ W. long.;

(36) 47°25.00′ N. lat., 124°48.00′ W. long.;

(37) 47°23.95′ N. lat., 124°47.24′ W. long.;

(38) 47°23.00′ N. lat., 124°47.00′ W. long.;

(39) 47°21.00′ N. lat., 124°46.50′ W. long.;

(40) 47°18.20′ N. lat., 124°45.84′ W. long.;

(41) 47°18.50′ N. lat., 124°49.00′ W. long.;

(42) 47°19.17′ N. lat., 124°50.86′ W. long.;

(43) 47°18.07′ N. lat., 124°53.29′ W. long.;

(44) 47°17.78′ N. lat., 124°51.39′ W. long.;

(45) 47°16.81′ N. lat., 124°50.85′ W. long.;

(46) 47°15.96′ N. lat., 124°53.15′ W. long.;

(47) 47°14.31′ N. lat., 124°52.62′ W. long.;

(48) 47°11.87′ N. lat., 124°56.90′ W. long.;

(49) 47°12.39′ N. lat., 124°58.09′ W. long.;

(50) 47°09.50′ N. lat., 124°57.50′ W. long.;

(51) 47°09.00′ N. lat., 124°59.00′ W. long.;

(52) 47°06.06′ N. lat., 124°58.80′ W. long.;

(53) 47°03.62′ N. lat., 124°55.96′ W. long.;

(54) 47°02.89′ N. lat., 124°56.89′ W. long.;

(55) 47°01.04′ N. lat., 124°59.54′ W. long.;

(56) 46°58.47′ N. lat., 124°59.08′ W. long.;

(57) 46°58.29′ N. lat., 125°00.28′ W. long.;

(58) 46°56.30′ N. lat., 125°00.75′ W. long.;

(59) 46°57.09′ N. lat., 124°58.86′ W. long.;

(60) 46°55.95′ N. lat., 124°54.88′ W. long.;

(61) 46°54.79′ N. lat., 124°54.14′ W. long.;

(62) 46°58.00′ N. lat., 124°50.00′ W. long.;

(63) 46°54.50′ N. lat., 124°49.00′ W. long.;

(64) 46°54.53′ N. lat., 124°52.94′ W. long.;

(65) 46°49.52′ N. lat., 124°53.41′ W. long.;

(66) 46°42.24′ N. lat., 124°47.86′ W. long.;

(67) 46°39.50′ N. lat., 124°42.50′ W. long.;

(68) 46°37.50′ N. lat., 124°41.00′ W. long.;

(69) 46°36.50′ N. lat., 124°38.00′ W. long.;

(70) 46°33.85′ N. lat., 124°36.99′ W. long.;

(71) 46°33.50′ N. lat., 124°29.50′ W. long.;

(72) 46°32.00′ N. lat., 124°31.00′ W. long.;

(73) 46°30.53′ N. lat., 124°30.55′ W. long.;

(74) 46°25.50′ N. lat., 124°33.00′ W. long.;

(75) 46°23.00′ N. lat., 124°35.00′ W. long.;

(76) 46°21.05′ N. lat., 124°37.00′ W. long.;

(77) 46°20.64′ N. lat., 124°36.21′ W. long.;

(78) 46°20.36′ N. lat., 124°37.85′ W. long.;

(79) 46°19.48′ N. lat., 124°38.35′ W. long.;

(80) 46°17.87′ N. lat., 124°38.54′ W. long.;

(81) 46°16.15′ N. lat., 124°25.20′ W. long.;

(82) 46°16.00′ N. lat., 124°23.00′ W. long.;

(83) 46°14.87′ N. lat., 124°26.15′ W. long.;

(84) 46°13.37′ N. lat., 124°31.36′ W. long.;

(85) 46°12.08′ N. lat., 124°38.39′ W. long.;

(86) 46°09.46′ N. lat., 124°40.64′ W. long.;

(87) 46°07.29′ N. lat., 124°40.89′ W. long.;

(88) 46°02.76′ N. lat., 124°44.01′ W. long.;

(89) 46°01.22′ N. lat., 124°43.47′ W. long.;

(90) 45°51.82′ N. lat., 124°42.89′ W. long.;

(91) 45°46.00′ N. lat., 124°40.88′ W. long.;

(92) 45°45.95′ N. lat., 124°40.72′ W. long.;

(93) 45°44.11′ N. lat., 124°43.09′ W. long.;

(94) 45°34.50′ N. lat., 124°30.28′ W. long.;

(95) 45°21.10′ N. lat., 124°23.11′ W. long.;

(96) 45°20.25′ N. lat., 124°22.92′ W. long.;

(97) 45°09.69′ N. lat., 124°20.45′ W. long.;

(98) 45°03.83′ N. lat., 124°23.30′ W. long.;

(99) 44°56.41′ N. lat., 124°27.65′ W. long.;

(100) 44°44.47′ N. lat., 124°37.85′ W. long.;

(101) 44°37.17′ N. lat., 124°38.60′ W. long.;

(102) 44°35.55′ N. lat., 124°39.27′ W. long.;

(103) 44°31.81′ N. lat., 124°39.60′ W. long.;

(104) 44°31.48′ N. lat., 124°43.30′ W. long.;

(105) 44°12.67′ N. lat., 124°57.87′ W. long.;

(106) 44°08.30′ N. lat., 124°57.84′ W. long.;

(107) 44°07.38′ N. lat., 124°57.87′ W. long.;

(108) 43°57.42′ N. lat., 124°57.20′ W. long.;

(109) 43°52.52′ N. lat., 124°49.00′ W. long.;

(110) 43°51.55′ N. lat., 124°37.49′ W. long.;

(111) 43°47.83′ N. lat., 124°36.43′ W. long.;

(112) 43°31.79′ N. lat., 124°36.80′ W. long.;

(113) 43°29.34′ N. lat., 124°36.77′ W. long.;

(114) 43°26.37′ N. lat., 124°39.53′ W. long.;

(115) 43°20.83′ N. lat., 124°42.39′ W. long.;

(116) 43°16.15′ N. lat., 124°44.36′ W. long.;

(117) 43°09.33′ N. lat., 124°45.35′ W. long.;

(118) 43°08.77′ N. lat., 124°49.82′ W. long.;

(119) 43°08.83′ N. lat., 124°50.93′ W. long.;

(120) 43°05.89′ N. lat., 124°51.60′ W. long.;

(121) 43°04.60′ N. lat., 124°53.02′ W. long.;

(122) 43°02.64′ N. lat., 124°52.01′ W. long.;

(123) 43°00.39′ N. lat., 124°51.77′ W. long.;

(124) 42°58.00′ N. lat., 124°52.99′ W. long.;

(125) 42°57.56′ N. lat., 124°54.10′ W. long.;

(126) 42°53.82′ N. lat., 124°55.76′ W. long.;

(127) 42°52.31′ N. lat., 124°50.76′ W. long.;

(128) 42°50.00′ N. lat., 124°48.97′ W. long.;

(129) 42°47.78′ N. lat., 124°47.27′ W. long.;

(130) 42°46.31′ N. lat., 124°43.60′ W. long.;

(131) 42°41.63′ N. lat., 124°44.07′ W. long.;

(132) 42°40.50′ N. lat., 124°43.52′ W. long.;

(133) 42°38.83′ N. lat., 124°42.77′ W. long.;

(134) 42°35.36′ N. lat., 124°43.22′ W. long.;

(135) 42°32.78′ N. lat., 124°44.68′ W. long.;

(136) 42°32.02′ N. lat., 124°43.00′ W. long.;

(137) 42°30.54′ N. lat., 124°43.50′ W. long.;

(138) 42°28.16′ N. lat., 124°48.38′ W. long.;

(139) 42°18.26′ N. lat., 124°39.01′ W. long.;

(140) 42°13.66′ N. lat., 124°36.82′ W. long.;

(141) 42°00.00′ N. lat., 124°35.99′ W. long.;

(142) 41°47.80′ N. lat., 124°29.41′ W. long.;

(143) 41°23.51′ N. lat., 124°29.50′ W. long.;

(144) 41°13.29′ N. lat., 124°23.31′ W. long.;

(145) 41°06.23′ N. lat., 124°22.62′ W. long.;

(146) 40°55.60′ N. lat., 124°26.04′ W. long.;

(147) 40°49.62′ N. lat., 124°26.57′ W. long.;

(148) 40°45.72′ N. lat., 124°30.00′ W. long.;

(149) 40°40.56′ N. lat., 124°32.11′ W. long.;

(150) 40°37.33′ N. lat., 124°29.27′ W. long.;

(151) 40°35.60′ N. lat., 124°30.49′ W. long.;

(152) 40°37.38′ N. lat., 124°37.14′ W. long.;

(153) 40°36.03′ N. lat., 124°39.97′ W. long.;

(154) 40°31.58′ N. lat., 124°40.74′ W. long.;

(155) 40°30.00′ N. lat., 124°38.50′ W. long.;

(156) 40°29.76′ N. lat., 124°38.13′ W. long.;

(157) 40°28.22′ N. lat., 124°37.23′ W. long.;

(158) 40°24.86′ N. lat., 124°35.71′ W. long.;

(159) 40°23.01′ N. lat., 124°31.94′ W. long.;

(160) 40°23.39′ N. lat., 124°28.64′ W. long.;

(161) 40°22.29′ N. lat., 124°25.25′ W. long.;

(162) 40°21.90′ N. lat., 124°25.18′ W. long.;

(163) 40°22.02′ N. lat., 124°28.00′ W. long.;

(164) 40°21.34′ N. lat., 124°29.53′ W. long.;

(165) 40°19.74′ N. lat., 124°28.95′ W. long.;

(166) 40°18.13′ N. lat., 124°27.08′ W. long.;

(167) 40°17.45′ N. lat., 124°25.53′ W. long.;

(168) 40°17.97′ N. lat., 124°24.12′ W. long.;

(169) 40°15.96′ N. lat., 124°26.05′ W. long.;

(170) 40°17.00′ N. lat., 124°35.01′ W. long.;

(171) 40°15.97′ N. lat., 124°35.90′ W. long.;

(172) 40°10.00′ N. lat., 124°22.96′ W. long.;

(173) 40°07.00′ N. lat., 124°19.00′ W. long.;

(174) 40°08.10′ N. lat., 124°16.70′ W. long.;

(175) 40°05.90′ N. lat., 124°17.77′ W. long.;

(176) 40°02.99′ N. lat., 124°15.55′ W. long.;

(177) 40°02.00′ N. lat., 124°12.97′ W. long.;

(178) 40°02.60′ N. lat., 124°10.61′ W. long.;

(179) 40°03.63′ N. lat., 124°09.12′ W. long.;

(180) 40°02.18′ N. lat., 124°09.07′ W. long.;

(181) 39°58.25′ N. lat., 124°12.56′ W. long.;

(182) 39°57.03′ N. lat., 124°11.34′ W. long.;

(183) 39°56.30′ N. lat., 124°08.96′ W. long.;

(184) 39°54.82′ N. lat., 124°07.66′ W. long.;

(185) 39°52.57′ N. lat., 124°08.55′ W. long.;

(186) 39°45.34′ N. lat., 124°03.30′ W. long.;

(187) 39°34.75′ N. lat., 123°58.50′ W. long.;

(188) 39°34.22′ N. lat., 123°56.82′ W. long.;

(189) 39°32.98′ N. lat., 123°56.43′ W. long.;

(190) 39°31.47′ N. lat., 123°58.73′ W. long.;

(191) 39°05.68′ N. lat., 123°57.81′ W. long.;

(192) 39°00.24′ N. lat., 123°56.74′ W. long.;

(193) 38°57.50′ N. lat., 123°56.74′ W. long.;

(194) 38°54.31′ N. lat., 123°56.73′ W. long.;

(195) 38°41.42′ N. lat., 123°46.75′ W. long.;

(196) 38°39.61′ N. lat., 123°46.48′ W. long.;

(197) 38°37.52′ N. lat., 123°43.78′ W. long.;

(198) 38°35.25′ N. lat., 123°42.00′ W. long.;

(199) 38°28.79′ N. lat., 123°37.07′ W. long.;

(200) 38°19.88′ N. lat., 123°32.54′ W. long.;

(201) 38°14.43′ N. lat., 123°25.56′ W. long.;

(202) 38°08.75′ N. lat., 123°24.48′ W. long.;

(203) 38°10.10′ N. lat., 123°27.20′ W. long.;

(204) 38°07.16′ N. lat., 123°28.18′ W. long.;

(205) 38°06.42′ N. lat., 123°30.18′ W. long.;

(206) 38°04.28′ N. lat., 123°31.70′ W. long.;

(207) 38°01.88′ N. lat., 123°30.98′ W. long.;

(208) 38°00.75′ N. lat., 123°29.72′ W. long.;

(209) 38°00.00′ N. lat., 123°28.60′ W. long.;

(210) 37°58.23′ N. lat., 123°26.90′ W. long.;

(211) 37°55.32′ N. lat., 123°27.19′ W. long.;

(212) 37°51.47′ N. lat., 123°24.92′ W. long.;

(213) 37°44.47′ N. lat., 123°11.57′ W. long.;

(214) 37°35.67′ N. lat., 123°01.76′ W. long.;

(215) 37°15.16′ N. lat., 122°51.64′ W. long.;

(216) 37°11.00′ N. lat., 122°47.20′ W. long.;

(217) 37°07.00′ N. lat., 122°42.90′ W. long.;

(218) 37°01.68′ N. lat., 122°37.28′ W. long.;

(219) 36°59.70′ N. lat., 122°33.71′ W. long.;

(220) 36°58.00′ N. lat., 122°27.80′ W. long.;

(221) 37°00.25′ N. lat., 122°24.85′ W. long.;

(222) 36°57.50′ N. lat., 122°24.98′ W. long.;

(223) 36°58.38′ N. lat., 122°21.85′ W. long.;

(224) 36°55.85′ N. lat., 122°21.95′ W. long.;

(225) 36°52.02′ N. lat., 122°12.10′ W. long.;

(226) 36°47.63′ N. lat., 122°07.37′ W. long.;

(227) 36°47.26′ N. lat., 122°03.22′ W. long.;

(228) 36°50.34′ N. lat., 121°58.40′ W. long.;

(229) 36°48.83′ N. lat., 121°59.14′ W. long.;

(230) 36°44.81′ N. lat., 121°58.28′ W. long.;

(231) 36°39.00′ N. lat., 122°01.71′ W. long.;

(232) 36°29.60′ N. lat., 122°00.49′ W. long.;

(233) 36°23.43′ N. lat., 121°59.76′ W. long.;

(234) 36°18.90′ N. lat., 122°05.32′ W. long.;

(235) 36°15.38′ N. lat., 122°01.40′ W. long.;

(236) 36°13.79′ N. lat., 121°58.12′ W. long.;

(237) 36°10.12′ N. lat., 121°43.33′ W. long.;

(238) 36°02.57′ N. lat., 121°37.02′ W. long.;

(239) 36°01.01′ N. lat., 121°36.69′ W. long.

(240) 36°00.00′ N. lat., 121°35.15′ W. long.;

(241) 35°57.74′ N. lat., 121°33.45′ W. long.;

(242) 35°51.32′ N. lat., 121°30.08′ W. long.;

(243) 35°45.84′ N. lat., 121°28.84′ W. long.;

(244) 35°38.94′ N. lat., 121°23.16′ W. long.;

(245) 35°26.00′ N. lat., 121°08.00′ W. long.;

(246) 35°07.42′ N. lat., 120°57.08′ W. long.;

(247) 34°42.76′ N. lat., 120°55.09′ W. long.;

(248) 34°37.75′ N. lat., 120°51.96′ W. long.;

(249) 34°29.29′ N. lat., 120°44.19′ W. long.;

(250) 34°27.00′ N. lat., 120°40.42′ W. long.;

(251) 34°21.89′ N. lat., 120°31.36′ W. long.;

(252) 34°20.79′ N. lat., 120°21.58′ W. long.;

(253) 34°23.97′ N. lat., 120°15.25′ W. long.;

(254) 34°22.11′ N. lat., 119°56.63′ W. long.;

(255) 34°19.00′ N. lat., 119°48.00′ W. long.;

(256) 34°15.00′ N. lat., 119°48.00′ W. long.;

(257) 34°08.00′ N. lat., 119°37.00′ W. long.;

(258) 34°08.39′ N. lat., 119°54.78′ W. long.;

(259) 34°07.10′ N. lat., 120°10.37′ W. long.;

(260) 34°10.08′ N. lat., 120°22.98′ W. long.;

(261) 34°13.16′ N. lat., 120°29.40′ W. long.;

(262) 34°09.41′ N. lat., 120°37.75′ W. long.;

(263) 34°03.15′ N. lat., 120°34.71′ W. long.;

(264) 33°57.09′ N. lat., 120°27.76′ W. long.;

(265) 33°51.00′ N. lat., 120°09.00′ W. long.;

(266) 33°38.16′ N. lat., 119°59.23′ W. long.;

(267) 33°37.04′ N. lat., 119°50.17′ W. long.;

(268) 33°42.28′ N. lat., 119°48.85′ W. long.;

(269) 33°53.96′ N. lat., 119°53.77′ W. long.;

(270) 33°55.88′ N. lat., 119°41.05′ W. long.;

(271) 33°59.94′ N. lat., 119°19.57′ W. long.;

(272) 34°03.12′ N. lat., 119°15.51′ W. long.;

(273) 34°01.97′ N. lat., 119°07.28′ W. long.;

(274) 34°03.60′ N. lat., 119°04.71′ W. long.;

(275) 33°59.30′ N. lat., 119°03.73′ W. long.;

(276) 33°58.87′ N. lat., 118°59.37′ W. long.;

(277) 33°58.08′ N. lat., 118°41.14′ W. long.;

(278) 33°50.93′ N. lat., 118°37.65′ W. long.;

(279) 33°39.54′ N. lat., 118°18.70′ W. long.;

(280) 33°35.42′ N. lat., 118°17.14′ W. long.;

(281) 33°32.15′ N. lat., 118°10.84′ W. long.;

(282) 33°33.71′ N. lat., 117°53.72′ W. long.;

(283) 33°31.17′ N. lat., 117°49.11′ W. long.;

(284) 33°16.53′ N. lat., 117°36.13′ W. long.;

(285) 33°06.77′ N. lat., 117°22.92′ W. long.;

(286) 32°58.94′ N. lat., 117°20.05′ W. long.;

(287) 32°55.83′ N. lat., 117°20.15′ W. long.;

(288) 32°46.29′ N. lat., 117°23.89′ W. long.;

(289) 32°42.00′ N. lat., 117°22.16′ W. long.;

(290) 32°39.47′ N. lat., 117°27.78′ W. long.; and

(291) 32°34.83′ N. lat., 117°24.69′ W. long.

* * * * *

22. In § 660.394, paragraphs (f) through (m) are redesignated as (g) through (n), paragraph (a) and newly redesignated paragraphs (g), (l), (m), are revised, and new paragraphs (f), (n), (o), (p), (q), and (r) are added to read as follows:

§ 660.394 Latitude/longitude coordinates defining the 180-fm (329-m) through 250-fm (457-m) depth contours.

* * * * *

(a) The 180-fm (329-m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°23.57′ W. long.;

(84) 46°12.85′ N. lat., 124°35.52′ W. long.;

(85) 46°12.27′ N. lat., 124°38.69′ W. long.;

(86) 46°08.71′ N. lat., 124°41.27′ W. long.;

(87) 46°05.80′ N. lat., 124°42.11′ W. long.;

(88) 46°02.84′ N. lat., 124°48.05′ W. long.;

(89) 46°02.41′ N. lat., 124°48.16′ W. long.;

(90) 45°58.96′ N. lat., 124°43.97′ W. long.;

(91) 45°47.05′ N. lat., 124°43.25′ W. long.;

(92) 45°46.00′ N. lat., 124°43.31′ W. long.;

(93) 45°44.22′ N. lat., 124°44.55′ W. long.;

(94) 45°34.97′ N. lat., 124°31.95′ W. long.;

(95) 45°20.25′ N. lat., 124°25.18′ W. long.;

(96) 45°13.09′ N. lat., 124°21.61′ W. long.;

(97) 45°09.59′ N. lat., 124°22.78′ W. long.;

(98) 45°03.83′ N. lat., 124°26.21′ W. long.;

(99) 45°00.22′ N. lat., 124°28.31′ W. long.;

(100) 44°53.53′ N. lat., 124°32.98′ W. long.;

(101) 44°40.79′ N. lat., 124°45.76′ W. long.;

(102) 44°41.35′ N. lat., 124°48.03′ W. long.;

(103) 44°40.27′ N. lat., 124°49.11′ W. long.;

(104) 44°38.52′ N. lat., 124°49.11′ W. long.;

(105) 44°38.25′ N. lat., 124°46.47′ W. long.;

(106) 44°28.84′ N. lat., 124°47.09′ W. long.;

(107) 44°23.24′ N. lat., 124°49.96′ W. long.;

(108) 44°13.07′ N. lat., 124°58.34′ W. long.;

(109) 44°08.30′ N. lat., 124°58.23′ W. long.;

(110) 43°57.99′ N. lat., 124°57.83′ W. long.;

(111) 43°51.43′ N. lat., 124°52.02′ W. long.;

(112) 43°50.72′ N. lat., 124°39.23′ W. long.;

(113) 43°39.04′ N. lat., 124°37.82′ W. long.;

(114) 43°27.76′ N. lat., 124°39.76′ W. long.;

(115) 43°20.83′ N. lat., 124°42.70′ W. long.;

(116) 43°20.22′ N. lat., 124°42.92′ W. long.;

(117) 43°13.07′ N. lat., 124°46.03′ W. long.;

(118) 43°10.43′ N. lat., 124°50.27′ W. long.;

(119) 43°08.83′ N. lat., 124°50.93′ W. long.;

(120) 43°05.89′ N. lat., 124°51.60′ W. long.;

(121) 43°04.60′ N. lat., 124°53.01′ W. long.;

(122) 43°02.64′ N. lat., 124°52.01′ W. long.;

(123) 43°00.39′ N. lat., 124°51.77′ W. long.;

(124) 42°58.00′ N. lat., 124°52.99′ W. long.;

(125) 42°57.56′ N. lat., 124°54.10′ W. long.;

(126) 42°53.82′ N. lat., 124°55.76′ W. long.;

(127) 42°53.20′ N. lat., 124°53.56′ W. long.;

(128) 42°50.00′ N. lat., 124°52.36′ W. long.;

(129) 42°49.43′ N. lat., 124°52.03′ W. long.;

(130) 42°47.68′ N. lat., 124°47.72′ W. long.;

(131) 42°46.17′ N. lat., 124°44.05′ W. long.;

(132) 42°41.67′ N. lat., 124°44.36′ W. long.;

(133) 42°40.50′ N. lat., 124°43.86′ W. long.;

(134) 42°38.79′ N. lat., 124°42.88′ W. long.;

(135) 42°32.39′ N. lat., 124°45.38′ W. long.;

(136) 42°32.08′ N. lat., 124°43.44′ W. long.;

(137) 42°30.98′ N. lat., 124°43.84′ W. long.;

(138) 42°28.37′ N. lat., 124°48.91′ W. long.;

(139) 42°20.07′ N. lat., 124°41.59′ W. long.;

(140) 42°15.05′ N. lat., 124°38.07′ W. long.;

(141) 42°13.67′ N. lat., 124°37.77′ W. long.;

(142) 42°07.37′ N. lat., 124°37.25′ W. long.;

(143) 42°04.93′ N. lat., 124°36.79′ W. long.;

(144) 42°00.00′ N. lat., 124°36.26′ W. long.;

(145) 41°47.60′ N. lat., 124°29.75′ W. long.;

(146) 41°22.07′ N. lat., 124°29.55′ W. long.;

(147) 41°13.58′ N. lat., 124°24.17′ W. long.;

(148) 41°06.51′ N. lat., 124°23.07′ W. long.;

(149) 40°55.20′ N. lat., 124°27.46′ W. long.;

(150) 40°49.76′ N. lat., 124°27.17′ W. long.;

(151) 40°45.79′ N. lat., 124°30.37′ W. long.;

(152) 40°40.31′ N. lat., 124°32.47′ W. long.;

(153) 40°37.42′ N. lat., 124°37.20′ W. long.;

(154) 40°36.03′ N. lat., 124°39.97′ W. long.;

(155) 40°31.48′ N. lat., 124°40.95′ W. long.;

(156) 40°30.00′ N. lat., 124°38.50′ W. long.;

(157) 40°24.81′ N. lat., 124°35.82′ W. long.;

(158) 40°22.00′ N. lat., 124°30.01′ W. long.;

(159) 40°16.84′ N. lat., 124°29.87′ W. long.;

(160) 40°17.06′ N. lat., 124°35.51′ W. long.;

(161) 40°16.41′ N. lat., 124°39.10′ W. long.;

(162) 40°10.00′ N. lat., 124°23.56′ W. long.;

(163) 40°06.67′ N. lat., 124°19.08′ W. long.;

(164) 40°08.10′ N. lat., 124°16.71′ W. long.;

(165) 40°05.90′ N. lat., 124°17.77′ W. long.;

(166) 40°02.80′ N. lat., 124°16.28′ W. long.;

(167) 40°01.98′ N. lat., 124°12.99′ W. long.;

(168) 40°01.53′ N. lat., 124°09.82′ W. long.;

(169) 39°58.28′ N. lat., 124°12.93′ W. long.;

(170) 39°57.06′ N. lat., 124°12.03′ W. long.;

(171) 39°56.31′ N. lat., 124°08.98′ W. long.;

(172) 39°55.20′ N. lat., 124°07.98′ W. long.;

(173) 39°52.57′ N. lat., 124°09.04′ W. long.;

(174) 39°42.78′ N. lat., 124°02.11′ W. long.;

(175) 39°34.76′ N. lat., 123°58.51′ W. long.;

(176) 39°34.22′ N. lat., 123°56.82′ W. long.;

(177) 39°32.98′ N. lat., 123°56.43′ W. long.;

(178) 39°32.14′ N. lat., 123°58.83′ W. long.;

(179) 39°07.79′ N. lat., 123°58.72′ W. long.;

(180) 39°00.99′ N. lat., 123°57.56′ W. long.;

(181) 39°00.05′ N. lat., 123°56.83′ W. long.;

(182) 38°57.50′ N. lat., 123°57.22′ W. long.;

(183) 38°56.28′ N. lat., 123°57.53′ W. long.;

(184) 38°56.01′ N. lat., 123°58.72′ W. long.;

(185) 38°52.41′ N. lat., 123°56.38′ W. long.;

(186) 38°46.81′ N. lat., 123°51.46′ W. long.;

(187) 38°45.56′ N. lat., 123°51.32′ W. long.;

(188) 38°43.24′ N. lat., 123°49.91′ W. long.;

(189) 38°41.42′ N. lat., 123°47.22′ W. long.;

(190) 38°40.97′ N. lat., 123°47.80′ W. long.;

(191) 38°38.58′ N. lat., 123°46.07′ W. long.;

(192) 38°37.38′ N. lat., 123°43.80′ W. long.;

(193) 38°33.86′ N. lat., 123°41.51′ W. long.;

(194) 38°29.45′ N. lat., 123°38.42′ W. long.;

(195) 38°28.20′ N. lat., 123°38.17′ W. long.;

(196) 38°24.09′ N. lat., 123°35.26′ W. long.;

(197) 38°16.72′ N. lat., 123°31.42′ W. long.;

(198) 38°15.32′ N. lat., 123°29.33′ W. long.;

(199) 38°14.45′ N. lat., 123°26.15′ W. long.;

(200) 38°10.26′ N. lat., 123°25.43′ W. long.;

(201) 38°12.61′ N. lat., 123°28.08′ W. long.;

(202) 38°11.98′ N. lat., 123°29.35′ W. long.;

(203) 38°08.23′ N. lat., 123°28.04′ W. long.;

(204) 38°06.39′ N. lat., 123°30.59′ W. long.;

(205) 38°04.25′ N. lat., 123°31.81′ W. long.;

(206) 38°02.08′ N. lat., 123°31.27′ W. long.;

(207) 38°00.17′ N. lat., 123°29.43′ W. long.;

(208) 38°00.00′ N. lat., 123°28.55′ W. long.;

(209) 37°58.24′ N. lat., 123°26.91′ W. long.;

(210) 37°55.32′ N. lat., 123°27.19′ W. long.;

(211) 37°51.52′ N. lat., 123°25.01′ W. long.;

(212) 37°44.21′ N. lat., 123°11.38′ W. long.;

(213) 37°35.67′ N. lat., 123°01.86′ W. long.;

(214) 37°14.29′ N. lat., 122°52.99′ W. long.;

(215) 37°11.00′ N. lat., 122°49.28′ W. long.;

(216) 37°07.00′ N. lat., 122°44.65′ W. long.;

(217) 37°00.86′ N. lat., 122°37.55′ W. long.;

(218) 36°59.71′ N. lat., 122°33.73′ W. long.;

(219) 36°57.98′ N. lat., 122°27.80′ W. long.;

(220) 36°59.83′ N. lat., 122°25.17′ W. long.;

(221) 36°57.21′ N. lat., 122°25.17′ W. long.;

(222) 36°57.79′ N. lat., 122°22.28′ W. long.;

(223) 36°55.86′ N. lat., 122°21.99′ W. long.;

(224) 36°52.06′ N. lat., 122°12.12′ W. long.;

(225) 36°47.63′ N. lat., 122°07.40′ W. long.;

(226) 36°47.26′ N. lat., 122°03.23′ W. long.;

(227) 36°49.53′ N. lat., 121°59.35′ W. long.;

(228) 36°44.81′ N. lat., 121°58.29′ W. long.;

(229) 36°38.95′ N. lat., 122°02.02′ W. long.;

(230) 36°23.43′ N. lat., 121°59.76′ W. long.;

(231) 36°19.66′ N. lat., 122°06.25′ W. long.;

(232) 36°14.78′ N. lat., 122°01.52′ W. long.;

(233) 36°13.64′ N. lat., 121°57.83′ W. long.;

(234) 36°09.99′ N. lat., 121°43.48′ W. long.;

(235) 36°00.00′ N. lat., 121°36.95′ W. long.;

(236) 35°57.09′ N. lat., 121°34.16′ W. long.;

(237) 35°52.71′ N. lat., 121°32.32′ W. long.;

(238) 35°51.23′ N. lat., 121°30.54′ W. long.;

(239) 35°46.07′ N. lat., 121°29.75′ W. long.;

(240) 35°34.08′ N. lat., 121°19.83′ W. long.;

(241) 35°31.41′ N. lat., 121°14.80′ W. long.;

(242) 35°15.42′ N. lat., 121°03.47′ W. long.;

(243) 35°07.70′ N. lat., 120°59.31′ W. long.;

(244) 34°57.27′ N. lat., 120°56.93′ W. long.;

(245) 34°44.27′ N. lat., 120°57.65′ W. long.;

(246) 34°32.75′ N. lat., 120°50.08′ W. long.;

(247) 34°27.00′ N. lat., 120°41.50′ W. long.;

(248) 34°20.00′ N. lat., 120°30.99′ W. long.;

(249) 34°19.15′ N. lat., 120°19.78′ W. long.;

(250) 34°23.24′ N. lat., 120°14.17′ W. long.;

(251) 34°21.35′ N. lat., 119°54.89′ W. long.;

(252) 34°09.79′ N. lat., 119°44.51′ W. long.;

(253) 34°07.34′ N. lat., 120°06.71′ W. long.;

(254) 34°09.74′ N. lat., 120°19.78′ W. long.;

(255) 34°13.95′ N. lat., 120°29.78′ W. long.;

(256) 34°09.41′ N. lat., 120°37.75′ W. long.;

(257) 34°03.39′ N. lat., 120°35.26′ W. long.;

(258) 33°56.82′ N. lat., 120°28.30′ W. long.;

(259) 33°50.71′ N. lat., 120°09.24′ W. long.;

(260) 33°38.21′ N. lat., 119°59.90′ W. long.;

(261) 33°35.35′ N. lat., 119°51.95′ W. long.;

(262) 33°35.99′ N. lat., 119°49.13′ W. long.;

(263) 33°42.74′ N. lat., 119°47.80′ W. long.;

(264) 33°53.65′ N. lat., 119°53.29′ W. long.;

(265) 33°57.85′ N. lat., 119°31.05′ W. long.;

(266) 33°56.78′ N. lat., 119°27.44′ W. long.;

(267) 33°58.03′ N. lat., 119°27.82′ W. long.;

(268) 33°59.31′ N. lat., 119°20.02′ W. long.;

(269) 34°02.91′ N. lat., 119°15.38′ W. long.;

(270) 33°59.04′ N. lat., 119°03.02′ W. long.;

(271) 33°57.88′ N. lat., 118°41.69′ W. long.;

(272) 33°50.89′ N. lat., 118°37.78′ W. long.;

(273) 33°39.54′ N. lat., 118°18.70′ W. long.;

(274) 33°35.42′ N. lat., 118°17.15′ W. long.;

(275) 33°31.26′ N. lat., 118°10.84′ W. long.;

(276) 33°32.71′ N. lat., 117°52.05′ W. long.;

(277) 32°58.94′ N. lat., 117°20.05′ W. long.;

(278) 32°46.45′ N. lat., 117°24.37′ W. long.;

(279) 32°42.25′ N. lat., 117°22.87′ W. long.;

(280) 32°39.50′ N. lat., 117°27.80′ W. long.; and

(281) 32°34.83′ N. lat., 117°24.67′ W. long.

* * * * *

(f) The 180-fm (329-m) depth contour between 42° N. lat. and the U.S. border with Mexico, modified to allow fishing in petrale sole areas, is defined by straight lines connecting all of the following points in the order stated:

(1) 42°00.00′ N. lat., 124°36.37′ W. long.;

(2) 41°47.79′ N. lat., 124°29.48′ W. long.;

(3) 41°21.16′ N. lat., 124°28.97′ W. long.;

(4) 41°13.44′ N. lat., 124°24.10′ W. long.;

(5) 41°11.00′ N. lat., 124°22.99′ W. long.;

(6) 41°06.51′ N. lat., 124°23.07′ W. long.;

(7) 40°55.20′ N. lat., 124°27.46′ W. long.;

(8) 40°53.95′ N. lat., 124°26.04′ W. long.;

(9) 40°49.96′ N. lat., 124°26.04′ W. long.;

(10) 40°44.49′ N. lat., 124°30.81′ W. long.;

(11) 40°40.58′ N. lat., 124°32.05′ W. long.;

(12) 40°37.36′ N. lat., 124°29.41′ W. long.;

(13) 40°35.67′ N. lat., 124°30.43′ W. long.;

(14) 40°37.44′ N. lat., 124°37.16′ W. long.;

(15) 40°36.03′ N. lat., 124°39.97′ W. long.;

(16) 40°31.42′ N. lat., 124°40.85′ W. long.;

(17) 40°30.00′ N. lat., 124°36.82′ W. long.;

(18) 40°27.56′ N. lat., 124°37.24′ W. long.;

(19) 40°24.81′ N. lat., 124°35.82′ W. long.;

(20) 40°22.00′ N. lat., 124°30.01′ W. long.;

(21) 40°16.84′ N. lat., 124°29.87′ W. long.;

(22) 40°17.00′ N. lat., 124°34.96′ W. long.;

(23) 40°16.03′ N. lat., 124°36.02′ W. long.;

(24) 40°11.93′ N. lat., 124°28.21′ W. long.;

(25) 40°10.00′ N. lat., 124°23.56′ W. long.;

(26) 40°06.67′ N. lat., 124°19.08′ W. long.;

(27) 40°08.10′ N. lat., 124°16.71′ W. long.;

(28) 40°05.90′ N. lat., 124°17.77′ W. long.;

(29) 40°02.80′ N. lat., 124°16.28′ W. long.;

(30) 40°01.98′ N. lat., 124°12.99′ W. long.;

(31) 40°01.53′ N. lat., 124°09.82′ W. long.;

(32) 39°58.54′ N. lat., 124°12.43′ W. long.;

(33) 39°55.72′ N. lat., 124°07.44′ W. long.;

(34) 39°42.78′ N. lat., 124°02.11′ W. long.;

(35) 39°34.76′ N. lat., 123°58.51′ W. long.;

(36) 39°34.22′ N. lat., 123°56.82′ W. long.;

(37) 39°32.98′ N. lat., 123°56.43′ W. long.;

(38) 39°32.14′ N. lat., 123°58.83′ W. long.;

(39) 39°07.79′ N. lat., 123°58.72′ W. long.;

(40) 39°00.99′ N. lat., 123°57.56′ W. long.;

(41) 39°00.05′ N. lat., 123°56.83′ W. long.;

(42) 38°57.50′ N. lat., 123°56.96′ W. long.;

(43) 38°52.22′ N. lat., 123°56.22′ W. long.;

(44) 38°46.81′ N. lat., 123°51.46′ W. long.;

(45) 38°45.56′ N. lat., 123°51.32′ W. long.;

(46) 38°43.24′ N. lat., 123°49.91′ W. long.;

(47) 38°41.41′ N. lat., 123°46.74′ W. long.;

(48) 38°38.48′ N. lat., 123°45.88′ W. long.;

(49) 38°37.38′ N. lat., 123°43.80′ W. long.;

(50) 38°35.26′ N. lat., 123°41.99′ W. long.;

(51) 38°34.44′ N. lat., 123°41.89′ W. long.;

(52) 38°29.45′ N. lat., 123°38.42′ W. long.;

(53) 38°28.20′ N. lat., 123°38.17′ W. long.;

(54) 38°24.09′ N. lat., 123°35.26′ W. long.;

(55) 38°19.95′ N. lat., 123°32.90′ W. long.;

(56) 38°14.38′ N. lat., 123°25.51′ W. long.;

(57) 38°09.39′ N. lat., 123°24.39′ W. long.;

(58) 38°10.09′ N. lat., 123°27.21′ W. long.;

(59) 38°03.98′ N. lat., 123°31.74′ W. long.;

(60) 38°02.08′ N. lat., 123°31.27′ W. long.;

(61) 38°00.17′ N. lat., 123°29.43′ W. long.;

(62) 38°00.00′ N. lat., 123°28.55′ W. long.;

(63) 37°58.24′ N. lat., 123°26.91′ W. long.;

(64) 37°55.32′ N. lat., 123°27.19′ W. long.;

(65) 37°51.52′ N. lat., 123°25.01′ W. long.;

(66) 37°44.21′ N. lat., 123°11.38′ W. long.;

(67) 37°35.67′ N. lat., 123°01.86′ W. long.;

(68) 37°23.42′ N. lat., 122°56.78′ W. long.;

(69) 37°23.23′ N. lat., 122°53.78′ W. long.;

(70) 37°13.97′ N. lat., 122°49.91′ W. long.;

(71) 37°11.00′ N. lat., 122°45.61′ W. long.;

(72) 37°08.28′ N. lat., 122°46.13′ W. long.;

(73) 37°07.00′ N. lat., 122°44.45′ W. long.;

(74) 37°00.86′ N. lat., 122°37.55′ W. long.;

(75) 36°59.71′ N. lat., 122°33.73′ W. long.;

(76) 36°57.98′ N. lat., 122°27.80′ W. long.;

(77) 36°59.83′ N. lat., 122°25.17′ W. long.;

(78) 36°57.21′ N. lat., 122°25.17′ W. long.;

(79) 36°57.79′ N. lat., 122°22.28′ W. long.;

(80) 36°55.86′ N. lat., 122°21.99′ W. long.;

(81) 36°52.06′ N. lat., 122°12.12′ W. long.;

(82) 36°47.63′ N. lat., 122°07.40′ W. long.;

(83) 36°47.27′ N. lat., 122°03.23′ W. long.;

(84) 36°49.53′ N. lat., 121°59.35′ W. long.;

(85) 36°44.81′ N. lat., 121°58.29′ W. long.;

(86) 36°38.95′ N. lat., 122°02.02′ W. long.;

(87) 36°30.86′ N. lat., 122°00.82′ W. long.;

(88) 36°23.43′ N. lat., 121°59.76′ W. long.;

(89) 36°22.00′ N. lat., 122°01.02′ W. long.;

(90) 36°19.01′ N. lat., 122°05.01′ W. long.;

(91) 36°14.78′ N. lat., 122°01.52′ W. long.;

(92) 36°09.99′ N. lat., 121°43.48′ W. long.;

(93) 36°00.00′ N. lat., 121°36.04′ W. long.;

(94) 35°58.19′ N. lat., 121°34.63′ W. long.;

(95) 35°52.71′ N. lat., 121°32.32′ W. long.;

(96) 35°51.23′ N. lat., 121°30.54′ W. long.;

(97) 35°46.07′ N. lat., 121°29.75′ W. long.;

(98) 35°34.08′ N. lat., 121°19.83′ W. long.;

(99) 35°31.41′ N. lat., 121°14.80′ W. long.;

(100) 35°15.42′ N. lat., 121°03.47′ W. long.;

(101) 35°07.21′ N. lat., 120°59.05′ W. long.;

(102) 35°07.45′ N. lat., 120°57.09′ W. long.;

(103) 34°44.29′ N. lat., 120°54.28′ W. long.;

(104) 34°44.24′ N. lat., 120°57.64′ W. long.;

(105) 34°32.75′ N. lat., 120°50.08′ W. long.;

(106) 34°27.00′ N. lat., 120°41.50′ W. long.;

(107) 34°20.00′ N. lat., 120°30.99′ W. long.;

(108) 34°19.15′ N. lat., 120°19.78′ W. long.;

(109) 34°23.24′ N. lat., 120°14.17′ W. long.;

(110) 34°21.35′ N. lat., 119°54.89′ W. long.;

(111) 34°09.79′ N. lat., 119°44.51′ W. long.;

(112) 34°07.34′ N. lat., 120°06.71′ W. long.;

(113) 34°09.74′ N. lat., 120°19.78′ W. long.;

(114) 34°13.95′ N. lat., 120°29.78′ W. long.;

(115) 34°09.41′ N. lat., 120°37.75′ W. long.;

(116) 34°03.39′ N. lat., 120°35.26′ W. long.;

(117) 33°56.82′ N. lat., 120°28.30′ W. long.;

(118) 33°50.71′ N. lat., 120°09.24′ W. long.;

(119) 33°38.21′ N. lat., 119°59.90′ W. long.;

(120) 33°35.35′ N. lat., 119°51.95′ W. long.;

(121) 33°35.99′ N. lat., 119°49.13′ W. long.;

(122) 33°42.74′ N. lat., 119°47.81′ W. long.;

(123) 33°53.65′ N. lat., 119°53.29′ W. long.;

(124) 33°57.85′ N. lat., 119°31.05′ W. long.;

(125) 33°56.78′ N. lat., 119°27.44′ W. long.;

(126) 33°58.03′ N. lat., 119°27.82′ W. long.;

(127) 33°59.31′ N. lat., 119°20.02′ W. long.;

(128) 34°02.91′ N. lat., 119°15.38′ W. long.;

(129) 33°59.04′ N. lat., 119°03.02′ W. long.;

(130) 33°57.88′ N. lat., 118°41.69′ W. long.;

(131) 33°50.89′ N. lat., 118°37.78′ W. long.;

(132) 33°39.54′ N. lat., 118°18.70′ W. long.;

(133) 33°35.42′ N. lat., 118°17.15′ W. long.;

(134) 33°31.26′ N. lat., 118°10.84′ W. long.;

(135) 33°32.71′ N. lat., 117°52.05′ W. long.;

(136) 32°58.94′ N. lat., 117°20.06′ W. long.;

(137) 32°46.45′ N. lat., 117°24.37′ W. long.;

(138) 32°42.25′ N. lat., 117°22.87′ W. long.;

(139) 32°39.50′ N. lat., 117°27.80′ W. long.; and

(140) 32°33.00′ N. lat., 117°24.67′ W. long.

(g) The 200-fm (366-m) depth contour between the U.S. border with Canada and the U.S. border with Mexico is defined by straight lines connecting all of the following points in the order stated:

(1) 48°14.75 N. lat., 125°41.73 W. long.;

(2) 48°12.85 N. lat., 125°38.06 W. long.;

(3) 48°07.10 N. lat., 125°45.65 W. long.;

(4) 48°05.71 N. lat., 125°44.70 W. long.;

(5) 48°04.07 N. lat., 125°36.96 W. long.;

(6) 48°03.05 N. lat., 125°36.38 W. long.;

(7) 48°01.98 N. lat., 125°37.41 W. long.;

(8) 48°01.46 N. lat., 125°39.61 W. long.;

(9) 47°56.94 N. lat., 125°36.65 W. long.;

(10) 47°55.11 N. lat., 125°36.92 W. long.;

(11) 47°54.10 N. lat., 125°34.98 W. long.;

(12) 47°54.50 N. lat., 125°32.01 W. long.;

(13) 47°55.77 N. lat., 125°30.13 W. long.;

(14) 47°55.65 N. lat., 125°28.46 W. long.;

(15) 47°58.11 N. lat., 125°26.60 W. long.;

(16) 48°00.40 N. lat., 125°24.83 W. long.;

(17) 48°02.04 N. lat., 125°22.90 W. long.;

(18) 48°03.60 N. lat., 125°21.84 W. long.;

(19) 48°03.98 N. lat., 125°20.65 W. long.;

(20) 48°03.26 N. lat., 125°19.76 W. long.;

(21) 48°01.50 N. lat., 125°18.80 W. long.;

(22) 48°01.03 N. lat., 125°20.12 W. long.;

(23) 48°00.04 N. lat., 125°20.26 W. long.;

(24) 47°58.10 N. lat., 125°18.91 W. long.;

(25) 47°58.17 N. lat., 125°17.50 W. long.;

(26) 47°52.33 N. lat., 125°15.78 W. long.;

(27) 47°49.20 N. lat., 125°10.67 W. long.;

(28) 47°48.27 N. lat., 125°07.38 W. long.;

(29) 47°47.24 N. lat., 125°05.38 W. long.;

(30) 47°45.95 N. lat., 125°04.61 W. long.;

(31) 47°44.58 N. lat., 125°07.12 W. long.;

(32) 47°42.24 N. lat., 125°05.15 W. long.;

(33) 47°38.54 N. lat., 125°06.76 W. long.;

(34) 47°35.03 N. lat., 125°04.28 W. long.;

(35) 47°28.82 N. lat., 124°56.24 W. long.;

(36) 47°29.15 N. lat., 124°54.10 W. long.;

(37) 47°28.43 N. lat., 124°51.58 W. long.;

(38) 47°24.13 N. lat., 124°47.50 W. long.;

(39) 47°18.31 N. lat., 124°46.17 W. long.;

(40) 47°19.57 N. lat., 124°51.00 W. long.;

(41) 47°18.12 N. lat., 124°53.66 W. long.;

(42) 47°17.60 N. lat., 124°52.94 W. long.;

(43) 47°17.71 N. lat., 124°51.63 W. long.;

(44) 47°16.90 N. lat., 124°51.23 W. long.;

(45) 47°16.10 N. lat., 124°53.67 W. long.;

(46) 47°14.24 N. lat., 124°53.02 W. long.;

(47) 47°12.16 N. lat., 124°56.77 W. long.;

(48) 47°13.35 N. lat., 124°58.70 W. long.;

(49) 47°09.53 N. lat., 124°58.32 W. long.;

(50) 47°09.54 N. lat., 124°59.50 W. long.;

(51) 47°05.87 N. lat., 124°59.30 W. long.;

(52) 47°03.65 N. lat., 124°56.26 W. long.;

(53) 47°00.87 N. lat., 124°59.52 W. long.;

(54) 46°56.80 N. lat., 125°00.00 W. long.;

(55) 46°51.55 N. lat., 125°00.00 W. long.;

(56) 46°50.07 N. lat., 124°53.90 W. long.;

(57) 46°44.88 N. lat., 124°51.97 W. long.;

(58) 46°33.45 N. lat., 124°36.11 W. long.;

(59) 46°33.20 N. lat., 124°30.64 W. long.;

(60) 46°27.85 N. lat., 124°31.95 W. long.;

(61) 46°18.27 N. lat., 124°39.28 W. long.;

(62) 46°16.00 N. lat., 124°24.88 W. long.;

(63) 46°14.22 N. lat., 124°26.29 W. long.;

(64) 46°11.53 N. lat., 124°39.58 W. long.;

(65) 46°08.77 N. lat., 124°41.71 W. long.;

(66) 46°05.86 N. lat., 124°42.26 W. long.;

(67) 46°03.85 N. lat., 124°48.20 W. long.;

(68) 46°02.33 N. lat., 124°48.51 W. long.;

(69) 45°58.99 N. lat., 124°44.42 W. long.;

(70) 45°46.90 N. lat., 124°43.50 W. long.;

(71) 45°46.00 N. lat., 124°44.27 W. long.;

(72) 45°44.98 N. lat., 124°44.93 W. long.;

(73) 45°43.46 N. lat., 124°44.93 W. long.;

(74) 45°34.88 N. lat., 124°32.59 W. long.;

(75) 45°20.25 N. lat., 124°25.47 W. long.;

(76) 45°13.06 N. lat., 124°22.25 W. long.;

(77) 45°03.83 N. lat., 124°27.13 W. long.;

(78) 45°00.17 N. lat., 124°29.29 W. long.;

(79) 44°55.60 N. lat., 124°32.36 W. long.;

(80) 44°48.25 N. lat., 124°40.61 W. long.;

(81) 44°42.24 N. lat., 124°48.05 W. long.;

(82) 44°41.35 N. lat., 124°48.03 W. long.;

(83) 44°40.27 N. lat., 124°49.11 W. long.;

(84) 44°38.52 N. lat., 124°49.11 W. long.;

(85) 44°23.30 N. lat., 124°50.17 W. long.;

(86) 44°13.19 N. lat., 124°58.66 W. long.;

(87) 44°08.30 N. lat., 124°58.50 W. long.;

(88) 43°57.89 N. lat., 124°58.13 W. long.;

(89) 43°50.59 N. lat., 124°52.80 W. long.;

(90) 43°50.10 N. lat., 124°40.27 W. long.;

(91) 43°39.05 N. lat., 124°38.56 W. long.;

(92) 43°28.85 N. lat., 124°40.00 W. long.;

(93) 43°20.83 N. lat., 124°42.84 W. long.;

(94) 43°20.22 N. lat., 124°43.05 W. long.;

(95) 43°13.29 N. lat., 124°47.00 W. long.;

(96) 43°13.15 N. lat., 124°52.61 W. long.;

(97) 43°04.60 N. lat., 124°53.01 W. long.;

(98) 42°57.56 N. lat., 124°54.10 W. long.;

(99) 42°53.82 N. lat., 124°55.76 W. long.;

(100) 42°53.41 N. lat., 124°54.35 W. long.;

(101) 42°49.52 N. lat., 124°53.16 W. long.;

(102) 42°47.47 N. lat., 124°50.24 W. long.;

(103) 42°47.57 N. lat., 124°48.13 W. long.;

(104) 42°46.19 N. lat., 124°44.52 W. long.;

(105) 42°41.75 N. lat., 124°44.69 W. long.;

(106) 42°40.50 N. lat., 124°44.02 W. long.;

(107) 42°38.81 N. lat., 124°43.09 W. long.;

(108) 42°31.82 N. lat., 124°46.24 W. long.;

(109) 42°31.96 N. lat., 124°44.32 W. long.;

(110) 42°30.95 N. lat., 124°44.50 W. long.;

(111) 42°28.39 N. lat., 124°49.56 W. long.;

(112) 42°23.34 N. lat., 124°44.91 W. long.;

(113) 42°19.72 N. lat., 124°41.60 W. long.;

(114) 42°15.12 N. lat., 124°38.34 W. long.;

(115) 42°13.67 N. lat., 124°38.22 W. long.;

(116) 42°12.35 N. lat., 124°38.09 W. long.;

(117) 42°04.35 N. lat., 124°37.23 W. long.;

(118) 42°00.00 N. lat., 124°36.80 W. long.;

(119) 41°47.84 N. lat., 124°30.48 W. long.;

(120) 41°43.33 N. lat., 124°29.96 W. long.;

(121) 41°23.46 N. lat., 124°30.36 W. long.;

(122) 41°21.29 N. lat., 124°29.43 W. long.;

(123) 41°13.52 N. lat., 124°24.48 W. long.;

(124) 41°06.71 N. lat., 124°23.37 W. long.;

(125) 40°54.66 N. lat., 124°28.20 W. long.;

(126) 40°51.52 N. lat., 124°27.47 W. long.;

(127) 40°40.62 N. lat., 124°32.75 W. long.;

(128) 40°36.08 N. lat., 124°40.18 W. long.;

(129) 40°32.90 N. lat., 124°41.90 W. long.;

(130) 40°31.30 N. lat., 124°41.00 W. long.;

(131) 40°30.00 N. lat., 124°38.15 W. long.;

(132) 40°27.29 N. lat., 124°37.34 W. long.;

(133) 40°24.98 N. lat., 124°36.44 W. long.;

(134) 40°22.22 N. lat., 124°31.85 W. long.;

(135) 40°16.94 N. lat., 124°32.00 W. long.;

(136) 40°17.58 N. lat., 124°45.30 W. long.;

(137) 40°13.24 N. lat., 124°32.43 W. long.;

(138) 40°10.00 N. lat., 124°24.64 W. long.;

(139) 40°06.43 N. lat., 124°19.26 W. long.;

(140) 40°07.06 N. lat., 124°17.82 W. long.;

(141) 40°04.70 N. lat., 124°18.17 W. long.;

(142) 40°02.34 N. lat., 124°16.64 W. long.;

(143) 40°01.52 N. lat., 124°09.89 W. long.;

(144) 39°58.27 N. lat., 124°13.58 W. long.;

(145) 39°56.59 N. lat., 124°12.09 W. long.;

(146) 39°55.19 N. lat., 124°08.03 W. long.;

(147) 39°52.54 N. lat., 124°09.47 W. long.;

(148) 39°42.67 N. lat., 124°02.59 W. long.;

(149) 39°35.95 N. lat., 123°59.56 W. long.;

(150) 39°34.61 N. lat., 123°59.66 W. long.;

(151) 39°33.77 N. lat., 123°56.89 W. long.;

(152) 39°33.01 N. lat., 123°57.14 W. long.;

(153) 39°32.20 N. lat., 123°59.20 W. long.;

(154) 39°07.84 N. lat., 123°59.14 W. long.;

(155) 39°01.11 N. lat., 123°57.97 W. long.;

(156) 39°00.51 N. lat., 123°56.96 W. long.;

(157) 38°57.50 N. lat., 123°57.57 W. long.;

(158) 38°56.57 N. lat., 123°57.80 W. long.;

(159) 38°56.39 N. lat., 123°59.48 W. long.;

(160) 38°50.22 N. lat., 123°55.55 W. long.;

(161) 38°46.76 N. lat., 123°51.56 W. long.;

(162) 38°45.27 N. lat., 123°51.63 W. long.;

(163) 38°42.76 N. lat., 123°49.83 W. long.;

(164) 38°41.53 N. lat., 123°47.83 W. long.;

(165) 38°40.97 N. lat., 123°48.14 W. long.;

(166) 38°38.02 N. lat., 123°45.85 W. long.;

(167) 38°37.19 N. lat., 123°44.08 W. long.;

(168) 38°33.43 N. lat., 123°41.82 W. long.;

(169) 38°29.44 N. lat., 123°38.49 W. long.;

(170) 38°28.08 N. lat., 123°38.33 W. long.;

(171) 38°23.68 N. lat., 123°35.47 W. long.;

(172) 38°19.63 N. lat., 123°34.05 W. long.;

(173) 38°16.23 N. lat., 123°31.90 W. long.;

(174) 38°14.79 N. lat., 123°29.98 W. long.;

(175) 38°14.12 N. lat., 123°26.36 W. long.;

(176) 38°10.85 N. lat., 123°25.84 W. long.;

(177) 38°13.15 N. lat., 123°28.25 W. long.;

(178) 38°12.28 N. lat., 123°29.88 W. long.;

(179) 38°10.19 N. lat., 123°29.11 W. long.;

(180) 38°07.94 N. lat., 123°28.52 W. long.;

(181) 38°06.51 N. lat., 123°30.96 W. long.;

(182) 38°04.21 N. lat., 123°32.03 W. long.;

(183) 38°02.07 N. lat., 123°31.37 W. long.;

(184) 38°00.00 N. lat., 123°29.62 W. long.;

(185) 37°58.13 N. lat., 123°27.28 W. long.;

(186) 37°55.01 N. lat., 123°27.53 W. long.;

(187) 37°51.40°N. lat., 123°25.25 W. long.;

(188) 37°43.97 N. lat., 123°11.56 W. long.;

(189) 37°35.67 N. lat., 123°02.32 W. long.;

(190) 37°13.65 N. lat., 122°54.25 W. long.;

(191) 37°11.00 N. lat., 122°50.97 W. long.;

(192) 37°07.00 N. lat., 122°45.90 W. long.;

(193) 37°00.66 N. lat., 122°37.91 W. long.;

(194) 36°57.40°N. lat., 122°28.32 W. long.;

(195) 36°59.25 N. lat., 122°25.61 W. long.;

(196) 36°56.88 N. lat., 122°25.49 W. long.;

(197) 36°57.40°N. lat., 122°22.69 W. long.;

(198) 36°55.43 N. lat., 122°22.49 W. long.;

(199) 36°52.29 N. lat., 122°13.25 W. long.;

(200) 36°47.12 N. lat., 122°07.62 W. long.;

(201) 36°47.10 N. lat., 122°02.17 W. long.;

(202) 36°43.76 N. lat., 121°59.17 W. long.;

(203) 36°38.85 N. lat., 122°02.26 W. long.;

(204) 36°23.41 N. lat., 122°00.17 W. long.;

(205) 36°19.68 N. lat., 122°06.99 W. long.;

(206) 36°14.75 N. lat., 122°01.57 W. long.;

(207) 36°09.74 N. lat., 121°45.06 W. long.;

(208) 36°06.75 N. lat., 121°40.79 W. long.;

(209) 36°00.00 N. lat., 121°35.98 W. long.;

(210) 35°58.18 N. lat., 121°34.69 W. long.;

(211) 35°52.31 N. lat., 121°32.51 W. long.;

(212) 35°51.21 N. lat., 121°30.97 W. long.;

(213) 35°46.32 N. lat., 121°30.36 W. long.;

(214) 35°33.74 N. lat., 121°20.16 W. long.;

(215) 35°31.37 N. lat., 121°15.29 W. long.;

(216) 35°23.32 N. lat., 121°11.50 W. long.;

(217) 35°15.28 N. lat., 121°04.51 W. long.;

(218) 35°07.08 N. lat., 121°00.36 W. long.;

(219) 34°57.46 N. lat., 120°58.29 W. long.;

(220) 34°44.25 N. lat., 120°58.35 W. long.;

(221) 34°32.30 N. lat., 120°50.28 W. long.;

(222) 34°27.00 N. lat., 120°42.61 W. long.;

(223) 34°19.08 N. lat., 120°31.27 W. long.;

(224) 34°17.72 N. lat., 120°19.32 W. long.;

(225) 34°22.45 N. lat., 120°12.87 W. long.;

(226) 34°21.36 N. lat., 119°54.94 W. long.;

(227) 34°09.95 N. lat., 119°46.24 W. long.;

(228) 34°09.08 N. lat., 119°57.59 W. long.;

(229) 34°07.53 N. lat., 120°06.41 W. long.;

(230) 34°10.54 N. lat., 120°19.13 W. long.;

(231) 34°14.68 N. lat., 120°29.54 W. long.;

(232) 34°09.51 N. lat., 120°38.38 W. long.;

(233) 34°03.06 N. lat., 120°35.60 W. long.;

(234) 33°56.39 N. lat., 120°28.53 W. long.;

(235) 33°50.25 N. lat., 120°09.49 W. long.;

(236) 33°37.96 N. lat., 120°00.14 W. long.;

(237) 33°34.52 N. lat., 119°51.90 W. long.;

(238) 33°35.51 N. lat., 119°48.55 W. long.;

(239) 33°42.76 N. lat., 119°47.83 W. long.;

(240) 33°53.62 N. lat., 119°53.34 W. long.;

(241) 33°57.61 N. lat., 119°31.32 W. long.;

(242) 33°56.34 N. lat., 119°26.46 W. long.;

(243) 33°57.79 N. lat., 119°26.91 W. long.;

(244) 33°58.88 N. lat., 119°20.12 W. long.;

(245) 34°02.65 N. lat., 119°15.17 W. long.;

(246) 33°59.02 N. lat., 119°03.05 W. long.;

(247) 33°57.61 N. lat., 118°42.13 W. long.;

(248) 33°50.76 N. lat., 118°38.03 W. long.;

(249) 33°39.41 N. lat., 118°18.74 W. long.;

(250) 33°35.51 N. lat., 118°18.08 W. long.;

(251) 33°30.68 N. lat., 118°10.40 W. long.;

(252) 33°32.49 N. lat., 117°51.90 W. long.;

(253) 32°58.87 N. lat., 117°20.41 W. long.; and

(254) 32°35.53 N. lat., 117°29.72 W. long.

* * * * *

(l) The 200-fm (366-m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°07.10′ N. lat., 125°45.65′ W. long.;

(4) 48°05.71′ N. lat., 125°44.70′ W. long.;

(5) 48°04.07′ N. lat., 125°36.96′ W. long.;

(6) 48°03.05′ N. lat., 125°36.38′ W. long.;

(7) 48°01.98′ N. lat., 125°37.41′ W. long.;

(8) 48°01.46′ N. lat., 125°39.61′ W. long.;

(9) 47°56.94′ N. lat., 125°36.65′ W. long.;

(10) 47°55.77′ N. lat., 125°30.13′ W. long.;

(11) 47°55.65′ N. lat., 125°28.46′ W. long.;

(12) 47°58.11′ N. lat., 125°26.60′ W. long.;

(13) 48°00.40′ N. lat., 125°24.83′ W. long.;

(14) 48°02.04′ N. lat., 125°22.90′ W. long.;

(15) 48°03.60′ N. lat., 125°21.84′ W. long.;

(16) 48°03.98′ N. lat., 125°20.65′ W. long.;

(17) 48°03.26′ N. lat., 125°19.76′ W. long.;

(18) 48°01.50′ N. lat., 125°18.80′ W. long.;

(19) 48°01.03′ N. lat., 125°20.12′ W. long.;

(20) 48°00.04′ N. lat., 125°20.26′ W. long.;

(21) 47°58.10′ N. lat., 125°18.91′ W. long.;

(22) 47°58.17′ N. lat., 125°17.50′ W. long.;

(23) 47°52.33′ N. lat., 125°15.78′ W. long.;

(24) 47°49.20′ N. lat., 125°10.67′ W. long.;

(25) 47°48.27′ N. lat., 125°07.38′ W. long.;

(26) 47°47.24′ N. lat., 125°05.38′ W. long.;

(27) 47°45.95′ N. lat., 125°04.61′ W. long.;

(28) 47°44.58′ N. lat., 125°07.12′ W. long.;

(29) 47°42.24′ N. lat., 125°05.15′ W. long.;

(30) 47°38.54′ N. lat., 125°06.76′ W. long.;

(31) 47°35.03′ N. lat., 125°04.28′ W. long.;

(32) 47°28.82′ N. lat., 124 56.24′ W. long.;

(33) 47°29.15′ N. lat., 124 54.10′ W. long.;

(34) 47°28.43′ N. lat., 124 51.58′ W. long.;

(35) 47°24.13′ N. lat., 124 47.50′ W. long.;

(36) 47°18.31′ N. lat., 124 46.17′ W. long.;

(37) 47°19.57′ N. lat., 124 51.00′ W. long.;

(38) 47°18.12′ N. lat., 124 53.66′ W. long.;

(39) 47°17.60′ N. lat., 124 52.94′ W. long.;

(40) 47°17.71′ N. lat., 124 51.63′ W. long.;

(41) 47°16.90′ N. lat., 124 51.23′ W. long.;

(42) 47°16.10′ N. lat., 124 53.67′ W. long.;

(43) 47°14.24′ N. lat., 124 53.02′ W. long.;

(44) 47°12.16′ N. lat., 124 56.77′ W. long.;

(45) 47°13.35′ N. lat., 124 58.70′ W. long.;

(46) 47°09.53′ N. lat., 124 58.32′ W. long.;

(47) 47°09.54′ N. lat., 124 59.50′ W. long.;

(48) 47°05.87′ N. lat., 124 59.30′ W. long.;

(49) 47°03.65′ N. lat., 124 56.26′ W. long.;

(50) 47°00.87′ N. lat., 124 59.52′ W. long.;

(51) 46°56.80′ N. lat., 125°00.00′ W. long.;

(52) 46°51.55′ N. lat., 125°00.00′ W. long.;

(53) 46°50.07′ N. lat., 124°53.90′ W. long.;

(54) 46°44.88′ N. lat., 124°51.97′ W. long.;

(55) 46°33.45′ N. lat., 124°36.11′ W. long.;

(56) 46°33.20′ N. lat., 124°30.64′ W. long.;

(57) 46°27.85′ N. lat., 124°31.95′ W. long.;

(58) 46°18.27′ N. lat., 124°39.28′ W. long.;

(59) 46°16.00′ N. lat., 124°24.88′ W. long.

(60) 46°14.22′ N. lat., 124°26.28′ W. long.;

(61) 46°11.53′ N. lat., 124°39.58′ W. long.;

(62) 46°08.77′ N. lat., 124°41.71′ W. long.;

(63) 46°05.86′ N. lat., 124°42.27′ W. long.;

(64) 46°03.85′ N. lat., 124°48.20′ W. long.;

(65) 46°02.34′ N. lat., 124°48.51′ W. long.;

(66) 45°58.99′ N. lat., 124°44.42′ W. long.;

(67) 45°49.68′ N. lat., 124°42.37′ W. long.;

(68) 45°49.74′ N. lat., 124°43.69′ W. long.;

(69) 45°46.00′ N. lat., 124°41.82′ W. long.;

(70) 45°40.83′ N. lat., 124°40.90′ W. long.;

(71) 45°34.88′ N. lat., 124°32.58′ W. long.;

(72) 45°20.25′ N. lat., 124°25.47′ W. long.;

(73) 45°13.04′ N. lat., 124°21.92′ W. long.;

(74) 45°03.83′ N. lat., 124°27.13′ W. long.;

(75) 45°00.17′ N. lat., 124°29.28′ W. long.;

(76) 44°50.99′ N. lat., 124°35.40′ W. long.;

(77) 44°46.87′ N. lat., 124°38.20′ W. long.;

(78) 44°48.25′ N. lat., 124°40.62′ W. long.;

(79) 44°41.34′ N. lat., 124°49.20′ W. long.;

(80) 44°23.30′ N. lat., 124°50.17′ W. long.;

(81) 44°13.19′ N. lat., 124°58.66′ W. long.;

(82) 44°08.30′ N. lat., 124°58.72′ W. long.;

(83) 43°57.37′ N. lat., 124°58.71′ W. long.;

(84) 43°52.32′ N. lat., 124°49.43′ W. long.;

(85) 43°51.35′ N. lat., 124°37.94′ W. long.;

(86) 43°49.73′ N. lat., 124°40.26′ W. long.;

(87) 43°39.06′ N. lat., 124°38.55′ W. long.;

(88) 43°28.85′ N. lat., 124°39.99′ W. long.;

(89) 43°20.83′ N. lat., 124°42.89′ W. long.;

(90) 43°20.22′ N. lat., 124°43.05′ W. long.;

(91) 43°13.29′ N. lat., 124°47.00′ W. long.;

(92) 43°10.64′ N. lat., 124°49.95′ W. long.;

(93) 43°04.26′ N. lat., 124°53.05′ W. long.;

(94) 42°53.93′ N. lat., 124°54.60′ W. long.;

(95) 42°50.00′ N. lat., 124°50.60′ W. long.;

(96) 42°47.57′ N. lat., 124°48.12′ W. long.;

(97) 42°46.19′ N. lat., 124°44.52′ W. long.;

(98) 42°41.75′ N. lat., 124°44.69′ W. long.;

(99) 42°40.50′ N. lat., 124°44.02′ W. long.;

(100) 42°38.81′ N. lat., 124°43.09′ W. long.;

(101) 42°31.83′ N. lat., 124°46.23′ W. long.;

(102) 42°32.08′ N. lat., 124°43.58′ W. long.;

(103) 42°30.96′ N. lat., 124°43.84′ W. long.;

(104) 42°28.41′ N. lat., 124°49.17′ W. long.;

(105) 42°24.80′ N. lat., 124°45.93′ W. long.;

(106) 42°19.71′ N. lat., 124°41.60′ W. long.;

(107) 42°15.12′ N. lat., 124°38.34′ W. long.;

(108) 42°13.67′ N. lat., 124°38.28′ W. long.;

(109) 42°12.35′ N. lat., 124°38.09′ W. long.;

(110) 42°00.00′ N. lat., 124°36.83′ W. long.;

(111) 41°47.78′ N. lat., 124°29.55′ W. long.;

(112) 41°21.15′ N. lat., 124°29.04′ W. long.;

(113) 41°13.50′ N. lat., 124°24.40′ W. long.;

(114) 41°11.00′ N. lat., 124°22.99′ W. long.;

(115) 41°06.69′ N. lat., 124°23.30′ W. long.;

(116) 40°54.73′ N. lat., 124°28.15′ W. long.;

(117) 40°53.94′ N. lat., 124°26.11′ W. long.;

(118) 40°50.31′ N. lat., 124°26.15′ W. long.;

(119) 40°44.49′ N. lat., 124°30.89′ W. long.;

(120) 40°40.62′ N. lat., 124°32.16′ W. long.;

(121) 40°38.87′ N. lat., 124°29.79′ W. long.;

(122) 40°35.67′ N. lat., 124°30.43′ W. long.;

(123) 40°37.41′ N. lat., 124°37.06′ W. long.;

(124) 40°36.09′ N. lat., 124°40.11′ W. long.;

(125) 40°31.33′ N. lat., 124°41.01′ W. long.;

(126) 40°30.00′ N. lat., 124°38.15′ W. long.;

(127) 40°27.34′ N. lat., 124°37.28′ W. long.;

(128) 40°25.01′ N. lat., 124°36.36′ W. long.;

(129) 40°22.28′ N. lat., 124°31.35′ W. long.;

(130) 40°14.00′ N. lat., 124°33.02′ W. long.;

(131) 40°10.00′ N. lat., 124°24.55′ W. long.;

(132) 40°06.45′ N. lat., 124°19.24′ W. long.;

(133) 40°07.08′ N. lat., 124°17.80′ W. long.;

(134) 40°05.55′ N. lat., 124°18.11′ W. long.;

(135) 40°04.74′ N. lat., 124°18.11′ W. long.;

(136) 40°02.35′ N. lat., 124°16.54′ W. long.;

(137) 40°01.51′ N. lat., 124°09.89′ W. long.;

(138) 39°58.54′ N. lat., 124°12.43′ W. long.;

(139) 39°55.72′ N. lat., 124°07.45′ W. long.;

(140) 39°42.64′ N. lat., 124°02.52′ W. long.;

(141) 39°35.96′ N. lat., 123°59.47′ W. long.;

(142) 39°34.61′ N. lat., 123°59.59′ W. long.;

(143) 39°33.79′ N. lat., 123°56.77′ W. long.;

(144) 39°33.03′ N. lat., 123°57.06′ W. long.;

(145) 39°32.21′ N. lat., 123°59.12′ W. long.;

(146) 39°07.81′ N. lat., 123°59.06′ W. long.;

(147) 38°57.50′ N. lat., 123°57.32′ W. long.;

(148) 38°52.26′ N. lat., 123°56.18′ W. long.;

(149) 38°50.21′ N. lat., 123°55.48′ W. long.;

(150) 38°46.81′ N. lat., 123°51.49′ W. long.;

(151) 38°45.29′ N. lat., 123°51.55′ W. long.;

(152) 38°42.76′ N. lat., 123°49.73′ W. long.;

(153) 38°41.42′ N. lat., 123°47.45′ W. long.;

(154) 38°35.74′ N. lat., 123°43.82′ W. long.;

(155) 38°34.92′ N. lat., 123°42.53′ W. long.;

(156) 38°19.65′ N. lat., 123°31.95′ W. long.;

(157) 38°14.38′ N. lat., 123°25.51′ W. long.;

(158) 38°09.39′ N. lat., 123°24.40′ W. long.;

(159) 38°10.06′ N. lat., 123°26.84′ W. long.;

(160) 38°04.58′ N. lat., 123°31.91′ W. long.;

(161) 38°02.06′ N. lat., 123°31.26′ W. long.;

(162) 38°00.00′ N. lat., 123°29.56′ W. long.;

(163) 37°58.07′ N. lat., 123°27.21′ W. long.;

(164) 37°50.77′ N. lat., 123°24.52′ W. long.;

(165) 37°43.94′ N. lat., 123°11.49′ W. long.;

(166) 37°35.67′ N. lat., 123°02.23′ W. long.;

(167) 37°23.48′ N. lat., 122°57.77′ W. long.;

(168) 37°23.23′ N. lat., 122°53.85′ W. long.;

(169) 37°13.96′ N. lat., 122°49.97′ W. long.;

(170) 37°11.00′ N. lat., 122°45.68′ W. long.;

(171) 37°07.00′ N. lat., 122°43.37′ W. long.;

(172) 37°01.04′ N. lat., 122°37.94′ W. long.;

(173) 36°57.40′ N. lat., 122°28.36′ W. long.;

(174) 36°59.21′ N. lat., 122°25.64′ W. long.;

(175) 36°56.90′ N. lat., 122°25.42′ W. long.;

(176) 36°57.60′ N. lat., 122°21.95′ W. long.;

(177) 36°55.92′ N. lat., 122°21.71′ W. long.;

(178) 36°55.06′ N. lat., 122°17.07′ W. long.;

(179) 36°52.27′ N. lat., 122°13.17′ W. long.;

(180) 36°47.38′ N. lat., 122°07.62′ W. long.;

(181) 36°47.27′ N. lat., 122°03.77′ W. long.;

(182) 36°24.12′ N. lat., 121 59.74′ W. long.;

(183) 36°21.99′ N. lat., 122°01.01′ W. long.;

(184) 36°19.56′ N. lat., 122°05.88′ W. long.;

(185) 36°14.63′ N. lat., 122°01.10′ W. long.;

(186) 36°09.74′ N. lat., 121°45.01′ W. long.;

(187) 36°06.69′ N. lat., 121°40.77′ W. long.;

(188) 36°00.00′ N. lat., 121°36.01′ W. long.;

(189) 35°56.54′ N. lat., 121°33.27′ W. long.;

(190) 35°52.21′ N. lat., 121°32.46′ W. long.;

(191) 35°51.21′ N. lat., 121°30.94′ W. long.;

(192) 35°46.28′ N. lat., 121°30.29′ W. long.;

(193) 35°33.68′ N. lat., 121°20.09′ W. long.;

(194) 35°31.33′ N. lat., 121°15.22′ W. long.;

(195) 35°23.29′ N. lat., 121°11.41′ W. long.;

(196) 35°15.26′ N. lat., 121°04.49′ W. long.;

(197) 35°07.05′ N. lat., 121°00.26′ W. long.;

(198) 35°07.46′ N. lat., 120°57.10′ W. long.;

(199) 34°44.29′ N. lat., 120°54.28′ W. long.;

(200) 34°44.24′ N. lat., 120°57.69′ W. long.;

(201) 34°39.06′ N. lat., 120°55.01′ W. long.;

(202) 34°19.08′ N. lat., 120°31.21′ W. long.;

(203) 34°17.72′ N. lat., 120°19.26′ W. long.;

(204) 34°22.45′ N. lat., 120°12.81′ W. long.;

(205) 34°21.36′ N. lat., 119°54.88′ W. long.;

(206) 34°09.95′ N. lat., 119°46.18′ W. long.;

(207) 34°09.08′ N. lat., 119°57.53′ W. long.;

(208) 34°07.53′ N. lat., 120°06.35′ W. long.;

(209) 34°10.37′ N. lat., 120°18.40′ W. long.;

(210) 34°12.50′ N. lat., 120°18.40′ W. long.;

(211) 34°12.50′ N. lat., 120°24.96′ W. long.;

(212) 34°14.68′ N. lat., 120°29.48′ W. long.;

(213) 34°09.51′ N. lat., 120°38.32′ W. long.;

(214) 34°04.66′ N. lat., 120°36.29′ W. long.;

(215) 34°02.21′ N. lat., 120°36.29′ W. long.;

(216) 34°02.21′ N. lat., 120°34.65′ W. long.;

(217) 33°56.39′ N. lat., 120°28.47′ W. long.;

(218) 33°50.40′ N. lat., 120°10.00′ W. long.;

(219) 33°37.96′ N. lat., 120°00.08′ W. long.;

(220) 33°34.52′ N. lat., 119°51.84′ W. long.;

(221) 33°35.51′ N. lat., 119°48.49′ W. long.;

(222) 33°42.76′ N. lat., 119°47.77′ W. long.;

(223) 33°51.63′ N. lat., 119°53.00′ W. long.;

(224) 33°51.62′ N. lat., 119°48.00′ W. long.;

(225) 33°54.59′ N. lat., 119°48.00′ W. long.;

(226) 33°57.69′ N. lat., 119°31.00′ W. long.;

(227) 33°54.11′ N. lat., 119°31.00′ W. long.;

(228) 33°54.11′ N. lat., 119°26.00′ W. long.;

(229) 33°57.94′ N. lat., 119°26.00′ W. long.;

(230) 33°58.88′ N. lat., 119°20.06′ W. long.;

(231) 34°02.65′ N. lat., 119°15.11′ W. long.;

(232) 33°59.02′ N. lat., 119°02.99′ W. long.;

(233) 33°57.61′ N. lat., 118°42.07′ W. long.;

(234) 33°50.76′ N. lat., 118°37.98′ W. long.;

(235) 33°39.17′ N. lat., 118°18.47′ W. long.;

(236) 33°37.14′ N. lat., 118°18.39′ W. long.;

(237) 33°35.51′ N. lat., 118°18.03′ W. long.;

(238) 33°30.68′ N. lat., 118°10.35′ W. long.;

(239) 33°32.49′ N. lat., 117°51.85′ W. long.;

(240) 32°58.87′ N. lat., 117°20.36′ W. long.; and

(241) 32°35.56′ N. lat., 117°29.66′ W. long.

(m) The 250-fm (457-m) depth contour used between the U.S. border with Canada and the U.S. border with Mexico is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.20′ N. lat., 125°37.26′ W. long.;

(9) 47°54.02′ N. lat., 125°36.60′ W. long.;

(10) 47°53.70′ N. lat., 125°35.09′ W. long.;

(11) 47°54.16′ N. lat., 125°32.38′ W. long.;

(12) 47°55.50′ N. lat., 125°28.50′ W. long.;

(13) 47°58.00′ N. lat., 125°25.00′ W. long.;

(14) 48°00.50′ N. lat., 125°24.50′ W. long.;

(15) 48°03.50′ N. lat., 125°21.00′ W. long.;

(16) 48°02.00′ N. lat., 125°19.50′ W. long.;

(17) 48°00.00′ N. lat., 125°21.00′ W. long.;

(18) 47°58.00′ N. lat., 125°20.00′ W. long.;

(19) 47°58.00′ N. lat., 125°18.00′ W. long.;

(20) 47°52.00′ N. lat., 125°16.50′ W. long.;

(21) 47°46.00′ N. lat., 125°06.00′ W. long.;

(22) 47°44.50′ N. lat., 125°07.50′ W. long.;

(23) 47°42.00′ N. lat., 125°06.00′ W. long.;

(24) 47°37.96′ N. lat., 125°07.17′ W. long.;

(25) 47°28.00′ N. lat., 124°58.50′ W. long.;

(26) 47°28.88′ N. lat., 124°54.70′ W. long.;

(27) 47°27.70′ N. lat., 124°51.87′ W. long.;

(28) 47°24.84′ N. lat., 124°48.45′ W. long.;

(29) 47°21.76′ N. lat., 124°47.42′ W. long.;

(30) 47°18.84′ N. lat., 124°46.75′ W. long.;

(31) 47°19.82′ N. lat., 124°51.43′ W. long.;

(32) 47°18.13′ N. lat., 124°54.25′ W. long.;

(33) 47°13.50′ N. lat., 124°54.70′ W. long.;

(34) 47°15.00′ N. lat., 125°01.10′ W. long.;

(35) 47°08.77′ N. lat., 125°00.91′ W. long.;

(36) 47°05.80′ N. lat., 125°01.00′ W. long.;

(37) 47°03.34′ N. lat., 124°57.50′ W. long.;

(38) 47°01.00′ N. lat., 125°00.00′ W. long.;

(39) 46°55.00′ N. lat., 125°02.00′ W. long.;

(40) 46°53.32′ N. lat., 125°00.00′ W. long.;

(41) 46°51.55′ N. lat., 125°00.00′ W. long.;

(42) 46°50.80′ N. lat., 124°56.90′ W. long.;

(43) 46°47.00′ N. lat., 124°55.00′ W. long.;

(44) 46°34.00′ N. lat., 124°38.00′ W. long.;

(45) 46°30.50′ N. lat., 124°41.00′ W. long.;

(46) 46°33.00′ N. lat., 124°32.00′ W. long.;

(47) 46°29.00′ N. lat., 124°32.00′ W. long.;

(48) 46°20.00′ N. lat., 124°39.00′ W. long.;

(49) 46°18.16′ N. lat., 124°40.00′ W. long.;

(50) 46°16.00′ N. lat., 124°27.00′ W. long.;

(51) 46°16.00′ N. lat., 124°27.01′ W. long.;

(52) 46°15.00′ N. lat., 124°30.96′ W. long.;

(53) 46°13.17′ N. lat., 124°37.87′ W. long.;

(54) 46°13.17′ N. lat., 124°38.75′ W. long.;

(55) 46°10.50′ N. lat., 124°42.00′ W. long.;

(56) 46°06.21′ N. lat., 124°41.85′ W. long.;

(57) 46°03.02′ N. lat., 124°50.27′ W. long.;

(58) 45°57.00′ N. lat., 124°45.52′ W. long.;

(59) 45°46.85′ N. lat., 124°45.91′ W. long.;

(60) 45°45.81′ N. lat., 124°47.05′ W. long.;

(61) 45°44.87′ N. lat., 124°45.98′ W. long.;

(62) 45°43.44′ N. lat., 124°46.03′ W. long.;

(63) 45°35.82′ N. lat., 124°45.72′ W. long.;

(64) 45°35.70′ N. lat., 124°42.89′ W. long.;

(65) 45°24.45′ N. lat., 124°38.21′ W. long.;

(66) 45°11.68′ N. lat., 124°39.38′ W. long.;

(67) 44°57.94′ N. lat., 124°37.02′ W. long.;

(68) 44°44.28′ N. lat., 124°50.79′ W. long.;

(69) 44°32.63′ N. lat., 124°54.21′ W. long.;

(70) 44°23.36′ N. lat., 124°50.53′ W. long.;

(71) 44°13.30′ N. lat., 124°59.03′ W. long.;

(72) 43°57.85′ N. lat., 124°58.57′ W. long.;

(73) 43°50.12′ N. lat., 124°53.36′ W. long.;

(74) 43°49.53′ N. lat., 124°43.96′ W. long.;

(75) 43°42.76′ N. lat., 124°41.40′ W. long.;

(76) 43°24.00′ N. lat., 124°42.61′ W. long.;

(77) 43°19.74′ N. lat., 124°45.12′ W. long.;

(78) 43°19.62′ N. lat., 124°52.95′ W. long.;

(79) 43°17.41′ N. lat., 124°53.02′ W. long.;

(80) 42°56.41′ N. lat., 124°54.59′ W. long.;

(81) 42°53.82′ N. lat., 124°55.76′ W. long.;

(82) 42°53.54′ N. lat., 124°54.88′ W. long.;

(83) 42°49.26′ N. lat., 124°55.17′ W. long.;

(84) 42°46.74′ N. lat., 124°53.39′ W. long.;

(85) 42°43.76′ N. lat., 124°51.64′ W. long.;

(86) 42°45.41′ N. lat., 124°49.35′ W. long.;

(87) 42°43.92′ N. lat., 124°45.92′ W. long.;

(88) 42°38.84′ N. lat., 124°43.51′ W. long.;

(89) 42°34.78′ N. lat., 124°46.56′ W. long.;

(90) 42°31.47′ N. lat., 124°46.89′ W. long.;

(91) 42°31.59′ N. lat., 124°44.85′ W. long.;

(92) 42°31.12′ N. lat., 124°44.82′ W. long.;

(93) 42°28.48′ N. lat., 124°49.96′ W. long.;

(94) 42°26.28′ N. lat., 124°47.99′ W. long.;

(95) 42°19.58′ N. lat., 124°43.21′ W. long.;

(96) 42°13.75′ N. lat., 124°40.06′ W. long.;

(97) 42°05.12′ N. lat., 124°39.06′ W. long.;

(98) 42°00.00′ N. lat., 124°37.76′ W. long.;

(99) 41°47.93′ N. lat., 124°31.79′ W. long.;

(100) 41°21.35′ N. lat., 124°30.35′ W. long.;

(101) 41°07.11′ N. lat., 124°25.25′ W. long.;

(102) 40°57.37′ N. lat., 124°30.25′ W. long.;

(103) 40°48.77′ N. lat., 124°30.69′ W. long.;

(104) 40°41.03′ N. lat., 124°33.21′ W. long.;

(105) 40°37.40′ N. lat., 124°38.96′ W. long.;

(106) 40°33.70′ N. lat., 124°42.50′ W. long.;

(107) 40°31.31′ N. lat., 124°41.59′ W. long.;

(108) 40°30.00′ N. lat., 124°40.50′ W. long.;

(109) 40°25.00′ N. lat., 124°36.65′ W. long.;

(110) 40°22.42′ N. lat., 124°32.19′ W. long.;

(111) 40°17.17′ N. lat., 124°32.21′ W. long.;

(112) 40°18.68′ N. lat., 124°50.44′ W. long.;

(113) 40°13.55′ N. lat., 124°34.26′ W. long.;

(114) 40°10.00′ N. lat., 124°28.25′ W. long.;

(115) 40°06.72′ N. lat., 124°21.40′ W. long.;

(116) 40°01.63′ N. lat., 124°17.25′ W. long.;

(117) 40°00.68′ N. lat., 124°11.19′ W. long.;

(118) 39°59.09′ N. lat., 124°14.92′ W. long.;

(119) 39°51.85′ N. lat., 124°10.33′ W. long.;

(120) 39°36.90′ N. lat., 124°00.63′ W. long.;

(121) 39°32.41′ N. lat., 124°00.01′ W. long.;

(122) 39°05.40′ N. lat., 124°00.52′ W. long.;

(123) 39°04.32′ N. lat., 123°59.00′ W. long.;

(124) 38°58.02′ N. lat., 123°58.18′ W. long.;

(125) 38°57.50′ N. lat., 124°01.90′ W. long.;

(126) 38°50.27′ N. lat., 123°56.26′ W. long.;

(127) 38°46.73′ N. lat., 123°51.93′ W. long.;

(128) 38°44.64′ N. lat., 123°51.77′ W. long.;

(129) 38°32.97′ N. lat., 123°41.84′ W. long.;

(130) 38°14.56′ N. lat., 123°32.18′ W. long.;

(131) 38°13.85′ N. lat., 123°29.94′ W. long.;

(132) 38°11.88′ N. lat., 123°30.57′ W. long.;

(133) 38°08.72′ N. lat., 123°29.56′ W. long.;

(134) 38°05.62′ N. lat., 123°32.38′ W. long.;

(135) 38°01.90′ N. lat., 123°32.00′ W. long.;

(136) 38°00.00′ N. lat., 123°30.00′ W. long.;

(137) 37°58.07′ N. lat., 123°27.35′ W. long.;

(138) 37°54.97′ N. lat., 123°27.69′ W. long.;

(139) 37°51.32′ N. lat., 123°25.40′ W. long.;

(140) 37°43.82′ N. lat., 123°11.69′ W. long.;

(141) 37°35.67′ N. lat., 123°02.62′ W. long.;

(142) 37°11.00′ N. lat., 122°54.50′ W. long.;

(143) 37°07.00′ N. lat., 122°48.59′ W. long.;

(144) 36°59.99′ N. lat., 122°38.49′ W. long.;

(145) 36°56.64′ N. lat., 122°28.78′ W. long.;

(146) 36°58.93′ N. lat., 122°25.67′ W. long.;

(147) 36°56.19′ N. lat., 122°25.67′ W. long.;

(148) 36°57.09′ N. lat., 122°22.85′ W. long.;

(149) 36°54.95′ N. lat., 122°22.63′ W. long.;

(150) 36°52.25′ N. lat., 122°13.94′ W. long.;

(151) 36°46.94′ N. lat., 122°07.90′ W. long.;

(152) 36°46.86′ N. lat., 122°02.24′ W. long.;

(153) 36°43.73′ N. lat., 121°59.33′ W. long.;

(154) 36°38.93′ N. lat., 122°02.46′ W. long.;

(155) 36°30.77′ N. lat., 122°01.40′ W. long.;

(156) 36°23.78′ N. lat., 122°00.52′ W. long.;

(157) 36°19.98′ N. lat., 122°07.63′ W. long.;

(158) 36°15.36′ N. lat., 122°03.50′ W. long.;

(159) 36°09.47′ N. lat., 121°45.37′ W. long.;

(160) 36°06.42′ N. lat., 121°41.34′ W. long.;

(161) 36°00.00′ N. lat., 121°37.68′ W. long.;

(162) 35°52.25′ N. lat., 121°33.21′ W. long.;

(163) 35°51.09′ N. lat., 121°31.83′ W. long.;

(164) 35°46.47′ N. lat., 121°31.19′ W. long.;

(165) 35°33.97′ N. lat., 121°21.69′ W. long.;

(166) 35°30.94′ N. lat., 121°18.36′ W. long.;

(167) 35°23.08′ N. lat., 121°15.56′ W. long.;

(168) 35°13.67′ N. lat., 121°05.79′ W. long.;

(169) 35°06.77′ N. lat., 121°02.45′ W. long.;

(170) 34°53.32′ N. lat., 121°01.46′ W. long.;

(171) 34°49.36′ N. lat., 121°03.04′ W. long.;

(172) 34°44.12′ N. lat., 121°01.28′ W. long.;

(173) 34°32.38′ N. lat., 120°51.78′ W. long.;

(174) 34°27.00′ N. lat., 120°44.25′ W. long.;

(175) 34°17.93′ N. lat., 120°35.43′ W. long.;

(176) 34°16.02′ N. lat., 120°28.70′ W. long.;

(177) 34°09.84′ N. lat., 120°38.85′ W. long.;

(178) 34°03.22′ N. lat., 120°36.12′ W. long.;

(179) 33°55.98′ N. lat., 120°28.81′ W. long.;

(180) 33°49.88′ N. lat., 120°10.07′ W. long.;

(181) 33°37.75′ N. lat., 120°00.35′ W. long.;

(182) 33°33.91′ N. lat., 119°51.74′ W. long.;

(183) 33°35.07′ N. lat., 119°48.14′ W. long.;

(184) 33°42.60′ N. lat., 119°47.40′ W. long.;

(185) 33°53.25′ N. lat., 119°52.58′ W. long.;

(186) 33°57.48′ N. lat., 119°31.27′ W. long.;

(187) 33°55.47′ N. lat., 119°24.96′ W. long.;

(188) 33°57.60′ N. lat., 119°26.68′ W. long.;

(189) 33°58.68′ N. lat., 119°20.13′ W. long.;

(190) 34°02.02′ N. lat., 119°14.62′ W. long.;

(191) 33°58.73′ N. lat., 119°03.21′ W. long.;

(192) 33°57.33′ N. lat., 118°43.08′ W. long.;

(193) 33°50.71′ N. lat., 118°38.33′ W. long.;

(194) 33°39.27′ N. lat., 118°18.76′ W. long.;

(195) 33°35.16′ N. lat., 118°18.33′ W. long.;

(196) 33°28.82′ N. lat., 118°08.73′ W. long.;

(197) 33°31.44′ N. lat., 117°51.34′ W. long.;

(198) 32°58.76′ N. lat., 117°20.85′ W. long.; and

(199) 32°35.61′ N. lat., 117°30.15′ W. long.

(n) The 250-fm (457-m) depth contour used around San Clemente Island is defined by straight lines connecting all of the following points in the order stated:

(1) 33°06.10′ N. lat., 118°39.07′ W. long.;

(2) 33°05.31′ N. lat., 118°40.88′ W. long.;

(3) 33°03.03′ N. lat., 118°41.72′ W. long.;

(4) 32°46.62′ N. lat., 118°32.23′ W. long.;

(5) 32°40.81′ N. lat., 118°23.85′ W. long.;

(6) 32°47.55′ N. lat., 118°17.59′ W. long.;

(7) 32°57.35′ N. lat., 118°28.83′ W. long.;

(8) 33°02.79′ N. lat., 118°32.85′ W. long.; and

(9) 33°06.10′ N. lat., 118°39.07′ W. long.

(o) The 250-fm (457-m) depth contour used around Santa Catalina Island is defined by straight lines connecting all of the following points in the order stated:

(1) 33°13.37′ N. lat., 118°08.39′ W. long.;

(2) 33°20.86′ N. lat., 118°14.39′ W. long.;

(3) 33°26.49′ N. lat., 118°21.17′ W. long.;

(4) 33°28.14′ N. lat., 118°26.68′ W. long.;

(5) 33°30.36′ N. lat., 118°30.55′ W. long.;

(6) 33°31.65′ N. lat., 118°35.33′ W. long.;

(7) 33°32.89′ N. lat., 118°42.97′ W. long.;

(8) 33°32.64′ N. lat., 118°49.44′ W. long.;

(9) 33°38.02′ N. lat., 118°57.35′ W. long.;

(10) 33°37.08′ N. lat., 118°57.93′ W. long.;

(11) 33°30.76′ N. lat., 118°49.96′ W. long.;

(12) 33°23.24′ N. lat., 118°32.88′ W. long.;

(13) 33°20.91′ N. lat., 118°34.67′ W. long.;

(14) 33°17.04′ N. lat., 118°28.21′ W. long.; and

(15) 33°13.37′ N. lat., 118°08.39′ W. long.

(p) The 250-fm (457-m) depth contour used around Lasuen Knoll is defined by straight lines connecting all of the following points in the order stated:

(1) 33°26.76′ N. lat., 118°00.77′ W. long.;

(2) 33°25.30′ N. lat., 117°57.88′ W. long.;

(3) 33°23.37′ N. lat., 117°56.14′ W. long.;

(4) 33°22.06′ N. lat., 117°57.06′ W. long.;

(5) 33°22.85′ N. lat., 117°59.47′ W. long.;

(6) 33°23.97′ N. lat., 118°00.72′ W. long.;

(7) 33°25.98′ N. lat., 118°01.63′ W. long.; and

(8) 33°26.76′ N. lat., 118°00.77′ W. long.

(q) The 250-fm (457-m) depth contour used around San Diego Rise is defined by straight lines connecting all of the following points in the order stated:

(1) 32 °51.58′ N. lat., 117°51.00′ W. long.;

(2) 32°44.69′ N. lat., 117°44.55′ W. long.;

(3) 32°37.05′ N. lat., 117°42.02′ W. long.;

(4) 32°36.07′ N. lat., 117°44.29′ W. long.;

(5) 32°47.03′ N. lat., 117°50.97′ W. long.;

(6) 32°51.50′ N. lat., 117°51.47′ W. long.; and

(7) 32°51.58′ N. lat., 117°51.00′ W. long.

(r) The 250-fm (457-m) depth contour used between the U.S. border with Canada and the U.S. border with Mexico, modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°37.26′ W. long.;

(7) 47°55.20′ N. lat., 125°36.60′ W. long.;

(8) 48°05.00′ N. lat., 125°24.50′ W. long.;

(9) 48°03.50′ N. lat., 125°21.00′ W. long.;

(10) 48°02.00′ N. lat., 125°19.50′ W. long.;

(11) 48°00.00′ N. lat., 125°21.00′ W. long.;

(12) 47°58.00′ N. lat., 125°20.00′ W. long.;

(13) 47°58.00′ N. lat., 125°18.00′ W. long.;

(14) 47°52.00′ N. lat., 125°16.50′ W. long.;

(15) 47°46.00′ N. lat., 125°06.00′ W. long.;

(16) 47°44.50′ N. lat., 125°07.50′ W. long.;

(17) 47°46.00′ N. lat., 125°06.00′ W. long.;

(18) 47°44.50′ N. lat., 125°07.50′ W. long.;

(19) 47°42.00′ N. lat., 125°06.00′ W. long.;

(20) 47°37.96′ N. lat., 125°07.17′ W. long.;

(21) 47°28.00′ N. lat., 124°58.50′ W. long.;

(22) 47°28.88′ N. lat., 124°54.70′ W. long.;

(23) 47°27.70′ N. lat., 124°51.87′ W. long.;

(24) 47°24.84′ N. lat., 124°48.45′ W. long.;

(25) 47°21.76′ N. lat., 124°47.42′ W. long.;

(26) 47°18.84′ N. lat., 124°46.75′ W. long.;

(27) 47°19.82′ N. lat., 124°51.43′ W. long.;

(28) 47°18.13′ N. lat., 124°54.25′ W. long.;

(29) 47°13.50′ N. lat., 124°54.70′ W. long.;

(30) 47°15.00′ N. lat., 125°01.10′ W. long.;

(31) 47°08.77′ N. lat., 125°00.91′ W. long.;

(32) 47°05.80′ N. lat., 125°01.00′ W. long.;

(33) 47°03.34′ N. lat., 124°57.50′ W. long.;

(34) 47°01.00′ N. lat., 125°00.00′ W. long.;

(35) 46°55.00′ N. lat., 125°02.00′ W. long.;

(36) 46°53.32′ N. lat., 125°00.00′ W. long.;

(37) 46°51.55′ N. lat., 125°00.00′ W. long.;

(38) 46°50.80′ N. lat., 124°56.90′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.00′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°36.83′ W. long.;

(105) 41°47.79′ N. lat., 124°29.48′ W. long.;

(106) 41°21.01′ N. lat., 124°29.01′ W. long.;

(107) 41°13.50′ N. lat., 124°24.40′ W. long.;

(108) 41°11.00′ N. lat., 124°22.99′ W. long.;

(109) 41°06.69′ N. lat., 124°23.30′ W. long.;

(110) 40°54.73′ N. lat., 124°28.15′ W. long.;

(111) 40°53.95′ N. lat., 124°26.04′ W. long.;

(112) 40°50.27′ N. lat., 124°26.20′ W. long.;

(113) 40°44.49′ N. lat., 124°30.81′ W. long.;

(114) 40°40.63′ N. lat., 124°32.14′ W. long.;

(115) 40°38.96′ N. lat., 124°30.04′ W. long.;

(116) 40°35.67′ N. lat., 124°30.43′ W. long.;

(117) 40°37.41′ N. lat., 124°37.06′ W. long.;

(118) 40°36.09′ N. lat., 124°40.11′ W. long.;

(119) 40°31.35′ N. lat., 124°40.98′ W. long.;

(120) 40°30.00′ N. lat., 124°37.48′ W. long.;

(121) 40°27.34′ N. lat., 124°37.28′ W. long.;

(122) 40°25.01′ N. lat., 124°36.36′ W. long.;

(123) 40°22.28′ N. lat., 124°31.83′ W. long.;

(124) 40°13.68′ N. lat., 124°33.10′ W. long.;

(125) 40°10.00′ N. lat., 124°24.55′ W. long.;

(126) 40°06.45′ N. lat., 124°19.24′ W. long.;

(127) 40°07.08′ N. lat., 124°17.80′ W. long.;

(128) 40°05.55′ N. lat., 124°18.11′ W. long.;

(129) 40°04.74′ N. lat., 124°18.11′ W. long.;

(130) 40°02.35′ N. lat., 124°16.53′ W. long.;

(131) 40°01.13′ N. lat., 124°12.98′ W. long.;

(132) 40°01.52′ N. lat., 124°09.83′ W. long.;

(133) 39°58.54′ N. lat., 124°12.43′ W. long.;

(134) 39°55.72′ N. lat., 124°07.44′ W. long.;

(135) 39°42.64′ N. lat., 124°02.52′ W. long.;

(136) 39°35.96′ N. lat., 123°59.47′ W. long.;

(137) 39°34.61′ N. lat., 123°59.58′ W. long.;

(138) 39°33.79′ N. lat., 123°56.77′ W. long.;

(139) 39°33.03′ N. lat., 123°57.06′ W. long.;

(140) 39°32.21′ N. lat., 123°59.12′ W. long.;

(141) 39°07.81′ N. lat., 123°59.06′ W. long.;

(142) 38°57.50′ N. lat., 123°57.25′ W. long.;

(143) 38°52.26′ N. lat., 123°56.18′ W. long.;

(144) 38°50.21′ N. lat., 123°55.48′ W. long.;

(145) 38°46.81′ N. lat., 123°51.49′ W. long.;

(146) 38°45.29′ N. lat., 123°51.55′ W. long.;

(147) 38°42.76′ N. lat., 123°49.73′ W. long.;

(148) 38°41.26′ N. lat., 123°47.28′ W. long.;

(149) 38°35.75′ N. lat., 123°43.76′ W. long.;

(150) 38°34.93′ N. lat., 123°42.46′ W. long.;

(151) 38°19.95′ N. lat., 123°32.90′ W. long.;

(152) 38°14.38′ N. lat., 123°25.51′ W. long.;

(153) 38°09.39′ N. lat., 123°24.39′ W. long.;

(154) 38°10.18′ N. lat., 123°27.11′ W. long.;

(155) 38°04.64′ N. lat., 123°31.97′ W. long.;

(156) 38°02.06′ N. lat., 123°31.26′ W. long.;

(157) 38°00.00′ N. lat., 123°29.64′ W. long.;

(158) 37°58.19′ N. lat., 123°27.40′ W. long.;

(159) 37°50.62′ N. lat., 123°24.51′ W. long.;

(160) 37°43.82′ N. lat., 123°11.69′ W. long.;

(161) 37°35.67′ N. lat., 123°02.62′ W. long.;

(162) 37°23.53′ N. lat., 122°58.65′ W. long.;

(163) 37°23.23′ N. lat., 122°53.78′ W. long.;

(164) 37°13.97′ N. lat., 122°49.91′ W. long.;

(165) 37°11.00′ N. lat., 122°45.61′ W. long.;

(166) 37°07.00′ N. lat., 122°44.76′ W. long.;

(167) 36°59.99′ N. lat., 122°38.49′ W. long.;

(168) 36°56.64′ N. lat., 122°28.78′ W. long.;

(169) 36°58.93′ N. lat., 122°25.67′ W. long.;

(170) 36°56.19′ N. lat., 122°25.67′ W. long.;

(171) 36°57.09′ N. lat., 122°22.85′ W. long.;

(172) 36°54.95′ N. lat., 122°22.63′ W. long.;

(173) 36°52.25′ N. lat., 122°13.94′ W. long.;

(174) 36°46.94′ N. lat., 122°07.90′ W. long.;

(175) 36°47.12′ N. lat., 122°03.99′ W. long.;

(176) 36°23.87′ N. lat., 122°00.00′ W. long.;

(177) 36°22.17′ N. lat., 122°01.19′ W. long.;

(178) 36°19.61′ N. lat., 122°06.29′ W. long.;

(179) 36°14.73′ N. lat., 122°01.55′ W. long.;

(180) 36°09.47′ N. lat., 121°45.37′ W. long.;

(181) 36°06.42′ N. lat., 121°41.34′ W. long.;

(182) 36°00.07′ N. lat., 121°37.68′ W. long.;

(183) 36°00.00′ N. lat., 121°37.66′ W. long.;

(184) 35°52.25′ N. lat., 121°33.21′ W. long.;

(185) 35°51.09′ N. lat., 121°31.83′ W. long.;

(186) 35°46.47′ N. lat., 121°31.19′ W. long.;

(187) 35°33.97′ N. lat., 121°21.69′ W. long.;

(188) 35°30.94′ N. lat., 121°18.36′ W. long.;

(189) 35°23.08′ N. lat., 121°15.56′ W. long.;

(190) 35°13.67′ N. lat., 121°05.79′ W. long.;

(191) 35°06.77′ N. lat., 121°02.45′ W. long.;

(192) 35°07.46′ N. lat., 120°57.10′ W. long.;

(193) 34°44.29′ N. lat., 120°54.28′ W. long.;

(194) 34°44.24′ N. lat., 120°57.62′ W. long.;

(195) 34°41.65′ N. lat., 120°59.54′ W. long.;

(196) 34°17.97′ N. lat., 120°35.54′ W. long.;

(197) 34°16.02′ N. lat., 120°28.70′ W. long.;

(198) 34°09.84′ N. lat., 120°38.85′ W. long.;

(199) 34°02.21′ N. lat., 120°36.23′ W. long.;

(200) 33°55.98′ N. lat., 120°28.81′ W. long.;

(201) 33°49.88′ N. lat., 120°10.07′ W. long.;

(202) 33°37.75′ N. lat., 120°00.35′ W. long.;

(203) 33°33.91′ N. lat., 119° 51.74′ W. long.;

(204) 33°35.07′ N. lat., 119°48.14′ W. long.;

(205) 33°42.60′ N. lat., 119°47.40′ W. long.;

(206) 33°51.63′ N. lat., 119°52.35′ W. long.;

(207) 33°51.62′ N. lat., 119°47.94′ W. long.;

(208) 33°54.29′ N. lat., 119°47.94′ W. long.;

(209) 33°57.52′ N. lat., 119°30.94′ W. long.;

(210) 33°54.11′ N. lat., 119°30.94′ W. long.;

(211) 33°54.11′ N. lat., 119°25.94′ W. long.;

(212) 33°57.74′ N. lat., 119°25.94′ W. long.;

(213) 33°58.68′ N. lat., 119°20.13′ W. long.;

(214) 34°02.02′ N. lat., 119°14.62′ W. long.;

(215) 33°58.73′ N. lat., 119°03.21′ W. long.;

(216) 33°57.33′ N. lat., 118°43.08′ W. long.;

(217) 33°50.71′ N. lat., 118°38.33′ W. long.;

(218) 33°39.27′ N. lat., 118°18.76′ W. long.;

(219) 33°35.16′ N. lat., 118°18.33′ W. long.;

(220) 33°28.82′ N. lat., 118°08.73′ W. long.;

(221) 33°31.44′ N. lat., 117°51.34′ W. long.;

(222) 32°58.76′ N. lat., 117°20.85′ W. long.; and

(223) 32°35.61′ N. lat., 117°30.15′ W. long.

23. In part 660, subpart G, Tables 1-5 are revised to read as follows:

Table 1a. To Part 660, Subpart G - 2007 Specifications of Acceptable Biological Catch (ABC), Optimum Yields (OYs), Harvest Guidelines (HGs) by management Area
(weights in metric tons).
Species | ABC Specifications: ABC Contributions by Area: Vancouver a/ | ABC Specifications: ABC Contributions by Area: Columbia | ABC Specifications: ABC Contributions by Area: Eureka | ABC Specifications: ABC Contributions by Area: Monterey | ABC Specifications: ABC Contributions by Area: Conception | ABC Specifications: ABC | OY b/ | HG b/: Commercial | HG b/: Recreational
ROUNDFISH:
Lingcod c/ north of 42° N. lat. | 5,428 |  | 852 |  |  | 6,280 | 5,558 |  |
south of 42° N. lat. |  |  |  |  |  |  | 612 |
Pacific Cod e/ | 3,200 |  | d/ |  |  | 3,200 | 1,600 | 1,200 |
Pacific Whiting f/ | 244,425 - 733,275 |  |  |  |  | 244,425 - 733,275 | 134,534 - 403,604 |  |
Sablefish g/ | 6,210 |  |  |  |  | 6,210 | 5,934 | 5,362 |
Cabezon h/ south of 42° N. lat. | d/ |  | 71 |  | 23 | 94 | 69 | 27 |
FLATFISH:
Dover sole i/ | 28,522 |  |  |  |  | 28,522 | 16,500 |  |
English sole j/ | 6,237 |  |  |  |  | 6,237 | 6,237 |  |
Petrale sole k/ | 1,397 |  | 1,628 |  |  | 3,025 | 2,499 |  |
Arrowtooth flounder l/ | 5,800 |  |  |  |  | 5,800 | 5,800 |  |
Starry Flounder m/ | 1,221 |  |  |  |  | 1,221 | 890 |  |
Other flatfish n/ | 6,731 |  |  |  |  | 6,781 | 4,884 |  |
ROCKFISH:
Pacific Ocean Perch o/ | 900 |  |  |  |  | 900 | 150 | 111.3 |
Shortbelly p/ | 13,900 |  |  |  |  | 13,900 | 13,900 |  |
Widow q/ | 5,334 |  |  |  |  | 5,334 | 368 | 251.4 | 9.4
Canary r/ | 172 |  |  |  |  | 172 | 44 | 23.8 | 17.2
Chilipepper s/ | d/ |  |  | 2,700 |  | 2,700 | 2,000 |  |
Bocaccio t/ | d/ |  |  | 602 |  | 602 | 218 | 80.2 | 66.3
Splitnose u/ | d/ |  |  | 615 |  | 615 | 461 |  |
Yellowtail v/ | 4,548 |  |  | d/ |  | 4,548 | 4,548 |  |
Shortspine thornyhead w/ north of 34°27' N. lat. | 2,476 |  |  |  |  | 2,476 | 1,634 |  |
south of 34°27' N. lat. |  |  |  |  |  |  | 421 |  |
Longspine thornyhead x/ north of 34°27' N. lat. | 3,907 |  |  |  |  | 3,907 | 2,220 |  |
south of 34°27' N. lat. |  |  |  |  |  |  | 476 |  |
Cowcod y/ 36° to 40° 30' N. lat. | d/ |  |  | 19 | -- | 19 | 4 | 3.1 | 0.3
south of 36° N. lat. | d/ |  |  | -- | 17 | 17 |  |  |
Darkblotched z/ | 456 |  |  |  |  | 456 | 290 | 259.8 |
Yelloweye aa/ | 26 |  |  |  |  | 26 | 23 | 7.9 | 8.9
California Scorpionfish bb/ |  |  |  |  | 219 | 219 | 175 | 34 |
Black cc/ north of 46°16' N. lat. | 540 |  |  |  |  | 540 | 540 |  |
south of 46°16' N. lat. |  |  | 722 |  |  | 722 | 722 |  |
Minor Rockfish north dd/ north of 40°10' N. lat. | 3,680 | 2,270 | 89 | 2,181 | 2,000 | 91.7 | 181 | 8.3
Minor Rockfish south ee/ south of 40°10' N. lat. | -- |  |  | 3,403 |  | 3,403 | 1,904 | 1,418 | 486
Remaining Rockfish | 1,612 |  |  | 1,105 |  | -- |  |  |
bank ff/ | d/ |  |  | 350 |  |  |  |  |
blackgill gg/ | d/ |  |  | 292 |  |  |  |  |
bocaccio north | 318 |  |  | -- |  |  |  |  |
chilipepper north | 32 |  |  | -- |  |  |  |  |
redstripe | 576 |  |  | d/ |  |  |  |  |
sharpchin | 307 |  |  | 45 |  |  |  |  |
silvergrey | 38 |  |  | d/ |  |  |  |  |
splitnose north | 242 |  |  | -- |  |  |  |  |
yellowmouth | 99 |  |  | d/ |  |  |  |  |
yellowtail south | -- |  |  | 116 |  |  |  |  |
Gopher | d/ |  |  | 302 |  |  |  |  |
Other rockfish hh/ | 2,068 |  |  | 2,298 |  | -- |  |  |
SHARKS/SKATES/RATFISH/MORIDS/GRENADIERS/KELP GREENLING:
Other fish ii/ | 2,500 | 7,000 | 1,200 | 3,900 |  | 14,600 | 7,300 |  |

Table 1b. To Part 660, Subpart G - 2007 OYs for Minor Rockfish by Depth Sub-groups
(weights in metric tons).
Species | Total Catch ABC | Total Catch OY | Recreational HG | Commercial HG | Limited Entry HG: Mt | Limited Entry HG: % | Open Access HG: Mt | Open Access HG: %
Minor Rockfish North dd/ north of 40°10' N. lat. | 3,680 | 2,270 | 89 | 2,181 | 2,000 | 91.7 | 181 | 8.3
Nearshore |  | 142 | 79 | 63 |  |  |  |
Shelf |  | 968 | 10 | 958 |  |  |  |
Slope |  | 1,160 | 0 | 1,160 |  |  |  |
Minor Rockfish South ee/ | 3,403 | 1,904 | 486 | 1,418 | 790 | 55.7 | 628 | 44.3
Nearshore |  | 564 | 426 | 138 |  |  |  |
Shelf |  | 714 | 60 | 654 |  |  |  |
Slope |  | 626 | 0 | 626

Table 1c. To Part 660, Subpart G - 2007 Open Access and Limited Entry Allocations by Species or Species Group.
(weights in metric tons)
Species | Commercial Total Catch HGs | Commercial Total Catch HGs: Limited Entry: Mt | Commercial Total Catch HGs: Limited Entry: % | Commercial Total Catch HGs: Open Access: Mt | Commercial Total Catch HGs: Open Access: %
Lingcod north of 42° N. lat. south of 42° N. lat. | -- | -- | 81.0 | -- | 19.0
Sablefish jj/ north of 36° N. lat. | 5,151 | 4,667 | 90.6 | 484 | 9.4
Widow kk/ | 251.4 | -- | 97.0 | -- | 3.0
Canary kk/ | 23 | -- | 87.7 | -- | 12.3
Chilipepper | 2,000 | 1,114 | 55.7 | 886 | 44.3
Bocaccio kk/ | 80.2 | -- | 55.7 | -- | 44.3
Yellowtail | -- | -- | 91.7 | -- | 8.3
Shortspine thornyhead north of 34°27' N. lat. | 1,634 | 1,193 | 99.7 | 441 | 0.27
Minor Rockfish north of 40°10' N. lat. | 2,181 | 2,000 | 91.7 | 181 | 8.3
south of 40°10' N. lat. | 1,418 | 790 | 55.7 | 628 | 44.3
a/ ABCs apply to the U.S. portion of the Vancouver area.
b/ Optimum Yields (OYs) and Harvest Guidelines (HGs) are specified as total catch values. Though presented as harvest guidelines, the recreational values for widow rockfish, bocaccio, and cowcod are catch estimates. A harvest guideline is a specified harvest target and not a quota. The use of this term may differ from the use of similar terms in state regulation.
c/ Lingcod- A coastwide lingcod stock assessment was prepared in 2005. The lingcod biomass was estimated to be at 64 percent of its unfished biomass in 2005. The ABC was calculated using an FMSY proxy of F45%. The ABC of 6,280 mt is a two year average ABC for 2007 and 2008. Because the stock is above B40% coastwide, the OY could be set equal to the ABC. Separate OYs are being adopted for the area north of 42° N. lat. and the area south of 42° N. lat. For that portion of the stock north of 42° N. lat. the OY of 5,558 mt is set equal to the ABC contribution for the area. The biomass in the area south of 42° N. lat. is estimated to be at 24 percent of the unfished biomass. As a precautionary measure, the OY for the southern portion of the stock is being set at 612 mt, which is lower than the ABC contribution for the area. An OY of 612 mt (equivalent to the 2006 OY) is expected to result in a biomass increase for the southern portion of the stock. The tribes do not have a specific allocation at this time, but are expected to take 30 mt of the commercial HG.
d/ ″Other species″, these species are neither common nor important to the commercial and recreational fisheries in the areas footnoted. Accordingly, these species are included in the harvest guidelines of ″other fish″, ″other rockfish″ or ″remaining rockfish″.
e/ Pacific Cod - The 3,200 mt ABC for the Vancouver-Columbia area is based on historical landings data. The 1,600 mt OY is the ABC reduced by 50 percent as a precautionary adjustment. A tribal harvest guideline of 400 mt is deducted from the OY resulting in a commercial OY of 1,200 mt.
f/ Pacific whiting - Final adoption of the Pacific whiting ABC and OY have been deferred until the Council's March 2007 meeting. Therefore, table 1a contains the ABC and OY range considered in the EIS and under the proposed rule. It is anticipated that a new assessment will be available in early 2007 and the results will be used to set the 2007 ABC and OY. The final ABC and OY will be published as a separate action following the Council's recommendation at its March 2007 meeting.
g/ Sablefish - A coastwide sablefish stock assessment was prepared in 2005. The coastwide sablefish biomass was estimated to be at 35.2 percent of its unfished biomass in 2005. Projections indicate that the biomass is increasing and will be near 42 percent of its unfished biomass by 2008. The coastwide ABC of 6,210 mt was based on the base-case assessment model with a FMSY proxy of F45%. The coastwide OY of 5,934 mt is based on the application of the 40-10 harvest policy and is a two year average OY for 2007 and 2008. To apportion fishery allocations for the area north of 36° N. lat., 96.45 percent of the coastwide OY (5,723 mt) is attributed to the northern area. The tribal allocation for the area north of 36° N. lat. is 572 mt (10 percent of the OY north of 36° N. lat), which is further reduced by 1.9 percent (10.9 mt) for discards. The tribal landed catch value is 561.4 mt.
h/ Cabezon was assessed south of 42° N. lat. in 2005. In 2005, the stock was estimated to be at 40 percent of its unfished biomass north of 34° 27' N. lat. and 28 percent of its unfished biomass south of 34° 27' N. lat. The biomass is projected to be increasing in the northern area and decreasing in the southern area. The ABC of 94 mt (71 mt for the northern portion of the stock and 23 mt for the southern portion of the stock) is based on the new assessment with a harvest rate proxy of F50%. The OY of 69 mt is a constant harvest level that is consistent with the application of a 60-20 harvest rate policy specified in the California Nearshore Management Plan.
i/ Dover sole was assessed north of 34° 27' N. lat. in 2005. The Dover sole biomass was estimated to be at 59.8 percent of its unfished biomass in 2005 and is projected to be increasing. The ABC of 28,522 mt is based on the results of the 2005 assessment with an FMSY proxy of F40%. Because the stock is above B40% coastwide, the OY could be set equal to the ABC. The OY of 16,500 mt, which is less than the ABC, is the MSY harvest level and is considerably larger than the coastwide catches in any recent years.
j/ A coastwide English sole stock assessment was prepared in 2005 and the stock was estimated to be at 91.5 percent of its unfished biomass in 2005, but the stock biomass is believed to be declining. The ABC of 6,237 is a 2007-2008 two year average ABC based on the the results of the 2005 assessment with an FMSY proxy of F40%. Because the stock is above B40%, the OY was set equal to the ABC.
k/ A petrale sole stock assessment was prepared for 2005. In 2005 the petrale sole stock coastwide was estimated to be at 32 percent of its unfished biomass (34 percent in the northern assessment area and 29 percent in the southern assessment area). The petrale sole biomass is believed to be increasing. The ABC of 2,917 mt is based on the new assessment with a F40% FMSY proxy. To derive the OY, the 40-10 harvest policy was applied to the ABC for both the northern and southern assessment areas. As a precautionary measure, an additional 25 percent reduction was made in the OY contribution for the southern area due to assessment uncertainty. The OY of 2,499 mt is the average coastwide OY value for 2007 and 2008.
l/ Arrowtooth flounder was last assessed in 1993 and was estimated to be above 40 percent of its unfished biomass, therefore the OY will be set equal to the ABC.
m/ Starry Flounder was assessed for the first time in 2005 and was estimated to be above 40 percent of its unfished biomass in 2005 (44 percent for the northern stock off Washington and Oregon, and 62 percent for the southern stock of California). The starry flounder biomass is believed to be declining, and will be below B40%. The starry flounder assessment was considered to be a data-poor assessment relative to other groundfish assessments. For 2007, the coastwide ABC of 1,221 mt is based on the new assessment with a FMSY proxy of F40% and is an average ABC for 2007 and 2008. Because the stock is believed to be above B40%, the OY could be set equal to the ABC. To derive the OY, the 40-10 harvest policy was applied to the ABC for both the northern and southern assessment areas then an additional 25 percent reduction was made due to assessment uncertainty. Starry flounder was previously managed as part of the ″other flatfish″ category. The OY of 890 mt is the average coastwide OY value for 2007 and 2008.
n/ ″Other flatfish″ are those flatfish species that do not have individual ABC/OYs and include butter sole, curlfin sole, flathead sole, Pacific sand dab, rex sole, rock sole, and sand sole. Starry flounder was assessed in 2005 and is being removed from other flatfish complex beginning in 2007. The ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.
o/ A POP stock assessment was prepared in 2005 and the stock was estimated to be at 23.4 percent of its unfished biomass in 2005. The ABC of 900 mt for the Vancouver-Columbia area was projected from the 2005 stock assessment and is based on an FMSY proxy of F50%. The OY of 150 mt is based on a rebuilding plan with a target year to rebuild of 2017 and an SPR harvest rate of 86.4 percent. The OY is reduced by 3.6 mt for the amount anticipated to be taken during research activity.
p/ Shortbelly rockfish remains an unexploited stock and is difficult to assess quantitatively. A 1989 stock assessment provided two alternative yield calculations of 13,900 mt and 47,000 mt. NMFS surveys have shown poor recruitment in most years since 1989, indicating low recent productivity and a naturally declining population in spite of low fishing pressure. The ABC and OY are therefore set at the low end of the range projected in the stock assessment, 13,900 mt.
q/ Widow rockfish was assessed in 2005 and was estimated to be at 31.1 percent of its unfished biomass in 2004. The ABC of 5,334 mt is based on an F50% FMSY proxy. The OY of 368 mt is based on a rebuilding plan with a target year to rebuild of 2015 and an SPR rate of 95 percent. The OY is reduced by 3.0 mt for the amount anticipated to be taken during research activity. Tribal vessels are estimated to catch about 46.1 mt of widow rockfish in 2007, but do not have a specific allocation at this time. For the Pacific whiting fishery, 200 mt is being set aside and will be managed with bycatch limits.
r/ A canary rockfish stock assessment was completed in 2005 and the stock was estimated to be at 9.4 percent of its unfished biomass coastwide in 2005. The coastwide ABC of 172 mt is based on a FMSY proxy of F50%. The OY of 44 mt is based on a rebuilding plan with a target year to rebuild of 2063 and an SPR harvest rate of 88.7 percent. The OY is reduced by 3.0 mt for the amount anticipated to be taken during research activity. Tribal vessels are estimated to catch about 5 mt of canary rockfish under the 2007 commercial HG, but do not have a specific allocation at this time. South of 42° N. lat., the canary rockfish recreational fishery HG is 9.0 mt and north of 42° N. lat., the canary rockfish recreational fishery HG 8.2 mt.
s/ Chilipepper rockfish was last assessed in 1998. The ABC (2,700 mt) for the Monterey-Conception area is based on a three year average projection from 1999-2001 with a F50% FMSY proxy. Because the unfished biomass is estimated to be above 40 percent the unfished biomass, the default OY could be set equal to the ABC. However, the OY is set at 2,000 mt to discourage fishing on chilipepper, which is taken with bocaccio. Management measures to constrain the harvest of overfished species have reduced the availability of chilipepper rockfish to the fishery during the past several years. Because the harvest assumptions (from the most recent stock assessment) used to forecast future harvest were likely overestimates, carrying the previously used ABCs and OYs forward into 2007 was considered to be conservative and based on the best available data. Open access is allocated 44.3 percent (886 mt) of the commercial HG and limited entry is allocated 55.7 percent (1,114 mt) of the commercial HG.
t/ A bocaccio stock assessment update and a rebuilding analysis were prepared in 2005. The bocaccio stock was estimated to be at 10.7 percent of its unfished biomass in 2005. The ABC of 602 mt for the Monterey and Conception areas is based on a F50% FMSY proxy. The OY of 218 mt is based on a rebuilding plan with a target year to rebuild of 2026 and a SPR harvest rate of 77.7 percent. The OY is reduced by 3.0 mt for the amount anticipated to be taken during research activity.
u/ Splitnose rockfish - The ABC is 615 mt in the southern area (Monterey-Conception). The 461 mt OY for the southern area reflects a 25 percent precautionary adjustment because of the less rigorous stock assessment for this stock. Because the harvest assumptions used to forecast future harvest were likely overestimates, carrying the previously used ABCs and OYs forward into 2007 was considered to be conservative and based on the best available data.
v/ Yellowtail rockfish - A yellowtail rockfish stock assessment was prepared in 2005 for the Vancouver-Columbia-Eureka areas. Yellowtail rockfish was estimated to be above 40 percent of its unfished biomass in 2005. The ABC of 4,548 mt is a 2 year average ABC for 2007 and 2008 and is based on the 2005 stock assessment with the FMSY proxy of F50%. The OY of 4,548 mt was set equal to the ABC, because the stock is above the precautionary threshold of B40%. Tribal vessels are estimated to catch about 539 mt of yellowtail rockfish in 2007, but do not have a specific allocation at this time.
w/ Shortspine thornyhead was assessed coastwide in 2005 and the stock was estimated to be at 63 percent of its unfished biomass in 2005. The ABC of 2,476 mt is based on a F50% FMSY proxy and is the two year average ABC for 2007 and 2008. For that portion of the stock (66 percent of the biomass) north of Pt. Conception (34° 27' N. lat.), the OY of 1,634 mt was set at equal to the ABC because the stock is estimated to be above the precautionary threshold. For that portion of the stock south of Pt. Conception (34 percent of the biomass), the OY of 421 mt was the portion of the ABC for the area reduced by 50 percent as a precautionary adjustment due to the short duration and amount of survey data for that area. Tribal vessels are estimated to catch about 13 mt of shortspine thornyhead in 2007, but do not have a specific allocation at this time.
x/ Longspine thornyhead was assessed coastwide in 2005 and the stock was estimated to be at 71 percent of its unfished biomass in 2005. The coastwide ABC of 3,907 mt is based on a F50% FMSY proxy and is the two year average OY for the 2007 and 2008 period. The OY is set equal to the ABC because the stock is above the precautionary threshold. Separate OYs are being established for the areas north and south of 34° 27' N. lat. (Point Conception). The OY for that portion of the stock in the northern area (79 percent)is set equal to the ABC. For that portion of the stock in the southern area (21 percent), the OY of 476 mt was the portion of the ABC for the area reduced by 25 percent as a precautionary adjustment due to the short duration and amount of survey data for that area.
y/ Cowcod in the Conception area was assessed in 2005 and was estimated to be between 14 and 21 percent of its unfished biomass. The ABC of in the area south of 36° N. lat., the Conception area, is 17 mt and is based on the 2005 stock assessment with a F50% FMSY proxy. The ABC for the Monterey area (19 mt) is based on average landings from 1993-1997. A OY of 4 mt is being set for the combined areas. The OY is based on a rebuilding plan with a target year to rebuilding of 2039 and an SPR harvest rate 90 percent. The OY is reduced by 0.1 mt for the amount anticipated to be taken during research activity.
z/ Darkblotched rockfish was assessed in 2005 and was estimated to be at 16 percent of its unfished biomass in 2005. The ABC is projected to be 456 mt and is based on the 2005 stock assessment with an FMSY proxy of F50%. The OY of 290 mt is based on a rebuilding plan with a target year to rebuild of 2011 and an SPR harvest rate of 64.1 percent in 2007. The OY is reduced by 3.8 mt for the amount anticipated to be taken during research activity.
aa/ Yelloweye rockfish was assessed in 2006 and is estimated to be at 17.7 percent of its unfished biomass coastwide. The 26 mt coastwide ABC is based on the new stock assessment and an FMSY proxy of F50%. The 23 mt OY is based on a rebuilding plan with a target year to rebuild of 2084 an SPR harvest rate of 55.4 percent in 2007. The OY is reduced by 3.0 mt for the amount anticipated to be taken during research activity. Tribal vessels are estimated to catch 2.3 mt of yelloweye rockfish of the commercial HG in 2007, but do not have a specific allocation at this time. South of 42° N. lat. the yelloweye rockfish recreational fishery HG is 2.1 mt and north of 42° N. lat. the yelloweye rockfish recreational fishery HG 6.8 mt.
bb/ California Scorpionfish south of 34° 27' N. lat. was assessed in 2005 and was estimated to be above 40 percent of its unfished biomass in 2005. The ABC of 219 mt is based on the new assessment with a harvest rate proxy of F50% and is an average ABC for 2007 and 2008. Because the stock is above B40% coastwide, the OY could be set equal to the ABC. The OY of 175 mt, which is lower than the ABC, reflects the highest historical catch levels.
cc/ Black rockfish was last assessed in 2003 for the Columbia and Eureka area and in 2000 for the Vancouver area. The ABC for the area north of 46°16' N. lat. is 540 mt and the ABC for the area south of 46°16' N. lat. is 722 mt which is the average ABC for the 2007 and 2008 period. Because of an overlap in the assessed areas between Cape Falcon and the Columbia River, projections from the 2000 stock assessment were adjusted downward by 12 percent to account for the overlap. The ABCs were derived using an FMSY proxy of F50%. Because the unfished biomass is estimated to be above 40 percent, the OYs were set equal to the ABCs. For the area north of 46°16' N. lat., the OY is 540 mt. The following tribal harvest guidelines are being set: 20,000 lb (9.1 mt) north of Cape Alava, WA (48° 09.50' N. lat.) and 10,000 lb (4.5 mt) between Destruction Island, WA (47° 40' N. lat.) and Leadbetter Point, WA (46° 38.17' N. lat.). For the area south of 46°16' N. lat., the OY is 722 mt. The black rockfish OY in the area south of 46°16' N. lat., is subdivided with separate HGs being set for the area north of 42° N. lat (419 mt/58 percent) and for the area south of 42° N. lat (303 mt/42 percent). For the southern area north of 42° N. lat., a range is presented for the recreational estimate (289-350 mt) and comercial HG (91 -111 mt). Specific values will be specified in the final rule. Of the 303 mt of black rockfish attributed to the area south of 42° N. lat., 168 mt is estimated to be taken in the recreational fisheries, resulting in a commercial HG of 135 mt.
dd/ Minor rockfish north includes the ″remaining rockfish″ and ″other rockfish″ categories in the Vancouver, Columbia, and Eureka areas combined. These species include ″remaining rockfish″, which generally includes species that have been assessed by less rigorous methods than stock assessments, and ″other rockfish″, which includes species that do not have quantifiable stock assessments. The ABC of 3,680 mt is the sum of the individual ″remaining rockfish″ ABCs plus the ″other rockfish″ ABCs. The remaining rockfish ABCs continues to be reduced by 25 percent (F=0.75M) as a precautionary adjustment. To obtain the total catch OY of 2,270 mt, the remaining rockfish ABC was reduced by 25 percent and other rockfish ABC was reduced by 50 percent. This was a precautionary measure to address limited stock assessment information. Tribal vessels are estimated to catch about 38 mt of minor rockfish in 2007, but do not have a specific allocation at this time.
ee/ Minor rockfish south includes the ″remaining rockfish″ and ″other rockfish″ categories in the Monterey and Conception areas combined. These species include ″remaining rockfish″ which generally includes species that have been assessed by less rigorous methods than stock assessment, and ″other rockfish″ which includes species that do not have quantifiable stock assessments. The ABC of 3,403 mt is the sum of the individual ″remaining rockfish″ ABCs plus the ″other rockfish″ ABCs. California scorpionfish is being removed from this category in 2007. Gopher rockfish is being moved from the ″other rockfish″ group to the remaining rockfish group in 2007. The remaining rockfish ABCs continue to be reduced by 25 percent (F=0.75M) as a precautionary adjustment. The remaining rockfish ABCs are further reduced by 25 percent, with the exception of blackgill rockfish (see footnote gg). The other rockfish ABCs were reduced by 50 percent. This was a precautionary measure due to limited stock assessment information. The resulting minor rockfish OY is 1,904 mt.
ff/ Bank rockfish - The ABC is 350 mt which is based on a 2000 stock assessment for the Monterey and Conception areas. This stock contributes 263 mt towards the minor rockfish OY in the south.
gg/ Blackgill rockfish in the Monterey and Conception areas was assessed in 2005 and is estimated to be at 50.6 percent of its unfished biomass in 2005. The ABC of 292 mt for Monterey and Conception areas is based on the 2005 stock assessment with an FMSY proxy of F50% and is the two year average ABC for the 2007 and 2008 periods. This stock contributes 292 mt towards minor rockfish south.
hh/ ″Other rockfish″ includes rockfish species listed in 50 CFR 660.302. California scorpionfish and gopher rockfish were assessed in 2005 and are being removed from this category. The California Scorpionfish contribution of 163 mt and the gopher rockfish contribution of 97 mt were removed from the ABC value. The ABC for the remaining species is based on the 1996 review of commercial Sebastes landings and includes an estimate of recreational landings. These species have never been assessed quantitatively.
ii/ ″Other fish″ includes sharks, skates, rays, ratfish, morids, grenadiers, kelp greenling and other groundfish species noted above in footnote ᵈ.
jj/ Sablefish allocation north of 36° N. lat. - The limited entry allocation is further divided with 58 percent allocated to the trawl fishery and 42 percent allocated to the fixed-gear fishery.
kk/ Specific open access/limited entry allocations have been suspended during the rebuilding period as necessary to meet the overall rebuilding target while allowing harvest of healthy stocks.

Table 2a. To Part 660, Subpart G - 2008, and Beyond, Specifications of ABCs, OYs, and HGs, by Management Area
(weights in metric tons).
Species | ABC Specifications: ABC Contributions by Area: Vancouver a/ | ABC Specifications: ABC Contributions by Area: Columbia | ABC Specifications: ABC Contributions by Area: Eureka | ABC Specifications: ABC Contributions by Area: Monterey | ABC Specifications: ABC Contributions by Area: Conception | ABC Specifications: ABC | OY b/ | HG b/: Commercial | HG b/: Recreational
ROUNDFISH:
Lingcod c/ north of 42°N. lat. | 5,428 |  | 852 |  |  | 6,280 | 5,558 |  |
south of 42°N. lat. |  |  |  |  |  |  | 612 |
Pacific Cod e/ | 3,200 |  | d/ |  |  | 3,200 | 1,600 | 1,200 |
Pacific Whiting f/ | 244,425 - 733,275 |  |  |  |  | 244,425-733,275 | 134,534-403,604 |  |
Sablefish g/ | 6,058 |  |  |  |  | 6,058 | 5,934 | 5,362 |
Cabezon h/ south of 42° N. lat. | d/ |  | 71 |  | 23 | 94 | 69 | 27 |
FLATFISH:
Dover sole i/ | 28,442 |  |  |  |  | 28,442 | 16,500 |  |
English sole j/ | 6,237 |  |  |  |  | 6,237 | 6,237 |  |
Petrale sole k/ | 1,475 |  | 1,444 |  |  | 2,919 | 2,499 |  |
Arrowtooth flounder l/ | 5,800 |  |  |  |  | 5,800 | 5,800 |  |
Starry Flounder m/ | 1,221 |  |  |  |  | 1,221 | 890 |  |
Other flatfish n/ | 6,731 |  |  |  |  | 6,731 | 4,884 |  |
ROCKFISH:
Pacific Ocean Perch o/ | 911 |  |  |  |  | 911 | 150 | 111.3 |
Shortbelly p/ | 13,900 |  |  |  |  | 13,900 | 13,900 |  |
Widow q/ | 5,144 |  |  |  |  | 5,144 | 368 | 251.4 | 9.4
Canary r/ | 179 |  |  |  |  | 179 | 44 | 23.8 | 17.2
Chilipepper s/ | d/ |  |  | 2,700 |  | 2,700 | 2,000 |  |
Bocaccio t/ | d/ |  |  | 618 |  | 618 | 218 | 80.2 | 66.3
Splitnose u/ | d/ |  |  | 615 |  | 615 | 461 |  |
Yellowtail v/ | 4,548 |  |  | d/ |  | 4,548 | 4,548 |  |
Shortspine thornyhead w/ north of 34°27' N. lat. | 2,476 |  |  |  |  | 2,476 | 1,634 |  |
south of 34°27' N. lat. |  |  |  |  |  |  | 421 |  |
Longspine thornyhead x/ north of 34°27' N. lat. | 3,907 |  |  |  |  | 3,907 | 2,220 |  |
south of 34°27' N. lat. |  |  |  |  |  |  | 476 |  |
Cowcod y/ 36° to 40° 30' N. lat. | d/ |  |  | 19 | -- | 19 | 4 | 3.1 | 0.3
south of 36° N. lat. | d/ |  |  | -- | 17 | 17 |  |  |
Darkblotched z/ |  |  |  |  |  |  | 290 | 259.8 |
Yelloweye aa/ |  |  |  |  |  |  | 20 | 7.8 | 8.9
California Scorpionfish bb/ |  |  |  |  | 219 | 219 | 175 | 34 |
Black cc/ north of 46°16' N. lat. | 540 |  |  |  |  | 540 | 540 |  |
south of 46°16' N. lat. |  |  | 722 |  |  | 722 | 722 |  |
Minor Rockfish dd/ north of 40°10′ N. lat. | 3,680 |  |  | -- |  | 3,680 | 2,270 | 2,181 | 89
Minor Rockfish ee/ south of 40°10′ N. lat. | -- |  |  | 3,403 |  | 3,403 | 1,904 | 1,418 | 486
Remaining Rockfish | 1,612 |  |  | 1,105 |  | -- |  |  |
bank ff/ | d/ |  |  | 350 |  |  |  |  |
blackgill gg/ | d/ |  |  | 292 |  |  |  |  |
bocaccio north | 318 |  |  | -- |  |  |  |  |
chilipepper north | 32 |  |  | -- |  |  |  |  |
redstripe | 576 |  |  | d/ |  |  |  |  |
sharpchin | 307 |  |  | 45 |  |  |  |  |
silvergrey | 38 |  |  | d/ |  |  |  |  |
splitnose north | 242 |  |  | -- |  |  |  |  |
yellowmouth | 99 |  |  | d/ |  |  |  |  |
yellowtail south | -- |  |  | 116 |  |  |  |  |
Gopher | d/ |  |  | 302 |  |  |  |  |
Other rockfish hh/ | 2,068 |  |  | 2,298 |  | -- |  |  |
SHARKS/SKATES/RATFISH/MORIDS/GRENADIERS/KELP GREENLING:
Other fish ii/ | 2,500 | 7,000 | 1,200 | 3,900 |  | 14,600 | 7,300 |  |

Table 2b. 2008, and beyond, Harvest guidelines for minor rockfish by depth sub-groups (weights in metric tons).
Species | Total Catch ABC | Total Catch OY | Recreational HG | Commercial HG | Limited Entry HG: Mt | Limited Entry HG: % | Open Access HG: Mt | Open Access HG: %
Minor Rockfish North dd/ | 3,680 | 2,270 | 89 | 2,181 | 2,000 | 91.7 | 181 | 8.3
Nearshore |  | 142 | 79 | 63 |  |  |  |
Shelf |  | 968 | 10 | 958 |  |  |  |
Slope |  | 1,160 | 0 | 1,160 |  |  |  |
Minor Rockfish South ee/ | 3,403 | 1,904 | 486 | 1,418 | 790 | 55.7 | 628 | 44.3
Nearshore |  | 564 | 426 | 138 |  |  |  |
Shelf |  | 714 | 60 | 654 |  |  |  |
Slope |  | 626 | 0 | 626

Table 2c. 2008, and beyond, open access and limited Entry allocations by species or species group. (weights in metric tons
Species | Commercial Total Catch HGs | Commercial Total Catch HGs: Limited Entry: Mt | Commercial Total Catch HGs: Limited Entry: % | Commercial Total Catch HGs: Open Access: Mt | Commercial Total Catch HGs: Open Access: %
Lingcod north of 42° N. lat. south of 42° N. lat. | -- | -- | 81.0 | -- | 19.0
Sablefish jj/ north of 36° N. lat. | 5,151 | 4,667 | 90.6 | 484 | 9.4
Widow kk/ | 251.4 | -- | 97.0 | -- | 3.0
Canary kk/ | 23 | -- | 87.7 | -- | 12.3
Chilipepper | 2,000 | 1,114 | 55.7 | 886 | 44.3
Bocaccio kk/ | 80.2 | -- | 55.7 | -- | 44.3
Yellowtail | -- | -- | 91.7 | -- | 8.3
Shortspine thornyhead north of 34°27' N. lat. | 1,634 | 1,193 | 99.7 | 441 | 0.27
Minor Rockfish north of 40°10' N. lat. | 2,181 | 2,000 | 91.7 | 181 | 8.3
south of 40°10' N. lat. | 1,418 | 790 | 55.7 | 628 | 44.3
a/ ABCs apply to the U.S. portion of the Vancouver area.
b/ Optimum Yields (OYs) and Harvest Guidelines (HGs) are specified as total catch values. Though presented as harvest guidelines, the recreational values for widow rockfish, bocaccio, and cowcod are catch estimates. A harvest guideline is a specified harvest target and not a quota. The use of this term may differ from the use of similar terms in state regulation.
c/ Lingcod- A coastwide lingcod stock assessment was prepared in 2005. The lingcod biomass was estimated to be at 64 percent of its unfished biomass in 2005. The ABC was calculated using an FMSY proxy of F45%. The ABC of 6,280 mt is a two year average ABC for 2007 and 2008. Because the stock is above B40% coastwide, the OY could be set equal to the ABC. Separate OYs are being adopted for the area north of 42° N. lat. and the area south of 42° N. lat. For that portion of the stock north of 42° N. lat. the OY of 5,558 mt is set equal to the ABC contribution for the area. The biomass in the area south of 42° N. lat. is estimated to be at 24 percent of the unfished biomass. As a precautionary measure, the OY for the southern portion of the stock is being set at 612 mt, which is lower than the ABC contribution for the area. An OY of 612 mt (equivalent to the 2006 OY) is expected to result in a biomass increase for the southern portion of the stock. The tribes do not have a specific allocation at this time, but are expected to take 30 mt of the commercial HG.
d/ ″Other species″, these species are neither common nor important to the commercial and recreational fisheries in the areas footnoted. Accordingly, these species are included in the harvest guidelines of ″other fish″, ″other rockfish″ or ″remaining rockfish″.
e/ Pacific Cod - The 3,200 mt ABC for the Vancouver-Columbia area is based on historical landings data. The 1,600 mt OY is the ABC reduced by 50 percent as a precautionary adjustment. A tribal harvest guideline of 400 mt is deducted from the OY resulting in a commercial OY of 1,200 mt.
f/ Pacific whiting - Final adoption of the Pacific whiting ABC and OY have been deferred until the Council's March 2008 meeting. Therefore, table 1a contains the ABC and OY range considered in the EIS and under the proposed rule. It is anticipated that a new assessment will be available in early 2008 and the results will be used to set the 2008 ABC and OY. The final ABC and OY will be published as a separate action following the Council's recommendation at its March 2008 meeting.
g/ Sablefish - A coastwide sablefish stock assessment was prepared in 2005. The coastwide sablefish biomass was estimated to be at 35.2 percent of its unfished biomass in 2005. Projections indicate that the biomass is increasing and will be near 42 percent of its unfished biomass by 2008. The coastwide ABC of 6,058 mt was based on the base-case assessment model with a FMSY proxy of F45%. The coastwide OY of 5,934 mt is based on the application of the 40-10 harvest policy and is a two year average OY for 2007 and 2008. To apportion fishery allocations for the area north of 36° N. lat., 96.45 percent of the coastwide OY (5,723 mt) is attributed to the northern area. The tribal allocation for the area north of 36° N. lat. is 572 mt (10 percent of the OY north of 36° N. lat), which is further reduced by 1.9 percent (10.9 mt) for discards. The tribal landed catch value is 561.4 mt.
h/ Cabezon south of 42° N. lat. was assessed in 2005. In 2005, the Cabazon stock was estimated to be at 40 percent of its unfished biomass north of 34° 27' N. lat. and 28 percent of its unfished biomass south of 34° 27' N. lat. The stock biomass is projected to be increasing in the northern area and decreasing in the southern area. The ABC of 94 mt (71 mt for the northern portion of the stock and 23 mt for the southern portion of the stock) is based on a harvest rate proxy of F50%. The OY of 69 mt is a constant harvest level that is consistent with the application of a 60-20 harvest rate policy specified in the California Nearshore Management Plan.
i/ Dover sole was assessed north of 34° 27' N. lat. in 2005. The Dover sole biomass was estimated to be at 59.8 percent of its unfished biomass in 2005 and is projected to be increasing. The ABC of 28,522 mt is based on the results of the 2005 assessment with an FMSY proxy of F40%. Because the stock is above B40% coastwide, the OY could be set equal to the ABC. The OY of 16,500 mt, which is less than the ABC, is the MSY harvest level and is considerably larger than the coastwide catches in any recent years.
j/ A coastwide English sole stock assessment was prepared in 2005 and the stock was estimated to be at 91.5 percent of its unfished biomass in 2005, but the stock biomass is believed to be declining. The ABC of 6,237 is a two year average ABC for 2007 and 2008 based on the the results of the 2005 assessment with an FMSY proxy of F40%. Because the stock is above BF40%, the OY was set equal to the ABC.
k/ A petrale sole stock assessment was prepared for 2005. In 2005 the petrale sole stock coastwide was estimated to be at 32 percent of its unfished biomass (34 percent in the northern assessment area and 29 percent in the southern assessment area). The petrale sole biomass is believed to be increasing. The ABC of 2,917 mt is based on the new assessment with a F40% FMSY proxy. To derive the OY, the 40-10 harvest policy was applied to the ABC for both the northern and southern assessment areas. As a precautionary measure, an additional 25 percent reduction was made in the OY contribution for the southern area due to assessment uncertainty. The OY of 2,499 mt is the average coastwide OY value for 2007 and 2008.
l/ Arrowtooth flounder was last assessed in 1993 and was estimated to be above 40 percent of its unfished biomass, therefore the OY will be set equal to the ABC.
m/ Starry Flounder was assessed for the first time in 2005 and was estimated to be above 40 percent of its unfished biomass in 2005 (44 percent for the northern stock off Washington and Oregon, and 62 percent for the southern stock of California). The starry flounder biomass is believed to be declining, and will be below B40%. The starry flounder assessment was considered to be a data-poor assessment relative to other groundfish assessments. For 2007, the coastwide ABC of 1,221 mt is based on the new assessment with a FMSY proxy of F40% and is an average ABC for 2007 and 2008. Because the stock is believed to be above B40%, the OY could be set equal to the ABC. To derive the OY, the 40-10 harvest policy was applied to the ABC for both the northern and southern assessment areas then an additional 25 percent reduction was made due to assessment uncertainty. Starry flounder was previously managed as part of the ″other flatfish″ category. The OY of 890 mt is the average coastwide OY value for 2007 and 2008.
n/ ″Other flatfish″ are those flatfish species that do not have individual ABC/OYs and include butter sole, curlfin sole, flathead sole, Pacific sand dab, rex sole, rock sole, and sand sole. Starry flounder was assessed in 2005 and is being removed from other flatfish complex beginning in 2007. The ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.
o/ A POP stock assessment was prepared in 2005 and the stock was estimated to be at 23.4 percent of its unfished biomass in 2005. The ABC of 900 mt for the Vancouver-Columbia area was projected from the 2005 stock assessment and is based on an FMSY proxy of F50%. The OY of 150 mt is based on a rebuilding plan with a target year to rebuild of 2017 and an SPR harvest rate of 86.4 percent. The OY is reduced by 3.6 mt for the amount anticipated to be taken during research activity.
p/ Shortbelly rockfish remains an unexploited stock and is difficult to assess quantitatively. A 1989 stock assessment provided two alternative yield calculations of 13,900 mt and 47,000 mt. NMFS surveys have shown poor recruitment in most years since 1989, indicating low recent productivity and a naturally declining population in spite of low fishing pressure. The ABC and OY are therefore set at the low end of the range projected in the stock assessment, 13,900 mt.
q/ Widow rockfish was assessed in 2005 and was estimated to be at 31.1 percent of its unfished biomass in 2004. The ABC of 5,334 mt is based on an F50% FMSY proxy. The OY of 368 mt is based on a rebuilding plan with a target year to rebuild of 2015 and an SPR rate of 95 percent. The OY is reduced by 3.0 mt for the amount anticipated to be taken during research activity. Tribal vessels are estimated to catch about 46.1 mt of widow rockfish in 2007, but do not have a specific allocation at this time. For the Pacific whiting fishery, 200 mt is being set aside and will be managed with bycatch limits.
r/ A canary rockfish stock assessment was completed in 2005 and the stock was estimated to be at 9.4 percent of its unfished biomass coastwide in 2005. The coastwide ABC of 172 mt is based on a FMSY proxy of F50%. The OY of 44 mt is based on a rebuilding plan with a target year to rebuild of 2063 and an SPR harvest rate of 88.7 percent. The OY is reduced by 3.0 mt for the amount anticipated to be taken during research activity. Tribal vessels are estimated to catch about 5 mt of canary rockfish under the 2007 commercial HG, but do not have a specific allocation at this time. South of 42° N. lat., the canary rockfish recreational fishery HG is 9.0 mt and north of 42° N. lat., the canary rockfish recreational fishery HG 8.2 mt.
s/ Chilipepper rockfish was last assessed in 1998. The ABC (2,700 mt) for the Monterey-Conception area is based on a three year average projection from 1999-2001 with a F50% FMSY proxy. Because the unfished biomass is estimated to be above 40 percent the unfished biomass, the default OY could be set equal to the ABC. However, the OY is set at 2,000 mt to discourage fishing on chilipepper, which is taken with bocaccio. Management measures to constrain the harvest of overfished species have reduced the availability of chilipepper rockfish to the fishery during the past several years. Because the harvest assumptions (from the most recent stock assessment) used to forecast future harvest were likely overestimates, carrying the previously used ABCs and OYs forward into 2007 was considered to be conservative and based on the best available data. Open access is allocated 44.3 percent (886 mt) of the commercial HG and limited entry is allocated 55.7 percent (1,114 mt) of the commercial HG.
t/ A bocaccio stock assessment update and a rebuilding analysis were prepared in 2005. The bocaccio stock was estimated to be at 10.7 percent of its unfished biomass in 2005. The ABC of 618 mt for the Monterey and Conception areas is based on a F50% FMSY proxy. The OY of 218 mt is based on a rebuilding plan with a target year to rebuild of 2026 and a SPR harvest rate of 77.7 percent. The OY is reduced by 3.0 mt for the amount anticipated to be taken during research activity.
u/ Splitnose rockfish - The ABC is 615 mt in the southern area (Monterey-Conception). The 461 mt OY for the southern area reflects a 25 percent precautionary adjustment because of the less rigorous stock assessment for this stock. Because the harvest assumptions used to forecast future harvest were likely overestimates, carrying the previously used ABCs and OYs forward into 2008 was considered to be conservative and based on the best available data.
v/ Yellowtail rockfish - A yellowtail rockfish stock assessment was prepared in 2005 for the Vancouver-Columbia-Eureka areas. Yellowtail rockfish was estimated to be above 40 percent of its unfished biomass in 2005. The ABC of 4,548 mt is a 2 year average ABC for 2007 and 2008 and is based on the 2005 stock assessment with the FMSY proxy of F50%. The OY of 4,548 mt was set equal to the ABC, because the stock is above the precautionary threshold of B40%. Tribal vessels are estimated to catch about 539 mt of yellowtail rockfish in 2007, but do not have a specific allocation at this time. Tribal vessels are estimated to catch about 539 mt of yellowtail rockfish in 2008, but do not have a specific allocation at this time.
w/ Shortspine thornyhead was assessed coastwide in 2005 and the stock was estimated to be at 63 percent of its unfished biomass in 2005. The ABC of 2,476 mt is based on a F50% FMSY proxy and is the two year average ABC for 2007 and 2008. For that portion of the stock (66 percent of the biomass) north of Pt. Conception (34° 27' N. lat.), the OY of 1,634 mt was set at equal to the ABC because the stock is estimated to be above the precautionary threshold. For that portion of the stock south of Pt. Conception (34 percent of the biomass), the OY of 421 mt was the portion of the ABC for the area reduced by 50 percent as a precautionary adjustment due to the short duration and amount of survey data for that area. Tribal vessels are estimated to catch about 13 mt of shortspine thornyhead in 2008, but do not have a specific allocation at this time.
x/ Longspine thornyhead was assessed coastwide in 2005 and the stock was estimated to be at 71 percent of its unfished biomass in 2005. The coastwide ABC of 3,907 mt is based on a F50% FMSY proxy and is the two year average OY for the 2007 and 2008 period. The OY is set equal to the ABC because the stock is above the precautionary threshold. Separate OYs are being established for the areas north and south of 34° 27' N. lat. (Point Conception). The OY for that portion of the stock in the northern area (79 percent)is set equal to the ABC. For that portion of the stock in the southern area (21 percent), the OY of 476 mt was the portion of the ABC for the area reduced by 25 percent as a precautionary adjustment due to the short duration and amount of survey data for that area.
y/ Cowcod in the Conception area was assessed in 2005 and was estimated to be between 14 and 21 percent of its unfished biomass. The ABC of in the area south of 36° N. lat., the Conception area, is 17 mt and is based on the 2005 stock assessment with a F50% FMSY proxy. The ABC for the Monterey area (19 mt) is based on average landings from 1993-1997. A OY of 4 mt is being set for the combined areas. The OY is based on a rebuilding plan with a target year to rebuilding of 2039 and an SPR harvest rate 90.0 percent. The OY is reduced by 0.1 mt for the amount anticipated to be taken during research activity.
z/ Darkblotched rockfish was assessed in 2005 and was estimated to be at 16 percent of its unfished biomass in 2005. The ABC is projected to be 487 mt and is based on the 2005 stock assessment with an FMSY proxy of F50%. The OY of 330 mt is based on a rebuilding plan with a target year to rebuild of 2011 and an SPR harvest rate of 60.7 percent in 2008. The OY is reduced by 3.0 mt for the amount anticipated to be taken during research activity.
aa/ Yelloweye rockfish was assessed in 2006 and is estimated to be at 17.7 percent of its unfished biomass coastwide. The 26 mt coastwide ABC is based on the new stock assessment and an FMSY proxy of F50%. The 20 mt OY is based on a rebuilding plan with a target year to rebuild of 2084 an SPR harvest rate of 60.8 percent in 2008. The OY is reduced by 3.0 mt for the amount anticipated to be taken during research activity. Tribal vessels are estimated to catch 2.3 mt of yelloweye rockfish of the commercial HG in 2008, but do not have a specific allocation at this time. South of 42° N. lat. the yelloweye rockfish recreational fishery HG is 2.1 mt and north of 42° N. lat. the yelloweye rockfish recreational fishery HG 6.8 mt.
bb/ California Scorpionfish south of 34° 27' N. lat. was assessed in 2005 and was estimated to be above 40 percent of its unfished biomass in 2005. The ABC of 219 mt is based on the new assessment with a harvest rate proxy of F50% and is an average ABC for 2007 and 2008. Because the stock is above B40% coastwide, the OY could be set equal to the ABC. The OY of 175 mt, which is lower than the ABC, reflects the highest historical catch levels.
cc/ Black rockfish was last assessed in 2003 for the Columbia and Eureka area and in 2000 for the Vancouver area. The ABC for the area north of 46°16' N. lat. is 540 mt and the ABC for the area south of 46°16' N. lat. is 722 mt which is the average ABC for the 2007 and 2008 period. Because of an overlap in the assessed areas between Cape Falcon and the Columbia River, projections from the 2000 stock assessment were adjusted downward by 12 percent to account for the overlap. The ABCs were derived using an FMSY proxy of F50%. Because the unfished biomass is estimated to be above 40 percent, the OYs were set equal to the ABCs. For the area north of 46°16' N. lat., the OY is 540 mt. The following tribal harvest guidelines are being set: 20,000 lb (9.1 mt) north of Cape Alava, WA (48° 09.50' N. lat.) and 10,000 lb (4.5 mt) between Destruction Island, WA (47° 40' N. lat.) and Leadbetter Point, WA (46° 38.17' N. lat.). For the area south of 46°16' N. lat., the OY is 722 mt. The black rockfish OY in the area south of 46°16' N. lat., is subdivided with separate HGs being set for the area north of 42° N. lat (419 mt/58 percent) and for the area south of 42° N. lat (303 mt/42 percent). For the southern area north of 42° N. lat., a range is presented for the recreational estimate (289-350 mt) and comercial HG (91 -111 mt). Specific values will be specified in the final rule. Of the 303 mt of black rockfish attributed to the area south of 42° N. lat., 168 mt is estimated to be taken in the recreational fisheries, resulting in a commercial HG of 135 mt.
dd/ Minor rockfish north includes the ″remaining rockfish″ and ″other rockfish″ categories in the Vancouver, Columbia, and Eureka areas combined. These species include ″remaining rockfish″, which generally includes species that have been assessed by less rigorous methods than stock assessments, and ″other rockfish″, which includes species that do not have quantifiable stock assessments. The ABC of 3,680 mt is the sum of the individual ″remaining rockfish″ ABCs plus the ″other rockfish″ ABCs. The remaining rockfish ABCs continues to be reduced by 25 percent (F=0.75M) as a precautionary adjustment. To obtain the total catch OY of 2,270 mt, the remaining rockfish ABC was reduced by 25 percent and other rockfish ABC was reduced by 50 percent. This was a precautionary measure to address limited stock assessment information. Tribal vessels are estimated to catch about 38 mt of minor rockfish in 2008, but do not have a specific allocation at this time.
ee/ Minor rockfish south includes the ″remaining rockfish″ and ″other rockfish″ categories in the Monterey and Conception areas combined. These species include ″remaining rockfish″ which generally includes species that have been assessed by less rigorous methods than stock assessment, and ″other rockfish″ which includes species that do not have quantifiable stock assessments. The ABC of 3,403 mt is the sum of the individual ″remaining rockfish″ ABCs plus the ″other rockfish″ ABCs. The remaining rockfish ABCs continue to be reduced by 25 percent (F=0.75M) as a precautionary adjustment. The remaining rockfish ABCs are further reduced by 25 percent, with the exception of blackgill rockfish (see footnote gg). The other rockfish ABCs were reduced by 50 percent. This was a precautionary measure due to limited stock assessment information. The resulting minor rockfish OY is 1,904 mt.
ff/ Bank rockfish - The ABC is 350 mt which is based on a 2000 stock assessment for the Monterey and Conception areas. This stock contributes 263 mt towards the minor rockfish OY in the south.
gg/ Blackgill rockfish in the Monterey and Conception areas was assessed in 2005 and is estimated to be at 49.9 percent of its unfished biomass in 2008. The ABC of 292 mt for Monterey and Conception areas is based on the 2005 stock assessment with an FMSY proxy of F50% and is the two year average ABC for the 2007 and 2008 periods. This stock contributes 292 mt towards minor rockfish south.
hh/ ″Other rockfish″ includes rockfish species listed in 50 CFR 660.302. California scorpionfish and gopher rockfish were assessed in 2005 and are being removed from this category. The California Scorpionfish contribution of 163 mt and the gopher rockfish contribution of 97 mt were removed from the ABC value. The ABC for the remaining species is based on the 1996 review of commercial Sebastes landings and includes an estimate of recreational landings. These species have never been assessed quantitatively.
ii/ ″Other fish″ includes sharks, skates, rays, ratfish, morids, grenadiers, kelp greenling and other groundfish species noted above in footnote d/.
jj/ Specific open access/limited entry allocations have been suspended during the rebuilding period as necessary to meet the overall rebuilding target while allowing harvest of healthy stocks.
kk/ Sablefish allocation north of 36° N. lat. - The limited entry allocation is further divided with 58 percent allocated to the trawl fishery and 42 percent allocated to the fixed-gear fishery.

BILLING CODE 3510-22-S

* * * * *

24. In § 660.405, paragraph (c) is added to read as follows:

§ 660.405 Prohibitions.

* * * * *

(c) Under the Pacific Coast groundfish regulations at § 660.383, fishing with salmon troll gear is prohibited within the Salmon Troll Yelloweye Rockfish Conservation Area (YRCA). It is unlawful for commercial salmon troll vessels to take and retain, possess, or land fish taken with salmon troll gear within the Salmon Troll YRCA. Vessels may transit through the Salmon Troll YRCA with or without fish on board. The Salmon Troll YRCA is an area off the northern Washington coast. The Salmon Troll YRCA is intended to protect yelloweye rockfish. The Salmon Troll YRCA is defined by straight lines connecting the following specific latitude and longitude coordinates in the order listed:

(1) 48°00.00′ N. lat., 125°14.00′ W. long.;

(2) 48°02.00′ N. lat., 125°14.00′ W. long.;

(3) 48°00.00′ N. lat., 125°16.50′ W. long.;

(4) 48°02.00′ N. lat., 125°16.50′ W. long.;

and connecting back to 48°00.00′ N. lat., 125°14.00′ W. long.

[FR Doc. 06-9856 Filed 12-28-06; 8:45 am]

BILLING CODE 3510-22-S